DEPARTMENT OF COMMERCE

National Oceanic and Atmospheric Administration

50 CFR Part 660

[Docket No.; 031216314-3314-01; I.D. 112803B]

RIN 0648-AR54

Magnuson-Stevens Act Provisions; Fisheries Off West Coast States and in the Western Pacific; Pacific Coast Groundfish Fishery; Annual Specifications and Management Measures

AGENCY: National Marine Fisheries Service (NMFS), National Oceanic and Atmospheric Administration (NOAA), Commerce.

ACTION: Proposed rule; request for comments.

SUMMARY: NMFS proposes a rule to implement the 2004 fishery specifications and management measures for groundfish taken in the U.S. exclusive economic zone (EEZ) off the coasts of Washington, Oregon, and California. The proposed rule includes the levels of the acceptable biological catch (ABC) and optimum yields (OYs). The commercial OYs (the total catch OYs reduced by tribal allocations and by amounts expected to be taken in recreational and resource survey compensation fisheries) proposed in this rule would be allocated between the limited entry and open access fisheries and between different sectors of the limited entry fleet. Proposed management measures for 2004 are intended to: achieve but not exceed OYs; prevent overfishing; rebuild overfished species; reduce and minimize the bycatch and discard of overfished and depleted stocks; provide equitable harvest opportunity for both recreational and commercial sectors; and, within the commercial fisheries, achieve harvest guidelines and limited entry and open access allocations to the extent practicable. With the exception of §§ 660.306(cc) and 660.370(b) and (d), the text of the proposed amendments to 50 CFR part 660 is the same as the text of temporary regulations that NOAA is publishing elsewhere in this separate part of the Federal Register.

DATES: Comments must be received no later than 5 p.m., local time (l.t.,) on February 9, 2004.

ADDRESSES: Send comments to D. Robert Lohn, Administrator, Northwest Region (Regional Administrator), NMFS, 7600 Sand Point Way, NE., Bldg. 1, Seattle, WA 98115-0070, or fax to 206-526-6736, care of Yvonne deReynier. Comments will not be accepted if submitted via e-mail or the internet. Information relevant to this proposed rule, which includes a draft environmental impact statement (DEIS), a regulatory impact review, and an initial regulatory flexibility analysis (IRFA) are available for public review during business hours at the office of the Pacific Fishery Management Council (Council), at 7700 NE. Ambassador Place, Portland, OR 97220, phone: 503-820-2280. Copies of additional reports referred to in this document may also be obtained from the Council.

FOR FURTHER INFORMATION CONTACT: Yvonne deReynier or Becky Renko (Northwest Region, NMFS), phone: 206-526-6140; fax: 206-526-6736 and; e-mail: yvonne.dereynier@noaa.gov, becky.renko@noaa.gov.

SUPPLEMENTARY INFORMATION:

Electronic Access

The proposed rule also is accessible via the Internet at the Office of the Federal Register's Web site at http://www.gpoaccess.gov/fr/index.html. Background information and documents are available at the NMFS Northwest Region Web site at http://www.nwr.noaa.gov/1sustfsh/gdfsh01.htm and at the Council's Web site at http://www.pcouncil.org/groundfish/gfspex/gfspex04.html.

Background

Since 1990, the Pacific Coast Groundfish Fishery Management Plan (FMP) has required that fishery specifications for groundfish be annually evaluated and revised as necessary, that OYS be specified for species or species groups in need of particular protection, and that management measures designed to achieve the OYS be published in the Federal Register and made effective by January 1, the beginning of the fishing year. Each year, specifications and management measures have been made effective until the specifications and management measures for the following year are effective.

During 2002 and 2003, the Council developed and considered revisions to its specifications and management measures process through Amendment 17 to the FMP. Amendment 17 was approved by NMFS on August 19, 2003, and implemented via final rule on September 4, 2003 (68 FR 52519). Through Amendment 17, the FMP now sets the specifications and management measures as a biennial process, with the first two-year management period to occur January 1, 2005 through December 31, 2006. The Council will develop and consider specifications and management measures for the 2005-2006 period at its November 2003, April 2004, and June 2004 meetings. With the final Council recommendation on the 2005-2006 specifications and management measures in June 2004, NMFS will have adequate time to implement the 2005-2006 specifications and management measures through a public notice-and-comment rulemaking before the fishing year begins on January 1, 2005. This process will include a proposed rule published in the Federal Register, followed by a public comment period and a final rule, also published in the Federal Register.

For 2004, the final year in which the agency will follow the FMP's old schedule of an annual management process, NMFS will follow an implementation process similar to those it used in 2002 and 2003. The Council finalized its specifications and management measures recommendations for the 2004 fishing year at its September 8-12, 2003, meeting in Seattle, WA. Council staff has analyzed these recommendations via an Environmental Impact Statement (EIS), a draft of which was made available for public review on October 24, 2003 (68 FR 60983). Given the timing of the stock assessments, the complexity of the annual specifications and management measures, and the EIS-related public review period, NMFS did not have enough time to publish a proposed rule, receive public comments, and implement a final rule by January 1, 2004. NMFS is publishing this proposed rule for the entire 2004 specifications and management measures package to provide a public notice-and-comment period on that regulatory package. To ensure that adequately conservative management measures are in place by January 1, 2004, NMFS has also published an emergency rule elsewhere in the Final Rules section of this issue of the Federal Register that implements groundfish management measures for January 1 through February 29, 2004.

The Magnuson-Stevens Fishery Conservation and Management Act (Magnuson-Stevens Act) and the FMP require that NMFS implement actions to prevent overfishing and to rebuild overfished stocks. Specifications and management measures proposed for 2004 are designed to rebuild overfished stocks consistent with statutory requirements through constraining direct and incidental mortality, and to achieve as much of the OYs as practicable for healthier groundfish stocks managed under the FMP.

I. Proposed Specifications

Proposed fishery specifications include ABCs, the designation of OYs (which may be represented by harvest guidelines (HGs) or quotas for species that need individual management), and the allocation of commercial OYs between the open access and limited entry segments of the fishery. These specifications include fish caught in state ocean waters (0-3 nautical miles (nm) offshore) as well as fish caught in the EEZ (3-200 nm offshore).

BILLING CODE 3510-22-P

BILLING CODE 3510-22-c

ABC Policy and Overfishing

Each fishing year, the Council assesses the biological condition of the Pacific Coast groundfish fishery, develops estimates of the ABC for major groundfish stocks and identifies the harvest levels or OYs for the species or species groups that it manages. The Magnuson-Stevens Act requires the FMP to prevent overfishing. Overfishing is defined in the National Standard Guidelines (50 CFR part 600, subpart D) as exceeding the fishing mortality rate (F) needed to produce maximum sustainable yield (MSY) on a continuing basis. When setting the 2004 ABCs, the Council maintained a policy of using a default harvest rate as a proxy for the fishing mortality rate that is expected to achieve the maximum sustainable yield (FMSY). The OYs were set at levels that are expected to prevent overfishing, equal to or less than the ABCs. For overfished species, the OYs were set to allow the stock to rebuild within a specified period of time.

The ABC for a species or species group is generally derived by multiplying the harvest rate proxy by the current estimated biomass. In 2004, the following default harvest rate proxies, based on the Council's Scientific and Statistical Committee (SSC) recommendations, were used: F40% for flatfish, F50% for rockfish (including thornyheads), and F45% for other groundfish such as sablefish and lingcod. A rate of F40% can be explained as that which reduces spawning potential per female to 40 percent of what it would have been under natural conditions (if there were no mortality due to fishing), and is therefore a more aggressive rate than F45% or F50%. The FMP allows default harvest rate proxies to be modified as scientific knowledge improves for a particular species. [Note: Pacific whiting will be assessed in early 2004; an appropriate harvest rate is expected to be evaluated at that time. Because Whiting management is under negotiation between the U.S. and Canada, the whiting harvest rate may be affected both by the stock assessment and the binational management agreement.]

A fishing mortality or harvest rate will mean different things for different stocks, depending on the productivity of a particular species. For fast growing species (those with individuals that mature quickly and produce many young that survive to an age where they are caught in the fishery) a higher fishing mortality rate may be used, such as F40%. Fishing mortality rate policies must account for several complicating factors, including the capacity of mature individuals to produce young over time and the optimal stock size necessary for the highest level of productivity within that stock.

For some groundfish species, there was little or no detailed biological data available on which to base ABCs; and therefore, only rudimentary stock assessments were prepared; for other species, the ABC levels were established on the basis of historical landings. As described further below, a precautionary approach has been taken in setting ABCs and OYs for species with no stock assessments or only rudimentary ones.

In 2000, the Council adopted a more precautionary ABC policy for stocks with less rigorous or rudimentary stock assessments. The policy had been to assume that fishing mortality was equal to natural mortality (F=M); the current policy is that fishing mortality is 75 percent of natural mortality (F=0.75M). Based on its SSC recommendations, the Council reaffirmed this policy, but added another precautionary adjustment, requiring that OYs for these stocks be set at 75 percent of the ABCs. For further information see the preamble discussion of the Annual Specifications and Management Measures published on January 11, 2001 (66 FR 2338).

The 2004 ABCs are based on the best scientific information available to the Council at its September 2003 meeting. The ABCs in Table 1 represent total fishing mortality (landed catch plus discards). Where the stock assessments included Canadian waters the ABCs apply only to U.S. waters. Stock assessment information considered in determining the ABCs may be obtained from the Council and was made available to the public before the Council's September 2003 meeting in the annual Stock Assessment and Fishery Evaluation document and other reports. Additional information may be found in the EIS prepared for this action and in documents that were available at the June and September 2003 Council meetings. (see ADDRESSES)

OY Policy

In 1999, the Council adopted a 40-10 precautionary policy (40-10 policy) for setting OYs. The 40-10 policy is intended to prevent species or stocks from becoming overfished. If the stock biomass is larger than the biomass needed to produce MSY (BMSY), the OY may be set equal to or less than ABC. The Council uses 40 percent as a default OY harvest proxy for BMSY, also referred to as B40%. A stock with a current biomass between 25 percent of the unfished level and BMSY (the precautionary threshold) is said to be in the “precautionary zone.” The Council's default OY harvest policy reduces the fishing mortality rate when a stock is at or below its precautionary threshold. The further the stock is below the precautionary threshold, the greater the reduction in OY relative to the ABC, until, at B10%, the OY would be set at zero. This is, in effect, a default rebuilding policy that will foster quicker return to the BMSY level than would fishing at the ABC level. For further information on the 40-10 policy see the preamble of the Annual Specification and Management Measures published on January 8, 1999 (64 FR 1316), or the FMP at Section 5.3.

The Council may recommend setting the OY higher than what the default OY harvest policy specifies, if justified, and as long as the OY does not exceed the ABC (which is set at FMSY), complies with the requirements of the Magnuson-Stevens Act, and is consistent with the National Standard Guidelines. On a case-by-case basis, additional precaution may be added as is warranted by uncertainty in the data or by higher risks of being overfished. If a stock falls below 25 percent of its unfished biomass (BFMSY) and is declared overfished, the Magnuson-Stevens Act requires the Council to develop a rebuilding plan within one year from the declaration date. Rebuilding plans for overfished species generally have stock-specific allowable harvest rates based on a rebuilding analysis and rebuilding strategy.

2004 ABCs and OYs

The species that had ABCs and OYs in 2003 continue to have ABCs and OYs in 2004. Changes that have been made since 2003 that affect the ABCs and OYs for 2004 include: (1) The completion of full stock assessments for bocaccio, widow rockfish, Pacific ocean perch (POP) and black rockfish; (2) the preparation of stock assessment updates for darkblotched and yellowtail rockfish; (3) rebuilding analysis updates for bocaccio, widow rockfish, POP, and darkblotched rockfish; (4) preparation of a cowcod rebuilding review; (5) recalculation of sablefish ABC and OY; (6) the signing of a U.S.-Canada catch sharing agreement and upcoming stock assessment for whiting; (7) changes in the catch distribution of canary rockfish between commercial and recreational fisheries; and (8) the subdivision of minor nearshore rockfish OYs between the states.

Bocaccio

A new stock assessment was prepared in 2003 for bocaccio in the Conception and Monterey areas. Like the 2002 stock assessment, the new stock assessment used a length-based stock synthesis model extending back to 1951. Data used in the 2003 stock assessment includes commercial fisheries data from the trawl and fixed gear fleets, recreational data from the southern and northern California fisheries; fishery independent data from the NMFS triennial bottom trawl survey and a larval abundance survey.

The model used for the 2003 stock assessment differs from the model used for the 2002 stock assessment in that it assumes an instantaneous natural mortality rate of 0.15 as compared to 0.20, which was used in the 1999 and 2002 stock assessments. The annual rate at which fish die from natural causes is referred to as natural mortality rate and is accounted for within in the stock assessment model by using an instantaneous natural mortality rate. An instantaneous mortality rate of 0.15 would reduce the biomass by 14 percent from the start of the year to account for natural mortality and 0.20 would reduce the biomass by 18 percent. The Stock Assessment Review (STAR) panel also reviewed a 0.10 recommendation for the bocaccio mortality rate (9.5 percent reduction in the biomass from the start of the year), but did not find that there was enough information available to select this lower natural mortality rate. The STAR panel indicated that the value of 0.15, which was used in the 1996 stock assessment, was a more reasonable choice and was consistent with the available information on the longevity of bocaccio. There was not sufficient time for a sensitivity analysis to be conducted on the natural mortality rate. A sensitivity analysis would be expected to increase the confidence in the model and its predictions, by providing an understanding of how the model response variables respond to changes in the inputs.

Bocaccio spawning stock biomass in the Monterey and Conception areas was at approximately 7.4 percent of its unfished biomass in 2003. The 2002 stock assessment indicated that the 1999 year class (fish spawned in 1999) was smaller than had been previously assumed and was at or below the low end of the range considered in the 1999 stock assessment. In contrast, the 2003 stock assessment provided the first reliable data that could be used to estimate the size of the 1999 year class, and indicated that it was much stronger than had been estimated in 2002.

The triennial bottom trawl survey appeared to catch bocaccio of sizes that were nearly uniformly distributed over all size groups, which is very unlikely for a bottom trawl survey. During periods of low stock abundance, it is suspected that data obtained from the triennial survey is less likely to represent the overall bocaccio population. This is because the triennial bottom survey does not sample the primary bocaccio habitat (rocky reefs), but rather samples the fringes of bocaccio habitat where trawl gear can be used. Indices based on fishery catch data (also referred to as catch per unit of effort indices or CPUE indices) can mask real declines in abundance if fishers are able to redirect effort to areas of high density.

Two different stock assessment models were developed to address contradictions between the recreational fishing effort data, which showed a substantial increase in abundance of bocaccio, and the triennial bottom trawl survey data, which shows little change in abundance over the past three years. The first model (STATb1) omitted data from the triennial bottom trawl survey and held the estimated recruitment (amount of young fish that are growing large enough to be caught in the fishery) constant to 1959, whereas the second model (STARb2) omitted the recreational CPUE data and held the recruitment constant to 1969. Holding recruitment constant to 1959 allows the early 1960s recruitment events (the history of larval abundance's indicate that a strong recruitment may have happened in the early 1960s) to be expressed in the model, whereas holding recruitment constant to 1969 blends the early events together. Both STAR models had a zero emphasis on the stock-recruitment relationship. A third model (STATc) was recommended by the stock assessment author, but not developed until after the STAR panel review had been completed. The STATc model combined the attributes of both models with neither data source being omitted, the estimated recruitment was held constant to 1959, and small emphasis was placed on the stock-recruitment relationship. After in-depth discussion in which the trade offs among the alternative model approaches and other factors were considered, the SSC concluded that an intermediate alternative warranted consideration and the STATc model was a reasonable approach. The following ABCs, based on the different models with the application of an FMSY proxy of F50%, were considered by the Council: 400 mt from the STARb2 model, 501 mt from the STATc model, and 660 mt from the STARb1 model.

A new bocaccio rebuilding analysis was also prepared and was available at the Council's June meeting. In the 2002 rebuilding analysis, bocaccio failed to rebuild within the maximum time period permissible under Magnuson-Stevens Act National Standard Guidelines with a 50-percent probability (TMAX), even in the absence of fishing, and resulted in the preparation of a sustainability analysis for use in developing 2003 management measures. Further discussion of the sustainability analysis adopted for bocaccio in 2003 may be found in the preamble of the proposed rule for the 2003 Annual Specifications and Management Measures (68 FR 936, January 7, 2003).

For 2004, the alternative OYs presented in the rebuilding analysis were based on the three different stock assessment models and different probabilities of rebuilding within TMAX. The following OYs were considered by the Council: 199 mt based on the STARb2 model with an 80-percent probability of rebuilding by 2032 (TMAX), 250 mt which is intermediate to the low OY alternative of 199 mt and the medium OY alternative of 306 mt, 306 mt from the STATc model with a 70 percent probability of rebuilding by TMAX, and 526 mt from the STARb1 model with a 60 percent probability of rebuilding by TMAX.

The Council discussed the alternative OYs. Representatives for the California Fish and Game Commission recommended that the Council take a conservative approach by adopting the low OY alternative of 199 mt. If the lowest OY were adopted, the bocaccio stock would be expected to rebuild faster under this more conservative management. The low OY would hedge against uncertainty in inseason catch accounting in the recreational fishery. Should the low OY be exceeded, there would be a greater likelihood that bocaccio would remain on a rebuilding trajectory than if a higher OY were adopted and then exceeded.

The Council recommended adopting an OY of 250 mt with a corresponding ABC of 400 mt. This value is approximately halfway between the low OY alternative of 199 mt and the medium OY alternative of 306 mt. A 96 percent probability of rebuilding to BMSY by TMAX is associated with the 250 mt OY under the STARb1 model, 79 percent under the STATc model, and 70 percent under the STARb2 model. The Council recommends that NMFS and the State of California manage bocaccio total catch to a level that is equivalent to the low OY of 199 mt. The slightly higher OY of 250 mt will provide a modest buffer. If the actual harvests exceed the level anticipated, additional harvest could be allowed within the OY that could prevent late year fisheries from being shut down, while still ensuring that rebuilding occurs.

Widow Rockfish

An age-based population model was used to prepare a new coastwide stock assessment in 2003. This model was similar to that used in the previous stock assessment in 2000. The 2003 assessment model used a different method to develop annual indices from fishery catch data than the 2000 model; the model was modified to allow for more flexibility in data inputs; fishing fleet changes since 1999 affected the availability of fishery data, therefore, the model was changed to be more compatible with the models used for rebuilding analysis; and the Markov Chain Monte Carlo simulation, which is used to study the dynamics of large random statistical samples, was used by stock assessment authors to examine their assumptions about the validity of different data parameters.

The model results indicate substantial uncertainty in estimating the population status. There was also large variability in recruitment estimates. Because widow rockfish are not typically caught with bottom trawl gear, as is used for the triennial bottom trawl survey, fishery data has been used for the stock abundance indices. However, reduced trip limits and other fishery restrictions have resulted in little fishery data being available for the years after 1999. The absence of a fishery independent stock size index and the lack of reliable fishery dependent data indices of stock size are a limiting factor in assessing the status of widow rockfish.

The new stock assessment estimates the widow rockfish biomass in 2002 was at 22.4 percent of its unfished biomass coastwide, which is similar to the results of the 2000 stock assessment in which the stock was estimated to be at 23.6 percent of its unfished biomass. However stock productivity is estimated to be lower than it was in 2000, which will result in longer rebuilding times than had been suggested by the previous analysis. Overall, the widow rockfish biomass has shown a steady decline since 1974, soon after the fisheries for widow rockfish began. The spawning stock biomass peaked in 1977 and has shown a steady decline since then.

Because widow rockfish was declared overfished in 2001, a rebuilding analysis was also prepared. For the rebuilding analysis, a range of model scenarios based on different groupings of the following three variables were used: (1) Whether recruitment should be pre-specified for 2003-2005 based on a midwater juvenile trawl survey, (2) the methods by which future recruitment estimates should be generated, and (3) what range of power coefficient should be used to estimate juvenile mortality in the data from the midwater juvenile trawl survey. The SSC considered the different model scenarios and identified a preference for a model scenario in which recruitment was pre-specified and a stock recruitment relationship was also used. The SSC recommendation narrowed the model scenarios to three (identified as models 7, 8, and 9 in the rebuilding analysis). The SSC discussed the use of power coefficients to estimate juvenile indices (mortality in the data from the midwater juvenile trawl survey), but concluded that the different values were equally likely, leaving no statistical basis for choosing among them. After review of the stock assessment, the SSC recommended a power coefficient range between 2.0 and 4.0.

The Council considered three ABCs for 2004, which are based on the different models scenarios recommended by the SSC with the application of an F50% FMSY proxy. The ABCs the Council considered were: 3,076 mt from model 7 with a power coefficient of 2.0, 3,460 mt from model 8 with a power coefficient of 3.0, and 3,908 mt from model 9 with a power coefficient of 4.0.

The Council considered three OYs based on each of the three model scenarios (7, 8, and 9) with the application of a constant fishing mortality rate for 2004 that corresponded with a 60-percent probability of rebuilding the stock to BMSY by 2042 (TMAX). For 2004, the Council recommended the mid-range OY of 284 mt with a corresponding ABC of 3,460, with a target rebuilding date (TTARGET)of 2037.

POP

In 2000, a forward projection age-structured model was used to assess the POP stock from southern Oregon to the U.S.-Canada border (Vancouver and Columbia management areas.) For 2003, a new stock assessment was prepared for the same area and was based on the 2000 model, which is considered to be a state-of-the-art analysis. For the 2003 stock assessment, modifications and corrections were made to the model used in 2002 to allow for the inclusion of new data, and in model features affecting the following areas: Age and length data quality assumptions, catchability coefficients for the shelf and slope trawl surveys, fishery and survey selectivity, stock-recruitment relationship assumptions, and natural mortality in relation to recruitment anomalies. New information used in the stock assessment included updated estimates of historical foreign catch, biomass indices and additional age and size composition data for periods between 1992 and 2002, triennial bottom trawl survey data from 2001, “unbiased” fishery age data from 1999-2002, two additional years of fishery catch data from 2001 and 2002, and estimates of current and historical discard rates.

The stock assessment results show that the POP stock is relatively stable at low levels of abundance and has shown a slight increase in biomass in recent years. The 2003 spawning biomass is estimated to be at 25 percent of the unfished biomass, the threshold for declaring a stock to be overfished. There appears to be no evidence of a particularly strong year-class in recent years.

The area covered by the stock assessment is the southern most portion of the range of POP. Linkages between POP in waters off British Columbia are assumed to be negligible in the stock assessment. Because a major component of the POP stock exists in Canadian waters, the SSC indicated that the accuracy of basing rebuilding potential only on the number of fish spawning in U.S. waters provides questionable projections and suggested that it was reasonable to use historical recruitment estimates as the basis for rebuilding potential.

The ABC projection of 980 mt was derived from model runs, recommended by the SSC, in which the future recruitments are randomly selected from the distribution of historical recruitments, with the application of an FMSY proxy of F50%. Because POP is an overfished species, a rebuilding analysis with varying levels of probability of rebuilding by TMAX was used to estimate the alternative OYs that the Council considered. The three OYs considered by the Council were, 318 mt based on an 80 percent probability or rebuilding the stock by 2042 (TMAX, F=0.0184), 444 mt based on an 70 percent probability of rebuilding the stock by TMAX (F=0.0257), and 555 based on a 60 percent probability or rebuilding the stock by TMAX (F=0.0322). The Council recommended an OY of 444 mt.

The POP rebuilding plan proposed under regulations implementing Amendment 16-2 (December 5, 2003, 68 FR 67998) is based on the 2000 stock assessment. The Amendment 16-2 regulations propose to implement a target rebuilding year of 2027 and a harvest control rule of F=0.0082. The 2004 OY of 444 mt is based on the 2003 stock assessment and results in the same target rebuilding year as proposed in the POP rebuilding plan. However, because other rebuilding parameters such as the unfished biomass and BMSY have been updated with the new stock assessment, the harvest control rule is being revised to 0.0257. Further discussion on rebuilding measures can be found in the “Overfished Species” section of this document.

Black Rockfish

A new stock assessment was conducted for the black rockfish stock off northern California and Oregon. This stock assessment used a length-based stock synthesis model extending back to 1945. Data used in the 2003 stock assessment includes recreational landings from California and Oregon, Oregon commercial landings, size compositions for commercial landings in Oregon and California, and recreational catch-per-unit of effort statistics.

In 2000, a separate stock assessment was conducted for the area off the coast of Washington and extended south to Cape Falcon, Oregon. Because the two stock assessments overlap in the area between Cape Falcon, OR and the Columbia River, projections from the 2000 stock assessment were adjusted downward by 12 percent to account for this overlap in the two stock assessments.

The exploitable biomass of black rockfish underwent a significant decline (62 percent) between 1945 and 1986. However, as a result of several large recruitment events in the mid-1990s, the black rockfish stock off northern California and Oregon has increased in abundance. By 2001, the black rockfish biomass in the assessed area rose above 40 percent of its unfished level and by 2003 it was estimated to be at 52.7 percent of its unfished biomass. However, the biomass is expected to decline to 46 percent of its unfished biomass in the next 10 years. The primary sources of uncertainty in the 2003 model were: (1) The amount of historical landings data for the period prior to 1978, (2) the assumed natural mortality rate, and (3) the relationship between the number of spawning fish and recruitment. The SSC indicated that the retrospective analysis appeared to overestimate the black rockfish biomass, but supported the conclusions of the STAR panel and indicated that the new stock assessment represents the best available scientific data.

For 2004, for the Columbia River and Eureka, CA areas, the Council considered a range of ABCs based on F50% with the model refitted to represent different levels of historical catch prior to 1978; the low ABC of 729 mt that would result if catches were lower than had been estimated, the mid-range ABC of 775 mt from the model, and the high ABC of 861 mt that would result if catches were higher than had been estimated. The Council recommended adopting the mid-range ABC of 775 mt from the model. Because the unfished black rockfish biomass is believed to be above 40 percent coastwide, the default OY is set equal to the ABC.

Off the Washington coast, the Council considered a single ABC of 540 mt, based on the 2000 stock assessment with the application of F50%. Because the unfished biomass is believed to be above 40 percent, the default OY was also set equal to the ABC. The coastwide ABC/OY is 1,351 mt, the sum of 775 mt the ABC/OY from the 2003 stock assessment (for the Columbia and Eureka areas) and 540 mt the ABC/OY from the 2000 assessment (for the area of Washington).

Fisheries for black rockfish occur in both state and Federal waters off Oregon and California. In the past, Oregon and California have conformed their regulations for state waters to the Federal regulations in the EEZ. However, given the recent increase in both the recreational and commercial fishing pressure in nearshore areas, Oregon and California feel that nearshore fisheries can be better managed by the individual states through adopting counterparts to Federal regulations. Therefore, the black rockfish OY was subdivided between the states as follows: 540 mt will be attributed to the area north of 46°16′ N. lat. (Washington/Oregon border), 450 mt will be attributed to the area between 46°16′ N. lat. and 42°00′ N. lat. (Oregon/California border), and 326 mt will be attributed to the area south of 42°00′ N. lat. [Note: For further managing the nearshore rockfish species, the State of California will attribute 194 mt of black rockfish to the area north of 40°10 min N. lat. and 131 mt to the area south of 40°10 min N. lat.] Fisheries in state waters will be managed so as to not exceed these OYs.

Darkblotched Rockfish

In 2000, stock assessment authors used a length-based synthesis model to prepare a full coastwide stock assessment for darkblotched rockfish. This stock assessment was updated in 2001 when new fishery information and data from the 2000 slope survey, conducted by the Alaska Fisheries Science Center (AFSC), were added. The 2003 stock assessment update further adds shelf and slope survey data from the AFSC through 2002. The darkblotched rockfish stock is believed to be at 11 percent of its unfished biomass.

The following three sources of uncertainty were identified, but were beyond the scope of the updated stock assessment: Age data produced for the stock assessment update were associated with different types of error and had a possible bias that was different from the earlier age data, darkblotched natural mortality may be higher than assumed by the model, and slope survey data collected by the Northwest Fisheries Science Center (NWFSC) from 1999-2002 could not be incorporated into the update. Because of differences in the length data and trends between the AFSC data and the NWFSC slope survey data from 1999-2002, the NWFSC data could not be incorporated without exploring new modeling approaches through a full assessment.

Because darkblotched rockfish is an overfished species, a rebuilding analysis with varying levels of probability of rebuilding within TMAX was used to estimate the 2004 OY options considered by the Council. The rebuilding analysis was based on a model (model-6 in the stock assessment) in which all parameters of the model were refit to accommodate the new data.

Stock assessment authors made a comparison of the rebuilding analysis using progressive inclusion of recruitment estimates from 1999, 2000 and 2001. The high 2000 and 2001 recruitment estimates produced much larger OY options because the model expected those recruits would enter the fishery before 2028. The OY options considered by the Council were as follows: A low OY of 172 mt based on the last year of age composition and recruitment data being 1999, the mid OY of 272 mt based on the last year of age composition and recruitment data being 2000, and the high OY of 364 mt based on the last year of age composition and recruitment data being 2001. All of these OY options had an 80 percent probability of rebuilding the darkblotched stock within the maximum allowable time (TMAX). The STAR panel recommended the intermediate results in an attempt to balance the conflicting effects of using the most recent information and the poor statistical precision associated with partial recruitment of the most recent year-classes.

The ABCs considered by the Council were based on an FMSY proxy of F50%. The ABC that corresponds with the low OY was 217 mt, the ABC that corresponds with the mid OY was 240 mt, and the ABC that corresponds with the high OY was 247 mt. The OY values for the medium and high OY options exceeded the ABC values. Including the 2000 and 2001 recruits in the rebuilding analysis assumes that they will enter the fishery in the future and help to rebuild the stock. However, the 2000 and 2001 recruits have little effect on the current ABC because they are too small to enter the fishery by 2004. The inclusion of the 2000 and 2001 recruits into the rebuilding analysis resulted in OY estimates for the mid and high options being higher than the ABC.

Following consideration of the alternative OYs and corresponding ABCs, the Council recommended the mid-range OY, which is consistent with the STAR panel recommendation. However, the Council recognized that the OY could not exceed the ABC and therefore recommended that the OY be set equal to the ABC of 240 mt.

The darkblotched rockfish rebuilding plan proposed under regulations implementing Amendment 16-2 (December 5, 2003, 68 FR 67998) is based on the 2000 stock assessment. The Amendment 16-2 regulations propose to implement a target rebuilding year of 2030 and a harvest control rule of F=0.027. The 2004 OY of 240 mt is based on the 2003 stock assessment and results in the same target rebuilding year as is proposed in the darkblotched rockfish rebuilding plan. However, because other rebuilding parameters such as the unfished biomass and BMSY have been updated with the new stock assessment, the harvest control rule is being revised to F=0.032. Further discussion on rebuilding measures may be found in the “Overfished Species” section of this document.

Yellowtail Rockfish

A coastwide (north of Cape Mendocino, CA) yellowtail rockfish stock assessment was last done in 2000 using an age-structured model. This same model was used for a stock assessment update for 2003 that included the following new information: 2001 data from the NMFS triennial bottom trawl survey; revised estimates of historical landings; and new age data from 1999-2002. Future stock assessments for yellowtail rockfish may be affected by diminishing sampling efforts for collecting age structure data since 2001, particularly in the Eureka, CA and southern Columbia areas.

The coastwide biomass estimate of yellowtail rockfish in 2002 was 46 percent of its unfished biomass. The coastwide spawning stock biomass of yellowtail rockfish has remained nearly constant since the early 1980s, with the total biomass having generally declined since the 1960s. The current stock assessment indicates that the current biomass and number of fish in the population is in a declining trend. Furthermore, both the number of males and females in the population have declined severely. The decline in numbers was likely due to poor recruitment.

For 2004 the Council recommended implementing a yellowtail rockfish ABC of 4,320 mt based on the stock assessment update, with an FMSY proxy of F50%. Because the spawning stock biomass is above B0%, the OY was set equal to the ABC.

Sablefish

In 2001, two stock assessments were prepared for sablefish north of Point Conception, CA (34°27′ N. lat.), one by NMFS and the other by staff at the University of Washington. For 2002, newly available fishery and survey data were used to update the NMFS stock assessment without changes being made to the model structure or assumptions. The stock assessment update estimated the spawning stock biomass to be between 31 and 39 percent of the unfished biomass. This is because of a notable change in the estimate of young fish that had grown large enough to be harvested in the 2000 and 2001 fisheries.

Two alternative theories regarding states of nature, environmentally driven and density-dependent, were considered in the stock assessment update. The declines in recruitment since the early 1990s may have resulted from changes in environmental conditions, or the low recruitment may have been generated from low spawning biomass. It is not possible to determine with any confidence if the recruitment trends are due principally to reduced spawners or if they are environmentally driven.

While reviewing the 2004 recommendations for sablefish ABCs and OYs, the GMT found an error in the values that were used for the Point Conception, CA area in 2002 and 2003. The 2001 stock assessment and the 2002 stock assessment updates were coastwide assessments that included the entire Point Conception, CA area. However, the ABC and OY values that were presented in the Annual Specifications and Management Measures (67 FR 10490, March 7, 2002, 68 FR 11182, March 7, 2003) for the Point Conception, CA areas incorrectly included an additional amount for the Point Conception, CA area south of 34°27′ N lat. based on historical landings.

For 2004, the coastwide ABC of 8,487 mt was based on the 2002 stock assessment update with an F45% FMSY proxy. The ABC of 8,185 mt for the area north of Point Conception, CA (36° N lat.) is 96.05 percent of the coastwide ABC. The ABC of 302 mt for the area south of 36° N lat. is 3.55 percent of the coastwide ABC. Three different coastwide OYs were considered by the Council; an OY of 4,812 mt based on the density-dependent scenario with an FMSY proxy of F60% with the application of the 40-10 policy, an OY of 7,786 mt based on the density-dependent scenario with an FMSY proxy of F45% with the application of the 40-10 policy, and an OY of 8,423 mt based on an environmentally-driven scenario with an FMSY proxy of F45% with the application of the 40-10 policy. The Council recommended adopting the coastwide OY of 7,786 as a reasonable management target given the uncertainty in the assessment.

Pacific Whiting

Since 1977, the U.S. and Canada have periodically held negotiations to address whiting fishery management issues, particularly catch sharing between the two countries. Through 2003, the U.S fisheries have been managed to take 80 percent of the OY, while the Canadian fisheries have been managed to take 30 percent of the U.S.-Canada coastwide harvest. In the fall of 2002, after the whiting stock had been declared overfished, international negotiations were resumed.

In February 2003, U.S.-Canada negotiations reached a tentative agreement detailing the conservation, research, and catch sharing of whiting. The catch sharing arrangement that was agreed upon provides 73.88 percent of the total catch OY to the U.S. fisheries and 26.12 percent to the Canadian fisheries. At this time, both countries are pursuing adoption of an international agreement or treaty. Although the international agreement and implementing legislation are not expected to be effective until 2005, the negotiators recommended that each country informally implement the agreed-upon provisions beginning in 2004.

The most recent whiting stock assessment was completed in February 2002. The 2002 stock assessment found that the spawning stock biomass for whiting had declined substantially from previous years. The stock assessment estimated the biomass in 2001 to be below the overfished threshold of B25% resulting in whiting being declared overfished (April 15, 2002, 67 FR 18117). The 2002 stock assessment indicated that a large amount of juvenile fish spawned in 1999 were expected to enter the fishery in the near future. Growth of the spawning stock biomass would depend on the vigor of the juvenile fish that mature and enter the fishery as well as the applied exploitation rate.

In June 2002, the Council received a draft rebuilding analysis that followed the guidelines established by the SSC. Because of the highly variable recruitment patterns and short life span of whiting, the rebuilding analysis estimated short rebuilding periods even with high harvest levels. The SSC advised continuing the use of the 40-10 policy for whiting because it appeared adequate to achieve recovery. The Council did not move to adopt the whiting rebuilding analysis.

A new whiting stock assessment and rebuilding analysis are expected to be completed by February 2004. The upcoming whiting stock assessment will incorporate additional fishery dependent data collected since the last stock assessment, and new fishery independent data from the 2003 hydroacoustical survey and pre-recruit survey work. These added data points are expected to provide much needed information on changes to the spawning stock biomass since the 1999 year class began entering the fishery. The new data are also expected to provide information regarding potential future recruitment.

In anticipation of the new stock assessment and given the small amount of whiting that is typically landed under trip limits prior to the April 1 start of the primary season, the Council delayed adoption of a final ABC and OY until the results of the new stock assessment are available. Therefore, the Council is scheduled to review the results of the new stock assessment at its March 2004 meeting. A new rebuilding analysis is expected to be ready for review at this same meeting. These documents will be available to the public at the March 2004 meeting. The Council will recommend the ABC and OY in March and it will be implemented through a final rule that is separate from the final rule for the rest of the groundfish specifications.

The Council considered a range of ABCs and OYs that are expected to encompass results of the upcoming assessment. This range is consistent with historical values and appears to cover the anticipated range for 2004. The four ABC and OY options considered by the Council were: An ABC of 94,000 mt with an OY of 74,100 mt, which represents 50 percent of the 2003 ABC and OY; an ABC of 188,000 mt with an OY of 148,200 mt, which was the 2003 ABC and OY; an ABC of 282,000 mt with an OY of 222,300 mt, which is 50 percent greater than the 2003 ABC and OY; and an ABC of 325,000 mt with an OY of 250,000 mt, which was a value recommended by the Council. The Council recommended a preferred OY of 250,000 mt to accommodate possible high-end estimates that could result from the 2004 stock assessment, while recognizing the limitations that incidental catch of widow rockfish is likely to have on harvest levels of whiting.

Cowcod

A rebuilding review was conducted for cowcod. This was a thorough examination of the recreational and commercial fishery related removals in relation to the ABC and OY levels that were established for rebuilding. Sample information from recognized data sources, which create the most accurate time series of cowcod removals available in 2003, were used in the review. These data sources include: Commercial landings from the California commercial data base, sample data from the spot prawn fishery off southern California, recreational landings from the RecFin database, the Los Angeles Times Logbook Survey, and Commercial Passenger Fishing Vessel Logbooks, and recreational sample data from a recently implemented program sponsored by CDFG and the Marine Recreational Fishery Statistics Survey (MRFSS).

The review concluded that the total removals of cowcod have declined in accordance with the rebuilding-based harvest specifications and management measures that were first established in 2000. Because of fishery closures in this area, data were not available from the Cowcod Conservation Area (CCA) for the review; therefore, further protection from having established the CCA are expected. Total removals for the Monterey, CA and Point Conception, CA areas have been below the rebuilding based ABCs and OYs, with the exception of the area south of 36° N. lat. in 2000 in which the OY of 5 mt was exceeded by 0.6 mt. This exceedance was largely because of removals in the 2000 spot prawn trawl fishery off southern California. This small amount is considered to be within the range of error associated with these estimates. It must be noted that this review did not include population modeling. The SSC recommended that cowcod be considered for a formal stock assessment during the 2004-2005 stock assessment cycle.

Canary Rockfish

In 2002, a coastwide stock assessment and rebuilding analysis was prepared for canary rockfish and was used to set the ABC and OY values for both 2003 and 2004. In addition, a canary rockfish rebuilding plan was adopted by the Council at its June 2003 meeting as part of Amendment 16-2 to the FMP.

Canary rockfish are distributed coastwide and are caught in a variety of fishing gears. Given the low available harvest of canary rockfish and the wide variety of fisheries that incidentally catch canary rockfish, canary rockfish is a species that constrains the groundfish fisheries. The Council considered OYs based on the 2002 rebuilding analysis with four different arrangements for dividing catch between the commercial and recreational fisheries. How the catch is divided between the commercial and recreational sectors results in different ABCs and OYs. This is because the recreational fisheries take smaller canary rockfish than the commercial fisheries, resulting in a greater per ton impact on the canary rockfish stock over the rebuilding period.

The catch sharing arrangements considered by the Council included: 42 mt, which represents a 50-percent recreational/50-percent commercial division, 46 mt, which represents a 39-percent recreational/61-percent commercial division, and 47.3 mt, which represents a 35.5-percent recreational/64.5-percent commercial division. The Council initially expressed a preference for a 46 mt OY based on the same catch share as was adopted in 2003, which was split with 39 percent recreational/61 percent commercial, but asked that the groundfish management team look at fishery impacts while developing 2004 management and consider a range up to 20 percent recreational/80 percent commercial.

During the development of the 2004 management measures, the total catch of overfished species, including canary rockfish, estimated to be taken by all sectors of the groundfish fishery were considered. The Council considered the alternative management measures and recommended adopting a suite of options in which the resulting division of canary rockfish will be 35.5-percent recreational/64.5-percent commercial division. This division resulted in an OY recommendation of 47.3 mt, with the 2004 coastwide ABC of 256 mt derived from the 2002 assessment.

Proposed regulations to implement a canary rockfish rebuilding plan under Amendment 16-2 to the FMP would establish a target rebuilding year of 2074 and a harvest control rule of F=0.0220 (December 5, 2003, 68 FR 67998). The 2004 OY of 47.3 mt results from the application of the harvest control rule proposed in the rebuilding plan with the same target rebuilding year. Further discussion on rebuilding measures can be found in the “Overfished Species” section of this document.

Minor Nearshore Rockfish

To protect depleted stocks and minimize the chance of overfishing, changes were made in 2000 that eliminated the “sebastes complex” as a management category and created the “minor rockfish” categories (January 4, 2000, 65 FR 221). Minor rockfish, species which have had rudimentary or no stock assessments, are divided into nearshore, shelf, and slope categories that represent where they are predominantly caught. The same management categories will continue to be used for 2004.

Given the recent increase in both the recreational and commercial fishing pressure in nearshore areas, the States of Oregon and California have approved state nearshore fishery management plans that include minor nearshore rockfish species that are also regulated in Federal waters under Federal regulations. For 2004, minor nearshore rockfish OYs are being specified for waters off the States of Oregon and California.

For management of the nearshore species, a more conservative harvest rate is being applied by California than is applied at the Federal level. California will manage the minor nearshore rockfish (including black rockfish) in state waters south of 40°10 min N lat. OY as follows: Shallow nearshore rockfish 104.8 mt (38.8 mt commercial and 66 mt recreational), California scorpionfish 84.9 mt (21 commercial and 63.9 mt recreational), and deeper nearshore rockfish 413.1 (54 commercial and 359.1 recreational). California will manage the minor nearshore rockfish (including black rockfish) OY north of 40°10 min N lat. to the Oregon-California boarder (42° N. Lat.) as follows: Black and blue rockfish 187.3 mt (69.8 recreational/ 117.5 commercial), all other nearshore rockfish 13.8 mt (3.7 recreational/ 10.1 commercial). Oregon will manage the minor nearshore rockfish as follows: Blue rockfish 44.5 mt (41.5 recreational/ 2.9 commercial), all other nearshore rockfish 27.2 mt (11.4 recreational/ 15.8 commercial).

For the area north of 46°16′ N. lat. (the Washington/Oregon boarder), the total catch OY for all nearshore rockfish in both state and Federal water is 290 mt, most of which is estimated to be taken in the recreational fisheries although a small amount is expected to be taken in the treaty Indian tribal fisheries.

Landed Catch OYs

Revisions to the model used for bycatch accounting in 2004 are expected to result in more effective inseason management, where estimates of bycatch amounts for target and overfished species will be based on landed catch amounts. Because bycatch rates are no longer applied to the total catch OY to obtain the landed catch values, landed catch values are not presented in this document. [Note: Discussion of the revised model can be found later in this document, in the bycatch and discard accounting section.]

Overfished Species

Nine Pacific coast groundfish stocks continue to be designated as “overfished” in 2004: POP, bocaccio, lingcod, canary rockfish, cowcod, darkblotched rockfish, widow rockfish, yelloweye rockfish and whiting. The status of the groundfish stocks are evaluated against the requirements of the Magnuson-Stevens Act, the National Standard Guidelines, and the FMP. A species or stock is considered to be overfished if its current biomass is less than 25 percent of the unfished biomass. The Magnuson-Stevens Act requires that a rebuilding plan be prepared within 1 year after the Council is notified by NMFS that a particular species is overfished.

In the fall of 2000, NMFS had approved the first three rebuilding plans for lingcod, bocaccio, and POP (September 5, 2000, 65 FR 53646). Subsequently, requirements for developing overfished species rebuilding plans were addressed in Amendment 12 to the FMP, which was submitted for public review (September 8, 2000, 65 FR 54475) and approved by NMFS on December 7, 2000. During NMFS's review of Amendment 12, the agency considered whether the three recently approved rebuilding plans met the requirements of Amendment 12 and concluded that the plans did not meet the requirements. As a result, NMFS disapproved the plans and instructed the Council to re-submit the rebuilding plans for lingcod, bocaccio, and POP. The final rule to implement Amendment 12 describes NMFS's revocation of the approved lingcod, bocaccio, and POP rebuilding plans (December 29, 2000, 65 FR 82947). In the absence of final rebuilding plans approved by NMFS, the groundfish fishery has continued to operate under interim rebuilding measures for these species.

While NMFS and the Council were developing new rebuilding plans that were consistent with the requirements of Amendment 12, NMFS notified the Council that canary rockfish and cowcod were overfished and that the Council must submit rebuilding plans for these species to NMFS by January 4, 2001 (January 4, 2000 65 FR 221). On January 11, 2001 (66 FR 2338), NMFS notified the Council that darkblotched and widow rockfish were overfished and that the Council must submit rebuilding plans for these species to NMFS by January 11, 2002. Subsequently, on August 20, 2001, a Federal magistrate ruled in National Resources Defense Council, Inc v. Evans, 168 F. Supp. 2d 1149 (N.D. Cal. 2001) that rebuilding plans under the FMP must be in the form of an FMP amendment or proposed regulations as specified by the Magnuson-Stevens Act at 16 U.S.C. 1854 (e)(3) and issued an order setting aside those portions of Amendment 12 to the FMP dealing with rebuilding plans (Amendment 12 provided a framework for rebuilding plans that were not themselves plan amendments or proposed regulations). As a result of the magistrate's decision, the Council was required to amend the FMP so rebuilding plans will be consistent with the Magnuson-Stevens Act.

On January 11, 2002 (67 FR 1555), NMFS notified the Council that yelloweye rockfish was overfished and that Council must submit a rebuilding plan to NMFS by January 11, 2003. On April 15, 2002 (67 FR 18117), NMFS notified the Council that whiting was overfished and that Council must submit a rebuilding plan to NMFS.

Amendment 16-1 to the groundfish FMP establishes a process for and standards by which the Council will specify rebuilding plans for groundfish stocks that are declared overfished. Amendment 16-1 is intended to ensure that overfished species rebuilding plans meet the requirements of the Magnuson-Stevens Act, in particular National Standard 1 on overfishing at Section (e), which addresses rebuilding overfished fisheries.

Two rebuilding parameters will be codified in Federal regulation for individual species rebuilding plans, at 50 CFR 660.370. These parameters are the target year for rebuilding and the harvest control rule that is to be used during the rebuilding period. The target rebuilding year is the year in which there is a 50 percent likelihood that the stock will have been rebuilt with a given mortality rate. The harvest control rule expresses a given fishing mortality rate that is to be used over the course of rebuilding.

Amendment 16-1 recognizes that a new stock assessment will most likely change some of the parameters of a rebuilding plan. If, after a new stock assessment, the Council and NMFS conclude that either or both of the parameters defined in regulation should be revised, the updated values will be codified in the Federal regulation and fully supported by a corresponding analysis. Any changes will be made through a Federal rulemaking, which will include a public notice and comment process. The FMP requires that approved rebuilding plans be implemented by setting OYs that are consistent with the rebuilding plan, and by implementing management measures necessary to maintain the total fishing mortality within the OYs in order to achieve the rebuilding objectives.

Amendment 16-1 also responds to the Court order in which NMFS was ordered to adopt rebuilding plans as either FMPs, FMP amendments, or regulations. Amendment 16-1 specifies the basic parameters for rebuilding plans that will be adopted in subsequent plan amendments. Under Amendment 16-1, for each approved overfished species rebuilding plan, the following parameters will be specified in the FMP: Estimates of unfished biomass (B0) and BMSY, the year the stock would be rebuilt in the absence of fishing (TMIN), the year the stock would be rebuilt if the maximum time period permissible under the National Standard Guidelines were adopted (TMAX), and the year in which the stock would be rebuilt under the adopted rebuilding plan based on the application of stock rebuilding measures (TTARGET). These estimated values will serve as management benchmarks in the FMP. Amendment 16-1 additionally sets schedules and standards for reviewing rebuilding plans.

Amendment 16-1 was approved by NMFS on November 14, 2003. A proposed rule to implementing Amendment 16-1, including specific standards to govern the harvest levels for overfished species, was published on September 5, 2003 (68 FR 52732). NOAA approved Amendment 16-1 on November 14, 2003, and expects to publish the final rule in early 2004.

Amendment 16-2, was adopted by the Council in June 2003 and submitted to NMFS. Amendment 16-2 contains rebuilding plans for canary rockfish, darkblotched rockfish, lingcod, and POP. A Notice of Availability for Amendment 16-2 was published on November 7, 2003 (68 FR 63053). A proposed rule to codify regulations that implement the rebuilding plans contained in Amendment 16-2, was published on December 5, 2003 (68 FR 67998) and may be followed by a final rule to be published in early 2004.

As required by the standards established by Amendment 16-1, the rebuilding plans being adopted under Amendment 16-2 for lingcod, canary rockfish, darkblotched rockfish, and POP include B0, BMSY, TMIN, TMAX, and TTarget for each species. If approved, Amendment 16-2 will add these parameters to section 4.5.4. of the FMP. Other relevant information on each of these overfished stocks, such as stock distribution, fishery interaction, and the rebuilding strategy would also be added to section 4.5.4 of the FMP if the rebuilding plans proposed under Amendment 16-2 are approved.

2004 Management of Overfished Species

Rebuilding plans for POP, darkblotched rockfish, canary rockfish, and lingcod being adopted under Amendment 16-2 and implemented through Federal regulation are summarized below. The new stock assessments for POP and darkblotched rockfish (discussed above in the “2004 ABCs and OYs” section) have resulted in revisions to some of the rebuilding parameters specified in Amendment 16-2. The revised harvest control rule is being proposed in this rule.

Preliminary rebuilding measures for the remaining overfished species, except for whiting, are also summarized below. Whiting is the only overfished species that is proposed to continue to be managed using the 40-10 policy, rather than harvest levels based on a rebuilding analysis. As stated in the previous section of this document, the SSC advised continuing the use of the 40-10 policy for whiting because it appeared adequate to achieve recovery. The whiting harvest levels and rebuilding strategy will be reconsidered following a new whiting stock assessment and rebuilding analysis, which are expected to be completed in early 2004.

Management measures designed to rebuild overfished species, or to prevent species from becoming overfished, may restrict the harvest of relatively healthy stocks that are harvested with overfished species. As a result of the constraining management measures imposed to protect and rebuild overfished species, a number of the OYs may not be achieved in 2004.

OY Management for Overfished Species

Management measures adopted for 2004 are expected to keep the total mortality of overfished species within the adopted OYs. Managing a fishery inseason is dependent on the availability and accuracy of catch data. As new data become available and are used to track catch levels throughout the year, management strategies may need to be adjusted to keep the harvest of healthy stocks and the incidental catch of overfished species at or below their specified OYs.

Managing the fishery to stay within the OYs of overfished species is difficult because the OYs of many overfished stocks are low and there are catch accounting issues with some of the species (such as bocaccio, canary rockfish, lingcod). After reviewing the estimated mortality for all directed and incidental groundfish fisheries and research activities, the Council recommended adopting management measures that are predicted to result in total fishing mortality levels that are substantially lower than the 2004 OYs for those overfished species with the greatest uncertainty regarding catch accounting. Designing management measures for overfished species that result in total mortality levels that are lower than that species' OY creates an OY buffer. Providing an OY buffer reduces the risk of exceeding an OY when there are difficulties in catch accounting or when new information becomes available. Species-specific buffer amounts are provided in the footnotes to Table 1a.

POP

Date declared overfished: March 3, 1999.

Areas affected: Vancouver and Columbia.

Status of stock: Following the 2003 assessment, the stock was believed to be at 25 percent of unfished biomass level.

B0: 37,230 units of spawning output.

BMSY: 14,892 units of spawning output.

TMIN: 2011.

TMAX: 2042.

PMAX: >70 percent.

TTARGET: 2027.

Harvest control rule: F=0.0257.

ABC in 2004: 980 mt.

OY in 2004: 444 mt.

Management measures for 2004: POP tend to occur in similar depths as darkblotched rockfish, although they have a more northern geographic distribution. North of 40°10′ N. lat., POP are caught in similar fisheries as darkblotched rockfish. POP are rarely caught in the recreational fisheries. Management measures for 2004 that are intended to limit the bycatch of POP and keep fishing mortality within the OY include (1) the use of RCAs to restrict fishing in areas where overfished species are found and (2) cumulative trip limits.

Because POP co-occur with darkblotched rockfish, measures to reduce the incidental catch of darkblotched rockfish benefit POP. These measures include seaward trawl RCA boundaries that are established to keep fishing effort in deeper water where POP are less abundant, and cumulative limits for POP and minor slope rockfish that are intended to discourage targeting while allowing low levels of incidental catch to be landed. As needed, trip limits for other co-occurring species may be adjusted to reduce POP bycatch. [More in-depth discussion of these management measures as they apply to each sector of the fishery and the various gear types can be found later in this document, in the 2004 Management Measures section.]

Darkblotched Rockfish

Date declared overfished: January 11, 2001 (66 FR 2338).

Areas affected: Coastwide.

Status of the stock: Following a 2003 stock assessment the coastwide stock was believed to be at 11 percent of its unfished biomass level.

B0: 30,775 mt.

BMSY: 12,310 mt.

TMIN: 2011.

TMAX: 2044.

PMAX: >90 percent.

TTARGET: 2030.

Harvest control rule: F=0.032.

ABC in 2004: 240 mt.

OY in 2004: 240 mt.

Management measures in 2004: Darkblotched rockfish occurs on the outer shelf and continental slope (slope), mainly north of Point Reyes', CA (38° N. lat). Because of their deeper distribution, they are caught exclusively by commercial vessels. Most landings have been made by bottom trawl vessels targeting flatfish on the shelf, and rockfish and the DTS species on the slope. Management measures intended to limit bycatch of darkblotched rockfish and keep fishing mortality within the OY specified for 2004 include (1) the use of RCAs and (2) cumulative trip limits.

The boundaries of the RCAs vary by season and fishing sector and may be modified in response to new information about geographical and seasonal distribution of bycatch. The seaward boundary of the trawl RCA was set at a depth that was likely to keep fishing effort in deeper waters and away from areas where the bycatch of darkblotched rockfish was highest. During the winter months, modifications to the line allow for the harvest of flatfish while minimizing the impacts on darkblotched rockfish.

Cumulative limits for the minor slope rockfish species (the complex that darkblotched rockfish is managed under) north of 40°10′ N. lat. and splitnose rockfish were lowered to reduce the potential incidental take of darkblotched rockfish. As needed, trip limits for other co-occurring species may be adjusted to reduce darkblotched rockfish bycatch. [More in-depth discussion of these management measures as they apply to each sector of the fishery and the various gear types can be found later in this document, in the 2004 Management Measures section.]

Canary Rockfish

Date declared overfished: January 4, 2000 (65 FR 221).

Affected area: Coastwide.

Status of the stock: 8 percent of its unfished biomass level in 2002.

B0: 31,550 mt.

BMSY: 12,620 mt.

TMIN: 2057.

TMAX: 2076.

PMAX: 60 percent.

TTARGET: 2074.

Harvest control rule: F=0.0220.

ABC in 2004: 256 mt.

OY in 2004: 43.7 mt.

Management measures in 2004: Canary rockfish prefer rocky areas on the continental shelf (shelf) and are encountered in a wide variety of commercial and recreational fisheries. Management measures designed to limit bycatch of canary rockfish in 2004 include the use of RCAs and cumulative trip limits. Bottom trawling is prohibited in the trawl RCA, which covers depths where canary rockfish have been most frequently caught. Cumulative limits are structured to discourage targeting while allowing very low levels of incidental take to be landed. In addition, differential trip limits are used for large and small footrope trawl gear. By allowing greater limits for large footrope gear and prohibiting its use in nearshore areas, there is an incentive for vessels to fish in deeper waters, beyond the range of canary rockfish.

Recreational fisheries are managed through bag limits, size limits and seasons. If necessary, seasons can be shortened and bag limits reduced to stay within the 2004 OY. [More in-depth discussion of these management measures as they apply to each sector of the fishery and the various gear types can be found later in this document, in the 2004 Management Measures section.]

Lingcod

Date declared overfished: March 3, 1999.

Areas affected: Coastwide.

Status of the stock: A coastwide assessment was conducted in 2000 and estimated that the stock was at 17 percent of its unfished biomass in the north and 15 percent of its unfished biomass in the south.

B0: 22,882 mt north and 20,971 mt south.

BMSY: 9,153 mt north and 8,389 south.

TMIN: 2007.

TMAX: 2009.

PMAX: 60 percent.

TTARGET: 2009.

Harvest control rule: F=0.00531 north and F=0.061 south.

ABC in 2004: 1,385 mt.

OY in 2004: 735 mt.

Management measures in 2004: Lingcod are irregularly distributed coastwide in hard bottom areas and around rocky reefs and are encountered in a variety of commercial and recreational fisheries. Lingcod is also an important recreational species coastwide.

Management measures intended to limit bycatch of lingcod include the use of RCAs to restrict fishing in areas where overfished species are most likely to occur and the use of cumulative trip limits. Small trip limits are allowed in the trawl fishery to accommodate true incidental catch. Lingcod landings by the limited entry fixed gear and open access fisheries are severely limited during the summer months and are prohibited during the winter months. Lingcod are vulnerable to these gears during the winter nesting period, but have a high rate of survival when released alive. In addition to recreational bag limits, similar season restrictions have been used in the California and Washington recreational fisheries during the winter months. [More in-depth discussion of these management measures as they apply to each sector of the fishery and the various gear types can be found later in this document, in the 2004 Management Measures section.]

Bocaccio

Date declared overfished: March 3, 1999.

Areas affected: Monterey, CA and Point Conception, CA.

Status of stock: 7.4 percent of its unfished biomass in 2003.

B0: 13,387 Billion eggs in 2003.

BMSY: 5,355 Billion eggs in 2003.

TMIN: 2018.

TMAX: 2032.

PMAX: ≥70 percent.

TTARGET: 2021.

Harvest control rule: 0.041.

ABC in 2004: 400 mt.

OY in 2004: 250 mt.

Management measures for 2004: Bocaccio are most commonly found from 54 fm (99 m) to 82 fm (150 m) of water over the continental shelf. Bocaccio have historically been taken by vessels using commercial trawl and fixed gear and recreational fisheries. Bottom trawl, limited entry fixed gear, and open access fishing opportunities in the depths where bocaccio are most commonly encountered are reduced though the use of RCAs, which will continue to be used in 2004 to restrict fishing on the continental shelf.

Bocaccio retention in the affected area was prohibited in the commercial fisheries in 2003, but very small limits will be allowed in 2004 to accommodate incidental catch by vessels taking shelf species. In 2003, chilipepper rockfish limits for limited entry trawl gear were included in the minor shelf species group. This had been done to eliminate all target opportunities where bocaccio may be taken incidentally. For 2004, a specific chilipepper rockfish trip limit for limited entry trawl gear will be established. The limits are conservative and not expected to result in the bocaccio OY being exceeded.

Bocaccio retention was prohibited in the recreational fisheries in 2003, but one fish bag limits will be allowed in 2004 in depths where the incidental catch of bocaccio is expected to be minimal. This retention allowance for bocaccio is still expected to result in lower overall catches than were seen in 2002 (when bocaccio retention was last allowed) because of year round depth restrictions that will be in place for 2004 and bag limits for bocaccio that are lower than those in 2002. [Note: more in-depth discussion of these management measures as they apply to each sector of the fishery and the various gear types can be found later in this document, in the 2004 Management Measures section.]

Cowcod

Date declared overfished: January 4, 2000.

Areas affected: Point Conception, CA to the U.S.-Mexico boundary.

Status of stock: 4-11 percent of unfished biomass in 1999.

B0: 3.367 mt.

BMSY: 1,350 mt.

TMIN: 2062.

TMAX: 2099.

PMAX: 55 percent.

TTARGET: 2095.

Harvest control rule: F=0.0136.

ABC in 2004: 24 mt.

OY in 2004: 4.8 mt.

Management measures in 2004: All directed cowcod fishing opportunities have been eliminated since 2001. Retention of cowcod is prohibited for all commercial and recreational fisheries. To protect cowcod from incidental harvest, the Council has recommended two Cowcod Conservation Areas (CCAs) (the Eastern CCA and the Western CCA) in the Southern California Bight, delineated to encompass key cowcod habitat areas and known areas of high catches. The CCA was codified into regulation on November 4, 2003 (68 FR 62374). Fishing for groundfish is prohibited within the CCAs, except that minor nearshore rockfish, cabezon, and greenling may be taken from waters where the bottom depth is less than 20 fathoms (36.9 m). A transportation corridor is provided through the Western CCA to allow commercial vessels fishing for slope rockfish and other groundfish west of the Western CCA to transport that groundfish through the Western CCA.

A rebuilding review was conducted for cowcod. This was a thorough examination of the recreational and commercial fishery related removals in relation to the ABC and OY levels established for rebuilding. The review concluded that the total removals of cowcod had declined in accordance with the rebuilding based harvest specifications that were first established in 2000. In addition, further protection from having established the Cowcod Conservation Area are expected. Because of fishery closures in this area, data was not available from these areas for this review. [Note: More in-depth discussion of these management measures as they apply to each sector of the fishery and the various gear types can be found later in this document, in the 2004 Management Measures section.]

Widow Rockfish

Date declared overfished: January 11, 2001.

Areas affected: Coastwide.

Status of stock: 22.4 percent of the unfished biomass in 2002.

B0: 43,530 million eggs.

BMSY: 17,432 million eggs.

TMIN: 2026.

TMAX: 2042.

PMAX: 60 percent.

TTARGET: 2037.

Harvest control rule: F=0.0093.

ABC in 2004: 3,460 mt.

OY in 2004: 284 mt.

Management measures in 2004: Commercial limits for widow rockfish are intended to accommodate incidental catch and do not provide an incentive for directed fishing. The midwater trawl fisheries for yellowtail rockfish, a species that co-occurs with widow rockfish, have been constrained. Bottom trawl opportunities for shelf rockfish continue to be extremely limited; which is expected to benefit widow rockfish.

Incidental catch allowance of widow rockfish will continue to be allowed during the primary season for whiting. A final 2004 whiting ABC and OY will be adopted at the Council's March meeting. Based on average incidental catch rates of widow rockfish in the whiting fishery from 1998-2002, the whiting OY may need to be constrained to around 120,000 mt to stay within the widow rockfish rebuilding OY. [Note: More in-depth discussion of these management measures as they apply to each sector of the fishery and the various gear types can be found later in this document, in the 2004 Management Measures section.]

Yelloweye Rockfish

Date declared overfished: January 11, 2002.

Areas affected: Coastwide.

Status of stock: 24.1 percent of its unfished biomass in 2002.

B0: 3,875 mt.

BMSY: 1,550 mt.

TMIN: 2027.

TMAX: 2071.

PMAX: 92 percent.

TTARGET: 2052.

Harvest control rule: F=0.0139.

ABC in 2004: 53 mt.

OY in 2004: 22 mt.

Management measures in 2004: Yelloweye rockfish are more available to the commercial fixed gear and recreational fisheries than to the trawl fisheries. The retention of yelloweye rockfish in the commercial fixed gear fisheries will be prohibited. In addition, sublimits for yelloweye rockfish will be applied to the minor nearshore shelf rockfish trip limit for the limited entry trawl fisheries to discourage any interest in targeting yelloweye rockfish.

The yelloweye rockfish conservation area (YRCA) will continue to be used for 2004 in waters off the coast of Washington. This is an area that will be closed to recreational bottom fishing and halibut fishing. The YRCA was codified into regulation on November 4, 2003 (68 FR 62374). In Washington state, retention of yelloweye rockfish in recreational fisheries will be prohibited. In Oregon, the retention of yelloweye rockfish during the all-depth halibut fisheries will be prohibited. In the California recreational fisheries, the retention of yelloweye rockfish will be prohibited coastwide. [More in-depth discussion of these management measures as they apply to each sector of the fishery and the various gear types can be found later in this document, in the 2004 Management Measures section.]

Overfishing

None of the 2004 ABCs are set higher than FMSY or its proxy, none of the OYS are set higher than the corresponding ABCs, and the management measures in this proposed rule are designed to keep harvest levels within specified OYs. Overfishing is difficult to detect inseason for many groundfish, particularly for minor rockfish species, because most are not individually identified on landing. Species compositions, based on proportions encountered in samples of landings, are applied during the year. However, final results are not available until after the end of the year. Thus, this Federal Register document discusses overfishing for 2002, not 2003. If overfishing occurred on any groundfish species in 2003, it will be discussed in the 2005-2006 Federal Register publication of the specifications for those years.

During the 2002 fishing season, overfishing occurred on lingcod. There are no formal allocations for lingcod between the commercial and recreational fisheries; however, the 2002 total catch OY of 577 mt for lingcod was separated into a 326 mt expected catch for the recreational fisheries and a 251 mt total catch OY for commercial fisheries. The lingcod commercial total catch OY was further reduced by 50 mt to account for discard, with landed catch OY for the commercial fisheries set at 201 mt. Catch of lingcod in 2002 research fisheries is estimated to have been 3.3 mt. Non-tribal and tribal commercial lingcod catch for 2002 is estimated to have been 205.6 mt, exceeding the commercial landed catch OY by 4.6 mt. Recreational lingcod landings for 2002 are estimated to have been 612 mt, exceeding the expected recreational fisheries take by 286 mt. With this large overharvest in the recreational fisheries, total lingcod landings are estimated to have been 872.3 mt, exceeding the 745 mt lingcod ABC by 127.3 mt. Under the FMP, ABCs are set at FMSY and the lingcod ABC is set with an FMSY proxy of F45. Fishing at a level that exceeds the MSY harvest rate is considered overfishing under the Magnuson-Stevens Act.

About 78 percent of the 2002 recreational fisheries lingcod landings were made into California ports. NMFS and the State of California significantly revised California recreational fisheries management for the 2003 fishing season. The 2003 season was shortened from 8 months to 6 months in duration with notable new area closures in 2003. Of the 8 open fishing months in 2002, 4 months were managed with closures offshore of 20-fm (37-m). In 2003, recreational fishing for lingcod was prohibited off California in waters offshore of the 20 fm (37 m) depth contour for all 6 months of the open season. As of the writing of this Federal Register document, recreational fisheries data was not yet available for the July-December open California recreational fishing season. As mentioned earlier, the Federal Register document proposing the 2005-2006 specifications and management measures will discuss whether 2003 management measures successfully protected lingcod from overfishing.

Recreational fisheries management measures for 2003 were set primarily to protect bocaccio, with the expectation that time/area closures would also protect other continental shelf species, such as lingcod. With the higher bocaccio OY in 2004, management measures for all fisheries off California are somewhat less restrictive than in 2003, but not as liberal as in 2002. In the area where most lingcod are taken off California, between 40°10′ N. lat. and 34°27′ N. lat, the fishery will be open 10 months per year, with fishing permitted inshore of the 20 fm (37 m) depth contour in May-August and permitted inshore of the 30 fm (55 m) depth contour in January-February and September-December.

Bycatch and Discard Accounting

The Magnuson-Stevens Act defines bycatch as “fish which are harvested in a fishery, which are not sold or kept for personal use, and include economic discards and regulatory discards.” By contrast, Pacific Coast groundfish fishery management and many other fishery management regimes commonly use the term bycatch to describe non-targeted species that are caught in common with (co-occur with) target species, some of which are landed and sold or otherwise used and some of which are discarded. The term “discard” is used to describe those fish harvested that are neither landed nor used. For the purposes of this proposed rule, the term “bycatch” is used to describe a species” co-occurrence with a target species, regardless of that first species' disposition.

West Coast groundfish species are rarely found in isolation. They normally form associations with other groundfish species that vary by geographic location, position in the water column, and season. Fisheries management recognizes this mix by setting management measures that discourage targeting of more abundant stocks in times when, and areas where, depleted stocks may co-occur with those healthy stocks. Fisheries management also recognizes this mix by structuring retention allowances for the harvestable amounts of depleted stocks so that fisheries have some limited opportunity to access those more abundant co-occurring fish stocks.

With the exception of the mid-water trawl fishery for Pacific whiting, most groundfish vessels sort their catch at sea and discard species that are either in excess of cumulative trip limits, unmarketable, in excess of annual allocations, or incidentally caught non-groundfish species. Landed or retained catch has been monitored by the three state-run fish ticket programs in Washington, Oregon, and California. Total catch (landed catch + discards) is monitored and estimated through a Federal observer program. Widow, yellowtail, canary and darkblotched rockfish discard in the at-sea whiting fisheries is monitored inseason and actual discard numbers are deducted from the OY.

Historically, NMFS and the Council had accounted for dead discards by estimating the amounts of certain species' OYs that would be discarded dead, and then subtracting those amounts from the total catch OYS to get landed catch levels for those species. These discard rates were expressed as a percent of total catch OY, so that a 16 percent discard rate for a species meant that 16 percent of that species' total catch OY would be deducted to derive that species' landed catch OY. Beginning with the 2002 fishing year, NMFS has introduced a series of bycatch models intended to update the NMFS/Council approach to accounting for discard in groundfish management. These models have been updated each year to incorporate new data and recommendations for improvement from the scientific community.

The bycatch model introduced in 2002 predicted the amounts of overfished species that were being caught incidentally with more abundant target stocks. As discussed above, bycatch and discard rates for target species were not addressed through the bycatch model, but with discard deductions from the OYs for those species. The 2002 bycatch model incorporated variability in the overfished species co-occurrence ratios with target species across different 2-month fishing periods, target fisheries, and areas of the coast. NMFS populated the 2002 bycatch model with data from observer experiments in the late 1980s and mid-1990s.

Using the 2002 bycatch model to illustrate expected incidental catch rates for overfished species, the Council crafted a series of management measures intended to concentrate fishing pressure for targeted stocks in times and areas where overfished species were less likely to co-occur with targeted stocks. During the fishing year, the Council reviewed landings levels and recommended inseason adjustments to trip limits and open seasons based on the 2002 model's prediction of incidental catch rates of overfished species within fisheries targeting more abundant groundfish stocks. More information on the 2002 bycatch model is provided in the proposed rule to implement the 2002 specifications and management measures (January 11, 2002, 67 FR 1555).

NMFS revised its bycatch model in preparation for the 2003 fishing season, primarily focusing on additionally stratifying co-occurrence ratios for overfished species in targeted species fisheries by ocean bottom depth. For 2003, the Council introduced a new depth-based management program, in which vessels were prohibited from fishing for target species in specific depth zones in order to reduce or eliminate the interception of overfished species. More information on the 2003 bycatch model is provided in the proposed rule to implement the 2003 specifications and management measures (January 7, 2003, 68 FR 936).

In January 2003, the SSC held a workshop to review the 2003 model and to provide advice on incorporating the data from the West Coast Groundfish Observer Program (WCGOP) into the 2003 model. In early 2003, NMFS had summarized the first year's data from the WCGOP and made it ready for use in the bycatch model. Taking the SSC's advice into account, NMFS incorporated the observer data into the 2003 model for use in inseason management starting in April 2003. Throughout 2003, the Council continued to use the 2003 bycatch model on overfished species bycatch and discard, in combination with new observer data, to make inseason management recommendations.

For the 2004 fishing year, NMFS notably revised its bycatch model to incorporate the August 2001 through August 2002 WCGOP data. The 2004 bycatch model still links the bycatch of overfished species to catch and co-occurrence rates in target species fisheries, although the stratification of co-occurrence ratios was simplified to reflect only ocean bottom depth and area of the coast until additional observer data are available. One important revision to the 2004 bycatch model from the 2003 model is that in addition to addressing overfished species co-occurrence ratios with target species, the 2004 model also addresses discard of target species by depth as a function of total catch of those species. For example, the 2004 bycatch model predicts discard amounts for sablefish when taken at differing depths in the DTS complex fisheries. Sablefish discard rates derived from observer data show that a greater percentage of sablefish total catch is discarded by trawl vessels operating at shallow nearshore depths than by trawl vessels operating at much deeper continental slope depths.

The Council used NMFS' 2004 bycatch model to craft fishing seasons, areas, and landings limits that would minimize the interception of overfished species in target species fisheries and that would reduce target species discard. NMFS and the Council will use the 2004 bycatch model inseason next year to manage target species fisheries to stay within total catch OYs, which are the sum of landed catch and assumed discard. The 2004 bycatch model will be revised by the April 2004 Council meeting to incorporate WCGOP data from the September 2002 through August 2003 period. April 2004 will be the Council's first opportunity to modify groundfish fishery management measures inseason. Because winter fisheries are relatively slow and co-occurrence rates of overfished species with target species are relatively low in the winter, NMFS is less concerned about managing the first 4 months of the 2004 fishery under a bycatch model incorporating only one year of observer data. With that second year's worth of observer data, NMFS should have an improved picture of bycatch and discard in the groundfish fisheries, which will ultimately allow the Council and NMFS to improve inseason groundfish management. If, for example, the new observer data shows that 2004 management measures may be inadequate to protect a particular species or species group, more conservative landings limits or closed areas could be implemented as soon as May 1, 2004.

Conservation Areas and Depth-Based Management

Since 1998, groundfish management measures have been shaped by the need to rebuild overfished groundfish stocks. The over 80 species in the West Coast groundfish complex mix with each other to varying degrees throughout the year and in different portions of the water column. Some species, like Pacific whiting, are strongly aggregated, making them easier to target with relatively little bycatch of other species. Conversely, other species like canary rockfish may occur in species-specific clusters, but are also found co-occurring with a wide variety of other groundfish species. Over the past several years, groundfish management measures have been more carefully crafted to recognize the tendencies of overfished species to co-occur with healthy stocks in certain times and areas.

As discussed earlier, management measures for the 2004 fishing year have been designed to reduce incidental interception of overfished species taken in fisheries targeting more abundant groundfish stocks. In addition to setting trip limits for targeted species to reduce co-occurrence rates for overfished species, 2004 management measures include a set of large time/area closures known as Groundfish Conservation Areas.

The Council and NMFS began using closed areas to reduce fisheries impact on overfished groundfish species in 2001. NMFS initially introduced two Cowcod Conservation Areas (CCAs) in the Southern California Bight. These areas were closed to recreational and commercial fishing for groundfish. These closures were located in areas of known cowcod abundance and were intended to prevent fishing vessels from taking cowcod either directly or incidentally in fisheries targeting other species. The CCAs have remained in place since 2001 and continue to be part of the Council's 2004 rebuilding strategy for cowcod.

In September 2002, NMFS introduced its first large-scale conservation area, a Darkblotched Rockfish Conservation Area (DBCA), extending from the U.S/Canada border to Cape Mendocino, California. The DBCA extended between boundary lines approximating the 100-fm (183-m) and 250-fm (457-m) depth contours, with trawling prohibited within the conservation area. This closure was intended to reduce incidental darkblotched rockfish interception by fisheries targeting more abundant continental slope species.

For 2003, the Council recommended a greater suite of area closures, intended to protect different overfished species from incidental harvest by vessels targeting other, more abundant species. Similar to Council efforts to craft landings limits and seasons to protect overfished species, the 2003 conservation areas were intended to protect overfished species at depths where they are most likely encountered and from gear that is most likely to encounter those species. For example, Pacific ocean perch has historically been taken almost exclusively by trawl gear, while yelloweye rockfish is more susceptible to hook-and-line gear used in commercial and recreational fisheries. The 2003 Groundfish Conservation Areas included the two CCAs, a similarly block-shaped Yelloweye Rockfish Conservation Area off the Washington coast that was closed to recreational fishing, and Rockfish Conservation Areas (RCA) along the entire length of the West Coast. The 2003 RCAs were gear specific, with different closed areas for trawl and nontrawl gear. These RCAs were based on ocean bottom depths, and varied seasonally depending on when and where the overfished species targeted for protection had been taken by historic fisheries. RCA boundary lines were designated by a series of latitude/longitude coordinates intended to approximate ocean bottom depth contours delineating overfished species habitats. A more in-depth discussion of the introduction of depth-based management to West Coast groundfish fisheries management is provided in the proposed rule to implement the 2003 specifications and management measures (January 7, 2003, 68 FR 936).

The Council has recommended again using depth-based management in 2004. RCA boundaries have been somewhat modified from 2003 to reflect the use of new data from the WCGOP on species location by depth, and to reflect new allowable harvest levels for some overfished species, particularly bocaccio. As in 2003, RCA boundaries for 2004 differ by gear type to reflect the catchability of different overfished species by the various gear types. Although some of the recreational fisheries were managed by depth in 2003, recreational depth-based management will be expanded in 2004 to include RCAs for the recreational fisheries coastwide. RCAs for 2004 also differ by area of the coast to reflect the differing distributions of each overfished species population, such that northern area RCAs protect overfished species that have a more northerly distribution and southern area RCAs protect overfished species with a more southerly distribution. RCA boundary lines will again be designated by a series of latitude/longitude coordinates intended to approximate those boundary lines. Using waypoint coordinates to define RCA boundaries is intended to provide clarity to the conservation area boundaries for enforcement purposes. Because RCAs are intended to protect overfished species in concert with other conservation measures such as gear and landings limit restrictions, a discussion of the particular RCA boundaries proposed for 2004 may be found below at Section III., “2004 Management Measures.”

On November 4, 2003 (68 FR 62374), NMFS published a final rule to implement a vessel monitoring system (VMS) program to monitor vessel activities in and around the RCAs. This rule will become effective on January 1, 2004, requiring all limited entry vessels participating in the West Coast groundfish fishery to carry and activate VMS units. During 2004, NMFS and the Council will explore expanding coverage of the VMS program to open access fisheries intercepting groundfish and to charter boats in the recreational sector.

II. Commercial Fisheries Allocations

Since 1994, the non-tribal commercial groundfish fishery has been divided into limited entry and open access sectors, each with its own set of allocations and management measures. Species or species group allocations between the two sectors are based on the relative amounts of a species or species group taken by each component of the fishery during the 1984-1988 limited entry permit qualification period (50 CFR 660.332). The FMP allows suspension of this allocation formula for overfished species when changes to the traditional allocation formula are needed to better protect overfished species (FMP, section 5.3.2). Allocations for the open access and limited entry fisheries are explained in general terms within this section. Species-specific allocations, including recreational fishery set asides and research catch deductions from total catch OYs are provided in the footnotes to Tables 1a and 1b.

Open Access Allocations

The open access fishery is composed of vessels that operate under the OYs, quotas, and other management measures governing the open access fishery, using (1) exempt gear or (2) longline or pot (trap) gear fished from vessels that do not have limited entry permits endorsed for that gear. Exempt gear includes all types of legal groundfish fishing gear except groundfish trawl, longline, and pots. (Exempt gear includes trawls used to harvest pink shrimp or ridgeback prawns (shrimp trawls) and California halibut or sea cucumbers south of Pt. Arena, CA (38°57′30″ N. lat.))

Open access allocations are derived by applying the open access allocation percentages to the commercial OY. The commercial OY is the total catch OY after subtracting any tribal allocations and set-asides for recreational fisheries or compensation fishing for conducting resource surveys. For those species in which the open access share would have been less than 1 percent, no open access allocation is specified unless significant open access effort is expected.

Limited Entry Allocations

The limited entry fishery is the fishery composed of vessels using limited entry gear fished pursuant to the OYs, quotas, and other management measures governing the limited entry fishery. Limited entry gear includes longline, pot, or groundfish trawl gear used under the authority of a valid limited entry permit issued under the FMP, affixed with an endorsement for that gear. Groundfish trawl gear excludes shrimp trawls used to harvest pink shrimp or ridgeback prawns, and other trawls used to fish for California halibut or sea cucumbers south of Pt. Arena, CA. A sablefish endorsement is also required for a vessel to operate in the limited entry primary fixed gear season for sablefish.

The limited entry allocation (in total catch) is the OY reduced by (1) set-asides, if any, for treaty tribal fisheries, recreational fisheries, or compensation fishing for participation in resource surveys (which results in the commercial OY or quota); and (2) the open access allocation. (Allocations for Washington coastal tribal fisheries are discussed in Section V.)

Following these procedures, the Regional Administrator calculated the amounts of allocations that are presented in Table 1a of this document. Unless otherwise specified, the limited entry and open access allocations would be treated as harvest guidelines in 2004. There may be slight discrepancies from the Council's recommendations due to rounding.

III. 2004 Management Measures

Before 2000, the major goals of groundfish management were to prevent overfishing while achieving the OYS and to provide year-round fisheries for the major species or species groups. Over time, however, it became apparent that a number of species could not continue to be harvested year-round at a constant harvest rate. New legislative mandates under the Magnuson-Stevens Act (as amended by the Sustainable Fisheries Act in 1996) gave highest priority to preventing overfishing and rebuilding overfished stocks to their MSY levels. The National Standard Guidelines at 50 CFR 600.310 interpreted this as “weak stock management,” which means that harvest of more abundant stocks may need to be curtailed to prevent overfishing or to rebuild overfished stocks.

Nine West Coast groundfish species have been declared overfished: Bocaccio, canary rockfish, cowcod, darkblotched rockfish, lingcod, Pacific whiting, POP, widow rockfish and yelloweye rockfish. Of the management measures intended to protect these species, protective measures for canary rockfish coastwide, yelloweye rockfish in the north and bocaccio in the south are the most constraining, because these species are broadly distributed on the continental shelf. In order to rebuild these overfished species while allowing harvest of more abundant stocks, the Council chose management measures that prohibit bottom trawling over large portions of the continental shelf, where lingcod, bocaccio, canary rockfish, cowcod, widow rockfish, yelloweye rockfish, and, to a lesser extent, POP and darkblotched rockfish occur. As discussed earlier in this document, depth based management measures are gear-specific and have been crafted to maximize fishing opportunity for more abundant stocks in times when and areas where bycatch and discard of overfished and depleted stocks is estimated to be lowest.

Management measures for the limited entry fishery are found in section IV. Most cumulative trip limits, size limits, and seasons for the limited entry fishery are set out in Tables 3 and 4 of section IV. However, the limited entry nontrawl sablefish fishery, the midwater trawl fishery for Pacific whiting, and the hook-and-line fishery for black rockfish off Washington are managed separately from the majority of the groundfish species and are not fully addressed in the tables. The management structure for these fisheries has not changed since 2003, except for the level of trip limits for sablefish and Pacific whiting, and is described in paragraphs IV.B.(2)-(4) of section IV. Other provisions for the 2003 fisheries not explicitly addressed above would remain in effect for 2004 and are repeated in section IV. of this document.

After hearing proposals and advice from its advisory entities and public testimony at its September 2003 meeting, the Council recommended the following actions for management in 2004.

Limited Entry Trawl

For the limited entry trawl fishery, the Council recommended a suite of gear restrictions, conservation areas, and cumulative trip limits designed to allow fishing with gear in times and areas where incidental catch of overfished or depleted species will be minimized. As discussed earlier in this document, trawl RCAs are intended to protect overfished species susceptible to interception by trawl gear in waters where particular overfished species congregate.

North of Cape Mendocino, CA approximately 40°10′ N. lat., canary rockfish most constrains groundfish fisheries management due to its distribution and interactions with different gear types. Canary rockfish tends to be available to the fisheries in 20-200 fm (37-366 m) depths, with greater concentrations in 75-125 fm (137-229 m) depths. In the northern portion of the coast, canary rockfish tends to be intercepted by all gear types, thus the 2004 northern trawl gear RCA would close an area between 75 fm (137 m) and 200 fm (366 m) to trawling for most of the year, with an enlarged closed area for March through June of 60 fm (110 m) to 200 fm (366 m) and a reduced area for July-August of 75-150 fm (137-274 m). Extending trawl RCA boundaries out to 200 fm (366 m) will also provide protection for darkblotched rockfish, a northern overfished continental slope species that tends to be taken by trawl gear. Because POP co-occurs with darkblotched rockfish and other slope rockfish in the north, POP are also expected to benefit from measures to restrict total darkblotched rockfish mortality. As in 2003, the northern trawl gear RCA would be modified in January-February and November-December, to allow some fishing inshore of 200 fm (366 m) in areas of greater petrale sole abundance. Targeting petrale sole and other flatfish is encouraged during the winter months with higher landings limits because flatfish tend to aggregate for spawning during those months and flatfish trawlers are less likely to intercept other non-flatfish species during this aggregation period.

North of 40°10′ N. lat., trawlers are only permitted to fish with large footrope gear if it is used offshore of the RCA. The Council has been providing different fishing opportunities to vessels using small footrope (<8 inches (20.5 cm) diameter) from those using large footrope (>8 inches (20.5 cm) diameter) since 2000. A trawl's footrope runs along the base of the leading edge of the trawl net. Fishermen often will protect their net's footrope by encircling it with cut-out pieces of rubber tire (sometimes called “cookies”) or with whole tires. So-called “large” footropes are better able to bounce trawl nets over rockpiles, protecting the gear from snagging or tearing. Footropes with more protective material are better able to access rocky habitats and the rockfish that use those habitats. Prohibitions against the use of large footropes in certain areas are intended to make trawl nets less efficient at targeting and catching overfished rockfish such as canary rockfish, which live in continental shelf and nearshore habitats.

For 2004, the Council has recommended using footrope size restrictions to give vessels incentives to fish in deeper continental slope waters, rather than in the nearshore area (where canary rockfish bycatch is higher). Several of the more abundant species available to trawl gear may be taken offshore of the RCA; thus, trip limits for deepwater species are often higher for vessels using large footrope gear than for vessels operating in the nearshore area and using small footrope gear. For example, trip limits for the DTS complex species are notably smaller for vessels that use small footrope gear at any time during a 2-month cumulative limit period than for vessels using large footrope gear, primarily because vessels using small footrope gear are permitted to operate inshore of the RCAs. Trawlers are also encouraged, via higher landings limits, to fish for flatfish offshore of the RCAs, where canary rockfish bycatch is lower. As in 2003, vessels using mid-water trawl gear to fish for Pacific whiting will be permitted in 2004 to retain widow and yellowtail rockfish taken with mid-water gear.

South of 40°10′ N. lat., RCA boundaries have been designed to encompass continental shelf habitat for overfished rockfish, canary and bocaccio. As discussed earlier in this document, bocaccio was re-assessed in 2003 and has a higher rebuilding OY in 2004 than in 2003, allowing somewhat less conservative management measures for co-occurring species in 2004. The Council recommended moving the inshore trawl RCA boundary south of 40°10′ N. lat. from 60 fm (110 m) in 2003 to 75 fm (137 m) for most of 2004. Thus, the trawl RCA south of 40°10′ N. lat. would be between depth contours approximating 75 fm (137 m) to 150 fm (274 m) for most of the year, and between 100 fm (183 m) and 150 fm (274 m) for May through August. South of 38° N. lat., these closures would apply to mainland California, while trawl RCAs around offshore islands would be closed from the shoreline to 150 fm (274 m). Both the eastern and western CCAs will be in place again in 2004.

Landings limits for the trawl management area south of 40°10′ N. lat., differ in two separate areas: 40°10′ N. lat to 38° N. lat., and 38° N. lat. to the U.S. border with Mexico. This split is intended to protect darkblotched rockfish in the southern part of its range, which extends to about 38° N. lat. Thus, limited entry trawl limits for continental slope species that are most likely to co-occur with darkblotched rockfish in the area between 40°10′ N. lat. and 38° N. lat., such as minor slope rockfish and splitnose rockfish, are notable higher south of 38° N. lat. than north of 38° N. lat. Similar to trawl management north of 40°10′ N. lat., trawl limits in the southern area for some species are higher for vessels fishing offshore of the RCA. Due to the higher OY for bocaccio in 2004, minimal retention of bocaccio (100 lb/45 kg per month) is permitted to vessels fishing offshore of the RCAs, to recognize that some bocaccio will likely be taken by vessels targeting chilipepper rockfish.

To better enforce RCAs and protect overfished species coastwide, the Council has recommended eliminating the “B” platoon option for limited entry trawlers. In prior years, limited entry trawl permit holders who registered their permits as “B” platoon permits were allowed to lag their groundfish deliveries by two weeks from the rest of the limited entry trawl fleet. For example, “A” platoon vessels were subject to their first cumulative limit period of the year over January 1 through February 29; “B” platoon vessels were subject to their first cumulative limit period of the year over January 16 through March 15. Regulations allowing “B” platoon designation and lagging of groundfish deliveries were essentially performing a market function of staggering trawl fleet groundfish deliveries to fish processors. Allowing the “B” platoon delivery lag became notably more complex in 2003, when RCA boundaries were lagged by 2 weeks similar to the 2-week lag for landings limits. For several two-week periods in 2003, fishermen and enforcement officers were dealing with separate and overlapping trawl RCAs. In an already complex management system with conservation areas bounded by many waypoints, enforcing RCAs to ensure overfished species protection became even more complex with the duplicate RCAs resulting from the “B” platoon cumulative limits and fishing areas. Given the need to maintain RCA integrity and the relatively small number of vessels historically participating in this program, about 30 out of 250 trawlers, the Council determined that maintaining the marketing-oriented “B” platoon option was no longer necessary or supportable.

Limited Entry Fixed Gear

Similar to the limited entry trawl fisheries, trip limit opportunities and conservation areas in the limited entry fixed gear fisheries are arranged to minimize opportunities for overfished species.

Needed protections for both canary and yelloweye rockfish constrain management of nontrawl fisheries north of 40°10′ N. lat. Yelloweye rockfish is commonly taken with hook-and-line gear, thus its interception in nontrawl fisheries is of greater concern than in management of trawl fisheries. Between the U.S. border with Canada and the Washington/Oregon border (46°16′ N. lat.), the nontrawl gear RCA would extend from the shoreline to 100 fm (183 m). The nontrawl gear RCA applies to both the limited entry fixed gear fisheries and to the open access nontrawl fisheries. Between 46°16′ N. lat. and 40°10′ N. lat., the nontrawl gear RCA would extend from 30 fm (55 m) to 100 fm (183 m). These closures will provide protection for canary and yelloweye rockfish, two continental shelf species, by moving the nontrawl fleet offshore toward the continental slope area. The nearshore area (0 30 fm, 0 55m) is closed off Washington because the 30-fm (55-m) depth contour essentially falls within state waters and commercial fishing for groundfish is prohibited entirely within Washington State waters.

Landings limits for the limited entry fixed gear fleet north of 40°10′ N. lat. provide vessels with access to continental slope and nearshore species, while closing access to continental shelf species. As in past years, landing lingcod will be prohibited in January-April and in November-December to protect lingcod during their spawning and nest-guarding season. Because the sablefish OY is higher in 2004 than in 2003, the weekly and bi-monthly cumulative limits for sablefish in the daily trip limit (DTL) fishery will be slightly higher than in 2003: 900 lb (408 kg) per week and 3,600 lb (1,633 kg) per 2 months, as opposed to 800 lb (363 kg) per week and 3,200 lb (1,452 kg) per 2 months.

South of 40°10′ N. lat., nontrawl gear RCAs focus on protecting bocaccio, particularly between 40°10′ N. lat. and 34°27′ (Point Conception, CA) where the bocaccio stock is most abundant. Between 40°10′ N. lat. and 34°27′ N. lat., the nontrawl RCA will be between boundary lines approximating the 30-fm (55-m) and 150-fm (274-m) depth contours for most of the year, and between the 20-fm (37-m) and 150-fm (274-m) depth contours for May through August. The inshore boundary of the nontrawl RCA is moved to 20 fm (37 m) for the summer months because nontrawl gear fishery participation is usually stronger in that period, requiring a somewhat larger closed area to counter the effects of increased fishing effort. These RCA boundaries apply both to the mainland coast of California and around offshore islands. Around the Farallon Islands, fishing is also prohibited by the State from the shoreline to the 10-fm (18-m) depth contour. South of 34°27′ N. lat., where bocaccio is less common, the nontrawl RCA will have an inshore boundary line approximating the 60-fm (110-m) depth contour and an offshore boundary line approximating the 150-fm (274-m) depth contour, including areas around offshore islands. Both the eastern and western CCAs will be in place again in 2004.

Landings limits south of 40°10′ N. lat. follow a similar pattern to those for limited entry fixed gear fishing in the northern area. Higher landings limits are available for continental slope species, particularly south of 38° N. lat., where the fishery is less likely to intercept darkblotched rockfish. The sablefish DTL limits north of 40°107′ N. lat., also apply southward to 36° N. lat.; south of 36° N. lat., sablefish DTL limits are the same as in 2003, 350 lb (159 kg) or 1,050 lb (476 kg) per week. Landings limits for nearshore and shelf rockfish south of 40°10′ N. lat are minimal and fisheries for these species are closed between 40°10′ N. lat. and 34°27′ N. lat. in March-April, and closed from 34°27′ N. lat. to the U.S. border with Mexico in January-February. Retention of canary rockfish, yelloweye rockfish, and cowcod is prohibited. These closures are intended to match season closures in the California recreational fisheries, which also use hook-and-line gear. As in the northern area, lingcod landings by limited entry fixed gear and nontrawl open access vessels in the south are prohibited in January-April and November-December.

For the limited entry fixed gear fisheries between the U.S. border with Canada and 36° N. lat., the bulk of the sablefish allocation is taken in the three-tier primary sablefish fishery by vessels registered to limited entry permits with sablefish endorsements. The primary season is held April 1 through October 31 and NMFS has announced proposed cumulative limits for the three tiers in this proposed rule: Tier 1 at 62,000 lb (28,123 kg), Tier 2 at 28,000 lb (12,701 kg), and Tier 3 at 16,000 lb (7,257 kg). These limits are proposed at Section IV.B.(2) of this document.

By January 2004, NMFS expects to have analyzed the second full year's worth of observer data from the WCGOP. The second year of groundfish fishery observation (September 2002-August 2003) expanded beyond the trawl-focused observations of the first year of the program to include greater coverage of vessels participating in the limited entry sablefish fishery. NMFS expects this observer data on the primary sablefish fishery to improve estimates of sablefish discards in that fishery, and will use that data to inform management of the 2004 primary fishery. NMFS now assumes an 8 percent discard rate of sablefish in the primary sablefish fishery. Thus, 8 percent of the primary fishery's allocation is taken off the top of that allocation to account for discard. In early 2004, NMFS will re-calculate the sablefish discard rate in the primary fishery based on observer data and then will re-calculate sablefish tier limits to accommodate the new sablefish discard rate. Re-calculated tier limits will be published in the final rule for this action.

Open Access Nontrawl Gear (Hook-and-Line, Troll, Pot, Setnet, Trammel Net)

The open access nontrawl fishery is managed separately from the limited entry fixed gear fishery, but overfished species protection measures are similar for both sectors. The nontrawl RCA boundaries that apply to the limited entry fixed gear fleet also apply to the open access nontrawl fleet, as do the CCAs. Also similar to the limited entry fleet, greater landings limits are provided for continental slope and nearshore species, with closed seasons and lower limits for continental shelf species, including the same closed periods for lingcod as in the limited entry fixed gear fisheries. North of 40°10′ N. lat., salmon trollers will be permitted to retain and land up to 1 lb (.45 kg) of yellowtail rockfish for every 2 lb (.9 kg) of salmon landed, up to 200 lb (91 kg) per month, both within and outside of the RCA.

Open access cumulative limits may exceed those for limited entry. If a vessel with a limited entry permit uses open access gear (including exempted trawl gear) and the open access cumulative limit is larger, the vessel will be constrained by the smaller limited entry cumulative limit for the entire cumulative limit period.

Open Access Exempted Trawl Gear

Open access exempted trawl gear (used to harvest ridgeback prawns, California halibut, sea cucumbers, and pink shrimp) is managed with both “per trip” limits, cumulative trip limits, and area closures. These trip limits are similar to those in 2003 and the species-specific open access limits apply but may not exceed overall groundfish limits. The pink shrimp fishery is subject to species-specific limits that are different from other open access limits for lingcod and sablefish. As in past years, thornyheads may not be taken or retained in the open access fisheries north of 34°27′ N. lat.

Trawling with open access exempted gear for pink shrimp will be permitted within the trawl RCA; however, the states require pink shrimp trawlers to use finfish excluder devices to reduce their groundfish bycatch, particularly canary and other rockfishes. In 2003, spot prawn trawling was permitted off Oregon within the trawl RCA. Oregon now prohibits the use of trawl gear in the spot prawn trawl fishery. Coastwide, spot prawn trawl fisheries now use pot gear, which has a very low incidence of groundfish interception. Off California, trawling for ridgeback prawns, California halibut, and sea cucumber is prohibited within the trawl RCA. California ridgeback prawn trawlers are required by the state to use finfish excluder devices. All open access trawlers, except for those trawling for pink shrimp, and limited entry trawlers are subject to the same trawl RCA boundaries. These finfish excluders and RCA restrictions off California are particularly intended to protect southern and coastwide overfished species such as bocaccio, cowcod, canary rockfish, and lingcod. Cowcod prohibitions and closures continue to apply to all open access vessels.

Recreational Fishery

Recreational fisheries effort has also been constrained to protect overfished species, particularly for lingcod, canary rockfish, bocaccio, and yelloweye rockfish, which have significant recreational catches. Washington, Oregon, and California each proposed, and the Council recommended, different combinations of seasons, bag limits, and size limits to best fit the needs of their recreational fisheries, while also meeting conservation goals.

Recreational fisheries off Washington, Oregon, and California north of 40°10′ N. lat. will be subject to fewer depth restrictions than the commercial fisheries, primarily because most recreational vessels tend to operate in the nearshore area inside State waters. However, recreational fisheries coastwide will be subject to depth restrictions during at least part of the year. New for 2004, many depth-based management boundaries along the coast will be managed with latitude/longitude coordinates similar to the commercial fisheries. Recreational fisheries were first subject to latitude/longitude coordinate delineated RCAs in September 2003 (September 5, 2003, 68 FR 52703). Off Washington, recreational fishing for groundfish and halibut will be prohibited inside the YRCA, a C-shaped closed area off the northern Washington coast. Coordinates for the YRCA are defined at 50 CFR 660.304(d). Washington's rockfish bag limit will remain the same in 2004, 10 fish per day as a sublimit of the 15 groundfish per day limit; taking and retaining both canary rockfish and yelloweye rockfish will be prohibited. The 2004 Washington lingcod season will run from March 13 through October 16, with the same 2-fish bag limit as in 2003.

Off Oregon, recreational fishing for groundfish will be depth-restricted June through September, when the fishery will be closed offshore of a boundary line approximating the 40 fm (73 m) depth contour. Recreational fisheries are strongest during these summer months and this closure is intended to keep vessels out of the continental shelf area to better avoid canary and yelloweye rockfish. Oregon recreational fisheries will retain their 10-marine fish bag limit, which includes all rockfish, greenling species, cabezons, and other marine species, but excludes salmon, lingcod, perches, sturgeon, sanddabs, striped bass, tuna, and baitfish. Retention of canary and yelloweye rockfish would be prohibited both in the marine fish fishery and in the recreational halibut fishery. The lingcod bag limit would remain at 2 lingcod per day.

California fisheries north of 40°10′ N. lat. have lower participation levels than fisheries south of 40°10′ N. lat. and lower effects on overfished groundfish fisheries. Northern and coastwide overfished species that tend to be taken in waters north of 40°10′ N. lat. include yelloweye rockfish, canary rockfish, and lingcod. Thus, California fisheries will be open year-round in all waters, with similar bag limits to those in 2003. Retention of cowcod, canary rockfish, and yelloweye rockfish will be prohibited.

As in past years, recreational fisheries off California south of 40°10′ N. lat., will be constrained by depth and season closures in order to reduce catch of bocaccio and other overfished rockfish species. In waters where canary rockfish and bocaccio are more concentrated, between 40°10′ N. lat. and 34°27′ N. lat., the recreational fishery will be closed offshore of the 30 fm (55 m) depth contour in January-February and in September-December, offshore of a 20 fm (37 m) in May-August, and closed entirely in March-April. South of Point Conception, CA (34°27′ N. lat.) to the U.S. border with Mexico, where bocaccio and canary rockfish are less common, the recreational fishery will be closed entirely in January-February and closed offshore of a boundary line approximating the 60 fm (110 m) depth contour for the remainder of the year. The recreational fishery for California scorpionfish south of 34°27′ N. lat. will also be closed from May-October to prevent the fisheries from exceeding scorpionfish harvest limits. The CCAs will also remain closed to fishing offshore of 20 fm (37 m). California recreational fisheries bag limits south of 40°10′ N. lat. will remain essentially the same in 2004 as in 2003, except that fishers will be permitted to retain up to one bocaccio per day as a sub-limit within the 10 rockfish bag limit.

Over a half million anglers participate in California's recreational fisheries. Predicting the behavior of such a large group of fishery participants with diverse fishery interests and effort levels has been one of California Department of Fish and Game's (CDFG) greatest challenges as a partner in the groundfish management process. California recreational management in 2001 and 2002 used some shortened seasons and area closures, but essentially left the fishery open in nearshore areas for much of the year. In 2003, with the low bocaccio OY, CDFG recommended large-scale area and season closures to protect bocaccio and other overfished species. While this strategy seemed adequately protective for shelf rockfish species, it concentrated more fishing effort in the nearshore area. By October 2003, CDFG had found that recreational fisheries in June-September had taken the nearshore rockfish recreational allocation. CDFG recommended to the Council and to the California Fish and Game Commission (Commission) that the recreational fisheries south of 40°10′ N. lat. be closed for November-December 2003 to protect nearshore rockfish. CDFG will implement this closure for State waters on January 1, 2004. NMFS implemented the closure for Federal waters on November 21, 2003 (68 FR 66352, November 26, 2003).

The regulatory package the CDFG has recommended for its 2004 recreational fisheries is notably more conservative than either the 2001 or 2002 management packages, although less conservative than 2003 management in recognition of greater bocaccio abundance. In addition to recommending protective management measures, CDFG will be testing a new recreational fisheries effort and landings survey in 2004. During 2004, CDFG will be testing the survey alongside the old survey methods of the MRFSS to calibrate the new survey methods to ensure useful comparisons between past and future effort and landings. With this new survey technique, CDFG hopes to provide more timely and accurate inseason information on recreational fisheries harvest levels. CDFG believes that improving data on California recreational fisheries will provide that agency and the Commission much needed information on angler activity, which will in turn help both CDFG and the Commission to better craft management measures to protect marine fish species.

Council Revisions to Its Management Measures Recommendations

At its November 3-7, 2003, meeting in Del Mar, CA, the Council discussed three issues related to the 2004 specifications and management measures: Trawl vessel/permit buyback, Vessel monitoring system (VMS) program regulations for the fixed gear fleet, and California recreational fisheries overages in 2003. The Council asked that NMFS consider making revisions to its regulatory package for 2004 to address the buyback and VMS issues, but wished to reserve changes to the California recreational fisheries for its March and/or April 2004 Council meetings, when more recreational fisheries data would be available for Council review. Revisions to the trawl trip limits as a result of the vessel/permit buyback program fall within the scope of the EIS for this action. Therefore, NMFS is proposing to revise those trip limits to account for lower capacity in the fishery as part of this proposed rule and implementing the revisions within the associated emergency rule for January-February 2004. Revisions to the RCA regulations as they apply to limited entry fixed gear vessels required to carry VMS do not fall within the scope of the Draft EIS for this action. Thus, NMFS plans to work with Council staff to include analysis of the recommended regulatory revisions within the Final EIS for this action. NMFS will propose revisions to the RCA regulations in this proposed rule, and then implement them with the final rule for this action.

On February 20, 2003, Public Law 108-7 came into effect, Title II, Section 212 of which directed the Secretary of Commerce (Secretary) to implement a fishing capacity reduction program for the West Coast groundfish fishery. This Section 212 provided a series of steps for implementing the capacity reduction program (also known as the “trawl buyback” program). First, the Secretary (through NMFS) was to request that vessel owners submit bids for the surrender of their vessels and for their vessels' associated State and Federal permits. After receiving bids, NMFS was to conduct a referendum on repayment of the loan that would be needed to finance the buyback. During the latter half of October 2003, NMFS held the referendum for participants in the affected fishing fleets (groundfish trawl, pink shrimp trawl, Dungeness crab pot).

The referendum asked fleet participants to vote on whether they supported the buyback program and the ensuing taxes needed to repay the a $36 million loan. (The total program combines an industry loan of $36 million with $10 million in direct Federal appropriation). The referendum was successful and the owners of 92 groundfish trawl vessels whose bids were accepted must relinquish their California, Oregon, and Washington fishing licenses for coastal Dungeness crab and pink shrimp, surrender their Federal groundfish permits and all other Federal fishing licenses, fishery permits, area and species endorsements and any other fishery privileges issued to the vessels named in their bids. The vessel itself will be prohibited from ever fishing again. Vessels bought out by this program will have ceased fishing by December 4, 2003 (68 FR 62435, November 4, 2004).

NMFS announced the results of the buyback referendum on October 30, 2003, just before the start of the November Council meeting. At the Tuesday, November 4, 2003, Council meeting, several groundfish trawlers made comments that they would appreciate a NMFS review of 2004 trawl trip limits in light of the recently approved trawl buyback program. These trawl fishery participants believed that the vessel/permit buyback program would successfully reduce capacity in the fleet enough to warrant an increase in trawl trip limits.

After hearing the trawl industry's comments, the Council discussed whether it could offer NMFS some guidance in addressing this issue. Because the issue was not on the Council's agenda, the Council could only discuss the issue, not make formal recommendations to NMFS. Council members suggested that NMFS look only at increasing trip limits for DTS complex species. DTS complex species tend to aggregate for spawning in the winter and may be taken in the winter with lower bycatch of overfished species. Also, DTS are deepwater species and fishing for these species usually occurs offshore of the ranges of overfished continental shelf species.

Following the Council meeting, the NMFS NWFSC looked at the historic fishing effort of each of the vessels removed from the groundfish trawl fishery through the buyback program. NMFS then calculated the amount of each DTS species that would likely be taken by the remaining fleet operating under the trip limits initially recommended by the Council for 2004. Based on that calculation, NMFS expects that the now-reduced fleet will take notably less of each of the DTS species than if the buyback program had not occurred. NMFS calculated that the reduced-fleet harvest of DTS species as a percent of the whole (pre-buyback) fleet harvest under the same trip limits would be: Sablefish—44 percent, longspine thornyhead—51 percent, shortspine thornyhead—50 percent, Dover sole—49 percent. NMFS then calculated expected harvest by the reduced fleet if the agency were to implement DTS trip limits that were 50 percent higher than those recommended by the Council in September 2003. Under that scenario, the reduced fleet operating with increased trip limits is still expected to harvest less of each DTS complex species (sablefish—63 percent, longspine thornyhead—77 percent, shortspine thornyhead—74 percent, Dover sole—72 percent) than the whole fleet would have harvested with the initially recommended trip limits. NMFS further expects that the reduced fleet operating with increased DTS trip limits would still take smaller amounts of overfished species than the whole fleet would have taken with the initially recommended trip limits. For example, the reduced fleet operating with increased trip limits is expected to take 72 percent of the POP and 64 percent of the darkblotched rockfish that would have been taken by the pre-buyback fleet with the lower trip limits. POP and darkblotched rockfish are the two overfished continental slope species managed under the FMP.

Given the fleet capacity reduction that will result from the trawl buyback program, NMFS does not expect that increasing the DTS complex limits by 50 percent over what was recommended prior to the buyback for January-April 2004 would alter the effects of this action on the environment. Had the reduced fleet continued with the Council's initially proposed January-April trip limits for DTS species, NMFS could expect to raise trip limits for these species later in the year in order to achieve their OYs. A 50 percent increase over the initially proposed trip limits allows the vessels remaining in the fishery to participate at higher than expected levels, yet is still more conservative in expected total fleet harvest than the initial trip limits would have been for the pre-buyback fleet. At its April 2004 meeting, the Council will review inseason groundfish management and may recommend further altering trawl trip limits for the remainder of the year.

In addition to discussing trawl fleet capacity and trip limits for a post-buyback fleet, the Council discussed VMS regulations for limited entry vessels. On November 4, 2003 (68 FR 62374,) NMFS published a final rule for a West Coast VMS program. Beginning January 1, 2004, this rule will require all limited entry vessels to carry VMS units and to report to a declaration system that monitors allowable fishing activities within the RCAs. At the Council's September 2003 meeting, the Council's Enforcement Consultants (EC) asked the Council to restrict activities by non-trawl vessels in the non-trawl RCA. At this time, this regulation would apply to limited entry fixed gear (longline and trap) vessels, similar to the restrictions that apply to limited entry trawl vessel activities within the trawl RCA. The Council asked the Ad Hoc VMS Committee (VMSC) to discuss this issue at its October 7, 2003, meeting, and scheduled discussion on this item for the November 2003 Council meeting.

At its November 2003 meeting, the Council heard a report from the VMSC on the expansion of VMS program coverage to the open access commercial fleet and to charterboats participating in the recreational fisheries. For this agenda item, the EC commented on both current implementation and future expansion of the program. In their comments, the EC reiterated their concern that the VMS final rule does not prohibit fixed gear vessels from drifting within the RCAs. The EC commented that, in a new VMS program, it would be impossible for NMFS system operators to tell the difference between the VMS signatures of vessels that are drifting from those that are fishing or underway. The EC advised that allowing vessels to drift in the RCA would compromise the integrity of both the VMS program and the RCAs themselves.

The Council discussed the need for an adequate VMS system and the question of whether vessel safety would be compromised by prohibiting vessels from drifting within the RCAs. During their discussion, Council members reminded the public that the RCAs are a management tool intended to protect overfished species. Because RCAs prevent vessels from operating in waters where overfished species are commonly found, they reduce overall incidental take of overfished species. Without the RCA tool, trip limits would have to be notably lower than current levels to achieve the same protection from incidental harvest. To ensure that RCAs remain a useful management tool in the future, the Council recommended that NMFS revise its RCA regulations to prohibit fixed gear vessels from drifting within the RCAs. Therefore, NMFS is proposing that limited entry fixed gear vessels be prohibited from operating in a nontrawl RCA, except for purposes of continuous transit.

As mentioned earlier in this section, the draft EIS for this action did not analyze the effects of prohibiting fixed gear vessels from drifting within the RCAs. NMFS is working with Council staff to ensure that the final EIS addresses this new recommendation. The final EIS will not be available to the public until early 2004. Therefore, NMFS is proposing a drifting prohibition for limited entry fixed gear vessels within this Federal Register document, but is not implementing the provision within the associated emergency rule for January-February 2004. NMFS expects to implement this prohibition with the publication of the final rule on the 2004 specifications and management measures, which should be effective by March 1, 2004.

Finally, the Council's November 2003 discussion of inseason revisions to groundfish management measures focused largely on restricting fisheries through the end of the year in order to account for unexpectedly high catches in the California recreational fisheries. NMFS implemented the Council's regulatory recommendations from that discussion on November 21, 2003 (68 FR 66352, November 26, 2003). At its meeting, the Council discussed whether to recommend revisions to the California recreational fisheries management measures they had already recommended for 2004. After considering the 2003 fishing year data available to them at the November 2003 meeting, the Council decided to wait to make revisions to recreational fisheries management during their April 2004 meeting. At the November 2003 meeting, the only recreational data from an open fishing period off of California between the Oregon/California border and Point Conception, CA (34°27′ N. lat.) that was available was for a 2-month period, July and August. By April 2004, the Recreational Fisheries Information Network (RecFIN) database should include most or all of the recreational fisheries data from 2003, allowing the Council to make a more informed decision on how best to revise recreational fisheries management. Given that the California recreational fisheries are closed south of 34°27′ N. lat from January 1 through February 29, and closed between 40°10′ N. lat. and 34°27′ N. lat. from March 1 through April 30, waiting until April to make better informed regulatory revisions should still allow the Council, NMFS and California to make appropriate adjustments to keep harvests within the 2004 OYs.

Fishing Communities and Impacts

The Magnuson-Stevens Act requires that actions taken to implement FMPs be consistent with the 10 National Standards, one of which requires that conservation and management measures shall, consistent with the conservation requirements of the Act, “take into account the importance of fishery resources to fishing communities in order to (A) provide for the sustained participation of such communities and (B), to the extent practicable, minimize adverse economic impacts on such communities.” Commercial and recreational fisheries for Pacific coast groundfish contribute to the economies and shape the cultures of numerous fishing communities in Washington, Oregon, and California. Meeting the needs of fishing communities has become increasingly difficult because the Council manages an overcapitalized fleet that harvests a multi-species complex with several overfished species. In recommending this year's specifications and management measures, the Council accommodated some of the needs of those communities within the constraints of Magnuson-Stevens Act requirements to rebuild overfished stocks, prevent overfishing, and minimize bycatch. In general, the Council allows the largest harvest of healthy stocks possible, consistent with conservation needs of the fish stocks.

West Coast groundfish intermix by species, which means that interception and incidental mortality of overfished species is inevitable even if retention of a particular species is prohibited. As discussed earlier, the Council's primary goal for 2004 was to minimize opportunities for incidental take of overfished species while allowing as much fishing opportunity of more abundant stocks as possible. To achieve this, the fishing seasons and area closures are structured both to maximize target species catch while minimizing overfished species' incidental take and to allow minimal retention of overfished species where incidental take will inevitably occur. Larger area closures are intended to ensure that few vessels have opportunities to fish in waters where overfished species commonly occur.

For 2004, the Council continued the year-round fishery opportunity that is important to the fishing and processing sectors for maintaining continuous employment opportunities and maintaining consistent groundfish marketing opportunities. Depth closures and gear restrictions would modify the cumulative trip limit system to allow fishing for at least some groundfish species at all times during the year. Gear restrictions prohibit bottom trawling with roller gear in the nearshore area and on the continental shelf and allow only the use of midwater trawl on the continental shelf where most overfished species occur. Small footrope bottom trawling is permitted in the nearshore area. The concepts behind these trawl gear restrictions were first developed for the 2000 fishery by a group of industry participants who met with the GMT to develop measures that would achieve conservation goals while minimizing effects of the restrictions on the industry and coastal communities.

Allowable commercial catches of many groundfish remain low in 2004, but the Council has tried to structure the area closures to provide commercial fisheries with greater flexibility in their fishing patterns while not increasing the overall catches. For example, the offshore boundary of the trawl RCA is modified in January-February and in November-December to allow directed fishing for flatfish, particularly petrale sole, in areas where and times when flatfish are known to aggregate and to co-occur with fewer overfished stocks. Depth based closures are intended to allow fisheries access to more abundant stocks in the offshore and inshore open areas, thereby limiting the extent to which fishers and related firms would be driven out of business. Many commercial groundfish fishers have other fishing opportunities during the year, and these opportunities were taken into account. For example, vessels that participate in the groundfish fisheries also fish for Dungeness crab, salmon, albacore, shrimp, anchovies, and squid, and other species.

Nonetheless, the effects of these 2004 management measures on some fishers and communities will be severe, particularly for those without other opportunities. For the 2004 fishery, the Council proposed stringent harvest levels intended to protect and rebuild overfished and depleted stocks. In addition to constraining OYs for overfished stocks, the Council also severely restricted harvest on more abundant stocks associated with overfished stocks. These measures were needed to ensure that rebuilding of overfished and depleted stocks could occur. However, they will cause serious socio-economic repercussions as a result of low harvest levels and the consequent low landings limits.

Distribution of the economic effect of the 2004 management measures will depend on how well fishers can adapt to the restrictions. Some user groups, particularly those able to use midwater trawl gear, will have a greater opportunity to harvest than they would have had without gear restrictions, because proposed restrictions allow fishers to use gear with lower incidental catch of the depleted rockfish. Other fishers will not be able to maintain a viable operation at the reduced harvest levels. The Council prepared an EIS for this action, which includes a discussion of the economic and social effects of these management measures on coastal communities (see ADDRESSES).

Federal and State Jurisdiction

The management measures herein, as well as Federal regulations at 50 CFR part 660, Subpart G, govern groundfish fishing vessels of the United States in the U.S. EEZ from 3-200 nautical miles offshore off the coasts of Washington, Oregon, and California. The States of Washington, Oregon, and California retain jurisdiction in State waters from 0-3 miles offshore. This is true even though boundaries of some fishing areas cross between Federal and State waters. Under their own legal authorities, the States generally conform their State regulations to the Federal management measures, so the management measures that apply to Federal and State waters are the same. This is not true in every case, however, and fishers are advised to consult State as well as Federal regulations if they intend to fish in both State and Federal waters.

Groundfish stocks are distributed throughout Federal and State waters. Therefore, the Federal harvest limits (OYs) include fish taken in both Federal and State waters, as do vessel trip limits for individual groundfish species. Other Federal management measures related to federally-regulated groundfish fishing also apply to landings and other shoreside activities in Washington, Oregon, and California.

Trip Limit Tables and Management Measures

Cumulative trip limits are set into tables, with explanations in section IV. Tables for each fishing sector are separated into northern and southern area tables. The industry is cautioned not to rely on the tables alone. The text in Section IV. provides cumulative trip limit definitions and periods, size limit definitions and conversions, and other information that cannot be readily included in a table but must be understood in order to correctly use the tables. The sablefish allocations and nontrawl sablefish management, Pacific whiting allocations and seasons, and “per trip” limits for black rockfish off Washington State are presented in text in paragraphs IV.B. Trip limits for exempted trawl gear in the open access fishery (Table 5 and paragraph IV.C.), recreational management measures (paragraph IV.D.), and tribal allocations and management measures (paragraph V.) still remain in the text.

Cumulative trip limits are applied during the time periods and in the areas indicated in Tables 3-5 of Section IV. The cumulative trip limit may be taken at any time within the applicable cumulative trip limit period. All cumulative trip limit periods start at 0001 hours, local time, on the specified beginning date.

IV. NMFS Actions

For the reasons stated above, the Assistant Administrator for Fisheries, (AA), NMFS, concurs with the Council's recommendations and announces the following management actions for 2004, including measures that are unchanged from 2003 and new measures. In addition to the measures described herein, the States of Washington, Oregon, and California may have additional regulations that apply to vessels fishing in State waters or registered to any of those States.

A. General Definitions and Provisions

The following definitions and provisions apply to the 2004 management measures, unless otherwise specified in a subsequent Federal Register document:

(1) Trip limits. Trip limits are used in the commercial fishery to specify the maximum amount of a fish species or species group that may legally be taken and retained, possessed, or landed, per vessel, per fishing trip, or cumulatively per unit of time, or the number of landings that may be made from a vessel in a given period of time, as follows:

(a) A per trip limit is the total allowable amount of a groundfish species or species group, by weight, or by percentage of weight of legal fish on board, that may be taken and retained, possessed, or landed per vessel from a single fishing trip.

(b) A daily trip limit is the maximum amount of a groundfish species or species group that may be taken and retained, possessed, or landed per vessel in 24 consecutive hours, starting at 0001 hours local time (l.t.) Only one landing of groundfish may be made in that 24-hour period. Daily trip limits may not be accumulated during multiple day trips.

(c) A weekly trip limit is the maximum amount of a groundfish species or species group that may be taken and retained, possessed, or landed per vessel in 7 consecutive days, starting at 0001 hours l.t. on Sunday and ending at 2400 hours l.t. on Saturday. Weekly trip limits may not be accumulated during multiple week trips. If a calendar week includes days within two different months, a vessel is not entitled to two separate weekly limits during that week.

(d) A cumulative trip limit is the maximum amount of a groundfish species or species group that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month periods are: January 1-February 29, March 1-April 30, May 1-June 30, July 1-August 31, September 1-October 31, and, November 1-December 31.

(ii) One month means the first day through the last day of the calendar month.

(iii) One week means 7 consecutive days, Sunday through Saturday.

(e) As stated at 50 CFR 660.302 (in the definition of “landing”), once the offloading of any species begins, all fish aboard the vessel are counted as part of the landing and must be reported as such.

(f) The cumulative trip limits in Section IV.B. and C., including Tables 3-5 of this proposed rule, must not be exceeded.

(2) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. As stated at 50 CFR 660.302 (in the definition of “landing”), once the offloading of any species begins, all fish aboard the vessel are counted as part of the landing. Fishing ahead is not allowed during or before a closed period (see paragraph IV.A.(7)). See paragraph IV.A.(9) for information on inseason changes to limits.

(3) Weights. All weights are round weights or round-weight equivalents unless otherwise specified.

(4) Percentages. Percentages are based on round weights, and, unless otherwise specified, apply only to legal fish on board.

(5) Legal fish. “Legal fish” means fish legally taken and retained, possessed, or landed in accordance with the provisions of 50 CFR part 660, the Magnuson-Stevens Act, any document issued under part 660, and any other regulation promulgated or permit issued under the Magnuson-Stevens Act.

(6) Size limits, length measurement, and weight limits.

(a) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the state where the fish will be landed.

(i) Whole fish. For a whole fish, total length is measured from the tip of the snout (mouth closed) to the tip of the tail in a natural, relaxed position.

(ii) “Headed” fish. For a fish with the head removed (“headed”), the length is measured from the origin of the first dorsal fin (where the front dorsal fin meets the dorsal surface of the body closest to the head) to the tip of the upper lobe of the tail; the dorsal fin and tail must be left intact.

(iii) Filets. A filet is the flesh from one side of a fish extending from the head to the tail, which has been removed from the body (head, tail, and backbone) in a single continuous piece. Filet lengths may be subject to size limits for some groundfish taken in the recreational fishery off California (see paragraph IV. D.). A filet is measured along the length of the longest part of the filet in a relaxed position; stretching or otherwise manipulating the filet to increase its length is not permitted.

(b) Weight limits and conversions. The weight limit conversion factor established by the state where the fish is or will be landed will be used to convert the processed weight to round weight for purposes of applying the trip limit. Weight conversions provided herein are those conversions currently in use by the States of Washington, Oregon and California and may be subject to change by those states. Fishery participants should contact fishery enforcement officials in the state where the fish will be landed to determine that state's official conversion factor. To determine the round weight, multiply the processed weight times the conversion factor.

(c) Sablefish. The following conversion applies to both the limited entry and open access fisheries when trip limits are in effect for those fisheries. For headed and gutted (eviscerated) sablefish the weight conversion factor is 1.6 for headed and gutted sablefish.

(d) Lingcod. The following conversions apply in both limited entry and open access fisheries.

(i) For lingcod with the head removed, the minimum size limit is 19.5 inches (49.5 cm), which corresponds to 24 inches (61 cm) total length for whole fish.

(ii) The weight conversion factor for headed and gutted lingcod is 1.5. The conversion factor for lingcod that has only been gutted with the head on is 1.1.

(7) Closure. “Closure,” when referring to closure of a fishery, means that taking and retaining, possessing, or landing the particular species or species group is prohibited. (See 50 CFR 660.302.) Unless otherwise announced in the Federal Register, offloading must begin before the time the fishery closes. The provisions at paragraph IV.A.(2) for fishing ahead do not apply during a closed period. It is unlawful to transit through a closed area with any prohibited species on board, no matter where that species was caught, except as provided for in the CCA at IV.A.(17)(b).

(8) Fishery management area. As defined at 50 CFR 660.302, the fishery management area for these species is the EEZ off the coasts of Washington, Oregon, and California between 3 and 200 nm offshore, bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

(9) Routine management measures. Most trip, bag, and size limits, and area closures in the groundfish fishery have been designated “routine,” which means they may be changed rapidly after a single Council meeting (see 50 CFR 660.323(b)). Council meetings in 2004 will be held in the months of March, April, June, September, and November. Inseason changes to routine management measures are announced in the Federal Register. Information concerning changes to routine management measures is available from the NMFS Northwest Regional Office (see ADDRESSES). Changes to trip limits are effective at the times stated in the Federal Register. Once a change is effective, it is illegal to take and retain, possess, or land more fish than allowed under the new trip limit. This means that, unless otherwise announced in the Federal Register, offloading must begin before the time a fishery closes or a more restrictive trip limit takes effect.

(10) Limited entry limits. It is unlawful for any person to take and retain, possess, or land groundfish in excess of the landing limit for the open access fishery without having a valid limited entry permit for the vessel affixed with a gear endorsement for the gear used to catch the fish (50 CFR 660.306(p)).

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit may not be exceeded and counts toward the limited entry limit. If a vessel has a limited entry permit and uses open access gear, but the open access limit is larger than the limited entry limit, the smaller limited entry limit applies, even if taken entirely with open access gear.

(12) Operating in north-south management areas with different trip limits. NMFS uses different types of management areas for West Coast groundfish management. One type of management area is the north-south management area, a large ocean area with northern and southern boundary lines wherein trip limits, seasons, and conservation areas follow a single theme. For example, in the area between the U.S. border with Canada and the 40°10′ N. lat. line, trip limits and conservation areas are generally intended to protect darkblotched and yelloweye rockfish while providing harvesting opportunities for northern flatfish and deepwater species. Within each north-south management area, there may be one or more conservation areas, detailed at IV.A.(17) and at 50 CFR 660.304. The provisions within this paragraph IV.A.(12) apply to vessels operating in different north-south management areas. Trip limits for a species or a species group may differ in different north-south management areas along the coast. The following “crossover” provisions apply to vessels operating in different geographical areas that have different cumulative or “per trip” trip limits for the same species or species group. Such crossover provisions do not apply to species that are subject only to daily trip limits, or to the trip limits for black rockfish off Washington (see 50 CFR 660.323(a)(1)). In 2004, the cumulative trip limit periods for the limited entry and open access fisheries are specified in paragraph IV.A(1)(d), but may be changed during the year if announced in the Federal Register.

(a) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(b) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(c) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(d) Minor rockfish. Several rockfish species are designated with species-specific limits on one side of the 40°10 N. lat. management line, and are included as part of a minor rockfish complex on the other side of the line.

(i) If a vessel takes and retains minor slope rockfish north of 38° N. lat., that vessel is also permitted to take and retain, possess or land splitnose rockfish up to its cumulative limit south of 38° N. lat., even if splitnose rockfish were a part of the landings from minor slope rockfish taken and retained north of 38° N. lat. [Note: A vessel that takes and retains minor slope rockfish on both sides of the management line in a single cumulative limit period is subject to the more restrictive cumulative limit for minor slope rockfish during that period.]

(ii) If a vessel takes and retains minor slope rockfish south of 38° N. lat., that vessel is also permitted to take and retain, possess or land POP up to its cumulative limit north of 38° N. lat., even if POP were a part of the landings from minor slope rockfish taken and retained south of 38° N. lat. [Note: A vessel that takes and retains minor slope rockfish on both sides of the management line in a single cumulative limit period is subject to the more restrictive cumulative limit for minor slope rockfish during that period.]

(iii) If a trawl vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Yellowtail rockfish is included in overall shelf rockfish limits for limited entry fixed gear and open access gear groups. Widow rockfish is included in overall shelf rockfish limits for all gear groups. [Note: A vessel that takes and retains minor shelf rockfish on both sides of the management line in a single cumulative limit period is subject to the more restrictive cumulative limit for minor shelf rockfish during that period.]

(e) “DTS complex.” There are differential trawl trip limits for the “DTS complex” (Dover sole, shortspine thornyhead, longspine thornyhead, sablefish) north and south of the management line at 40°10′ N. lat. Vessels operating in the limited entry trawl fishery are subject to the crossover provisions in this paragraph IV.A.(12) when making landings that include any one of the four species in the “DTS complex.”

(f) Flatfish complex. There are differential trip limits for the flatfish complex (butter, curlfin, English, flathead, petrale, rex, rock, and sand soles, Pacific sanddab, and starry flounder) north and south of the management line at 40°10′ N. lat. Vessels operating in the limited entry trawl fishery are subject to the crossover provisions in this paragraph IV.A.(12) when making landings that include any one of the species in the flatfish complex.

(13) Sorting. It is unlawful for any person to “fail to sort, prior to the first weighing after offloading, those groundfish species or species groups for which there is a trip limit, size limit, quota, or commercial OY, if the vessel fished or landed in an area during a time when such trip limit, size limit, commercial OY, or quota applied.” The States of Washington, Oregon, and California may also require that vessels record their landings as sorted on their state fish tickets. This provision applies to both the limited entry and open access fisheries. (See 50 CFR 660.306(h).) The following species must be sorted in 2004:

(a) For vessels with a limited entry permit:

(i) Coastwide—widow rockfish, canary rockfish, darkblotched rockfish, yelloweye rockfish, shortbelly rockfish, black rockfish, minor nearshore rockfish, minor shelf rockfish, minor slope rockfish, shortspine and longspine thornyhead, Dover sole, arrowtooth flounder, rex sole, petrale sole, arrowtooth flounder, other flatfish, lingcod, sablefish, and Pacific whiting. [Note: Although black rockfish, yelloweye rockfish, and darkblotched rockfish are considered minor rockfish managed under the minor shelf and minor slope rockfish complexes, respectively, they have separate OYs and therefore must be sorted by species.]

(ii) North of 40°10′ N. lat.—POP, yellowtail rockfish, and, for fixed gear, blue rockfish;

(iii) South of 40°10′ N. lat.—minor shallow nearshore rockfish, minor deeper nearshore rockfish, California scorpionfish, chilipepper rockfish, bocaccio rockfish, splitnose rockfish, and Pacific sanddabs.

(b) For open access vessels (vessels without a limited entry permit):

(i) Coastwide—widow rockfish, canary rockfish, darkblotched rockfish, yelloweye rockfish, black rockfish, minor nearshore rockfish, minor shelf rockfish, minor slope rockfish, Dover sole, arrowtooth flounder, petrale sole, rex sole, other flatfish, lingcod, sablefish, Pacific whiting, and Pacific sanddabs;

(ii) North of 40°10′ N. lat.—blue rockfish, POP, yellowtail rockfish;

(iii) South of 40°10′ N. lat.—minor shallow nearshore rockfish, minor deeper nearshore rockfish, chilipepper rockfish, bocaccio rockfish, splitnose rockfish;

(iv) South of Point Conception, CA—thornyheads.

(14) Trawl Gear Restrictions. Limited entry trip limits may vary depending on the type of trawl gear that is on board a vessel during a fishing trip: Large footrope, small footrope, or midwater trawl gear.

(a) Types of trawl gear—Large footrope, small footrope, and midwater or pelagic trawl gears are defined at 50 CFR 660.302 and 660.322(b). Trawl vessels may include: Those vessels registered to a limited entry permit with a trawl endorsement; any vessel using trawl gear, including exempted trawl gear used to take pink shrimp, ridgeback prawns, California halibut, or sea cucumber; or any tribal vessel using trawl gear.

(b) Cumulative trip limits and prohibitions by limited entry trawl gear type—(i) Large footrope trawl. If Table 3 does not provide a large footrope trawl cumulative or trip limit for a particular species or species group, it is unlawful to take and retain, possess or land that species or species group if large footrope gear is on board. It is unlawful for any vessel using large footrope gear to exceed large footrope gear limits for any species or to use large footrope gear to exceed small footrope gear or midwater trawl gear limits for any species. It is unlawful for any vessel using large footrope gear or that has large footrope trawl gear on board to fish for groundfish shoreward of the RCAs defined at paragraph (17) of this section. The presence of rollers or bobbins larger than 8 inches (20 cm) in diameter on board the vessel, even if not attached to a trawl, will be considered to mean a large footrope trawl is on board.

(ii) Small footrope or midwater trawl gear. Cumulative trip limits for canary rockfish, widow rockfish (South of 40°10′ N. lat.,) yellowtail rockfish (North of 40°10′ N. lat.,) minor shelf rockfish (North of 40°10′ N. lat.,) minor nearshore rockfish, and lingcod, as indicated in Table 3 to section IV., are allowed only if small footrope gear or midwater trawl gear is used, and if that gear meets the specifications in paragraph IV.A.(14) and at 50 CFR 660.322. For Dover sole, longspine thornyhead, shortspine thornyhead, flatfish complex species including petrale sole, rex sole, or arrowtooth flounder there are or may be cumulative trip limits that are more restrictive for vessels using small footrope gear than for large footrope gear or midwater gear. These more restrictive limits recognize that small footrope gear may be used inshore of the RCAs and are intended to limit trawl effort in the nearshore area. Where limits are more restrictive for small footrope gear, those limits apply to and constrain any vessel using small footrope gear at any time during the cumulative limit period to which the landings limits apply.

(iii) Midwater trawl gear. North of 40°10′ N. lat., higher yellowtail and widow rockfish cumulative trip limits are available for limited entry vessels using midwater trawl gear in November-December. For the first part of the year, yellowtail and widow rockfish are only available to trawl vessels using midwater trawl gear when those vessels are fishing for Pacific whiting during the primary whiting season. Each landing that contains yellowtail or widow rockfish is attributed to the gear on board with the most restrictive trip limit for those species. Landings attributed to small footrope trawl must not exceed the small footrope limit, and landings attributed to midwater trawl must not exceed the midwater trawl limit. If a vessel has landings attributed to both types of trawls during a cumulative trip limit period, all landings are counted toward the most restrictive gear-specific cumulative limit.

(iv) More than one type of trawl gear on board. The cumulative trip limits in Table 3 must not be exceeded. A vessel may have more than one type of limited entry bottom trawl gear on board, but the most restrictive trip limit associated with the gear on board applies for that trip and will count toward the cumulative trip limit for that gear. [Example: If a vessel has large footrope gear on board, it cannot land yellowtail rockfish, even if the yellowtail rockfish is caught with a small footrope trawl.] A vessel that is trawling within a GCA with trawl gear authorized for use within a GCA may not have any other type of trawl gear on board.

(c) State landing receipts. Washington, Oregon, and California will require the type of trawl gear on board to be recorded on the state landing receipt(s) for each trip or on an attachment to the state landing receipt.

(d) Gear inspection. All trawl gear and trawl gear components, including unattached rollers or bobbins, must be readily accessible and made available for inspection at the request of an authorized officer. No trawl gear may be removed from the vessel prior to offloading. All footropes shall be uncovered and clearly visible except when in use for fishing.

(15) Permit transfers. Limited entry permit transfers are to take effect no earlier than the first day of a major cumulative limit period following the day NMFS receives the transfer form and original permit (50 CFR 660.335(e)(3)). Those days in 2004 are January 1, March 1, May 1, July 1, September 1, and November 1.

(16) Exempted fisheries. U.S. vessels operating under an exempted fishing permit (EFP) issued under 50 CFR part 600 are also subject to these restrictions, unless otherwise provided in the permit. EFPs may include the collecting of scientific samples of groundfish species that would otherwise be prohibited for retention.

(17) Groundfish Conservation Areas. Groundfish conservation area (GCA) means a geographic area defined by coordinates expressed in degrees latitude and longitude, created and enforced for the purpose of contributing to the rebuilding of overfished West Coast groundfish species. The Yelloweye Rockfish Conservation Area (YRCA), the Cowcod Conservation Areas (CCAs), and the depth-based Rockfish Conservation Areas (RCAs) are all Groundfish Conservation Areas.

(a) Yelloweye Rockfish Conservation Area. The YRCA is a C-shaped area off the northern Washington coast intended to protect yelloweye rockfish. The specific latitude and longitude coordinates of the YRCA are defined at § 660.304(d). Recreational fishing for groundfish is prohibited within the YRCA. It is unlawful for recreational fishing vessels to take, retain, possess, or land groundfish within the YRCA.

(b) Cowcod Conservation Areas. The CCAs are two areas off the southern California coast intended to protect cowcod. The specific latitude and longitude coordinates of the Cowcod Conservation Areas (CCAs) are defined at § 660.304(c). Recreational and commercial fishing for groundfish is prohibited within the CCAs, except that recreational and commercial fishing for rockfish and lingcod is permitted in waters shoreward of the 20-fm (37-m) depth contour. It is unlawful to take and retain, possess, or land groundfish within the CCAs, except for rockfish and lingcod taken in waters shoreward of the 20-fm (37-m) depth contour, when those waters are open to fishing. Commercial fishing vessels may transit through the Western CCA with their gear stowed and groundfish on board only in a corridor through the Western CCA bounded on the north by the latitude line at 33°00′30″ N. lat., and bounded on the south by the latitude line at 32°59′30″ N. lat.

(c) Trawl (Limited Entry and Open Access Exempted Trawl Gears) Rockfish Conservation Area.

(i) Trawl RCAs are intended to protect a complex of species, such as overfished shelf rockfish species, and have boundaries defined by specific latitude and longitude coordinates intended to approximate particular depth contours, such as 75 fm (137 m), 150 fm (274 m), and 200 fm (366 m). The trawl RCA is closed coastwide to limited entry groundfish trawl fishing, except for mid-water trawl vessels participating in the primary whiting season. The trawl RCA is also closed coastwide to open access exempted trawl fishing, except for pink shrimp trawling. Fishing with any trawl gear is prohibited within the trawl RCA coastwide, unless that vessel is participating in the primary whiting season with mid-water trawl gear, trawling with midwater gear for yellowtail or widow rockfish when that is permitted, or trawling for pink shrimp. Coastwide, it is unlawful to take and retain, possess, or land any species of fish taken with trawl gear within the trawl RCA, except as permitted for vessels participating in the primary whiting season with mid-water trawl gear or for vessels participating in the pink shrimp trawl fishery. Throughout the year, boundaries for the trawl RCA are provided in Table 3 of Section IV.B. and in Table 5 of Section IV.C. and may be modified by NMFS inseason. Trawl RCA boundaries are defined by specific latitude and longitude coordinates and are provided below at paragraph (e) of this section.

(ii) Trawl vessels may transit through the trawl RCA, with or without groundfish on board, provided all groundfish trawl gear is stowed either: (1) Below deck; or (2) if the gear cannot readily be moved, in a secured and covered manner, detached from all towing lines, so that it is rendered unusable for fishing; or (3) remaining on deck uncovered if the trawl doors are hung from their stanchions and the net is disconnected from the doors. These restrictions do not apply to vessels fishing with mid-water trawl gear for Pacific whiting or taking and retaining yellowtail rockfish or widow rockfish in association with Pacific whiting caught with mid-water trawl gear or to taking and retaining yellowtail or widow rockfish with mid-water trawl gear when trip limits are authorized for those species (November-December 2004.)

(iii) If a vessel fishes in the trawl RCA, it may not participate in any fishing on that trip that is prohibited by the restrictions that apply within the trawl RCA. For example, if a vessel participates in the pink shrimp fishery within the RCA, the vessel cannot on the same trip participate in the DTS fishery outside of the RCA. Nothing in these Federal regulations supercede any state regulations that may prohibit trawling shoreward of the 3-nm state waters boundary line.

(d) Non-Trawl (Limited Entry Fixed Gear and Open Access Non-trawl Gears) Rockfish Conservation Area.

(i) Non-trawl RCAs are intended to protect a complex of species, such as overfished shelf rockfish species, and have boundaries defined by specific latitude and longitude coordinates intended to approximate particular depth contours, such as 27 fm (49 m), 100 fm (183 m), and 150 fm (274 m). The non-trawl RCA is closed to non-trawl gear (limited entry or open access longline and pot or trap, open access hook-and-line, pot or trap, gillnet, set net, trammel net and spear) fishing for groundfish. Fishing for groundfish with non-trawl gear is prohibited within the non-trawl RCA. It is unlawful to take and retain, possess, or land groundfish taken with non-trawl gear within the non-trawl RCA. Limited entry fixed gear and open access non-trawl gear vessels may transit through the non-trawl RCA, with or without groundfish on board. These restrictions do not apply to vessels fishing for species other than groundfish with non-trawl gear. If a vessel fishes in the non-trawl RCA, it may not participate in any fishing on that trip that is prohibited by the restrictions that apply within the non-trawl RCA. For example, if a vessel participates in the salmon troll fishery within the RCA, the vessel cannot on the same trip participate in the sablefish fishery outside of the RCA. Throughout the year, boundaries for the non-trawl RCA are provided in Table 4 of Section IV.B. and in Table 5 of Section IV.C. and may be modified by NMFS inseason. Non-trawl RCA boundaries are defined by specific latitude and longitude coordinates and are provided below at paragraph (e) of this section.

(e) Recreational Rockfish Conservation Area.

(i) Recreational RCAs are closed areas intended to protect overfished rockfish species. Recreational RCAs may either have (1) boundaries defined by general depth contours or (2) boundaries defined by specific latitude and longitude coordinates intended to approximate particular depth contours. The recreational RCA is closed to recreational fishing for groundfish. Fishing for groundfish with recreational gear is prohibited within the recreational RCA. It is unlawful to take and retain, possess, or land groundfish taken with recreational gear within the recreational RCA. These restrictions do not apply to recreational vessels fishing for species other than groundfish with recreational gear. If a vessel fishes in the recreational RCA, it may not participate in any fishing on that trip that is prohibited by the restrictions that apply within the recreational RCA. For example, if a vessel participates in the recreational salmon fishery within the RCA, the vessel cannot on the same trip participate in the recreational groundfish fishery shoreward of the RCA. Throughout the year, boundaries for the recreational RCAs are provided in the text in section IV.D. under each state (Washington, Oregon and California) and may be modified by NMFS inseason. Recreational RCA boundaries that are defined by specific latitude and longitude coordinates are provided below at paragraph (f) of this section.

(f) RCA Boundary Coordinates. Specific latitude and longitude coordinates for RCA boundaries that approximate the depth contours selected for both trawl, non-trawl, and recreational RCAs are provided here. Also provided here are references to islands and rocks that serve as reference points for the RCAs.

(i) The 27 fm (49 m) depth contour used between 46°16′ N. lat. and 40°10′ N. lat. is defined by straight lines connecting all of the following points in the order stated:

(1) 46°16.00′ N. lat., 124°12.39′ W. long.;

(2) 46°14.85′ N. lat., 124°12.39′ W. long.;

(3) 46°03.95′ N. lat., 124°03.64′ W. long.;

(4) 45°43.14′ N. lat., 124°00.17′ W. long.;

(5) 45°23.33′ N. lat., 124°01.99′ W. long.;

(6) 45°09.54′ N. lat., 124°01.65′ W. long.;

(7) 44°39.99′ N. lat., 124°08.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°06.89′ N. lat., 124°29.65′ W. long.;

(14) 43°01.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°04.86′ N. lat., 124°21.94′ W. long.;

(24) 42°00.10′ N. lat., 124°20.99′ W. long.;

(25) 42°00.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°04.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.

(ii) The 30 fm (55 m) depth contour between 46°16′ N. lat. and the U.S. border with Mexico is defined by straight lines connecting all of the following points in the order stated:

(1) 46°16.00′ N. lat., 124°13.05′ W. long.;

(2) 46°07.00′ N. lat., 124°07.01′ W. long.;

(3) 45°55.95′ N. lat., 124°02.23′ W. long.;

(4) 45°54.53′ N. lat., 124°02.57′ W. long.;

(5) 45°50.65′ N. lat., 124°01.62′ W. long.;

(6) 45°48.20′ N. lat., 124°02.16′ W. long.;

(7) 45°43.47′ N. lat., 124°01.28′ W. long.;

(8) 45°40.48′ N. lat., 124°01.03′ W. long.;

(9) 45°39.04′ N. lat., 124°01.68′ W. long.;

(10) 45°35.48′ N. lat., 124°01.89′ W. long.;

(11) 45°29.81′ N. lat., 124°02.45′ W. long.;

(12) 45°27.96′ N. lat., 124°01.89′ W. long.;

(13) 45°27.22′ N. lat., 124°02.67′ W. long.;

(14) 45°24.20′ N. lat., 124°02.94′ W. long.;

(15) 45°20.60′ N. lat., 124°01.74′ W. long.;

(16) 45°16.44′ N. lat., 124°03.22′ W. long.;

(17) 45°13.63′ N. lat., 124°02.70′ W. long.;

(18) 45°11.04′ N. lat., 124°03.59′ W. long.;

(19) 45°08.55′ N. lat., 124°03.47′ W. long.;

(20) 45°02.82′ N. lat., 124°04.64′ W. long.;

(21) 44°58.06′ N. lat., 124°05.03′ W. long.;

(22) 44°53.97′ N. lat., 124°06.92′ W. long.;

(23) 44°48.89′ N. lat., 124°07.04′ W. long.;

(24) 44°46.94′ N. lat., 124°08.25′ W. long.;

(25) 44°42.72′ N. lat., 124°08.98′ W. long.;

(26) 44°38.16′ N. lat., 124°11.48′ W. long.;

(27) 44°33.38′ N. lat., 124°11.54′ W. long.;

(28) 44°28.51′ N. lat., 124°12.03′ W. long.;

(29) 44°27.65′ N. lat., 124°12.56′ W. long.;

(30) 44°19.67′ N. lat., 124°12.37′ W. long.;

(31) 44°10.79′ N. lat., 124°12.22′ W. long.;

(32) 44°09.22′ N. lat., 124°12.28′ W. long.;

(33) 44°00.22′ N. lat., 124°12.80′ W. long.;

(34) 43°51.56′ N. lat., 124°13.17′ W. long.;

(35) 43°44.26′ N. lat., 124°14.50′ W. long.;

(36) 43°33.82′ N. lat., 124°16.28′ W. long.;

(37) 43°28.66′ N. lat., 124°18.72′ W. long.;

(38) 43°23.12′ N. lat., 124°24.04′ W. long.;

(39) 43°20.49′ N. lat., 124°25.90′ W. long.;

(40) 43°16.41′ N. lat., 124°27.52′ W. long.;

(41) 43°14.23′ N. lat., 124°29.28′ W. long.;

(42) 43°14.03′ N. lat., 124°28.31′ W. long.;

(43) 43°11.92′ N. lat., 124°28.26′ W. long.;

(44) 43°11.02′ N. lat., 124°29.11′ W. long.;

(45) 43°10.13′ N. lat., 124°29.15′ W. long.;

(46) 43°09.27′ N. lat., 124°31.03′ W. long.;

(47) 43°07.73′ N. lat., 124°30.92′ W. long.;

(48) 43°05.93′ N. lat., 124°29.64′ W. long.;

(49) 43°01.59′ N. lat., 124°30.64′ W. long.;

(50) 42°59.73′ N. lat., 124°31.16′ W. long.;

(51) 42°53.75′ N. lat., 124°36.09′ W. long.;

(52) 42°49.37′ N. lat., 124°38.81′ W. long.;

(53) 42°46.42′ N. lat., 124°37.69′ W. long.;

(54) 42°46.07′ N. lat., 124°38.56′ W. long.;

(55) 42°45.29′ N. lat., 124°37.95′ W. long.;

(56) 42°45.61′ N. lat., 124°36.87′ W. long.;

(57) 42°44.28′ N. lat., 124°33.64′ W. long.;

(58) 42°42.75′ N. lat., 124°31.84′ W. long.;

(59) 42°40.04′ N. lat., 124°29.19′ W. long.;

(60) 42°38.09′ N. lat., 124°28.39′ W. long.;

(61) 42°36.72′ N. lat., 124°27.54′ W. long.;

(62) 42°36.56′ N. lat., 124°28.40′ W. long.;

(63) 42°35.76′ N. lat., 124°28.79′ W. long.;

(64) 42°34.03′ N. lat., 124°29.98′ W. long.;

(65) 42°34.19′ N. lat., 124°30.58′ W. long.;

(66) 42°31.27′ N. lat., 124°32.24′ W. long.;

(67) 42°27.07′ N. lat., 124°32.53′ W. long.;

(68) 42°24.21′ N. lat., 124°31.23′ W. long.;

(69) 42°20.47′ N. lat., 124°28.87′ W. long.;

(70) 42°14.60′ N. lat., 124°26.80′ W. long.;

(71) 42°10.90′ N. lat., 124°24.57′ W. long.;

(72) 42°07.04′ N. lat., 124°23.35′ W. long.;

(73) 42°02.16′ N. lat., 124°22.59′ W. long.;

(74) 42°00.00′ N. lat., 124°21.81′ W. long.;

(75) 41°59.95′ N. lat., 124°21.56′ W. long.;

(76) 41°55.75′ N. lat., 124°20.72′ W. long.;

(77) 41°50.93′ N. lat., 124°23.76′ W. long.;

(78) 41°42.53′ N. lat., 124°16.47′ W. long.;

(79) 41°37.02′ N. lat., 124°17.05′ W. long.;

(80) 41°24.58′ N. lat., 124°10.51′ W. long.;

(81) 41°20.73′ N. lat., 124°11.73′ W. long.;

(82) 41°17.59′ N. lat., 124°10.66′ W. long.;

(83) 41°04.54′ N. lat., 124°14.47′ W. long.;

(84) 40°54.26′ N. lat., 124°13.09′ W. long.;

(85) 40°40.31′ N. lat., 124°26.24′ W. long.;

(86) 40°34.00′ N. lat., 124°27.39′ W. long.;

(87) 40°28.89′ N. lat., 124°32.43′ W. long.;

(88) 40°24.77′ N. lat., 124°29.51′ W. long.;

(89) 40°22.47′ N. lat., 124°24.12′ W. long.;

(90) 40°19.73′ N. lat., 124°23.59′ W. long.;

(91) 40°18.64′ N. lat., 124°21.89′ W. long.;

(92) 40°17.67′ N. lat., 124°23.07′ W. long.;

(93) 40°15.58′ N. lat., 124°23.61′ W. long.;

(94) 40°13.42′ N. lat., 124°22.94′ W. long.;

(95) 40°10.00′ N. lat., 124°16.65′ W. long.;

(96) 40°09.46′ N. lat., 124°15.28′ W. long.;

(97) 40°08.89′ N. lat., 124°15.24′ W. long.;

(98) 40°06.04′ N. lat., 124°10.97′ W. long.;

(99) 40°06.08′ N. lat., 124°09.34′ W. long.;

(100) 40°06.64′ N. lat., 124°08.00′ W. long.;

(101) 40°05.08′ N. lat., 124°07.57′ W. long.;

(102) 40°04.29′ N. lat., 124°08.12′ W. long.;

(103) 40°00.61′ N. lat., 124°07.35′ W. long.;

(104) 39°58.06′ N. lat., 124°05.51′ W. long.;

(105) 39°54.89′ N. lat., 124°04.67′ W. long.;

(106) 39°53.01′ N. lat., 124°02.33′ W. long.;

(107) 39°53.02′ N. lat., 123°58.18′ W. long.;

(108) 39°48.45′ N. lat., 123°53.21′ W. long.;

(109) 39°43.89′ N. lat., 123°51.75′ W. long.;

(110) 39°39.06′ N. lat., 123°49.14′ W. long.;

(111) 39°34.43′ N. lat., 123°48.48′ W. long.;

(112) 39°30.63′ N. lat., 123°49.71′ W. long.;

(113) 39°21.25′ N. lat., 123°50.54′ W. long.;

(114) 39°08.87′ N. lat., 123°46.24′ W. long.;

(115) 39°03.79′ N. lat., 123°43.91′ W. long.;

(116) 38°59.65′ N. lat., 123°45.94′ W. long.;

(117) 38°56.08′ N. lat., 123°46.48′ W. long.;

(118) 38°51.16′ N. lat., 123°41.48′ W. long.;

(119) 38°45.77′ N. lat., 123°35.14′ W. long.;

(120) 38°42.21′ N. lat., 123°28.17′ W. long.;

(121) 38°34.05′ N. lat., 123°20.96′ W. long.;

(122) 38°22.47′ N. lat., 123°07.48′ W. long.;

(123) 38°16.52′ N. lat., 123°05.62′ W. long.;

(124) 38°14.42′ N. lat., 123°01.91′ W. long.;

(125) 38°08.24′ N. lat., 122°59.79′ W. long.;

(126) 38°02.69′ N. lat., 123°01.96′ W. long.;

(127) 37°59.73′ N. lat., 123°04.75′ W. long.;

(128) 37°58.41′ N. lat., 123°02.93′ W. long.;

(129) 37°58.25′ N. lat., 122°56.49′ W. long.;

(130) 37°50.03′ N. lat., 122°52.23′ W. long.;

(131) 37°43.36′ N. lat., 123°04.18′ W. long.;

(132) 37°40.77′ N. lat., 123°01.62′ W. long.;

(133) 37°40.13′ N. lat., 122°57.03′ W. long.;

(134) 37°42.59′ N. lat., 122°53.64′ W. long.;

(135) 37°29.62′ N. lat., 122°36.00′ W. long.;

(136) 37°22.38′ N. lat., 122°31.66′ W. long.;

(137) 37°13.86′ N. lat., 122°28.27′ W. long.;

(138) 37°08.01′ N. lat., 122°24.75′ W. long.;

(139) 37°05.84′ N. lat., 122°22.47′ W. long.;

(140) 36°58.77′ N. lat., 122°13.03′ W. long.;

(141) 36°53.74′ N. lat., 122°03.39′ W. long.;

(142) 36°52.71′ N. lat., 122°00.14′ W. long.;

(143) 36°52.51′ N. lat., 121°56.77′ W. long.;

(144) 36°49.44′ N. lat., 121°49.63′ W. long.;

(145) 36°48.01′ N. lat., 121°49.92′ W. long.;

(146) 36°48.25′ N. lat., 121°47.66′ W. long.;

(147) 36°46.26′ N. lat., 121°51.27′ W. long.;

(148) 36°39.14′ N. lat., 121°52.05′ W. long.;

(149) 36°38.00′ N. lat., 121°53.57′ W. long.;

(150) 36°39.14′ N. lat., 121°55.45′ W. long.;

(151) 36°38.05′ N. lat., 121°57.09′ W. long.;

(152) 36°36.75′ N. lat., 121°59.44′ W. long.;

(153) 36°34.97′ N. lat., 121°59.37′ W. long.;

(154) 36°33.07′ N. lat., 121°58.32′ W. long.;

(155) 36°33.27′ N. lat., 121°57.07′ W. long.;

(156) 36°32.68′ N. lat., 121°57.03′ W. long.;

(157) 36°32.04′ N. lat., 121°55.98′ W. long.;

(158) 36°31.61′ N. lat., 121°55.72′ W. long.;

(159) 36°31.59′ N. lat., 121°57.12′ W. long.;

(160) 36°31.52′ N. lat., 121°57.57′ W. long.;

(161) 36°30.88′ N. lat., 121°57.09′ W. long.;

(162) 36°30.25′ N. lat., 121°57.37′ W. long.;

(163) 36°29.47′ N. lat., 121°57.55′ W. long.;

(164) 36°26.72′ N. lat., 121°56.04′ W. long.;

(165) 36°24.33′ N. lat., 121°56.00′ W. long.;

(166) 36°23.36′ N. lat., 121°55.45′ W. long.;

(167) 36°18.86′ N. lat., 121°56.15′ W. long.;

(168) 36°16.21′ N. lat., 121°54.81′ W. long.;

(169) 36°15.03′ N. lat., 121°53.79′ W. long.;

(170) 36°12.04′ N. lat., 121°45.38′ W. long.;

(171) 36°11.87′ N. lat., 121°44.45′ W. long.;

(172) 36°12.13′ N. lat., 121°44.25′ W. long.;

(173) 36°11.89′ N. lat., 121°43.65′ W. long.;

(174) 36°10.56′ N. lat., 121°42.62′ W. long.;

(175) 36°09.09′ N. lat., 121°41.57′ W. long.;

(176) 36°08.14′ N. lat., 121°40.44′ W. long.;

(177) 36°06.69′ N. lat., 121°38.79′ W. long.;

(178) 36°05.85′ N. lat., 121°38.47′ W. long.;

(179) 36°03.08′ N. lat., 121°36.25′ W. long.;

(180) 36°02.92′ N. lat., 121°35.89′ W. long.;

(181) 36°01.53′ N. lat., 121°36.13′ W. long.;

(182) 36°00.59′ N. lat., 121°35.04′ W. long.;

(183) 35°59.93′ N. lat., 121°33.81′ W. long.;

(184) 35°59.69′ N. lat., 121°31.84′ W. long.;

(185) 35°58.59′ N. lat., 121°30.03′ W. long.;

(186) 35°54.02′ N. lat., 121°29.71′ W. long.;

(187) 35°51.54′ N. lat., 121°27.67′ W. long.;

(188) 35°50.42′ N. lat., 121°25.79′ W. long.;

(189) 35°48.37′ N. lat., 121°24.29′ W. long.;

(190) 35°47.02′ N. lat., 121°22.46′ W. long.;

(191) 35°42.28′ N. lat., 121°21.02′ W. long.;

(192) 35°41.57′ N. lat., 121°21.82′ W. long.;

(193) 35°39.24′ N. lat., 121°18.84′ W. long.;

(194) 35°35.14′ N. lat., 121°10.45′ W. long.;

(195) 35°30.11′ N. lat., 121°05.59′ W. long.;

(196) 35°25.86′ N. lat., 121°00.07′ W. long.;

(197) 35°22.82′ N. lat., 120°54.68′ W. long.;

(198) 35°17.96′ N. lat., 120°55.54′ W. long.;

(199) 35°14.83′ N. lat., 120°55.42′ W. long.;

(200) 35°08.87′ N. lat., 120°50.22′ W. long.;

(201) 35°05.55′ N. lat., 120°44.89′ W. long.;

(202) 35°02.91′ N. lat., 120°43.94′ W. long.;

(203) 34°53.08′ N. lat., 120°43.94′ W. long.;

(204) 34°34.89′ N. lat., 120°41.92′ W. long.;

(205) 34°32.48′ N. lat., 120°40.05′ W. long.;

(206) 34°30.12′ N. lat., 120°32.81′ W. long.;

(207) 34°27.00′ N. lat., 120°30.46′ W. long.;

(208) 34°27.00′ N. lat., 120°30.31′ W. long.;

(209) 34°25.84′ N. lat., 120°27.04′ W. long.;

(210) 34°25.16′ N. lat., 120°20.18′ W. long.;

(211) 34°25.88′ N. lat., 120°18.24′ W. long.;

(212) 34°27.26′ N. lat., 120°12.47′ W. long.;

(213) 34°26.27′ N. lat., 120°02.22′ W. long.;

(214) 34°23.41′ N. lat., 119°53.04′ W. long.;

(215) 34°23.33′ N. lat., 119°48.74′ W. long.;

(216) 34°22.31′ N. lat., 119°41.36′ W. long.;

(217) 34°21.72′ N. lat., 119°40.14′ W. long.;

(218) 34°21.25′ N. lat., 119°41.18′ W. long.;

(219) 34°20.25′ N. lat., 119°39.03′ W. long.;

(220) 34°19.87′ N. lat., 119°33.65′ W. long.;

(221) 34°18.67′ N. lat., 119°30.16′ W. long.;

(222) 34°16.95′ N. lat., 119°27.09′ W. long.;

(223) 34°13.02′ N. lat., 119°26.99′ W. long.;

(224) 34°08.62′ N. lat., 119°20.89′ W. long.;

(225) 34°06.95′ N. lat., 119°17.68′ W. long.;

(226) 34°05.93′ N. lat., 119°15.17′ W. long.;

(227) 34°08.42′ N. lat., 119°13.11′ W. long.;

(228) 34°05.23′ N. lat., 119°13.34′ W. long.;

(229) 34°04.98′ N. lat., 119°11.39′ W. long.;

(230) 34°04.55′ N. lat., 119°11.09′ W. long.;

(231) 34°04.15′ N. lat., 119°09.35′ W. long.;

(232) 34°04.89′ N. lat., 119°07.86′ W. long.;

(233) 34°04.08′ N. lat., 119°07.33′ W. long.;

(234) 34°04.01′ N. lat., 119°06.89′ W. long.;

(235) 34°05.08′ N. lat., 119°07.02′ W. long.;

(236) 34°05.27′ N. lat., 119°04.95′ W. long.;

(237) 34°04.51′ N. lat., 119°04.07′ W. long.;

(238) 34°02.26′ N. lat., 118°59.88′ W. long.;

(239) 34°01.08′ N. lat., 118°59.77′ W. long.;

(240) 34°00.94′ N. lat., 118°51.65′ W. long.;

(241) 33°59.77′ N. lat., 118°49.26′ W. long.;

(242) 34°00.04′ N. lat., 118°48.92′ W. long.;

(243) 33°59.65′ N. lat., 118°48.43′ W. long.;

(244) 33°59.46′ N. lat., 118°47.25′ W. long.;

(245) 33°59.08′ N. lat., 118°45.89′ W. long.;

(246) 34°00.21′ N. lat., 118°37.64′ W. long.;

(247) 33°59.26′ N. lat., 118°34.58′ W. long.;

(248) 33°58.07′ N. lat., 118°33.36′ W. long.;

(249) 33°53.76′ N. lat., 118°30.14′ W. long.;

(250) 33°51.00′ N. lat., 118°25.19′ W. long.;

(251) 33°50.07′ N. lat., 118°24.07′ W. long.;

(252) 33°50.16′ N. lat., 118°23.77′ W. long.;

(253) 33°48.08′ N. lat., 118°25.31′ W. long.;

(254) 33°47.07′ N. lat., 118°27.07′ W. long.;

(255) 33°46.12′ N. lat., 118°26.87′ W. long.;

(256) 33°44.15′ N. lat., 118°25.15′ W. long.;

(257) 33°43.54′ N. lat., 118°23.02′ W. long.;

(258) 33°41.35′ N. lat., 118°18.86′ W. long.;

(259) 33°39.96′ N. lat., 118°17.37′ W. long.;

(260) 33°40.12′ N. lat., 118°16.33′ W. long.;

(261) 33°39.28′ N. lat., 118°16.21′ W. long.;

(262) 33°38.04′ N. lat., 118°14.86′ W. long.;

(263) 33°36.57′ N. lat., 118°14.67′ W. long.;

(264) 33°34.93′ N. lat., 118°10.94′ W. long.;

(265) 33°35.14′ N. lat., 118°08.61′ W. long.;

(266) 33°35.69′ N. lat., 118°07.68′ W. long.;

(267) 33°36.21′ N. lat., 118°07.53′ W. long.;

(268) 33°36.43′ N. lat., 118°06.73′ W. long.;

(269) 33°36.05′ N. lat., 118°06.15′ W. long.;

(270) 33°36.32′ N. lat., 118°03.91′ W. long.;

(271) 33°35.69′ N. lat., 118°03.64′ W. long.;

(272) 33°34.62′ N. lat., 118°00.04′ W. long.;

(273) 33°34.08′ N. lat., 117°57.73′ W. long.;

(274) 33°35.57′ N. lat., 117°56.62′ W. long.;

(275) 33°35.46′ N. lat., 117°55.99′ W. long.;

(276) 33°35.98′ N. lat., 117°55.99′ W. long.;

(277) 33°35.46′ N. lat., 117°55.38′ W. long.;

(278) 33°35.21′ N. lat., 117°53.46′ W. long.;

(279) 33°33.61′ N. lat., 117°50.45′ W. long.;

(280) 33°31.41′ N. lat., 117°47.28′ W. long.;

(281) 33°27.54′ N. lat., 117°44.36′ W. long.;

(282) 33°26.63′ N. lat., 117°43.17′ W. long.;

(283) 33°25.21′ N. lat., 117°40.09′ W. long.;

(284) 33°20.33′ N. lat., 117°35.99′ W. long.;

(285) 33°16.35′ N. lat., 117°31.51′ W. long.;

(286) 33°11.53′ N. lat., 117°26.81′ W. long.;

(287) 33°07.59′ N. lat., 117°21.13′ W. long.;

(288) 33°02.21′ N. lat., 117°19.05′ W. long.;

(289) 32°56.55′ N. lat., 117°17.07′ W. long.;

(290) 32°54.61′ N. lat., 117°16.06′ W. long.;

(291) 32°52.32′ N. lat., 117°15.97′ W. long.;

(292) 32°51.48′ N. lat., 117°16.15′ W. long.;

(293) 32°51.85′ N. lat., 117°17.26′ W. long.;

(294) 32°51.55′ N. lat., 117°19.01′ W. long.;

(295) 32°49.55′ N. lat., 117°19.63′ W. long.;

(296) 32°46.71′ N. lat., 117°18.32′ W. long.;

(297) 32°36.35′ N. lat., 117°15.68′ W. long.; and

(298) 32°32.85′ N. lat., 117°15.44′ W. long.

(A) The 30 fm (55 m) depth contour around the Farallon Islands off the state of California is defined by straight lines connecting all of the following points in the order stated:

(1) 37°46.73′ N. lat., 123°6.37′ W. long.;

(2) 37°45.79′ N. lat., 123°07.91′ W. long.;

(3) 37°45.28′ N. lat., 123°07.75′ W. long.;

(4) 37°44.98′ N. lat., 123°07.11′ W. long.;

(5) 37°45.51′ N. lat., 123°06.26′ W. long.;

(6) 37°45.14′ N. lat., 123°05.41′ W. long.;

(7) 37°45.31′ N. lat., 123°04.82′ W. long.;

(8) 37°46.11′ N. lat., 123°05.23′ W. long.;

(9) 37°46.44′ N. lat., 123°05.63′ W. long.;

(10) 37°46.73′ N. lat., 123°06.37′ W. long.;

(B) The 30 fm (55 m) depth contour around Noon Day rock off the state of California is defined by straight lines connecting all of the following points in the order stated:

(1) 37°47.83′ N. lat., 123°10.83′ W. long.;

(2) 37°47.51′ N. lat., 123°11.19′ W. long.;

(3) 37°47.33′ N. lat., 123°10.68′ W. long.;

(4) 37°47.02′ N. lat., 123°10.59′ W. long.;

(5) 37°47.21′ N. lat., 123°09.85′ W. long.;

(6) 37°47.56′ N. lat., 123°09.72′ W. long.;

(7) 37°47.87′ N. lat., 123°10.26′ W. long.; and

(8) 37°47.83′ N. lat., 123°10.83′ W. long.

(C) The 30 fm (55 m) depth contour around the northern Channel Islands off the state of California is defined by straight lines connecting all of the following points in the order stated:

(1) 34°01.41′ N. lat., 119°20.61′ W. long.;

(2) 34°00.98′ N. lat., 119°20.46′ W. long.;

(3) 34°00.53′ N. lat., 119°20.98′ W. long.;

(4) 34°00.17′ N. lat., 119°21.83′ W. long.;

(5) 33°59.65′ N. lat., 119°24.45′ W. long.;

(6) 33°59.68′ N. lat., 119°25.20′ W. long.;

(7) 33°59.95′ N. lat., 119°26.25′ W. long.;

(8) 33°59.87′ N. lat., 119°27.27′ W. long.;

(9) 33°59.55′ N. lat., 119°28.02′ W. long.;

(10) 33°58.63′ N. lat., 119°36.48′ W. long.;

(11) 33°57.62′ N. lat., 119°41.13′ W. long.;

(12) 33°57.00′ N. lat., 119°42.20′ W. long.;

(13) 33°56.93′ N. lat., 119°48.00′ W. long.;

(14) 33°57.70′ N. lat., 119°48.00′ W. long.;

(between coordinates (14) and (15), the boundary follows the shoreline)

(15) 33°58.00′ N. lat., 119°51.00′ W. long.;

(16) 33°58.00′ N. lat., 119°52.00′ W. long.;

(17) 33°58.54′ N. lat., 119°52.80′ W. long.;

(18) 33°59.74′ N. lat., 119°54.19′ W. long.;

(19) 33°59.97′ N. lat., 119°54.66′ W. long.;

(20) 33°59.83′ N. lat., 119°56.00′ W. long.;

(21) 33°59.18′ N. lat., 119°57.17′ W. long.;

(22) 33°57.83′ N. lat., 119°56.74′ W. long.;

(23) 33°55.71′ N. lat., 119°56.89′ W. long.;

(24) 33°53.89′ N. lat., 119°57.68′ W. long.;

(25) 33°52.93′ N. lat., 119°59.80′ W. long.;

(26) 33°52.79′ N. lat., 120°01.81′ W. long.;

(27) 33°52.51′ N. lat., 120°03.08′ W. long.;

(28) 33°53.12′ N. lat., 120°04.88′ W. long.;

(29) 33°53.12′ N. lat., 120°05.80′ W. long.;

(30) 33°52.94′ N. lat., 120°06.50′ W. long.;

(31) 33°53.80′ N. lat., 120°06.50′ W. long.;

(between coordinates (31) and (32), the boundary follows the shoreline)

(32) 33°55.00′ N. lat., 120°10.00′ W. long.;

(33) 33°54.03′ N. lat., 120°10.00′ W. long.;

(34) 33°54.58′ N. lat., 120°11.82′ W. long.;

(35) 33°57.08′ N. lat., 120°14.58′ W. long.;

(36) 33°59.50′ N. lat., 120°16.72′ W. long.;

(37) 33°59.63′ N. lat., 120°17.88′ W. long.;

(38) 34°00.30′ N. lat., 120°19.14′ W. long.;

(39) 34°00.02′ N. lat., 120°19.68′ W. long.;

(40) 34°00.08′ N. lat., 120°21.73′ W. long.;

(41) 34°00.94′ N. lat., 120°24.82′ W. long.;

(42) 34°00.97′ N. lat., 120°25.30′ W. long.;

(43) 34°01.50′ N. lat., 120°25.30′ W. long.;

(between coordinates (43) and (44), the boundary follows the shoreline)

(44) 34°01.80′ N. lat., 120°26.60′ W. long.;

(45) 34°01.05′ N. lat., 120°26.60′ W. long.;

(46) 34°01.11′ N. lat., 120°27.43′ W. long.;

(47) 34°00.96′ N. lat., 120°28.09′ W. long.;

(48) 34°01.56′ N. lat., 120°28.71′ W. long.;

(49) 34°01.80′ N. lat., 120°28.31′ W. long.;

(50) 34°03.60′ N. lat., 120°28.87′ W. long.;

(51) 34°03.60′ N. lat., 120°28.20′ W. long.;

(52) 34°05.35′ N. lat., 120°28.20′ W. long.;

(53) 34°05.30′ N. lat., 120°27.33′ W. long.;

(54) 34°05.65′ N. lat., 120°26.79′ W. long.;

(55) 34°05.69′ N. lat., 120°25.82′ W. long.;

(56) 34°07.24′ N. lat., 120°24.98′ W. long.;

(57) 34°06.00′ N. lat., 120°23.30′ W. long.;

(58) 34°03.10′ N. lat., 120°23.30′ W. long.;

(between coordinates (58) and (59), the boundary follows the shoreline)

(59) 34°03.50′ N. lat., 120°21.30′ W. long.;

(60) 34°02.90′ N. lat., 120°20.20′ W. long.;

(between coordinates (60) and (61), the boundary follows the shoreline)

(61) 34°01.80′ N. lat., 120°18.40′ W. long.;

(62) 34°03.61′ N. lat., 120°18.40′ W. long.;

(63) 34°03.25′ N. lat., 120°16.64′ W. long.;

(64) 34°04.33′ N. lat., 120°14.22′ W. long.;

(65) 34°04.11′ N. lat., 120°11.17′ W. long.;

(66) 34°03.72′ N. lat., 120°09.93′ W. long.;

(67) 34°03.81′ N. lat., 120°08.96′ W. long.;

(68) 34°03.36′ N. lat., 120°06.52′ W. long.;

(69) 34°04.80′ N. lat., 120°04.00′ W. long.;

(70) 34°04.00′ N. lat., 120°04.00′ W. long.;

(71) 34°04.00′ N. lat., 120°05.20′ W. long.;

(72) 34°01.30′ N. lat., 120°05.20′ W. long.;

(between coordinates (72) and (73), the boundary follows the shoreline)

(73) 34°00.50′ N. lat., 120°02.80′ W. long.;

(74) 34°00.49′ N. lat., 120°01.01′ W. long.;

(75) 34°04.00′ N. lat., 120°01.00′ W. long.;

(76) 34°03.99′ N. lat., 120°00.15′ W. long.;

(77) 34°03.51′ N. lat., 119°59.42′ W. long.;

(78) 34°03.79′ N. lat., 119°58.15′ W. long.;

(79) 34°04.72′ N. lat., 119°57.61′ W. long.;

(80) 34°05.14′ N. lat., 119°55.17′ W. long.;

(81) 34°04.85′ N. lat., 119°53.00′ W. long.;

(82) 34°04.50′ N. lat., 119°53.00′ W. long.;

(between coordinates (82) and (83), the boundary follows the shoreline)

(83) 34°04.00′ N. lat., 119°51.00′ W. long.;

(84) 34°04.49′ N. lat., 119°51.01′ W. long.;

(85) 34°03.79′ N. lat., 119°48.86′ W. long.;

(86) 34°03.79′ N. lat., 119°45.46′ W. long.;

(87) 34°03.27′ N. lat., 119°44.17′ W. long.;

(88) 34°03.29′ N. lat., 119°43.30′ W. long.;

(89) 34°01.71′ N. lat., 119°40.83′ W. long.;

(90) 34°01.74′ N. lat., 119°37.92′ W. long.;

(91) 34°02.07′ N. lat., 119°37.17′ W. long.;

(92) 34°02.93′ N. lat., 119°36.52′ W. long.;

(93) 34°03.48′ N. lat., 119°35.50′ W. long.;

(94) 34°02.94′ N. lat., 119°35.50′ W. long.;

(between coordinates (94) and (95), the boundary follows the shoreline)

(95) 34°02.80′ N. lat., 119°32.80′ W. long.;

(96) 34°03.56′ N. lat., 119°32.80′ W. long.;

(97) 34°02.72′ N. lat., 119°31.84′ W. long.;

(98) 34°02.20′ N. lat., 119°30.53′ W. long.;

(99) 34°01.49′ N. lat., 119°30.20′ W. long.;

(100) 34°00.66′ N. lat., 119°28.62′ W. long.;

(101) 34°00.66′ N. lat., 119°27.57′ W. long.;

(102) 34°01.40′ N. lat., 119°26.94′ W. long.;

(103) 34°01.35′ N. lat., 119°26.70′ W. long.;

(104) 34°00.80′ N. lat., 119°26.70′ W. long.;

(between coordinates (104) and (105), the boundary follows the shoreline)

(105) 34°00.40′ N. lat., 119°24.60′ W. long.;

(between coordinates (105) and (106), the boundary follows the shoreline)

(106) 34°01.00′ N. lat., 119°21.40′ W. long.;

(107) 34°01.49′ N. lat., 119°21.40′ W. long.; and

(108) 34°01.41′ N. lat., 119°20.61′ W. long.

(D) The 30 fm (55 m) depth contour around San Clemente Island off the state of California is defined by straight lines connecting all of the following points in the order stated:

(1) 33°03.37′ N. lat., 118°37.76′ W. long.;

(2) 33°02.72′ N. lat., 118°38.12′ W. long.;

(3) 33°02.18′ N. lat., 118°37.46′ W. long.;

(4) 33°00.66′ N. lat., 118°37.36′ W. long.;

(5) 33°00.08′ N. lat., 118°36.94′ W. long.;

(6) 33°00.11′ N. lat., 118°36.00′ W. long.;

(7) 32°58.02′ N. lat., 118°35.41′ W. long.;

(8) 32°56.00′ N. lat., 118°33.59′ W. long.;

(9) 32°54.76′ N. lat., 118°33.58′ W. long.;

(10) 32°53.97′ N. lat., 118°32.45′ W. long.;

(11) 32°51.18′ N. lat., 118°30.83′ W. long.;

(12) 32°50.00′ N. lat., 118°29.68′ W. long.;

(13) 32°49.72′ N. lat., 118°28.33′ W. long.;

(14) 32°47.88′ N. lat., 118°26.09′ W. long.;

(15) 32°47.03′ N. lat., 118°25.73′ W. long.;

(16) 32°47.28′ N. lat., 118°24.83′ W. long.;

(17) 32°48.12′ N. lat., 118°24.33′ W. long.;

(18) 32°48.74′ N. lat., 118°23.39′ W. long.;

(19) 32°48.69′ N. lat., 118°21.75′ W. long.;

(20) 32°49.06′ N. lat., 118°20.53′ W. long.;

(21) 32°50.28′ N. lat., 118°21.09′ W. long.;

(22) 32°51.73′ N. lat., 118°23.86′ W. long.;

(23) 32°52.79′ N. lat., 118°25.08′ W. long.;

(24) 32°54.03′ N. lat., 118°26.83′ W. long.;

(25) 32°54.07′ N. lat., 118°27.55′ W. long.;

(26) 32°55.49′ N. lat., 118°29.04′ W. long.;

(27) 32°59.58′ N. lat., 118°32.51′ W. long.;

(28) 32°59.89′ N. lat., 118°32.52′ W. long.;

(29) 33°00.29′ N. lat., 118°32.73′ W. long.;

(30) 33°00.85′ N. lat., 118°33.05′ W. long.;

(31) 33°01.07′ N. lat., 118°33.64′ W. long.;

(32) 33°02.09′ N. lat., 118°35.35′ W. long.;

(33) 33°02.61′ N. lat., 118°36.96′ W. long.; and

(34) 33°03.37′ N. lat., 118°37.76′ W. long.

(E) The 30 fm (55 m) depth contour around Santa Catalina Island off the state of California is defined by straight lines connecting all of the following points in the order stated:

(1) 33°19.13′ N. lat., 118°18.04′ W. long.;

(2) 33°18.32′ N. lat., 118°18.20′ W. long.;

(3) 33°17.82′ N. lat., 118°18.73′ W. long.;

(4) 33°17.54′ N. lat., 118°19.52′ W. long.;

(5) 33°17.99′ N. lat., 118°21.71′ W. long.;

(6) 33°18.48′ N. lat., 118°22.82′ W. long.;

(7) 33°18.77′ N. lat., 118°26.95′ W. long.;

(8) 33°19.69′ N. lat., 118°28.87′ W. long.;

(9) 33°20.53′ N. lat., 118°30.52′ W. long.;

(10) 33°20.46′ N. lat., 118°31.47′ W. long.;

(11) 33°20.98′ N. lat., 118°31.39′ W. long.;

(12) 33°20.81′ N. lat., 118°30.49′ W. long.;

(13) 33°21.38′ N. lat., 118°30.07′ W. long.;

(14) 33°23.12′ N. lat., 118°29.31′ W. long.;

(15) 33°24.95′ N. lat., 118°29.70′ W. long.;

(16) 33°25.39′ N. lat., 118°30.50′ W. long.;

(17) 33°25.21′ N. lat., 118°30.79′ W. long.;

(18) 33°25.65′ N. lat., 118°31.60′ W. long.;

(19) 33°25.65′ N. lat., 118°32.04′ W. long.;

(20) 33°25.94′ N. lat., 118°32.96′ W. long.;

(21) 33°25.86′ N. lat., 118°33.49′ W. long.;

(22) 33°26.06′ N. lat., 118°34.12′ W. long.;

(23) 33°28.28′ N. lat., 118°36.60′ W. long.;

(24) 33°28.83′ N. lat., 118°36.42′ W. long.;

(25) 33°28.72′ N. lat., 118°34.93′ W. long.;

(26) 33°28.71′ N. lat., 118°33.61′ W. long.;

(27) 33°28.81′ N. lat., 118°32.95′ W. long.;

(28) 33°28.73′ N. lat., 118°32.07′ W. long.;

(29) 33°27.55′ N. lat., 118°30.14′ W. long.;

(30) 33°27.86′ N. lat., 118°29.41′ W. long.;

(31) 33°26.98′ N. lat., 118°29.06′ W. long.;

(32) 33°26.96′ N. lat., 118°28.58′ W. long.;

(33) 33°26.76′ N. lat., 118°28.40′ W. long.;

(34) 33°26.52′ N. lat., 118°27.66′ W. long.;

(35) 33°26.31′ N. lat., 118°27.41′ W. long.;

(36) 33°25.09′ N. lat., 118°23.13′ W. long.;

(37) 33°24.80′ N. lat., 118°22.86′ W. long.;

(38) 33°24.60′ N. lat., 118°22.02′ W. long.;

(39) 33°22.82′ N. lat., 118°21.04′ W. long.;

(40) 33°20.23′ N. lat., 118°18.45′ W. long.; and

(41) 33°19.13′ N. lat., 118°18.04′ W. long.

(iii) The 40 fm (73 m) depth contour between 46°16′ N. lat. and 42°00′ N. lat. is defined by straight lines connecting all of the following points in the order stated:

(1) 46°16.00′ N. lat., 124°16.10′ N. lat.;

(2) 46°15.29′ N. lat., 124°15.60′ N. lat.;

(3) 46°11.90′ N. lat., 124°13.59′ N. lat.;

(4) 46°06.93′ N. lat., 124°10.15′ N. lat.;

(5) 46°05.33′ N. lat., 124°08.30′ N. lat.;

(6) 45°58.69′ N. lat., 124°05.60′ N. lat.;

(7) 45°57.71′ N. lat., 124°05.82′ N. lat.;

(8) 45°53.97′ N. lat., 124°05.04′ N. lat.;

(9) 45°49.75′ N. lat., 124°05.14′ N. lat.;

(10) 45°47.88′ N. lat., 124°05.16′ N. lat.;

(11) 45°47.07′ N. lat., 124°04.21′ N. lat.;

(12) 45°44.34′ N. lat., 124°05.09′ N. lat.;

(13) 45°40.64′ N. lat., 124°04.90′ N. lat.;

(14) 45°33.00′ N. lat., 124°04.46′ N. lat.;

(15) 45°32.27′ N. lat., 124°04.74′ N. lat.;

(16) 45°29.26′ N. lat., 124°04.22′ N. lat.;

(17) 45°19.99′ N. lat., 124°04.62′ N. lat.;

(18) 45°17.50′ N. lat., 124°04.91′ N. lat.;

(19) 45°11.29′ N. lat., 124°05.19′ N. lat.;

(20) 45°05.79′ N. lat., 124°05.40′ N. lat.;

(21) 45°05.07′ N. lat., 124°05.93′ N. lat.;

(22) 45°01.70′ N. lat., 124°06.53′ N. lat.;

(23) 44°58.75′ N. lat., 124°07.14′ N. lat.;

(24) 44°51.28′ N. lat., 124°10.21′ N. lat.;

(25) 44°49.49′ N. lat., 124°10.89′ N. lat.;

(26) 44°44.96′ N. lat., 124°14.39′ N. lat.;

(27) 44°43.44′ N. lat., 124°14.78′ N. lat.;

(28) 44°42.27′ N. lat., 124°13.81′ N. lat.;

(29) 44°41.68′ N. lat., 124°15.38′ N. lat.;

(30) 44°34.87′ N. lat., 124°15.80′ N. lat.;

(31) 44°33.74′ N. lat., 124°14.43′ N. lat.;

(32) 44°27.66′ N. lat., 124°16.99′ N. lat.;

(33) 44°19.13′ N. lat., 124°19.22′ N. lat.;

(34) 44°15.35′ N. lat., 124°17.37′ N. lat.;

(35) 44°14.38′ N. lat., 124°17.78′ N. lat.;

(36) 44°12.80′ N. lat., 124°17.18′ N. lat.;

(37) 44°09.23′ N. lat., 124°15.96′ N. lat.;

(38) 44°08.38′ N. lat., 124°16.80′ N. lat.;

(39) 44°01.18′ N. lat., 124°15.42′ N. lat.;

(40) 43°51.60′ N. lat., 124°14.68′ N. lat.;

(41) 43°42.66′ N. lat., 124°15.46′ N. lat.;

(42) 43°40.49′ N. lat., 124°15.74′ N. lat.;

(43) 43°38.77′ N. lat., 124°15.64′ N. lat.;

(44) 43°34.52′ N. lat., 124°16.73′ N. lat.;

(45) 43°28.82′ N. lat., 124°19.52′ N. lat.;

(46) 43°23.91′ N. lat., 124°24.28′ N. lat.;

(47) 43°17.96′ N. lat., 124°28.81′ N. lat.;

(48) 43°16.75′ N. lat., 124°28.42′ N. lat.;

(49) 43°13.98′ N. lat., 124°31.99′ N. lat.;

(50) 43°13.71′ N. lat., 124°33.25′ N. lat.;

(51) 43°12.26′ N. lat., 124°34.16′ N. lat.;

(52) 43°10.96′ N. lat., 124°32.34′ N. lat.;

(53) 43°05.65′ N. lat., 124°31.52′ N. lat.;

(54) 42°59.66′ N. lat., 124°32.58′ N. lat.;

(55) 42°54.97′ N. lat., 124°36.99′ N. lat.;

(56) 42°53.81′ N. lat., 124°38.58′ N. lat.;

(57) 42°49.14′ N. lat., 124°39.92′ N. lat.;

(58) 42°46.47′ N. lat., 124°38.65′ N. lat.;

(59) 42°45.60′ N. lat., 124°39.04′ N. lat.;

(60) 42°44.79′ N. lat., 124°37.96′ N. lat.;

(61) 42°45.00′ N. lat., 124°36.39′ N. lat.;

(62) 42°44.14′ N. lat., 124°35.16′ N. lat.;

(63) 42°42.15′ N. lat., 124°32.82′ N. lat.;

(64) 42°38.82′ N. lat., 124°31.09′ N. lat.;

(65) 42°35.91′ N. lat., 124°31.02′ N. lat.;

(66) 42°31.34′ N. lat., 124°34.84′ N. lat.;

(67) 42°28.13′ N. lat., 124°34.83′ N. lat.;

(68) 42°26.73′ N. lat., 124°35.58′ N. lat.;

(69) 42°23.85′ N. lat., 124°34.05′ N. lat.;

(70) 42°21.68′ N. lat., 124°30.64′ N. lat.;

(71) 42°19.62′ N. lat., 124°29.02′ N. lat.;

(72) 42°15.01′ N. lat., 124°27.72′ N. lat.;

(73) 42°11.38′ N. lat., 124°25.62′ N. lat.;

(74) 42°04.66′ N. lat., 124°24.39′ N. lat.; and

(75) 42°00.00′ N. lat., 124°23.55′ N. lat.

(iv) The 50 fm (91 m) depth contour between the U.S. border with Canada and the Swiftsure Bank is defined by straight lines connecting all of the following points in the order stated:

(1) 48°30.15′ N. lat., 124°56.12′ N. lat.;

(2) 48°28.29′ N. lat., 124°56.30′ W. long.;

(3) 48°29.23′ N. lat., 124°53.63′ W. long.; and

(4) 48°30.31′ N. lat., 124°51.73′ W. long.

(A) The 50 fm (91 m) depth contour between the U.S. border with Canada and the U.S. border with Mexico is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°16.00′ N. lat., 124°16.90′ W. long.;

(23) 45°50.88′ N. lat., 124°09.68′ W. long.;

(24) 45°12.99′ N. lat., 124°06.71′ W. long.;

(25) 44°52.48′ N. lat., 124°11.22′ W. long.;

(26) 44°42.41′ N. lat., 124°19.70′ W. long.;

(27) 44°38.80′ N. lat., 124°26.58′ W. long.;

(28) 44°24.99′ N. lat., 124°31.22′ W. long.;

(29) 44°18.11′ N. lat., 124°43.74′ W. long.;

(30) 44°15.23′ N. lat., 124°40.47′ W. long.;

(31) 44°18.80′ N. lat., 124°35.48′ W. long.;

(32) 44°19.62′ N. lat., 124°27.18′ W. long.;

(33) 43°56.65′ N. lat., 124°16.86′ W. long.;

(34) 43°34.95′ N. lat., 124°17.47′ W. long.;

(35) 43°12.60′ N. lat., 124°35.80′ W. long.;

(36) 43°08.96′ N. lat., 124°33.77′ W. long.;

(37) 42°59.66′ N. lat., 124°34.79′ W. long.;

(38) 42°54.29′ N. lat., 124°39.46′ W. long.;

(39) 42°46.50′ N. lat., 124°39.99′ W. long.;

(40) 42°41.00′ N. lat., 124°34.92′ W. long.;

(41) 42°36.29′ N. lat., 124°34.70′ W. long.;

(42) 42°28.36′ N. lat., 124°37.90′ W. long.;

(43) 42°25.53′ N. lat., 124°37.68′ W. long.;

(44) 42°18.64′ N. lat., 124°29.47′ W. long.;

(45) 42°12.95′ N. lat., 124°27.34′ W. long.;

(46) 42°03.04′ N. lat., 124°25.81′ W. long.;

(47) 42°00.00′ N. lat., 124°26.21′ W. long.;

(48) 41°57.60′ N. lat., 124°27.35′ W. long.;

(49) 41°52.53′ N. lat., 124°26.51′ W. long.;

(50) 41°50.17′ N. lat., 124°25.63′ W. long.;

(51) 41°46.01′ N. lat., 124°22.16′ W. long.;

(52) 41°26.50′ N. lat., 124°21.78′ W. long.;

(53) 41°15.66′ N. lat., 124°16.42′ W. long.;

(54) 41°05.45′ N. lat., 124°16.89′ W. long.;

(55) 40°54.55′ N. lat., 124°19.53′ W. long.;

(56) 40°42.22′ N. lat., 124°28.29′ W. long.;

(57) 40°39.68′ N. lat., 124°28.37′ W. long.;

(58) 40°36.76′ N. lat., 124°27.39′ W. long.;

(59) 40°34.44′ N. lat., 124°28.89′ W. long.;

(60) 40°32.57′ N. lat., 124°32.43′ W. long.;

(61) 40°30.95′ N. lat., 124°33.87′ W. long.;

(62) 40°28.90′ N. lat., 124°34.59′ W. long.;

(63) 40°24.36′ N. lat., 124°31.42′ W. long.;

(64) 40°23.66′ N. lat., 124°28.35′ W. long.;

(65) 40°22.54′ N. lat., 124°24.71′ W. long.;

(66) 40°21.52′ N. lat., 124°24.86′ W. long.;

(67) 40°21.25′ N. lat., 124°25.59′ W. long.;

(68) 40°20.63′ N. lat., 124°26.47′ W. long.;

(69) 40°19.18′ N. lat., 124°25.98′ W. long.;

(70) 40°18.42′ N. lat., 124°24.77′ W. long.;

(71) 40°18.64′ N. lat., 124°22.81′ W. long.;

(72) 40°15.31′ N. lat., 124°25.28′ W. long.;

(73) 40°15.37′ N. lat., 124°26.82′ W. long.;

(74) 40°11.91′ N. lat., 124°22.68′ W. long.;

(75) 40°10.01′ N. lat., 124°19.97′ W. long.;

(76) 40°10.00′ N. lat., 124°19.97′ W. long.;

(77) 40°09.20′ N. lat., 124°15.81′ W. long.;

(78) 40°07.51′ N. lat., 124°15.29′ W. long.;

(79) 40°05.22′ N. lat., 124°10.06′ W. long.;

(80) 40°06.51′ N. lat., 124°08.01′ W. long.;

(81) 40°00.72′ N. lat., 124°08.45′ W. long.;

(82) 39°56.60′ N. lat., 124°07.12′ W. long.;

(83) 39°52.58′ N. lat., 124°03.57′ W. long.;

(84) 39°50.65′ N. lat., 123°57.98′ W. long.;

(85) 39°40.16′ N. lat., 123°52.41′ W. long.;

(86) 39°30.12′ N. lat., 123°52.92′ W. long.;

(87) 39°24.53′ N. lat., 123°55.16′ W. long.;

(88) 39°11.58′ N. lat., 123°50.93′ W. long.;

(89) 38°55.13′ N. lat., 123°51.14′ W. long.;

(90) 38°28.58′ N. lat., 123°22.84′ W. long.;

(91) 38°14.60′ N. lat., 123°09.92′ W. long.;

(92) 38°01.84′ N. lat., 123°09.75′ W. long.;

(93) 37°59.56′ N. lat., 123°09.25′ W. long.;

(94) 37°55.24′ N. lat., 123°08.30′ W. long.;

(95) 37°52.06′ N. lat., 123°09.19′ W. long.;

(96) 37°50.21′ N. lat., 123°14.90′ W. long.;

(97) 37°35.67′ N. lat., 122°55.43′ W. long.;

(98) 37°03.06′ N. lat., 122°24.22′ W. long.;

(99) 36°50.20′ N. lat., 122°03.58′ W. long.;

(100) 36°51.46′ N. lat., 121°57.54′ W. long.;

(101) 36°44.14′ N. lat., 121°58.10′ W. long.;

(102) 36°36.76′ N. lat., 122°01.16′ W. long.;

(103) 36°15.62′ N. lat., 121°57.13′ W. long.;

(104) 36°10.41′ N. lat., 121°42.92′ W. long.;

(105) 36°02.56′ N. lat., 121°36.37′ W. long.;

(106) 36°01.04′ N. lat., 121°36.47′ W. long.;

(107) 35°58.26′ N. lat., 121°32.88′ W. long.;

(108) 35°40.38′ N. lat., 121°22.59′ W. long.;

(109) 35°24.35′ N. lat., 121°02.53′ W. long.;

(110) 35°02.66′ N. lat., 120°51.63′ W. long.;

(111) 34°39.52′ N. lat., 120°48.72′ W. long.;

(112) 34°31.26′ N. lat., 120°44.12′ W. long.;

(113) 34°27.00′ N. lat., 120°33.31′ W. long.;

(114) 34°23.47′ N. lat., 120°24.76′ W. long.;

(115) 34°25.83′ N. lat., 120°17.26′ W. long.;

(116) 34°24.65′ N. lat., 120°04.83′ W. long.;

(117) 34°23.18′ N. lat., 119°56.18′ W. long.;

(118) 34°19.20′ N. lat., 119°41.64′ W. long.;

(119) 34°16.82′ N. lat., 119°35.32′ W. long.;

(120) 34°13.43′ N. lat., 119°32.29′ W. long.;

(121) 34°05.39′ N. lat., 119°15.13′ W. long.;

(122) 34°08.22′ N. lat., 119°13.64′ W. long.;

(123) 34°07.64′ N. lat., 119°13.10′ W. long.;

(124) 34°04.56′ N. lat., 119°13.73′ W. long.;

(125) 34°03.90′ N. lat., 119°12.66′ W. long.;

(126) 34°03.66′ N. lat., 119°06.82′ W. long.;

(127) 34°04.58′ N. lat., 119°04.91′ W. long.;

(128) 34°01.35′ N. lat., 119°00.30′ W. long.;

(129) 34°00.24′ N. lat., 119°03.18′ W. long.;

(130) 33°59.63′ N. lat., 119°03.20′ W. long.;

(131) 33°59.54′ N. lat., 119°00.88′ W. long.;

(132) 34°00.82′ N. lat., 118°59.03′ W. long.;

(133) 33°59.11′ N. lat., 118°47.52′ W. long.;

(134) 33°59.07′ N. lat., 118°36.33′ W. long.;

(135) 33°55.06′ N. lat., 118°32.86′ W. long.;

(136) 33°53.56′ N. lat., 118°37.75′ W. long.;

(137) 33°51.22′ N. lat., 118°36.14′ W. long.;

(138) 33°50.48′ N. lat., 118°32.16′ W. long.;

(139) 33°51.86′ N. lat., 118°28.71′ W. long.;

(140) 33°50.09′ N. lat., 118°27.88′ W. long.;

(141) 33°49.95′ N. lat., 118°26.38′ W. long.;

(142) 33°50.73′ N. lat., 118°26.17′ W. long.;

(143) 33°49.86′ N. lat., 118°24.25′ W. long.;

(144) 33°48.10′ N. lat., 118°26.87′ W. long.;

(145) 33°47.54′ N. lat., 118°29.66′ W. long.;

(146) 33°44.10′ N. lat., 118°25.25′ W. long.;

(147) 33°41.78′ N. lat., 118°20.28′ W. long.;

(148) 33°38.18′ N. lat., 118°15.69′ W. long.;

(149) 33°37.50′ N. lat., 118°16.71′ W. long.;

(150) 33°35.98′ N. lat., 118°16.54′ W. long.;

(151) 33°34.15′ N. lat., 118°11.22′ W. long.;

(152) 33°34.29′ N. lat., 118°08.35′ W. long.;

(153) 33°35.85′ N. lat., 118°07.00′ W. long.;

(154) 33°36.12′ N. lat., 118°04.15′ W. long.;

(155) 33°34.97′ N. lat., 118°02.91′ W. long.;

(156) 33°34.00′ N. lat., 117°59.53′ W. long.;

(157) 33°35.44′ N. lat., 117°55.67′ W. long.;

(158) 33°35.15′ N. lat., 117°53.55′ W. long.;

(159) 33°31.12′ N. lat., 117°47.40′ W. long.;

(160) 33°27.99′ N. lat., 117°45.19′ W. long.;

(161) 33°26.88′ N. lat., 117°43.87′ W. long.;

(162) 33°25.44′ N. lat., 117°41.63′ W. long.;

(163) 33°19.50′ N. lat., 117°36.08′ W. long.;

(164) 33°12.74′ N. lat., 117°28.53′ W. long.;

(165) 33°10.29′ N. lat., 117°25.68′ W. long.;

(166) 33°07.36′ N. lat., 117°21.23′ W. long.;

(167) 32°59.39′ N. lat., 117°18.56′ W. long.;

(168) 32°56.10′ N. lat., 117°18.37′ W. long.;

(169) 32°54.43′ N. lat., 117°16.93′ W. long.;

(170) 32°51.89′ N. lat., 117°16.42′ W. long.;

(171) 32°52.24′ N. lat., 117°19.36′ W. long.;

(172) 32°47.06′ N. lat., 117°21.92′ W. long.;

(173) 32°45.09′ N. lat., 117°20.68′ W. long.;

(174) 32°43.62′ N. lat., 117°18.68′ W. long.; and

(175) 32°33.43′ N. lat., 117°17.00′ W. long.

(B) The 50 fm (91 m) depth contour around the northern Channel Islands off the state of California is defined by straight lines connecting all of the following points in the order stated:

(1) 34°08.40′ N. lat., 120°33.78′ W. long.;

(2) 34°08.40′ N. lat., 120°28.20′ W. long.;

(3) 34°08.68′ N. lat., 120°26.61′ W. long.;

(4) 34°05.85′ N. lat., 120°17.13′ W. long.;

(5) 34°05.57′ N. lat., 119°51.35′ W. long.;

(6) 34°07.08′ N. lat., 119°52.43′ W. long.;

(7) 34°04.42′ N. lat., 119°35.35′ W. long.;

(8) 34°06.20′ N. lat., 119°35.35′ W. long.;

(9) 34°06.20′ N. lat., 119°32.80′ W. long.;

(10) 34°04.73′ N. lat., 119°32.77′ W. long.;

(11) 34°03.56′ N. lat., 119°26.70′ W. long.;

(12) 34°04.00′ N. lat., 119°26.70′ W. long.;

(13) 34°04.00′ N. lat., 119°21.40′ W. long.;

(14) 34°02.57′ N. lat., 119°21.40′ W. long.;

(15) 34°02.02′ N. lat., 119°19.18′ W. long.;

(16) 34°01.03′ N. lat., 119°19.50′ W. long.;

(17) 33°59.45′ N. lat., 119°22.38′ W. long.;

(18) 33°58.68′ N. lat., 119°32.36′ W. long.;

(19) 33°56.43′ N. lat., 119°41.13′ W. long.;

(20) 33°56.09′ N. lat., 119°48.00′ W. long.;

(21) 33°55.20′ N. lat., 119°48.00′ W. long.;

(22) 33°55.20′ N. lat., 119°53.00′ W. long.;

(23) 33°58.00′ N. lat., 119°53.00′ W. long.;

(24) 33°59.32′ N. lat., 119°55.59′ W. long.;

(25) 33°57.52′ N. lat., 119°55.19′ W. long.;

(26) 33°56.26′ N. lat., 119°54.29′ W. long.;

(27) 33°54.30′ N. lat., 119°54.83′ W. long.;

(28) 33°50.97′ N. lat., 119°57.03′ W. long.;

(29) 33°50.03′ N. lat., 120°03.00′ W. long.;

(30) 33°51.06′ N. lat., 120°03.23′ W. long.;

(31) 33°52.35′ N. lat., 120°06.51′ W. long.;

(32) 33°51.37′ N. lat., 120°06.48′ W. long.;

(33) 33°51.37′ N. lat., 120°09.99′ W. long.;

(34) 33°53.50′ N. lat., 120°10.08′ W. long.;

(35) 33°54.49′ N. lat., 120°12.85′ W. long.;

(36) 33°58.48′ N. lat., 120°18.50′ W. long.;

(37) 34°00.06′ N. lat., 120°25.30′ W. long.;

(38) 33°58.50′ N. lat., 120°25.30′ W. long.;

(39) 33°58.50′ N. lat., 120°26.60′ W. long.;

(40) 34°00.34′ N. lat., 120°26.60′ W. long.;

(41) 34°00.71′ N. lat., 120°28.21′ W. long.;

(42) 34°03.60′ N. lat., 120°30.60′ W. long.;

(43) 34°03.60′ N. lat., 120°34.20′ W. long.;

(44) 34°06.96′ N. lat., 120°34.22′ W. long.;

(45) 34°08.01′ N. lat., 120°35.24′ W. long.; and

(46) 34°08.40′ N. lat., 120°33.78′ W. long.

(C) The 50 fm (91 m) depth contour around San Clemente Island off the state of California is defined by straight lines connecting all of the following points in the order stated:

(1) 33°03.73′ N. lat., 118°36.98′ W. long.;

(2) 33°02.56′ N. lat., 118°34.12′ W. long.;

(3) 32°55.54′ N. lat., 118°28.87′ W. long.;

(4) 32°55.02′ N. lat., 118°27.69′ W. long.;

(5) 32°49.73′ N. lat., 118°20.99′ W. long.;

(6) 32°48.55′ N. lat., 118°20.24′ W. long.;

(7) 32°47.92′ N. lat., 118°22.45′ W. long.;

(8) 32°45.25′ N. lat., 118°24.59′ W. long.;

(9) 32°50.23′ N. lat., 118°30.80′ W. long.;

(10) 32°55.28′ N. lat., 118°33.83′ W. long.;

(11) 33°00.45′ N. lat., 118°37.88′ W. long.;

(12) 33°03.27′ N. lat., 118°38.56′ W. long.; and

(13) 33°03.73′ N. lat., 118°36.98′ W. long.

(D) The 50 fm (91 m) depth contour around Santa Catalina Island off the state of California is defined by straight lines connecting all of the following points in the order stated:

(1) 33°28.01′ N. lat., 118°37.42′ W. long.;

(2) 33°29.02′ N. lat., 118°36.33′ W. long.;

(3) 33°28.97′ N. lat., 118°33.16′ W. long.;

(4) 33°28.71′ N. lat., 118°31.22′ W. long.;

(5) 33°26.66′ N. lat., 118°27.48′ W. long.;

(6) 33°25.35′ N. lat., 118°22.83′ W. long.;

(7) 33°22.61′ N. lat., 118°19.18′ W. long.;

(8) 33°20.06′ N. lat., 118°17.35′ W. long.;

(9) 33°17.58′ N. lat., 118°17.42′ W. long.;

(10) 33°17.05′ N. lat., 118°18.72′ W. long.;

(11) 33°17.87′ N. lat., 118°24.47′ W. long.;

(12) 33°18.63′ N. lat., 118°28.16′ W. long.;

(13) 33°20.17′ N. lat., 118°31.69′ W. long.;

(14) 33°20.85′ N. lat., 118°31.82′ W. long.;

(15) 33°23.19′ N. lat., 118°29.78′ W. long.;

(16) 33°24.85′ N. lat., 118°31.22′ W. long.;

(17) 33°25.65′ N. lat., 118°34.11′ W. long.; and

(18) 33°28.01′ N. lat., 118°37.42′ W. long.

(v) The 60 fm (110 m) depth contour used between the U.S. border with Canada and the U.S. border with Mexico is defined by straight lines connecting all of the following points in the order stated:

(1) 48°26.70′ N. lat., 125°09.43′ W. long.;

(2) 48°23.76′ N. lat., 125°06.77′ W. long.;

(3) 48°23.01′ N. lat., 125°03.48′ W. long.;

(4) 48°22.42′ N. lat., 124°57.84′ W. long.;

(5) 48°22.62 ′ N. lat., 124°48.97′ W. long.;

(6) 48°18.61′ N. lat., 124°52.52′ W. long.;

(7) 48°16.62′ N. lat., 124°54.03′ W. long.;

(8) 48°15.39′ N. lat., 124°54.79′ W. long.;

(9) 48°13.81′ N. lat., 124°55.45′ W. long.;

(10) 48°10.51′ N. lat., 124°56.56′ W. long.;

(11) 48°06.90′ N. lat., 124°57.72′ W. long.;

(12) 48°02.23′ N. lat., 125°00.20′ W. long.;

(13) 48°00.87′ N. lat., 125°00.37′ W. long.;

(14) 47°56.30′ N. lat., 124°59.51′ W. long.;

(15) 47°46.84′ N. lat., 124°57.34′ W. long.;

(16) 47°36.49′ N. lat., 124°50.93′ W. long.;

(17) 47°32.01′ N. lat., 124°48.45′ W. long.;

(18) 47°27.19′ N. lat., 124°46.47′ W. long.;

(19) 47°21.76′ N. lat., 124°43.29′ W. long.;

(20) 47°17.82′ N. lat., 124°42.12′ W. long.;

(21) 47°08.87′ N. lat., 124°43.10′ W. long.;

(22) 47°03.16′ N. lat., 124°42.61′ W. long.;

(23) 46°49.70′ N. lat., 124°36.80′ W. long.;

(24) 46°42.91′ N. lat., 124°33.20′ W. long.;

(25) 46°39.67′ N. lat., 124°30.59′ W. long.;

(26) 46°32.47′ N. lat., 124°26.34′ W. long.;

(27) 46°23.69′ N. lat., 124°25.41′ W. long.;

(28) 46°20.84′ N. lat., 124°24.24′ W. long.;

(29) 46°16.00′ N. lat., 124°19.10′ W. long.;

(30) 46°15.97′ N. lat., 124°18.81′ W. long.;

(31) 46°11.23′ N. lat., 124°19.96′ W. long.;

(32) 46°02.51′ N. lat., 124°19.84′ W. long.;

(33) 45°59.05′ N. lat., 124°16.52′ W. long.;

(34) 45°51.00′ N. lat., 124°12.83′ W. long.;

(35) 45°45.85′ N. lat., 124°11.54′ W. long.;

(36) 45°38.53′ N. lat., 124°11.91′ W. long.;

(37) 45°30.90′ N. lat., 124°10.94′ W. long.;

(38) 45°21.20′ N. lat., 124°09.12′ W. long.;

(39) 45°12.43′ N. lat., 124°08.74′ W. long.;

(40) 44°59.89′ N. lat., 124°11.95′ W. long.;

(41) 44°51.96′ N. lat., 124°15.15′ W. long.;

(42) 44°44.64′ N. lat., 124°20.07′ W. long.;

(43) 44°39.24′ N. lat., 124°28.09′ W. long.;

(44) 44°30.61′ N. lat., 124°31.66′ W. long.;

(45) 44°26.19′ N. lat., 124°35.88′ W. long.;

(46) 44°18.88′ N. lat., 124°45.16′ W. long.;

(47) 44°14.69′ N. lat., 124°45.51′ W. long.;

(48) 44°10.97′ N. lat., 124°38.78′ W. long.;

(49) 44°08.71′ N. lat., 124°33.54′ W. long.;

(50) 44°04.92′ N. lat., 124°24.55′ W. long.;

(51) 43°57.49′ N. lat., 124°20.05′ W. long.;

(52) 43°50.26′ N. lat., 124°21.84′ W. long.;

(53) 43°41.69′ N. lat., 124°21.94′ W. long.;

(54) 43°35.52′ N. lat., 124°21.51′ W. long.;

(55) 43°25.77′ N. lat., 124°28.47′ W. long.;

(56) 43°20.25′ N. lat., 124°31.59′ W. long.;

(57) 43°12.73′ N. lat., 124°36.69′ W. long.;

(58) 43°08.08′ N. lat., 124°36.10′ W. long.;

(59) 43°00.33′ N. lat., 124°37.57′ W. long.;

(60) 42°53.99′ N. lat., 124°41.04′ W. long.;

(61) 42°46.66′ N. lat., 124°41.13′ W. long.;

(62) 42°41.74′ N. lat., 124°37.46′ W. long.;

(63) 42°37.427′N. lat., 124°37.22′ W. long.;

(64) 42°27.35′ N. lat., 124°39.90′ W. long.;

(65) 42°23.94′ N. lat., 124°38.28′ W. long.;

(66) 42°17.72′ N. lat., 124°31.10′ W. long.;

(67) 42°10.35′ N. lat., 124°29.11′ W. long.;

(68) 42°00.00′ N. lat., 124°28.00′ W. long.;

(69) 42°00.007′N. lat., 124°29.61′ W. long.;

(70) 41°54.87′ N. lat., 124°28.507prime; W. long.;

(71) 41°45.80′ N. lat., 124°23.89′ W. long.;

(72) 41°34.40′ N. lat., 124°24.03′ W. long.;

(73) 41°28.33′ N. lat., 124°25.46′ W. long.;

(74) 41°15.80′ N. lat., 124°18.90′ W. long.;

(75) 41°09.77′ N. lat., 124°17.99′ W. long.;

(76) 41°02.26′ N. lat., 124°18.71′ W. long.;

(77) 40°53.54′ N. lat., 124°21.18′ W. long.;

(78) 40°49.93′ N. lat., 124°23.02′ W. long.;

(79) 40°43.15′ N. lat., 124°28.74′ W. long.;

(80) 40°40.19′ N. lat., 124°29.07′ W. long.;

(81) 40°36.77′ N. lat., 124°27.61′ W. long.;

(82) 40°34.13′ N. lat., 124°29.39′ W. long.;

(83) 40°33.15′ N. lat., 124°33.46′ W. long.;

(84) 40°29.57′ N. lat., 124°35.84′ W. long.;

(85) 40°24.72′ N. lat., 124°33.06′ W. long.;

(86) 40°23.91′ N. lat., 124°31.28′ W. long.;

(87) 40°23.67′ N. lat., 124°28.35′ W. long.;

(88) 40°22.53′ N. lat., 124°24.72′ W. long.;

(89) 40°21.51′ N. lat., 124°24.86′ W. long.;

(90) 40°21.02′ N. lat., 124°27.70′ W. long.;

(91) 40°19.75′ N. lat., 124°27.06′ W. long.;

(92) 40°18.23′ N. lat., 124°25.30′ W. long.;

(93) 40°18.60′ N. lat., 124°22.86′ W. long.;

(94) 40°15.43′ N. lat., 124°25.37′ W. long.;

(95) 40°15.55′ N. lat., 124°28.16′ W. long.;

(96) 40°11.27′ N. lat., 124°22.56′ W. long.;

(97) 40°10.00′ N. lat., 124°19.97′ W. long.;

(98) 40°09.20′ N. lat., 124°15.81′ W. long.;

(99) 40°07.51′ N. lat., 124°15.29′ W. long.;

(100) 40°05.22′ N. lat., 124°10.06′ W. long.;

(101) 40°06.51′ N. lat., 124°08.01′ W. long.;

(102) 40°00.72′ N. lat., 124°08.45′ W. long.;

(103) 39°56.60′ N. lat., 124°07.12′ W. long.;

(104) 39°52.58′ N. lat., 124°03.57′ W. long.;

(105) 39°50.65′ N. lat., 123°57.98′ W. long.;

(106) 39°40.16′ N. lat., 123°52.41′ W. long.;

(107) 39°30.12′ N. lat., 123°52.92′ W. long.;

(108) 39°24.53′ N. lat., 123°55.16′ W. long.;

(109) 39°11.58′ N. lat., 123°50.93′ W. long.;

(110) 38°55.13′ N. lat., 123°51.14′ W. long.;

(111) 38°28.58′ N. lat., 123°22.84′ W. long.;

(112) 38°08.57′ N. lat., 123°14.74′ W. long.;

(113) 38°00.00′ N. lat., 123°15.61′ W. long.;

(114) 37°56.98′ N. lat., 123°21.82′ W. long.;

(115) 37°48.01′ N. lat., 123°15.90′ W. long.;

(116) 37°36.73′ N. lat., 122°58.48′ W. long.;

(117) 37°07.58′ N. lat., 122°37.64′ W. long.;

(118) 37°02.08′ N. lat., 122°25.49′ W. long.;

(119) 36°48.20′ N. lat., 122°03.32′ W. long.;

(120) 36°51.46′ N. lat., 121°57.54′ W. long.;

(121) 36°44.14′ N. lat., 121°58.10′ W. long.;

(122) 36°36.76′ N. lat., 122°01.16′ W. long.;

(123) 36°15.62′ N. lat., 121°57.13′ W. long.;

(124) 36°10.42′ N. lat., 121°42.90′ W. long.;

(125) 36°02.55′ N. lat., 121°36.35′ W. long.;

(126) 36°01.04′ N. lat., 121°36.47′ W. long.;

(127) 35°58.25′ N. lat., 121°32.88′ W. long.;

(128) 35°40.38′ N. lat., 121°22.59′ W. long.;

(129) 35°24.35′ N. lat., 121°02.53′ W. long.;

(130) 35°02.66′ N. lat., 120°51.63′ W. long.;

(131) 34°39.52′ N. lat., 120°48.72′ W. long.;

(132) 34°31.26′ N. lat., 120°44.12′ W. long.;

(133) 34°27.00′ N. lat., 120°36.00′ W. long.;

(134) 34°23.00′ N. lat., 120°25.32′ W. long.;

(135) 34°25.68′ N. lat., 120°17.46′ W. long.;

(136) 34°23.18′ N. lat., 119°56.17′ W. long.;

(137) 34°18.73′ N. lat., 119°41.89′ W. long.;

(138) 34°11.18′ N. lat., 119°31.21′ W. long.;

(139) 34°10.01′ N. lat., 119°25.84′ W. long.;

(140) 34°03.88′ N. lat., 119°12.46′ W. long.;

(141) 34°03.58′ N. lat., 119°06.71′ W. long.;

(142) 34°04.52′ N. lat., 119°04.89′ W. long.;

(143) 34°01.28′ N. lat., 119°00.27′ W. long.;

(144) 34°00.20′ N. lat., 119°03.18′ W. long.;

(145) 33°59.60′ N. lat., 119°03.14′ W. long.;

(146) 33°59.45′ N. lat., 119°00.87′ W. long.;

(147) 34°00.71′ N. lat., 118°59.07′ W. long.;

(148) 33°59.05′ N. lat., 118°47.34′ W. long.;

(149) 33°59.06′ N. lat., 118°36.30′ W. long.;

(150) 33°55.05′ N. lat., 118°32.85′ W. long.;

(151) 33°53.56′ N. lat., 118°37.73′ W. long.;

(152) 33°51.22′ N. lat., 118°36.13′ W. long.;

(153) 33°50.19′ N. lat., 118°32.19′ W. long.;

(154) 33°51.28′ N. lat., 118°29.12′ W. long.;

(155) 33°49.89′ N. lat., 118°28.04′ W. long.;

(156) 33°49.95′ N. lat., 118°26.38′ W. long.;

(157) 33°50.73′ N. lat., 118°26.16′ W. long.;

(158) 33°49.87′ N. lat., 118°24.37′ W. long.;

(159) 33°47.54′ N. lat., 118°29.65′ W. long.;

(160) 33°44.10′ N. lat., 118°25.25′ W. long.;

(161) 33°41.77′ N. lat., 118°20.32′ W. long.;

(162) 33°38.17′ N. lat., 118°15.69′ W. long.;

(163) 33°37.48′ N. lat., 118°16.72′ W. long.;

(164) 33°35.98′ N. lat., 118°16.54′ W. long.;

(165) 33°34.15′ N. lat., 118°11.22′ W. long.;

(166) 33°34.09′ N. lat., 118°08.15′ W. long.;

(167) 33°35.73′ N. lat., 118°05.01′ W. long.;

(168) 33°33.75′ N. lat., 117°59.82′ W. long.;

(169) 33°35.44′ N. lat., 117°55.65′ W. long.;

(170) 33°35.15′ N. lat., 117°53.54′ W. long.;

(171) 33°31.12′ N. lat., 117°47.39′ W. long.;

(172) 33°27.49′ N. lat., 117°44.85′ W. long.;

(173) 33°16.42′ N. lat., 117°32.92′ W. long.;

(174) 33°06.66′ N. lat., 117°21.59′ W. long.;

(175) 33°00.08′ N. lat., 117°19.02′ W. long.;

(176) 32°56.11′ N. lat., 117°18.41′ W. long.;

(177) 32°54.43′ N. lat., 117°16.93′ W. long.;

(178) 32°51.89′ N. lat., 117°16.42′ W. long.;

(179) 32°52.61′ N. lat., 117°19.50′ W. long.;

(180) 32°46.96′ N. lat., 117°22.69′ W. long.;

(181) 32°44.98′ N. lat., 117°21.87′ W. long.;

(182) 32°43.52′ N. lat., 117°19.32′ W. long.; and

(183) 32°33.56′ N. lat., 117°17.72′ W. long.

(A) The 60 fm (110 m) depth contour around the northern Channel Islands off the state of California is defined by straight lines connecting all of the following points in the order stated:

(1) 34°08.80′ N. lat., 120°34.58′ W. long.;

(2) 34°09.16′ N. lat., 120°26.31′ W. long.;

(3) 34°06.69′ N. lat., 120°16.43′ W. long.;

(4) 34°06.38′ N. lat., 120°04.00′ W. long.;

(5) 34°07.36′ N. lat., 119°52.06′ W. long.;

(6) 34°04.84′ N. lat., 119°36.94′ W. long.;

(7) 34°04.84′ N. lat., 119°35.50′ W. long.;

(8) 34°06.20′ N. lat., 119°35.50′ W. long.;

(9) 34°06.20′ N. lat., 119°32.80′ W. long.;

(10) 34°05.04′ N. lat., 119°32.80′ W. long.;

(11) 34°04.00′ N. lat., 119°26.70′ W. long.;

(12) 34°04.00′ N. lat., 119°21.40′ W. long.;

(13) 34°28.00′ N. lat., 119°21.40′ W. long.;

(14) 34°02.36′ N. lat., 119°18.97′ W. long.;

(15) 34°00.65′ N. lat., 119°19.42′ W. long.;

(16) 33°59.45′ N. lat., 119°22.38′ W. long.;

(17) 33°58.68′ N. lat., 119°32.36′ W. long.;

(18) 33°56.14′ N. lat., 119°41.09′ W. long.;

(19) 33°55.84′ N. lat., 119°48.00′ W. long.;

(20) 33°55.20′ N. lat., 119°48.00′ W. long.;

(21) 33°55.20′ N. lat., 119°53.00′ W. long.;

(22) 33°58.00′ N. lat., 119°53.00′ W. long.;

(23) 33°59.32′ N. lat., 119°55.59′ W. long.;

(24) 33°57.52′ N. lat., 119°55.19′ W. long.;

(25) 33°56.10′ N. lat., 119°54.25′ W. long.;

(26) 33°50.28′ N. lat., 119°56.02′ W. long.;

(27) 33°48.51′ N. lat., 119°59.67′ W. long.;

(28) 33°49.14′ N. lat., 120°03.58′ W. long.;

(29) 33°51.93′ N. lat., 120°06.50′ W. long.;

(30) 33°51.40′ N. lat., 120°06.50′ W. long.;

(31) 33°51.40′ N. lat., 120°10.00′ W. long.;

(32) 33°53.16′ N. lat., 120°10.00′ W. long.;

(33) 33°54.36′ N. lat., 120°13.06′ W. long.;

(34) 33°58.53′ N. lat., 120°20.46′ W. long.;

(35) 33°59.52′ N. lat., 120°25.30′ W. long.;

(36) 33°58.50′ N. lat., 120°25.30′ W. long.;

(37) 33°58.50′ N. lat., 120°26.60′ W. long.;

(38) 33°59.84′ N. lat., 120°26.60′ W. long.;

(39) 34°00.12′ N. lat., 120°28.12′ W. long.;

(40) 34°03.60′ N. lat., 120°31.46′ W. long.;

(41) 34°03.60′ N. lat., 120°34.20′ W. long.;

(42) 34°06.41′ N. lat., 120°34.20′ W. long.;

(43) 34°08.09′ N. lat., 120°35.85′ W. long.; and

(44) 34°08.80′ N. lat., 120°34.58′ W. long.

(B) The 60 fm (110 m) depth contour around San Clemente Island off the state of California is defined by straight lines connecting all of the following points in the order stated:

(1) 33°04.06′ N. lat., 118°37.32′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.60′ N. lat., 118°22.00′ W. long.;

(8) 32°44.59′ N. lat., 118°24.52′ W. long.;

(9) 32°49.97′ N. lat., 118°31.52′ W. long.;

(10) 32°53.62′ N. lat., 118°32.94′ W. long.;

(11) 32°55.63′ N. lat., 118°34.82′ W. long.;

(12) 33°00.71′ N. lat., 118°38.42′ W. long.;

(13) 33°03.31′ N. lat., 118°38.74′ W. long.; and

(14) 33°04.06′ N. lat., 118°37.32′ W. long.

(C) The 60 fm (110 m) depth contour around Santa Catalina Island off the state of California is defined by straight lines connecting all of the following points in the order stated:

(1) 33°28.15′ N. lat., 118°37.85′ W. long.;

(2) 33°29.23′ N. lat., 118°36.27′ W. long.;

(3) 33°28.85′ N. lat., 118°30.85′ W. long.;

(4) 33°26.69′ N. lat., 118°27.37′ W. long.;

(5) 33°25.35′ N. lat., 118°22.83′ W. long.;

(6) 33°22.60′ N. lat., 118°18.82′ W. long.;

(7) 33°19.49′ N. lat., 118°16.91′ W. long.;

(8) 33°17.13′ N. lat., 118°16.58′ W. long.;

(9) 33°16.72′ N. lat., 118°18.07′ W. long.;

(10) 33°18.35′ N. lat., 118°27.86′ W. long.;

(11) 33°20.03′ N. lat., 118°32.04′ W. long.;

(12) 33°21.86′ N. lat., 118°31.72′ W. long.;

(13) 33°23.15′ N. lat., 118°29.89′ W. long.;

(14) 33°25.13′ N. lat., 118°32.16′ W. long.;

(15) 33°25.73′ N. lat., 118°34.88′ W. long.; and

(16) 33°28.15′ N. lat., 118°37.85′ W. long.

(vi) The 75 fm (137 m) depth contour used between the U.S. border with Canada and the U.S. border with Mexico is defined by straight lines connecting all of the following points in the order stated:

(1) 48°16.08′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.99′ N. lat., 125°02.59′ W. long.;

(12) 48°23.05′ N. lat., 124°48.80′ W. long.;

(13) 48°17.10′ N. lat., 124°54.82′ W. long.;

(14) 48°05.10′ N. lat., 124°59.40′ W. long.;

(15) 48°04.50′ N. lat., 125°02.00′ W. long.;

(16) 48°04.70′ N. lat., 125°04.08′ W. long.;

(17) 48°05.20′ N. lat., 125°04.90′ W. long.;

(18) 48°06.80′ N. lat., 125°06.15′ W. long.;

(19) 48°05.91′ N. lat., 125°08.30′ W. long.;

(20) 48°07.00′ N. lat., 125°09.80′ W. long.;

(21) 48°06.93′ N. lat., 125°11.48′ W. long.;

(22) 48°04.98′ N. lat., 125°10.02′ W. long.;

(23) 47°54.00′ N. lat., 125°04.98′ W. long.;

(24) 47°44.52′ N. lat., 125°00.00′ W. long.;

(25) 47°42.00′ N. lat., 124°58.98′ W. long.;

(26) 47°35.52′ N. lat., 124°55.50′ W. long.;

(27) 47°22.02′ N. lat., 124°44.40′ W. long.;

(28) 47°16.98′ N. lat., 124°45.48′ W. long.;

(29) 47°10.98′ N. lat., 124°48.48′ W. long.;

(30) 47°04.98′ N. lat., 124°49.02′ W. long.;

(31) 46°57.98′ N. lat., 124°46.50′ W. long.;

(32) 46°54.00′ N. lat., 124°45.00′ W. long.;

(33) 46°48.48′ N. lat., 124°44.52′ W. long.;

(34) 46°40.02′ N. lat., 124°36.00′ W. long.;

(35) 46°34.09′ N. lat., 124°27.03′ W. long.;

(36) 46°24.64′ N. lat., 124°30.33′ W. long.;

(37) 46°19.98′ N. lat., 124°36.00′ W. long.;

(38) 46°18.14′ N. lat., 124°34.26′ W. long.;

(39) 46°18.72′ N. lat., 124°22.68′ W. long.;

(40) 46°16.00′ N. lat., 124°19.49′ W. long.;

(41) 46°14.64′ N. lat., 124°22.54′ W. long.;

(42) 46°11.08′ N. lat., 124°30.74′ W. long.;

(43) 46°04.28′ N. lat., 124°31.49′ W. long.;

(44) 45°55.97′ N. lat., 124°19.95′ W. long.;

(45) 45°44.97′ N. lat., 124°15.96′ W. long.;

(46) 45°43.14′ N. lat., 124°21.86′ W. long.;

(47) 45°34.44′ N. lat., 124°14.44′ W. long.;

(48) 45°15.49′ N. lat., 124°11.49′ W. long.;

(49) 44°57.31′ N. lat., 124°15.03′ W. long.;

(50) 44°43.90′ N. lat., 124°28.88′ W. long.;

(51) 44°28.64′ N. lat., 124°35.67′ W. long.;

(52) 44°25.31′ N. lat., 124°43.08′ W. long.;

(53) 44°17.15′ N. lat., 124°47.98′ W. long.;

(54) 44°13.67′ N. lat., 124°54.41′ W. long.;

(55) 43°56.85′ N. lat., 124°55.32′ W. long.;

(56) 43°57.50′ N. lat., 124°41.23′ W. long.;

(57) 44°01.79′ N. lat., 124°38.00′ W. long.;

(58) 44°02.16′ N. lat., 124°32.62′ W. long.;

(59) 43°58.15′ N. lat., 124°30.39′ W. long.;

(60) 43°53.25′ N. lat., 124°31.39′ W. long.;

(61) 43°35.56′ N. lat., 124°28.17′ W. long.;

(62) 43°21.84′ N. lat., 124°36.07′ W. long.;

(63) 43°19.73′ N. lat., 124°34.86′ W. long.;

(64) 43°09.38′ N. lat., 124°39.30′ W. long.;

(65) 43°07.11′ N. lat., 124°37.66′ W. long.;

(66) 42°56.27′ N. lat., 124°43.29′ W. long.;

(67) 42°45.00′ N. lat., 124°41.50′ W. long.;

(68) 42°39.72′ N. lat., 124°39.11′ W. long.;

(69) 42°32.88′ N. lat., 124°40.13′ W. long.;

(70) 42°32.30′ N. lat., 124°39.04′ W. long.;

(71) 42°26.96′ N. lat., 124°44.31′ W. long.;

(72) 42°24.11′ N. lat., 124°42.16′ W. long.;

(73) 42°21.10′ N. lat., 124°35.46′ W. long.;

(74) 42°14.72′ N. lat., 124°32.30′ W. long.;

(75) 42°09.24′ N. lat., 124°32.04′ W. long.;

(76) 42°01.89′ N. lat., 124°32.70′ W. long.;

(77) 42°00.03′ N. lat., 124°32.02′ W. long.;

(78) 42°00.00′ N. lat., 124°32.02′ W. long.;

(79) 41°46.18′ N. lat., 124°26.60′ W. long.;

(80) 41°29.22′ N. lat., 124°28.04′ W. long.;

(81) 41°09.62′ N. lat., 124°19.75′ W. long.;

(82) 40°50.71′ N. lat., 124°23.80′ W. long.;

(83) 40°43.35′ N. lat., 124°29.30′ W. long.;

(84) 40°40.24′ N. lat., 124°29.86′ W. long.;

(85) 40°37.50′ N. lat., 124°28.68′ W. long.;

(86) 40°34.42′ N. lat., 124°29.65′ W. long.;

(87) 40°34.74′ N. lat., 124°34.61′ W. long.;

(88) 40°31.70′ N. lat., 124°37.13′ W. long.;

(89) 40°25.03′ N. lat., 124°34.77′ W. long.;

(90) 40°23.58′ N. lat., 124°31.49′ W. long.;

(91) 40°23.64′ N. lat., 124°28.35′ W. long.;

(92) 40°22.53′ N. lat., 124°24.76′ W. long.;

(93) 40°21.46′ N. lat., 124°24.86′ W. long.;

(94) 40°21.74′ N. lat., 124°27.63′ W. long.;

(95) 40°19.76′ N. lat., 124°28.15′ W. long.;

(96) 40°18.00′ N. lat., 124°25.38′ W. long.;

(97) 40°18.54′ N. lat., 124°22.94′ W. long.;

(98) 40°15.55′ N. lat., 124°25.75′ W. long.;

(99) 40°16.06′ N. lat., 124°30.48′ W. long.;

(100) 40°15.75′ N. lat., 124°31.69′ W. long.;

(101) 40°10.00′ N. lat., 124°21.28′ W. long.;

(102) 40°08.37′ N. lat., 124°17.99′ W. long.;

(103) 40°09.00′ N. lat., 124°15.77′ W. long.;

(104) 40°06.93′ N. lat., 124°16.49′ W. long.;

(105) 40°03.60′ N. lat., 124°11.60′ W. long.;

(106) 40°06.20′ N. lat., 124°08.23′ W. long.;

(107) 40°00.94′ N. lat., 124°08.57′ W. long.;

(108) 40°00.01′ N. lat., 124°09.84′ W. long.;

(109) 39°57.75′ N. lat., 124°09.53′ W. long.;

(110) 39°55.56′ N. lat., 124°07.67′ W. long.;

(111) 39°52.21′ N. lat., 124°05.54′ W. long.;

(112) 39°48.07′ N. lat., 123°57.48′ W. long.;

(113) 39°41.60′ N. lat., 123°55.12′ W. long.;

(114) 39°30.39′ N. lat., 123°55.03′ W. long.;

(115) 39°29.48′ N. lat., 123°56.12′ W. long.;

(116) 39°13.76′ N. lat., 123°54.65′ W. long.;

(117) 39°05.21′ N. lat., 123°55.38′ W. long.;

(118) 38°55.90′ N. lat., 123°54.35′ W. long.;

(119) 38°48.59′ N. lat., 123°49.61′ W. long.;

(120) 38°28.82′ N. lat., 123°27.44′ W. long.;

(121) 38°09.70′ N. lat., 123°18.66′ W. long.;

(122) 38°01.81′ N. lat., 123°19.22′ W. long.;

(123) 38°04.67′ N. lat., 123°25.85′ W. long.;

(124) 38°04.33′ N. lat., 123°29.68′ W. long.;

(125) 38°02.38′ N. lat., 123°30.13′ W. long.;

(126) 38°00.00′ N. lat., 123°27.84′ W. long.;

(127) 37°56.73′ N. lat., 123°25.22′ W. long.;

(128) 37°55.59′ N. lat., 123°25.62′ W. long.;

(129) 37°52.79′ N. lat., 123°23.85′ W. long.;

(130) 37°49.13′ N. lat., 123°18.83′ W. long.;

(131) 37°46.01′ N. lat., 123°12.28′ W. long.;

(132) 37°36.12′ N. lat., 123°00.33′ W. long.;

(133) 37°03.52′ N. lat., 122°37.57′ W. long.;

(134) 36°59.69′ N. lat., 122°27.32′ W. long.;

(135) 37°01.41′ N. lat., 122°24.41′ W. long.;

(136) 36°58.75′ N. lat., 122°23.81′ W. long.;

(137) 36°59.17′ N. lat., 122°21.44′ W. long.;

(138) 36°57.51′ N. lat., 122°20.69′ W. long.;

(139) 36°51.46′ N. lat., 122°10.01′ W. long.;

(140) 36°48.43′ N. lat., 122°06.47′ W. long.;

(141) 36°48.66′ N. lat., 122°04.99′ W. long.;

(142) 36°47.75′ N. lat., 122°03.33′ W. long.;

(143) 36°51.23′ N. lat., 121°57.79′ W. long.;

(144) 36°49.72′ N. lat., 121°57.87′ W. long.;

(145) 36°48.84′ N. lat., 121°58.68′ W. long.;

(146) 36°47.89′ N. lat., 121°58.53′ W. long.;

(147) 36°48.66′ N. lat., 121°50.49′ W. long.;

(148) 36°45.56′ N. lat., 121°54.11′ W. long.;

(149) 36°45.30′ N. lat., 121°57.62′ W. long.;

(150) 36°38.54′ N. lat., 122°01.13′ W. long.;

(151) 36°35.76′ N. lat., 122°00.87′ W. long.;

(152) 36°32.58′ N. lat., 121°59.12′ W. long.;

(153) 36°32.95′ N. lat., 121°57.62′ W. long.;

(154) 36°31.96′ N. lat., 121°56.27′ W. long.;

(155) 36°31.74′ N. lat., 121°58.24′ W. long.;

(156) 36°30.57′ N. lat., 121°59.66′ W. long.;

(157) 36°27.80′ N. lat., 121°59.30′ W. long.;

(158) 36°26.52′ N. lat., 121°58.09′ W. long.;

(159) 36°23.65′ N. lat., 121°58.94′ W. long.;

(160) 36°20.93′ N. lat., 122°00.28′ W. long.;

(161) 36°18.23′ N. lat., 122°03.10′ W. long.;

(162) 36°14.21′ N. lat., 121°57.73′ W. long.;

(163) 36°14.68′ N. lat., 121°55.43′ W. long.;

(164) 36°10.42′ N. lat., 121°42.90′ W. long.;

(165) 36°02.55′ N. lat., 121°36.35′ W. long.;

(166) 36°01.04′ N. lat., 121°36.47′ W. long.;

(167) 35°58.25′ N. lat., 121°32.88′ W. long.;

(168) 35°39.35′ N. lat., 121°22.63′ W. long.;

(169) 35°24.44′ N. lat., 121°02.23′ W. long.;

(170) 35°10.84′ N. lat., 120°55.90′ W. long.;

(171) 35°04.35′ N. lat., 120°51.62′ W. long.;

(172) 34°55.25′ N. lat., 120°49.36′ W. long.;

(173) 34°47.95′ N. lat., 120°50.76′ W. long.;

(174) 34°39.27′ N. lat., 120°49.16′ W. long.;

(175) 34°31.05′ N. lat., 120°44.71′ W. long.;

(176) 34°27.00′ N. lat., 120°36.54′ W. long.;

(177) 34°22.60′ N. lat., 120°25.41′ W. long.;

(178) 34°25.45′ N. lat., 120°17.41′ W. long.;

(179) 34°22.94′ N. lat., 119°56.40′ W. long.;

(180) 34°18.37′ N. lat., 119°42.01′ W. long.;

(181) 34°11.22′ N. lat., 119°32.47′ W. long.;

(182) 34°09.58′ N. lat., 119°25.94′ W. long.;

(183) 34°03.89′ N. lat., 119°12.47′ W. long.;

(184) 34°03.57′ N. lat., 119°06.72′ W. long.;

(185) 34°04.53′ N. lat., 119°04.90′ W. long.;

(186) 34°02.84′ N. lat., 119°02.37′ W. long.;

(187) 34°01.30′ N. lat., 119°00.26′ W. long.;

(188) 34°00.22′ N. lat., 119°03.20′ W. long.;

(189) 33°59.60′ N. lat., 119°03.16′ W. long.;

(190) 33°59.46′ N. lat., 119°00.88′ W. long.;

(191) 34°00.49′ N. lat., 118°59.08′ W. long.;

(192) 33°59.07′ N. lat., 118°47.34′ W. long.;

(193) 33°58.73′ N. lat., 118°36.45′ W. long.;

(194) 33°55.24′ N. lat., 118°33.42′ W. long.;

(195) 33°53.71′ N. lat., 118°38.01′ W. long.;

(196) 33°51.22′ N. lat., 118°36.17′ W. long.;

(197) 33°49.85′ N. lat., 118°32.31′ W. long.;

(198) 33°49.61′ N. lat., 118°28.07′ W. long.;

(199) 33°49.95′ N. lat., 118°26.38′ W. long.;

(200) 33°50.36′ N. lat., 118°25.84′ W. long.;

(201) 33°49.84′ N. lat., 118°24.78′ W. long.;

(202) 33°47.53′ N. lat., 118°30.12′ W. long.;

(203) 33°44.11′ N. lat., 118°25.25′ W. long.;

(204) 33°41.77′ N. lat., 118°20.32′ W. long.;

(205) 33°38.17′ N. lat., 118°15.70′ W. long.;

(206) 33°37.48′ N. lat., 118°16.73′ W. long.;

(207) 33°36.01′ N. lat., 118°16.55′ W. long.;

(208) 33°33.76′ N. lat., 118°11.37′ W. long.;

(209) 33°33.76′ N. lat., 118°07.94′ W. long.;

(210) 33°35.59′ N. lat., 118°05.05′ W. long.;

(211) 33°33.75′ N. lat., 117°59.82′ W. long.;

(212) 33°35.10′ N. lat., 117°55.68′ W. long.;

(213) 33°34.91′ N. lat., 117°53.76′ W. long.;

(214) 33°30.77′ N. lat., 117°47.56′ W. long.;

(215) 33°27.50′ N. lat., 117°44.87′ W. long.;

(216) 33°16.89′ N. lat., 117°34.37′ W. long.;

(217) 33°06.66′ N. lat., 117°21.59′ W. long.;

(218) 33°03.35′ N. lat., 117°20.92′ W. long.;

(219) 33°00.07′ N. lat., 117°19.02′ W. long.;

(220) 32°55.99′ N. lat., 117°18.60′ W. long.;

(221) 32°54.43′ N. lat., 117°16.93′ W. long.;

(222) 32°52.13′ N. lat., 117°16.55′ W. long.;

(223) 32°52.61′ N. lat., 117°19.50′ W. long.;

(224) 32°46.95′ N. lat., 117°22.81′ W. long.;

(225) 32°45.01′ N. lat., 117°22.07′ W. long.;

(226) 32°43.40′ N. lat., 117°19.80′ W. long.; and

(227) 32°33.74′ N. lat., 117°18.67′ W. long.

(A) The 75 fm (137 m) depth contour around the northern Channel Islands off the state of California is defined by straight lines connecting all of the following points in the order stated:

(1) 34°09.12′ N. lat., 120°35.03′ W. long.;

(2) 34°09.99′ N. lat., 120°27.85′ W. long.;

(3) 34°07.19′ N. lat., 120°16.28′ W. long.;

(4) 34°06.56′ N. lat., 120°04.00′ W. long.;

(5) 34°07.27′ N. lat., 119°57.76′ W. long.;

(6) 34°07.48′ N. lat., 119°52.08′ W. long.;

(7) 34°05.18′ N. lat., 119°37.94′ W. long.;

(8) 34°05.22′ N. lat., 119°35.52′ W. long.;

(9) 34°06.18′ N. lat., 119°35.50′ W. long.;

(10) 34°06.16′ N. lat., 119°32.76′ W. long.;

(11) 34°05.12′ N. lat., 119°32.74′ W. long.;

(12) 34°04.32′ N. lat., 119°27.32′ W. long.;

(13) 34°04.06′ N. lat., 119°26.60′ W. long.;

(14) 34°04.00′ N. lat., 119°21.34′ W. long.;

(15) 34°03.00′ N. lat., 119°21.36′ W. long.;

(16) 34°02.32′ N. lat., 119°18.46′ W. long.;

(17) 34°00.65′ N. lat., 119°19.42′ W. long.;

(18) 33°59.45′ N. lat., 119°22.38′ W. long.;

(19) 33°58.68′ N. lat., 119°32.36′ W. long.;

(20) 33°56.12′ N. lat., 119°41.10′ W. long.;

(21) 33°55.74′ N. lat., 119°48.00′ W. long.;

(22) 33°55.21′ N. lat., 119°48.00′ W. long.;

(23) 33°55.21′ N. lat., 119°53.00′ W. long.;

(24) 33°57.78′ N. lat., 119°53.04′ W. long.;

(25) 33°59.06′ N. lat., 119°55.38′ W. long.;

(26) 33°57.57′ N. lat., 119°54.93′ W. long.;

(27) 33°56.35′ N. lat., 119°53.91′ W. long.;

(28) 33°54.43′ N. lat., 119°54.07′ W. long.;

(29) 33°52.67′ N. lat., 119°54.78′ W. long.;

(30) 33°48.33′ N. lat., 119°55.09′ W. long.;

(31) 33°47.28′ N. lat., 119°57.30′ W. long.;

(32) 33°47.36′ N. lat., 120°00.39′ W. long.;

(33) 33°49.16′ N. lat., 120°05.06′ W. long.;

(34) 33°51.41′ N. lat., 120°06.49′ W. long.;

(35) 33°51.41′ N. lat., 120°10.00′ W. long.;

(36) 33°52.99′ N. lat., 120°10.01′ W. long.;

(37) 33°56.64′ N. lat., 120°18.88′ W. long.;

(38) 33°58.02′ N. lat., 120°21.41′ W. long.;

(39) 33°58.73′ N. lat., 120°25.22′ W. long.;

(40) 33°58.49′ N. lat., 120°25.22′ W. long.;

(41) 33°58.48′ N. lat., 120°26.55′ W. long.;

(42) 33°59.08′ N. lat., 120°26.58′ W. long.;

(43) 33°59.95′ N. lat., 120°28.21′ W. long.;

(44) 34°03.54′ N. lat., 120°32.23′ W. long.;

(45) 34°03.54′ N. lat., 120°34.19′ W. long.;

(46) 34°05.57′ N. lat., 120°34.23′ W. long.;

(47) 34°08.13′ N. lat., 120°36.05′ W. long.; and

(48) 34°09.12′ N. lat., 120°35.03′ W. long.

(B) The 75 fm (137 m) depth contour around San Clemente Island off the state of California is defined by straight lines connecting all of the following points in the order stated:

(1) 33°04.54′ N. lat., 118°37.54′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.41′ N. lat., 118°21.98′ W. long.;

(8) 32°44.39′ N. lat., 118°24.49′ W. long.;

(9) 32°47.93′ N. lat., 118°29.90′ W. long.;

(10) 32°49.69′ N. lat., 118°31.52′ W. long.;

(11) 32°53.57′ N. lat., 118°33.09′ W. long.;

(12) 32°55.42′ N. lat., 118°35.17′ W. long.;

(13) 33°00.49′ N. lat., 118°38.56′ W. long.;

(14) 33°03.23′ N. lat., 118°39.16′ W. long.; and

(15) 33°04.54′ N. lat., 118°37.54′ W. long.

(C) The 75 fm (137 m) depth contour around Santa Catalina Island off the state of California is defined by straight lines connecting all of the following points in the order stated:

(1) 33°28.17′ N. lat., 118°38.16′ W. long.;

(2) 33°29.35′ N. lat., 118°36.23′ W. long.;

(3) 33°28.85′ N. lat., 118°30.85′ W. long.;

(4) 33°26.69′ N. lat., 118°27.37′ W. long.;

(5) 33°26.31′ N. lat., 118°25.14′ W. long.;

(6) 33°25.35′ N. lat., 118°22.83′ W. long.;

(7) 33°22.47′ N. lat., 118°18.53′ W. long.;

(8) 33°19.51′ N. lat., 118°16.82′ W. long.;

(9) 33°17.07′ N. lat., 118°16.38′ W. long.;

(10) 33°16.58′ N. lat., 118°17.61′ W. long.;

(11) 33°18.35′ N. lat., 118°27.86′ W. long.;

(12) 33°20.07′ N. lat., 118°32.12′ W. long.;

(13) 33°21.77′ N. lat., 118°31.85′ W. long.;

(14) 33°23.15′ N. lat., 118°29.99′ W. long.;

(15) 33°24.96′ N. lat., 118°32.21′ W. long.;

(16) 33°25.67′ N. lat., 118°34.88′ W. long.;

(17) 33°27.80′ N. lat., 118°37.90′ W. long.; and

(18) 33°28.17′ N. lat., 118°38.16′ W. long.

(vii) The 100 fm (183 m) depth contour used between the U.S. border with Canada and the U.S. border with Mexico is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°41.75′ N. lat., 124°28.12′ W. long.;

(96) 45°36.96′ N. lat., 124°24.48′ W. long.;

(97) 45°31.84′ N. lat., 124°22.04′ W. long.;

(98) 45°27.10′ N. lat., 124°21.74′ W. long.;

(99) 45°18.14′ N. lat., 124°17.59′ W. long.;

(100) 45°11.08′ N. lat., 124°16.97′ W. long.;

(101) 45°04.38′ N. lat., 124°18.36′ W. long.;

(102) 44°58.05′ N. lat., 124°21.58′ W. long.;

(103) 44°47.67′ N. lat., 124°31.41′ W. long.;

(104) 44°44.55′ N. lat., 124°33.58′ W. long.;

(105) 44°39.88′ N. lat., 124°35.01′ W. long.;

(106) 44°32.90′ N. lat., 124°36.81′ W. long.;

(107) 44°30.33′ N. lat., 124°38.56′ W. long.;

(108) 44°30.04′ N. lat., 124°42.31′ W. long.;

(109) 44°26.84′ N. lat., 124°44.91′ W. long.;

(110) 44°17.99′ N. lat., 124°51.03′ W. long.;

(111) 44°13.68′ N. lat., 124°56.38′ W. long.;

(112) 43°56.67′ N. lat., 124°55.45′ W. long.;

(113) 43°56.47′ N. lat., 124°34.61′ W. long.;

(114) 43°42.73′ N. lat., 124°32.41′ W. long.;

(115) 43°30.93′ N. lat., 124°34.43′ W. long.;

(116) 43°17.45′ N. lat., 124°41.16′ W. long.;

(117) 43°07.04′ N. lat., 124°41.25′ W. long.;

(118) 43°03.45′ N. lat., 124°44.36′ W. long.;

(119) 43°03.90′ N. lat., 124°50.81′ W. long.;

(120) 42°55.70′ N. lat., 124°52.79′ W. long.;

(121) 42°54.12′ N. lat., 124°47.36′ W. long.;

(122) 42°44.00′ N. lat., 124°42.38′ W. long.;

(123) 42°38.23′ N. lat., 124°41.25′ W. long.;

(124) 42°33.03′ N. lat., 124°42.38′ W. long.;

(125) 42°31.89′ N. lat., 124°42.04′ W. long.;

(126) 42°30.09′ N. lat., 124°42.67′ W. long.;

(127) 42°28.28′ N. lat., 124°47.08′ W. long.;

(128) 42°25.22′ N. lat., 124°43.51′ W. long.;

(129) 42°19.23′ N. lat., 124°37.92′ W. long.;

(130) 42°16.29′ N. lat., 124°36.11′ W. long.;

(131) 42°05.66′ N. lat., 124°34.92′ W. long.;

(132) 42°00.00′ N. lat., 124°35.27′ W. long.;

(133) 42°00.00′ N. lat., 124°35.26′ W. long.;

(134) 41°47.04′ N. lat., 124°27.64′ W. long.;

(135) 41°32.92′ N. lat., 124°28.79′ W. long.;

(136) 41°24.17′ N. lat., 124°28.46′ W. long.;

(137) 41°10.12′ N. lat., 124°20.50′ W. long.;

(138) 40°51.41′ N. lat., 124°24.38′ W. long.;

(139) 40°43.71′ N. lat., 124°29.89′ W. long.;

(140) 40°40.14′ N. lat., 124°30.90′ W. long.;

(141) 40°37.35′ N. lat., 124°29.05′ W. long.;

(142) 40°34.76′ N. lat., 124°29.82′ W. long.;

(143) 40°36.78′ N. lat., 124°37.06′ W. long.;

(144) 40°32.44′ N. lat., 124°39.58′ W. long.;

(145) 40°24.82′ N. lat., 124°35.12′ W. long.;

(146) 40°23.30′ N. lat., 124°31.60′ W. long.;

(147) 40°23.52′ N. lat., 124°28.78′ W. long.;

(148) 40°22.43′ N. lat., 124°25.00′ W. long.;

(149) 40°21.72′ N. lat., 124°24.94′ W. long.;

(150) 40°21.87′ N. lat., 124°27.96′ W. long.;

(151) 40°21.40′ N. lat., 124°28.74′ W. long.;

(152) 40°19.68′ N. lat., 124°28.49′ W. long.;

(153) 40°17.73′ N. lat., 124°25.43′ W. long.;

(154) 40°18.37′ N. lat., 124°23.35′ W. long.;

(155) 40°15.75′ N. lat., 124°26.05′ W. long.;

(156) 40°16.75′ N. lat., 124°33.71′ W. long.;

(157) 40°16.29′ N. lat., 124°34.36′ W. long.;

(158) 40°10.00′ N. lat., 124°21.12′ W. long.;

(159) 40°10.00′ N. lat., 124°21.50′ W. long.;

(160) 40°07.70′ N. lat., 124°18.44′ W. long.;

(161) 40°08.84′ N. lat., 124°15.86′ W. long.;

(162) 40°06.53′ N. lat., 124°17.39′ W. long.;

(163) 40°03.15′ N. lat., 124°14.43′ W. long.;

(164) 40°02.19′ N. lat., 124°12.85′ W. long.;

(165) 40°02.89′ N. lat., 124°11.78′ W. long.;

(166) 40°02.78′ N. lat., 124°10.70′ W. long.;

(167) 40°04.57′ N. lat., 124°10.08′ W. long.;

(168) 40°06.06′ N. lat., 124°08.30′ W. long.;

(169) 40°04.05′ N. lat., 124°08.93′ W. long.;

(170) 40°01.17′ N. lat., 124°08.80′ W. long.;

(171) 40°01.03′ N. lat., 124°10.06′ W. long.;

(172) 39°58.07′ N. lat., 124°11.89′ W. long.;

(173) 39°56.39′ N. lat., 124°08.71′ W. long.;

(174) 39°54.64′ N. lat., 124°07.30′ W. long.;

(175) 39°53.86′ N. lat., 124°07.95′ W. long.;

(176) 39°51.95′ N. lat., 124°07.63′ W. long.;

(177) 39°48.78′ N. lat., 124°03.29′ W. long.;

(178) 39°47.36′ N. lat., 124°03.31′ W. long.;

(179) 39°40.08′ N. lat., 123°58.37′ W. long.;

(180) 39°36.16′ N. lat., 123°56.90′ W. long.;

(181) 39°30.75′ N. lat., 123°55.86′ W. long.;

(182) 39°31.62′ N. lat., 123°57.33′ W. long.;

(183) 39°30.91′ N. lat., 123°57.88′ W. long.;

(184) 39°01.79′ N. lat., 123°56.59′ W. long.;

(185) 38°59.42′ N. lat., 123°55.67′ W. long.;

(186) 38°58.89′ N. lat., 123°56.28′ W. long.;

(187) 38°54.72′ N. lat., 123°55.68′ W. long.;

(188) 38°48.95′ N. lat., 123°51.85′ W. long.;

(189) 38°36.67′ N. lat., 123°40.20′ W. long.;

(190) 38°33.82′ N. lat., 123°39.23′ W. long.;

(191) 38°29.02′ N. lat., 123°33.52′ W. long.;

(192) 38°18.88′ N. lat., 123°25.93′ W. long.;

(193) 38°14.12′ N. lat., 123°23.26′ W. long.;

(194) 38°11.07′ N. lat., 123°22.07′ W. long.;

(195) 38°03.19′ N. lat., 123°20.70′ W. long.;

(196) 38°06.30′ N. lat., 123°24.96′ W. long.;

(197) 38°06.34′ N. lat., 123°29.25′ W. long.;

(198) 38°04.57′ N. lat., 123°31.23′ W. long.;

(199) 38°02.32′ N. lat., 123°31.00′ W. long.;

(200) 38°00.00′ N. lat., 123°28.41′ W. long.;

(201) 37°58.08′ N. lat., 123°26.68′ W. long.;

(202) 37°55.07′ N. lat., 123°26.81′ W. long.;

(203) 37°50.66′ N. lat., 123°23.06′ W. long.;

(204) 37°45.18′ N. lat., 123°11.88′ W. long.;

(205) 37°36.21′ N. lat., 123°01.20′ W. long.;

(206) 37°15.58′ N. lat., 122°48.36′ W. long.;

(207) 37°03.18′ N. lat., 122°38.15′ W. long.;

(208) 37°00.48′ N. lat., 122°33.93′ W. long.;

(209) 36°58.70′ N. lat., 122°27.22′ W. long.;

(210) 37°00.85′ N. lat., 122°24.70′ W. long.;

(211) 36°58.00′ N. lat., 122°24.14′ W. long.;

(212) 36°58.74′ N. lat., 122°21.51′ W. long.;

(213) 36°56.97′ N. lat., 122°21.32′ W. long.;

(214) 36°51.52′ N. lat., 122°10.68′ W. long.;

(215) 36°48.39′ N. lat., 122°07.60′ W. long.;

(216) 36°47.43′ N. lat., 122°03.22′ W. long.;

(217) 36°50.95′ N. lat., 121°58.03′ W. long.;

(218) 36°49.92′ N. lat., 121°58.01′ W. long.;

(219) 36°48.88′ N. lat., 121°58.90′ W. long.;

(220) 36°47.70′ N. lat., 121°58.75′ W. long.;

(221) 36°48.37′ N. lat., 121°51.14′ W. long.;

(222) 36°45.74′ N. lat., 121°54.17′ W. long.;

(223) 36°45.51′ N. lat., 121°57.72′ W. long.;

(224) 36°38.84′ N. lat., 122°01.32′ W. long.;

(225) 36°35.62′ N. lat., 122°00.98′ W. long.;

(226) 36°32.46′ N. lat., 121°59.15′ W. long.;

(227) 36°32.79′ N. lat., 121°57.67′ W. long.;

(228) 36°31.98′ N. lat., 121°56.55′ W. long.;

(229) 36°31.79′ N. lat., 121°58.40′ W. long.;

(230) 36°30.73′ N. lat., 121°59.70′ W. long.;

(231) 36°30.31′ N. lat., 122°00.22′ W. long.;

(232) 36°29.35′ N. lat., 122°00.36′ W. long.;

(233) 36°27.66′ N. lat., 121°59.80′ W. long.;

(234) 36°26.22′ N. lat., 121°58.35′ W. long.;

(235) 36°21.20′ N. lat., 122°00.72′ W. long.;

(236) 36°20.47′ N. lat., 122°02.92′ W. long.;

(237) 36°18.46′ N. lat., 122°04.51′ W. long.;

(238) 36°15.92′ N. lat., 122°01.33′ W. long.;

(239) 36°13.76′ N. lat., 121°57.27′ W. long.;

(240) 36°14.43′ N. lat., 121°55.43′ W. long.;

(241) 36°10.24′ N. lat., 121°43.08′ W. long.;

(242) 36°07.66′ N. lat., 121°40.91′ W. long.;

(243) 36°02.49′ N. lat., 121°36.51′ W. long.;

(244) 36°01.07′ N. lat., 121°36.82′ W. long.;

(245) 35°57.84′ N. lat., 121°33.10′ W. long.;

(246) 35°50.36′ N. lat., 121°29.32′ W. long.;

(247) 35°39.03′ N. lat., 121°22.86′ W. long.;

(248) 35°24.30′ N. lat., 121°02.56′ W. long.;

(249) 35°16.53′ N. lat., 121°00.39′ W. long.;

(250) 35°04.82′ N. lat., 120°53.96′ W. long.;

(251) 34°52.51′ N. lat., 120°51.62′ W. long.;

(252) 34°43.36′ N. lat., 120°52.12′ W. long.;

(253) 34°37.64′ N. lat., 120°49.99′ W. long.;

(254) 34°30.80′ N. lat., 120°45.02′ W. long.;

(255) 34°27.00′ N. lat., 120°39.00′ W. long.;

(256) 34°21.90′ N. lat., 120°25.25′ W. long.;

(257) 34°24.86′ N. lat., 120°16.81′ W. long.;

(258) 34°22.80′ N. lat., 119°57.06′ W. long.;

(259) 34°18.59′ N. lat., 119°44.84′ W. long.;

(260) 34°15.04′ N. lat., 119°40.34′ W. long.;

(261) 34°14.40′ N. lat., 119°45.39′ W. long.;

(262) 34°12.32′ N. lat., 119°42.41′ W. long.;

(263) 34°09.71′ N. lat., 119°28.85′ W. long.;

(264) 34°04.70′ N. lat., 119°15.38′ W. long.;

(265) 34°03.33′ N. lat., 119°12.93′ W. long.;

(266) 34°02.72′ N. lat., 119°07.01′ W. long.;

(267) 34°03.90′ N. lat., 119°04.64′ W. long.;

(268) 34°01.80′ N. lat., 119°03.23′ W. long.;

(269) 33°59.32′ N. lat., 119°03.50′ W. long.;

(270) 33°59.00′ N. lat., 118°59.55′ W. long.;

(271) 33°59.51′ N. lat., 118°57.25′ W. long.;

(272) 33°58.82′ N. lat., 118°52.47′ W. long.;

(273) 33°58.54′ N. lat., 118°41.86′ W. long.;

(274) 33°55.07′ N. lat., 118°34.25′ W. long.;

(275) 33°54.28′ N. lat., 118°38.68′ W. long.;

(276) 33°51.00′ N. lat., 118°36.66′ W. long.;

(277) 33°39.77′ N. lat., 118°18.41′ W. long.;

(278) 33°35.50′ N. lat., 118°16.85′ W. long.;

(279) 33°32.68′ N. lat., 118°09.82′ W. long.;

(280) 33°34.09′ N. lat., 117°54.06′ W. long.;

(281) 33°31.60′ N. lat., 117°49.28′ W. long.;

(282) 33°16.07′ N. lat., 117°34.74′ W. long.;

(283) 33°07.06′ N. lat., 117°22.71′ W. long.;

(284) 32°59.28′ N. lat., 117°19.69′ W. long.;

(285) 32°55.36′ N. lat., 117°19.54′ W. long.;

(286) 32°53.35′ N. lat., 117°17.05′ W. long.;

(287) 32°53.34′ N. lat., 117°19.13′ W. long.;

(288) 32°46.39′ N. lat., 117°23.45′ W. long.;

(289) 32°42.79′ N. lat., 117°21.16′ W. long.; and

(290) 32°34.22′ N. lat., 117°21.20′ W. long.

(viii) The 125 fm (229 m) depth contour used between the U.S. border with Canada and the U.S. border with Mexico is defined by straight lines connecting all of the following points in the order stated:

(1) 48°15.00′ N. lat., 125°41.13′ W. long.;

(2) 48°13.05′ N. lat., 125°37.43′ W. long.;

(3) 48°08.62′ N. lat., 125°41.68′ W. long.;

(4) 48°07.42′ N. lat., 125°42.38′ W. long.;

(5) 48°04.20′ N. lat., 125°36.57′ W. long.;

(6) 48°02.79′ N. lat., 125°35.55′ W. long.;

(7) 48°00.48′ N. lat., 125°37.84′ W. long.;

(8) 47°54.90′ N. lat., 125°34.79′ W. long.;

(9) 47°58.37′ N. lat., 125°26.58′ W. long.;

(10) 47°59.84′ N. lat., 125°25.20′ W. long.;

(11) 48°01.85′ N. lat., 125°24.12′ W. long.;

(12) 48°02.13′ N. lat., 125°22.80′ W. long.;

(13) 48°03.31′ N. lat., 125°22.46′ W. long.;

(14) 48°06.83′ N. lat., 125°17.73′ W. long.;

(15) 48°10.08′ N. lat., 125°15.56′ W. long.;

(16) 48°11.24′ N. lat., 125°13.72′ W. long.;

(17) 48°12.41′ N. lat., 125°14.48′ W. long.;

(18) 48°13.01′ N. lat., 125°13.77′ W. long.;

(19) 48°13.59′ N. lat., 125°12.83′ W. long.;

(20) 48°12.22′ N. lat., 125°12.28′ W. long.;

(21) 48°11.15′ N. lat., 125°12.26′ W. long.;

(22) 48°10.18′ N. lat., 125°10.44′ W. long.;

(23) 48°10.18′ N. lat., 125°06.32′ W. long.;

(24) 48°15.39′ N. lat., 125°02.83′ W. long.;

(25) 48°18.32′ N. lat., 125°01.00′ W. long.;

(26) 48°21.67′ N. lat., 125°01.86′ W. long.;

(27) 48°25.70′ N. lat., 125°00.10′ W. long.;

(28) 48°26.43′ N. lat., 124°56.65′ W. long.;

(29) 48°24.28′ N. lat., 124°56.48′ W. long.;

(30) 48°23.27′ N. lat., 124°59.12′ W. long.;

(31) 48°21.79′ N. lat., 124°59.30′ W. long.;

(32) 48°20.71′ N. lat., 124°58.74′ W. long.;

(33) 48°19.84′ N. lat., 124°57.09′ W. long.;

(34) 48°22.06′ N. lat., 124°54.78′ W. long.;

(35) 48°22.45′ N. lat., 124°53.35′ W. long.;

(36) 48°22.74′ N. lat., 124°50.96′ W. long.;

(37) 48°21.04′ N. lat., 124°52.60′ W. long.;

(38) 48°18.07′ N. lat., 124°55.85′ W. long.;

(39) 48°15.03′ N. lat., 124°58.16′ W. long.;

(40) 48°11.31′ N. lat., 124°58.53′ W. long.;

(41) 48°06.25′ N. lat., 125°00.06′ W. long.;

(42) 48°04.70′ N. lat., 125°01.80′ W. long.;

(43) 48°04.93′ N. lat., 125°03.92′ W. long.;

(44) 48°06.44′ N. lat., 125°06.50′ W. long.;

(45) 48°07.34′ N. lat., 125°09.35′ W. long.;

(46) 48°07.62′ N. lat., 125°11.37′ W. long.;

(47) 48°03.71′ N. lat., 125°17.63′ W. long.;

(48) 48°01.35′ N. lat., 125°18.66′ W. long.;

(49) 48°00.05′ N. lat., 125°19.66′ W. long.;

(50) 47°59.51′ N. lat., 125°18.90′ W. long.;

(51) 47°58.29′ N. lat., 125°16.64′ W. long.;

(52) 47°54.67′ N. lat., 125°13.20′ W. long.;

(53) 47°53.15′ N. lat., 125°12.53′ W. long.;

(54) 47°48.46′ N. lat., 125°04.72′ W. long.;

(55) 47°46.10′ N. lat., 125°04.00′ W. long.;

(56) 47°44.60′ N. lat., 125°04.49′ W. long.;

(57) 47°42.90′ N. lat., 125°04.72′ W. long.;

(58) 47°40.71′ N. lat., 125°04.68′ W. long.;

(59) 47°39.02′ N. lat., 125°05.63′ W. long.;

(60) 47°34.86′ N. lat., 125°02.11′ W. long.;

(61) 47°31.64′ N. lat., 124°58.11′ W. long.;

(62) 47°29.69′ N. lat., 124°55.71′ W. long.;

(63) 47°29.35′ N. lat., 124°53.23′ W. long.;

(64) 47°28.56′ N. lat., 124°51.34′ W. long.;

(65) 47°25.31′ N. lat., 124°48.20′ W. long.;

(66) 47°23.92′ N. lat., 124°47.15′ W. long.;

(67) 47°18.09′ N. lat., 124°45.74′ W. long.;

(68) 47°18.65′ N. lat., 124°51.51′ W. long.;

(69) 47°18.12′ N. lat., 124°52.58′ W. long.;

(70) 47°17.64′ N. lat., 124°50.45′ W. long.;

(71) 47°16.31′ N. lat., 124°50.92′ W. long.;

(72) 47°15.60′ N. lat., 124°52.62′ W. long.;

(73) 47°14.25′ N. lat., 124°52.49′ W. long.;

(74) 47°11.32′ N. lat., 124°57.19′ W. long.;

(75) 47°09.14′ N. lat., 124°57.46′ W. long.;

(76) 47°08.83′ N. lat., 124°58.47′ W. long.;

(77) 47°05.88′ N. lat., 124°58.26′ W. long.;

(78) 47°03.60′ N. lat., 124°55.84′ W. long.;

(79) 47°02.91′ N. lat., 124°56.15′ W. long.;

(80) 47°01.08′ N. lat., 124°59.46′ W. long.;

(81) 46°58.13′ N. lat., 124°58.83′ W. long.;

(82) 46°57.44′ N. lat., 124°57.78′ W. long.;

(83) 46°55.98′ N. lat., 124°54.60′ W. long.;

(84) 46°54.90′ N. lat., 124°54.14′ W. long.;

(85) 46°58.47′ N. lat., 124°49.65′ W. long.;

(86) 46°54.44′ N. lat., 124°48.79′ W. long.;

(87) 46°54.41′ N. lat., 124°52.87′ W. long.;

(88) 46°49.36′ N. lat., 124°52.77′ W. long.;

(89) 46°40.06′ N. lat., 124°45.34′ W. long.;

(90) 46°39.64′ N. lat., 124°42.21′ W. long.;

(91) 46°34.27′ N. lat., 124°34.63′ W. long.;

(92) 46°33.58′ N. lat., 124°29.10′ W. long.;

(93) 46°25.64′ N. lat., 124°32.57′ W. long.;

(94) 46°21.33′ N. lat., 124°36.36′ W. long.;

(95) 46°20.59′ N. lat., 124°36.15′ W. long.;

(96) 46°19.38′ N. lat., 124°38.21′ W. long.;

(97) 46°17.94′ N. lat., 124°38.10′ W. long.;

(98) 46°16.00′ N. lat., 124°35.35′ W. long.;

(99) 46°16.00′ N. lat., 124°22.17′ W. long.;

(100) 46°13.37′ N. lat., 124°30.70′ W. long.;

(101) 46°12.20′ N. lat., 124°36.04′ W. long.;

(102) 46°11.01′ N. lat., 124°38.68′ W. long.;

(103) 46°09.73′ N. lat., 124°39.91′ W. long.;

(104) 46°03.23′ N. lat., 124°42.03′ W. long.;

(105) 46°01.17′ N. lat., 124°42.06′ W. long.;

(106) 46°00.35′ N. lat., 124°42.26′ W. long.;

(107) 45°52.81′ N. lat., 124°41.62′ W. long.;

(108) 45°49.70′ N. lat., 124°41.14′ W. long.;

(109) 45°45.18′ N. lat., 124°38.39′ W. long.;

(110) 45°43.24′ N. lat., 124°37.77′ W. long.;

(111) 45°34.75′ N. lat., 124°28.59′ W. long.;

(112) 45°19.90′ N. lat., 124°21.34′ W. long.;

(113) 45°12.44′ N. lat., 124°19.35′ W. long.;

(114) 45°07.48′ N. lat., 124°19.73′ W. long.;

(115) 44°59.96′ N. lat., 124°22.91′ W. long.;

(116) 44°54.72′ N. lat., 124°26.84′ W. long.;

(117) 44°51.15′ N. lat., 124°31.41′ W. long.;

(118) 44°49.97′ N. lat., 124°32.37′ W. long.;

(119) 44°47.06′ N. lat., 124°34.43′ W. long.;

(120) 44°41.37′ N. lat., 124°36.51′ W. long.;

(121) 44°32.78′ N. lat., 124°37.86′ W. long.;

(122) 44°29.44′ N. lat., 124°44.25′ W. long.;

(123) 44°27.95′ N. lat., 124°45.13′ W. long.;

(124) 44°24.73′ N. lat., 124°47.42′ W. long.;

(125) 44°19.67′ N. lat., 124°51.17′ W. long.;

(126) 44°17.96′ N. lat., 124°52.53′ W. long.;

(127) 44°13.70′ N. lat., 124°56.45′ W. long.;

(128) 44°12.26′ N. lat., 124°57.53′ W. long.;

(129) 44°07.57′ N. lat., 124°57.19′ W. long.;

(130) 44°04.78′ N. lat., 124°56.31′ W. long.;

(131) 44°01.14′ N. lat., 124°56.07′ W. long.;

(132) 43°57.39′ N. lat., 124°57.01′ W. long.;

(133) 43°54.58′ N. lat., 124°52.18′ W. long.;

(134) 43°53.18′ N. lat., 124°47.41′ W. long.;

(135) 43°53.60′ N. lat., 124°37.45′ W. long.;

(136) 43°53.04′ N. lat., 124°36.00′ W. long.;

(137) 43°47.93′ N. lat., 124°35.18′ W. long.;

(138) 43°39.32′ N. lat., 124°35.14′ W. long.;

(139) 43°32.38′ N. lat., 124°35.26′ W. long.;

(140) 43°30.32′ N. lat., 124°36.79′ W. long.;

(141) 43°27.81′ N. lat., 124°36.42′ W. long.;

(142) 43°23.73′ N. lat., 124°39.66′ W. long.;

(143) 43°17.78′ N. lat., 124°42.84′ W. long.;

(144) 43°10.48′ N. lat., 124°43.54′ W. long.;

(145) 43°04.77′ N. lat., 124°45.51′ W. long.;

(146) 43°05.94′ N. lat., 124°49.77′ W. long.;

(147) 43°03.38′ N. lat., 124°51.86′ W. long.;

(148) 42°59.32′ N. lat., 124°51.93′ W. long.;

(149) 42°56.80′ N. lat., 124°53.38′ W. long.;

(150) 42°54.54′ N. lat., 124°52.72′ W. long.;

(151) 42°52.89′ N. lat., 124°47.45′ W. long.;

(152) 42°48.10′ N. lat., 124°46.75′ W. long.;

(153) 42°46.34′ N. lat., 124°43.53′ W. long.;

(154) 42°41.66′ N. lat., 124°42.70′ W. long.;

(155) 42°32.53′ N. lat., 124°42.77′ W. long.;

(156) 42°29.74′ N. lat., 124°43.81′ W. long.;

(157) 42°28.07′ N. lat., 124°47.65′ W. long.;

(158) 42°21.58′ N. lat., 124°41.41′ W. long.;

(159) 42°15.17′ N. lat., 124°36.25′ W. long.;

(160) 42°08.28′ N. lat., 124°36.08′ W. long.;

(161) 42°00.00′ N. lat., 124°35.46′ W. long.;

(162) 42°00.00′ N. lat., 124°35.45′ W. long.;

(163) 41°47.67′ N. lat., 124°28.67′ W. long.;

(164) 41°32.91′ N. lat., 124°29.01′ W. long.;

(165) 41°22.57′ N. lat., 124°28.66′ W. long.;

(166) 41°13.38′ N. lat., 124°22.88′ W. long.;

(167) 41°06.42′ N. lat., 124°22.02′ W. long.;

(168) 40°50.19′ N. lat., 124°25.58′ W. long.;

(169) 40°44.08′ N. lat., 124°30.43′ W. long.;

(170) 40°40.54′ N. lat., 124°31.75′ W. long.;

(171) 40°37.36′ N. lat., 124°29.17′ W. long.;

(172) 40°35.30′ N. lat., 124°30.03′ W. long.;

(173) 40°37.02′ N. lat., 124°37.10′ W. long.;

(174) 40°35.82′ N. lat., 124°39.58′ W. long.;

(175) 40°31.70′ N. lat., 124°39.97′ W. long.;

(176) 40°29.71′ N. lat., 124°38.08′ W. long.;

(177) 40°24.77′ N. lat., 124°35.39′ W. long.;

(178) 40°23.22′ N. lat., 124°31.87′ W. long.;

(179) 40°23.40′ N. lat., 124°28.65′ W. long.;

(180) 40°22.30′ N. lat., 124°25.27′ W. long.;

(181) 40°21.91′ N. lat., 124°25.18′ W. long.;

(182) 40°21.91′ N. lat., 124°27.97′ W. long.;

(183) 40°21.37′ N. lat., 124°29.03′ W. long.;

(184) 40°19.74′ N. lat., 124°28.71′ W. long.;

(185) 40°18.52′ N. lat., 124°27.26′ W. long.;

(186) 40°17.57′ N. lat., 124°25.49′ W. long.;

(187) 40°18.20′ N. lat., 124°23.63′ W. long.;

(188) 40°15.89′ N. lat., 124°26.00′ W. long.;

(189) 40°17.00′ N. lat., 124°35.01′ W. long.;

(190) 40°15.97′ N. lat., 124°35.91′ W. long.;

(191) 40°10.01′ N. lat., 124°22.00′ W. long.;

(192) 40°07.35′ N. lat., 124°18.64′ W. long.;

(193) 40°08.46′ N. lat., 124°16.24′ W. long.;

(194) 40°06.26′ N. lat., 124°17.54′ W. long.;

(195) 40°03.26′ N. lat., 124°15.30′ W. long.;

(196) 40°02.00′ N. lat., 124°12.97′ W. long.;

(197) 40°02.60′ N. lat., 124°10.61′ W. long.;

(198) 40°03.63′ N. lat., 124°09.12′ W. long.;

(199) 40°02.18′ N. lat., 124°09.07′ W. long.;

(200) 40°01.26′ N. lat., 124°09.86′ W. long.;

(201) 39°58.05′ N. lat., 124°11.87′ W. long.;

(202) 39°56.39′ N. lat., 124°08.70′ W. long.;

(203) 39°54.64′ N. lat., 124°07.31′ W. long.;

(204) 39°53.87′ N. lat., 124°07.95′ W. long.;

(205) 39°52.42′ N. lat., 124°08.18′ W. long.;

(206) 39°42.50′ N. lat., 124°00.60′ W. long.;

(207) 39°34.23′ N. lat., 123°56.82′ W. long.;

(208) 39°33.00′ N. lat., 123°56.44′ W. long.;

(209) 39°30.96′ N. lat., 123°56.00′ W. long.;

(210) 39°32.03′ N. lat., 123°57.44′ W. long.;

(211) 39°31.43′ N. lat., 123°58.16′ W. long.;

(212) 39°05.56′ N. lat., 123°57.24′ W. long.;

(213) 39°01.75′ N. lat., 123°56.83′ W. long.;

(214) 38°59.52′ N. lat., 123°55.95′ W. long.;

(215) 38°58.98′ N. lat., 123°56.57′ W. long.;

(216) 38°53.91′ N. lat., 123°56.00′ W. long.;

(217) 38°42.57′ N. lat., 123°46.60′ W. long.;

(218) 38°28.72′ N. lat., 123°35.61′ W. long.;

(219) 38°28.01′ N. lat., 123°36.47′ W. long.;

(220) 38°20.94′ N. lat., 123°31.26′ W. long.;

(221) 38°15.94′ N. lat., 123°25.33′ W. long.;

(222) 38°10.95′ N. lat., 123°23.19′ W. long.;

(223) 38°05.52′ N. lat., 123°22.90′ W. long.;

(224) 38°08.46′ N. lat., 123°26.23′ W. long.;

(225) 38°06.95′ N. lat., 123°28.03′ W. long.;

(226) 38°06.34′ N. lat., 123°29.80′ W. long.;

(227) 38°04.57′ N. lat., 123°31.24′ W. long.;

(228) 38°02.33′ N. lat., 123°31.02′ W. long.;

(229) 38°00.00′ N. lat., 123°28.23′ W. long.;

(230) 37°58.10′ N. lat., 123°26.69′ W. long.;

(231) 37°55.46′ N. lat., 123°27.05′ W. long.;

(232) 37°51.51′ N. lat., 123°24.86′ W. long.;

(233) 37°45.01′ N. lat., 123°12.09′ W. long.;

(234) 37°36.47′ N. lat., 123°01.56′ W. long.;

(235) 37°26.62′ N. lat., 122°56.21′ W. long.;

(236) 37°14.41′ N. lat., 122°49.07′ W. long.;

(237) 37°03.19′ N. lat., 122°38.31′ W. long.;

(238) 37°00.99′ N. lat., 122°35.51′ W. long.;

(239) 36°58.23′ N. lat., 122°27.36′ W. long.;

(240) 37°00.54′ N. lat., 122°24.74′ W. long.;

(241) 36°57.81′ N. lat., 122°24.65′ W. long.;

(242) 36°58.54′ N. lat., 122°21.67′ W. long.;

(243) 36°56.52′ N. lat., 122°21.70′ W. long.;

(244) 36°55.37′ N. lat., 122°18.45′ W. long.;

(245) 36°52.16′ N. lat., 122°12.17′ W. long.;

(246) 36°51.53′ N. lat., 122°10.67′ W. long.;

(247) 36°48.05′ N. lat., 122°07.59′ W. long.;

(248) 36°47.35′ N. lat., 122°03.27′ W. long.;

(249) 36°50.71′ N. lat., 121°58.17′ W. long.;

(250) 36°48.89′ N. lat., 121°58.90′ W. long.;

(251) 36°47.70′ N. lat., 121°58.76′ W. long.;

(252) 36°48.37′ N. lat., 121°51.15′ W. long.;

(253) 36°45.74′ N. lat., 121°54.18′ W. long.;

(254) 36°45.50′ N. lat., 121°57.73′ W. long.;

(255) 36°44.02′ N. lat., 121°58.55′ W. long.;

(256) 36°38.84′ N. lat., 122°01.32′ W. long.;

(257) 36°35.63′ N. lat., 122°00.98′ W. long.;

(258) 36°32.47′ N. lat., 121°59.17′ W. long.;

(259) 36°32.52′ N. lat., 121°57.62′ W. long.;

(260) 36°30.16′ N. lat., 122°00.55′ W. long.;

(261) 36°24.56′ N. lat., 121°59.19′ W. long.;

(262) 36°22.19′ N. lat., 122°00.30′ W. long.;

(263) 36°20.62′ N. lat., 122°02.93′ W. long.;

(264) 36°18.89′ N. lat., 122°05.18′ W. long.;

(265) 36°14.45′ N. lat., 121°59.44′ W. long.;

(266) 36°13.73′ N. lat., 121°57.38′ W. long.;

(267) 36°14.41′ N. lat., 121°55.45′ W. long.;

(268) 36°10.25′ N. lat., 121°43.08′ W. long.;

(269) 36°07.67′ N. lat., 121°40.92′ W. long.;

(270) 36°02.51′ N. lat., 121°36.76′ W. long.;

(271) 36°01.08′ N. lat., 121°36.82′ W. long.;

(272) 35°57.84′ N. lat., 121°33.10′ W. long.;

(273) 35°45.57′ N. lat., 121°27.26′ W. long.;

(274) 35°39.02′ N. lat., 121°22.86′ W. long.;

(275) 35°25.92′ N. lat., 121°05.52′ W. long.;

(276) 35°16.26′ N. lat., 121°01.50′ W. long.;

(277) 35°07.60′ N. lat., 120°56.49′ W. long.;

(278) 34°57.77′ N. lat., 120°53.87′ W. long.;

(279) 34°42.30′ N. lat., 120°53.42′ W. long.;

(280) 34°37.69′ N. lat., 120°50.04′ W. long.;

(281) 34°30.13′ N. lat., 120°44.45′ W. long.;

(282) 34°27.00′ N. lat., 120°39.24′ W. long.;

(283) 34°24.71′ N. lat., 120°35.37′ W. long.;

(284) 34°21.63′ N. lat., 120°24.86′ W. long.;

(285) 34°24.39′ N. lat., 120°16.65′ W. long.;

(286) 34°22.48′ N. lat., 119°56.42′ W. long.;

(287) 34°18.54′ N. lat., 119°46.26′ W. long.;

(288) 34°16.37′ N. lat., 119°45.12′ W. long.;

(289) 34°15.91′ N. lat., 119°47.29′ W. long.;

(290) 34°13.80′ N. lat., 119°45.40′ W. long.;

(291) 34°11.69′ N. lat., 119°41.80′ W. long.;

(292) 34°09.98′ N. lat., 119°31.87′ W. long.;

(293) 34°08.12′ N. lat., 119°27.71′ W. long.;

(294) 34°06.35′ N. lat., 119°32.65′ W. long.;

(295) 34°06.80′ N. lat., 119°40.08′ W. long.;

(296) 34°07.48′ N. lat., 119°47.54′ W. long.;

(297) 34°08.21′ N. lat., 119°54.90′ W. long.;

(298) 34°06.85′ N. lat., 120°05.60′ W. long.;

(299) 34°06.99′ N. lat., 120°10.37′ W. long.;

(300) 34°08.53′ N. lat., 120°17.89′ W. long.;

(301) 34°10.00′ N. lat., 120°23.05′ W. long.;

(302) 34°12.53′ N. lat., 120°29.82′ W. long.;

(303) 34°09.02′ N. lat., 120°37.47′ W. long.;

(304) 34°01.01′ N. lat., 120°31.17′ W. long.;

(305) 33°58.07′ N. lat., 120°28.33′ W. long.;

(306) 33°53.37′ N. lat., 120°14.43′ W. long.;

(307) 33°50.53′ N. lat., 120°07.20′ W. long.;

(308) 33°45.88′ N. lat., 120°04.26′ W. long.;

(309) 33°38.19′ N. lat., 119°57.85′ W. long.;

(310) 33°38.19′ N. lat., 119°50.42′ W. long.;

(311) 33°42.36′ N. lat., 119°49.60′ W. long.;

(312) 33°53.95′ N. lat., 119°53.81′ W. long.;

(313) 33°55.85′ N. lat., 119°43.34′ W. long.;

(314) 33°58.48′ N. lat., 119°27.90′ W. long.;

(315) 34°00.34′ N. lat., 119°19.22′ W. long.;

(316) 34°04.48′ N. lat., 119°15.32′ W. long.;

(317) 34°02.80′ N. lat., 119°12.95′ W. long.;

(318) 34°02.39′ N. lat., 119°07.17′ W. long.;

(319) 34°03.75′ N. lat., 119°04.72′ W. long.;

(320) 34°01.82′ N. lat., 119°03.24′ W. long.;

(321) 33°59.33′ N. lat., 119°03.49′ W. long.;

(322) 33°59.01′ N. lat., 118°59.56′ W. long.;

(323) 33°59.51′ N. lat., 118°57.25′ W. long.;

(324) 33°58.83′ N. lat., 118°52.50′ W. long.;

(325) 33°58.55′ N. lat., 118°41.86′ W. long.;

(326) 33°55.10′ N. lat., 118°34.25′ W. long.;

(327) 33°54.30′ N. lat., 118°38.71′ W. long.;

(328) 33°50.88′ N. lat., 118°37.02′ W. long.;

(329) 33°39.78′ N. lat., 118°18.40′ W. long.;

(330) 33°35.50′ N. lat., 118°16.85′ W. long.;

(331) 33°32.46′ N. lat., 118°10.90′ W. long.;

(332) 33°34.11′ N. lat., 117°54.07′ W. long.;

(333) 33°31.61′ N. lat., 117°49.30′ W. long.;

(334) 33°16.36′ N. lat., 117°35.48′ W. long.;

(335) 33°06.81′ N. lat., 117°22.93′ W. long.;

(336) 32°59.28′ N. lat., 117°19.69′ W. long.;

(337) 32°55.37′ N. lat., 117°19.55′ W. long.;

(338) 32°53.35′ N. lat., 117°17.05′ W. long.;

(339) 32°53.36′ N. lat., 117°19.12′ W. long.;

(340) 32°46.42′ N. lat., 117°23.45′ W. long.;

(341) 32°42.71′ N. lat., 117°21.45′ W. long.; and

(342) 32°34.54′ N. lat., 117°23.04′ W. long.

(ix) The 150 fm (274 m) depth contour used between the U.S. border with Canada and the U.S. border with Mexico is defined by straight lines connecting all of the following points in the order stated:

(1) 48°14.96′ N. lat., 125°41.24′ W. long.;

(2) 48°12.89′ N. lat., 125°37.83′ W. long.;

(3) 48°11.49′ N. lat., 125°39.27′ W. long.;

(4) 48°08.72′ N. lat., 125°41.84′ W. long.;

(5) 48°07.00′ N. lat., 125°45.00′ W. long.;

(6) 48°06.13′ N. lat., 125°41.57′ W. long.;

(7) 48°05.00′ N. lat., 125°39.00′ W. long.;

(8) 48°04.15′ N. lat., 125°36.71′ W. long.;

(9) 48°03.00′ N. lat., 125°36.00′ W. long.;

(10) 48°01.65′ N. lat., 125°36.96′ W. long.;

(11) 48°01.00′ N. lat., 125°38.50′ W. long.;

(12) 47°57.50′ N. lat., 125°36.50′ W. long.;

(13) 47°54.50′ N. lat., 125°35.00′ W. long.;

(14) 47°56.53′ N. lat., 125°30.33′ W. long.;

(15) 47°57.28′ N. lat., 125°27.89′ W. long.;

(16) 47°59.00′ N. lat., 125°25.50′ W. long.;

(17) 48°01.77′ N. lat., 125°24.05′ W. long.;

(18) 48°02.13′ N. lat., 125°22.80′ W. long.;

(19) 48°03.00′ N. lat., 125°22.50′ W. long.;

(20) 48°03.46′ N. lat., 125°22.10′ W. long.;

(21) 48°04.29′ N. lat., 125°20.37′ W. long.;

(22) 48°02.00′ N. lat., 125°18.50′ W. long.;

(23) 48°00.01′ N. lat., 125°19.90′ W. long.;

(24) 47°58.75′ N. lat., 125°17.54′ W. long.;

(25) 47°53.50′ N. lat., 125°13.50′ W. long.;

(26) 47°48.88′ N. lat., 125°05.91′ W. long.;

(27) 47°47.18′ N. lat., 125°06.60′ W. long.;

(28) 47°48.50′ N. lat., 125°05.00′ W. long.;

(29) 47°45.98′ N. lat., 125°04.26′ W. long.;

(30) 47°45.00′ N. lat., 125°05.50′ W. long.;

(31) 47°42.11′ N. lat., 125°04.74′ W. long.;

(32) 47°39.00′ N. lat., 125°06.00′ W. long.;

(33) 47°35.53′ N. lat., 125°04.55′ W. long.;

(34) 47°30.90′ N. lat., 124°57.31′ W. long.;

(35) 47°29.54′ N. lat., 124°56.50′ W. long.;

(36) 47°29.50′ N. lat., 124°54.50′ W. long.;

(37) 47°28.57′ N. lat., 124°51.50′ W. long.;

(38) 47°25.00′ N. lat., 124°48.00′ W. long.;

(39) 47°23.95′ N. lat., 124°47.24′ W. long.;

(40) 47°23.00′ N. lat., 124°47.00′ W. long.;

(41) 47°21.00′ N. lat., 124°46.50′ W. long.;

(42) 47°18.20′ N. lat., 124°45.84′ W. long.;

(43) 47°18.50′ N. lat., 124°49.00′ W. long.;

(44) 47°19.17′ N. lat., 124°50.86′ W. long.;

(45) 47°18.07′ N. lat., 124°53.29′ W. long.;

(46) 47°17.78′ N. lat., 124°51.39′ W. long.;

(47) 47°16.81′ N. lat., 124°50.85′ W. long.;

(48) 47°15.96′ N. lat., 124°53.15′ W. long.;

(49) 47°14.31′ N. lat., 124°52.62′ W. long.;

(50) 47°11.87′ N. lat., 124°56.90′ W. long.;

(51) 47°12.39′ N. lat., 124°58.09′ W. long.;

(52) 47°09.50′ N. lat., 124°57.50′ W. long.;

(53) 47°09.00′ N. lat., 124°59.00′ W. long.;

(54) 47°06.06′ N. lat., 124°58.80′ W. long.;

(55) 47°03.62′ N. lat., 124°55.96′ W. long.;

(56) 47°02.89′ N. lat., 124°56.89′ W. long.;

(57) 47°01.04′ N. lat., 124°59.54′ W. long.;

(58) 46°58.47′ N. lat., 124°59.08′ W. long.;

(59) 46°58.29′ N. lat., 125°00.28′ W. long.;

(60) 46°56.30′ N. lat., 125°00.75′ W. long.;

(61) 46°57.09′ N. lat., 124°58.86′ W. long.;

(62) 46°55.95′ N. lat., 124°54.88′ W. long.;

(63) 46°54.79′ N. lat., 124°54.14′ W. long.;

(64) 46°58.00′ N. lat., 124°50.00′ W. long.;

(65) 46°54.50′ N. lat., 124°49.00′ W. long.;

(66) 46°54.53′ N. lat., 124°52.94′ W. long.;

(67) 46°49.52′ N. lat., 124°53.41′ W. long.;

(68) 46°39.50′ N. lat., 124°47.00′ W. long.;

(69) 46°39.50′ N. lat., 124°42.50′ W. long.;

(70) 46°37.50′ N. lat., 124°41.00′ W. long.;

(71) 46°36.50′ N. lat., 124°38.00′ W. long.;

(72) 46°33.85′ N. lat., 124°36.99′ W. long.;

(73) 46°33.50′ N. lat., 124°29.50′ W. long.;

(74) 46°32.00′ N. lat., 124°31.00′ W. long.;

(75) 46°30.53′ N. lat., 124°30.55′ W. long.;

(76) 46°25.50′ N. lat., 124°33.00′ W. long.;

(77) 46°23.00′ N. lat., 124°35.00′ W. long.;

(78) 46°21.50′ N. lat., 124°37.00′ W. long.;

(79) 46°20.64′ N. lat., 124°36.21′ W. long.;

(80) 46°20.36′ N. lat., 124°37.85′ W. long.;

(81) 46°19.48′ N. lat., 124°38.35′ W. long.;

(82) 46°18.09′ N. lat., 124°38.30′ W. long.;

(83) 46°16.00′ N. lat., 124°36.00′ W. long.;

(84) 46°14.87′ N. lat., 124°26.15′ W. long.;

(85) 46°13.38′ N. lat., 124°31.36′ W. long.;

(86) 46°12.09′ N. lat., 124°38.39′ W. long.;

(87) 46°09.46′ N. lat., 124°40.64′ W. long.;

(88) 46°07.30′ N. lat., 124°40.68′ W. long.;

(89) 46°02.76′ N. lat., 124°44.01′ W. long.;

(90) 46°02.64′ N. lat., 124°47.96′ W. long.;

(91) 46°01.22′ N. lat., 124°43.47′ W. long.;

(92) 45°51.82′ N. lat., 124°42.89′ W. long.;

(93) 45°45.95′ N. lat., 124°40.72′ W. long.;

(94) 45°44.11′ N. lat., 124°43.09′ W. long.;

(95) 45°34.50′ N. lat., 124°30.27′ W. long.;

(96) 45°21.10′ N. lat., 124°23.11′ W. long.;

(97) 45°09.69′ N. lat., 124°20.45′ W. long.;

(98) 44°56.25′ N. lat., 124°27.03′ W. long.;

(99) 44°44.47′ N. lat., 124°37.85′ W. long.;

(100) 44°31.81′ N. lat., 124°39.60′ W. long.;

(101) 44°31.48′ N. lat., 124°43.30′ W. long.;

(102) 44°12.04′ N. lat., 124°58.16′ W. long.;

(103) 44°07.38′ N. lat., 124°57.87′ W. long.;

(104) 43°57.06′ N. lat., 124°57.20′ W. long.;

(105) 43°52.52′ N. lat., 124°49.00′ W. long.;

(106) 43°51.55′ N. lat., 124°37.49′ W. long.;

(107) 43°47.83′ N. lat., 124°36.43′ W. long.;

(108) 43°31.79′ N. lat., 124°36.80′ W. long.;

(109) 43°29.34′ N. lat., 124°36.77′ W. long.;

(110) 43°26.46′ N. lat., 124°40.02′ W. long.;

(111) 43°16.15′ N. lat., 124°44.37′ W. long.;

(112) 43°09.33′ N. lat., 124°45.35′ W. long.;

(113) 43°08.85′ N. lat., 124°48.92′ W. long.;

(114) 43°03.23′ N. lat., 124°52.41′ W. long.;

(115) 43°00.25′ N. lat., 124°51.93′ W. long.;

(116) 42°56.62′ N. lat., 124°53.93′ W. long.;

(117) 42°54.84′ N. lat., 124°54.01′ W. long.;

(118) 42°52.31′ N. lat., 124°50.76′ W. long.;

(119) 42°47.78′ N. lat., 124°47.27′ W. long.;

(120) 42°46.32′ N. lat., 124°43.59′ W. long.;

(121) 42°41.63′ N. lat., 124°44.07′ W. long.;

(122) 42°38.83′ N. lat., 124°42.77′ W. long.;

(123) 42°35.37′ N. lat., 124°43.22′ W. long.;

(124) 42°32.78′ N. lat., 124°44.68′ W. long.;

(125) 42°32.19′ N. lat., 124°42.40′ W. long.;

(126) 42°30.28′ N. lat., 124°44.30′ W. long.;

(127) 42°28.16′ N. lat., 124°48.38′ W. long.;

(128) 42°18.34′ N. lat., 124°38.77′ W. long.;

(129) 42°13.65′ N. lat., 124°36.82′ W. long.;

(130) 42°00.15′ N. lat., 124°35.81′ W. long.;

(131) 42°00.00′ N. lat., 124°35.99′ W. long.;

(132) 41°47.80′ N. lat., 124°29.41′ W. long.;

(133) 41°23.51′ N. lat., 124°29.50′ W. long.;

(134) 41°13.29′ N. lat., 124°23.31′ W. long.;

(135) 41°06.23′ N. lat., 124°22.62′ W. long.;

(136) 40°55.60′ N. lat., 124°26.04′ W. long.;

(137) 40°49.62′ N. lat., 124°26.57′ W. long.;

(138) 40°45.72′ N. lat., 124°30.00′ W. long.;

(139) 40°40.56′ N. lat., 124°32.11′ W. long.;

(140) 40°37.33′ N. lat., 124°29.27′ W. long.;

(141) 40°35.60′ N. lat., 124°30.49′ W. long.;

(142) 40°37.38′ N. lat., 124°37.14′ W. long.;

(143) 40°36.03′ N. lat., 124°39.97′ W. long.;

(144) 40°31.59′ N. lat., 124°40.74′ W. long.;

(145) 40°29.76′ N. lat., 124°38.13′ W. long.;

(146) 40°28.22′ N. lat., 124°37.23′ W. long.;

(147) 40°24.86′ N. lat., 124°35.71′ W. long.;

(148) 40°23.01′ N. lat., 124°31.94′ W. long.;

(149) 40°23.39′ N. lat., 124°28.64′ W. long.;

(150) 40°22.29′ N. lat., 124°25.25′ W. long.;

(151) 40°21.90′ N. lat., 124°25.18′ W. long.;

(152) 40°22.02′ N. lat., 124°28.00′ W. long.;

(153) 40°21.34′ N. lat., 124°29.53′ W. long.;

(154) 40°19.74′ N. lat., 124°28.95′ W. long.;

(155) 40°18.13′ N. lat., 124°27.08′ W. long.;

(156) 40°17.45′ N. lat., 124°25.53′ W. long.;

(157) 40°17.97′ N. lat., 124°24.12′ W. long.;

(158) 40°15.96′ N. lat., 124°26.05′ W. long.;

(159) 40°17.00′ N. lat., 124°35.01′ W. long.;

(160) 40°15.97′ N. lat., 124°35.90′ W. long.;

(161) 40°10.00′ N. lat., 124°22.96′ W. long.;

(162) 40°07.00′ N. lat., 124°19.00′ W. long.;

(163) 40°08.10′ N. lat., 124°16.70′ W. long.;

(164) 40°05.90′ N. lat., 124°17.77′ W. long.;

(165) 40°02.99′ N. lat., 124°15.55′ W. long.;

(166) 40°02.00′ N. lat., 124°12.97′ W. long.;

(167) 40°02.60′ N. lat., 124°10.61′ W. long.;

(168) 40°03.63′ N. lat., 124°09.12′ W. long.;

(169) 40°02.18′ N. lat., 124°09.07′ W. long.;

(170) 39°58.25′ N. lat., 124°12.56′ W. long.;

(171) 39°57.03′ N. lat., 124°11.34′ W. long.;

(172) 39°56.30′ N. lat., 124°08.96′ W. long.;

(173) 39°54.82′ N. lat., 124°07.66′ W. long.;

(174) 39°52.57′ N. lat., 124°08.55′ W. long.;

(175) 39°45.34′ N. lat., 124°03.30′ W. long.;

(176) 39°34.75′ N. lat., 123°58.50′ W. long.;

(177) 39°34.22′ N. lat., 123°56.82′ W. long.;

(178) 39°32.98′ N. lat., 123°56.43′ W. long.;

(179) 39°31.47′ N. lat., 123°58.73′ W. long.;

(180) 39°05.68′ N. lat., 123°57.81′ W. long.;

(181) 39°00.24′ N. lat., 123°56.74′ W. long.;

(182) 38°54.31′ N. lat., 123°56.73′ W. long.;

(183) 38°41.42′ N. lat., 123°46.75′ W. long.;

(184) 38°39.61′ N. lat., 123°46.48′ W. long.;

(185) 38°37.52′ N. lat., 123°43.78′ W. long.;

(186) 38°35.25′ N. lat., 123°42.00′ W. long.;

(187) 38°28.79′ N. lat., 123°37.07′ W. long.;

(188) 38°19.88′ N. lat., 123°32.54′ W. long.;

(189) 38°14.43′ N. lat., 123°25.56′ W. long.;

(190) 38°08.75′ N. lat., 123°24.48′ W. long.;

(191) 38°10.10′ N. lat., 123°27.20′ W. long.;

(192) 38°07.16′ N. lat., 123°28.18′ W. long.;

(193) 38°06.42′ N. lat., 123°30.18′ W. long.;

(194) 38°04.28′ N. lat., 123°31.70′ W. long.;

(195) 38°01.88′ N. lat., 123°30.98′ W. long.;

(196) 38°00.75′ N. lat., 123°29.72′ W. long.;

(197) 38°00.00′ N. lat., 123°28.60′ W. long.;

(198) 37°58.23′ N. lat., 123°26.90′ W. long.;

(199) 37°55.32′ N. lat., 123°27.19′ W. long.;

(200) 37°51.47′ N. lat., 123°24.92′ W. long.;

(201) 37°44.47′ N. lat., 123°11.57′ W. long.;

(202) 37°36.33′ N. lat., 123°01.76′ W. long.;

(203) 37°15.16′ N. lat., 122°51.64′ W. long.;

(204) 37°01.68′ N. lat., 122°37.28′ W. long.;

(205) 36°59.70′ N. lat., 122°33.71′ W. long.;

(206) 36°58.00′ N. lat., 122°27.80′ W. long.;

(207) 37°00.25′ N. lat., 122°24.85′ W. long.;

(208) 36°57.50′ N. lat., 122°24.98′ W. long.;

(209) 36°58.38′ N. lat., 122°21.85′ W. long.;

(210) 36°55.85′ N. lat., 122°21.95′ W. long.;

(211) 36°52.02′ N. lat., 122°12.10′ W. long.;

(212) 36°47.63′ N. lat., 122°07.37′ W. long.;

(213) 36°47.26′ N. lat., 122°03.22′ W. long.;

(214) 36°50.34′ N. lat., 121°58.40′ W. long.;

(215) 36°48.83′ N. lat., 121°59.14′ W. long.;

(216) 36°44.81′ N. lat., 121°58.28′ W. long.;

(217) 36°39.00′ N. lat., 122°01.71′ W. long.;

(218) 36°29.60′ N. lat., 122°00.49′ W. long.;

(219) 36°23.43′ N. lat., 121°59.76′ W. long.;

(220) 36°18.90′ N. lat., 122°05.32′ W. long.;

(221) 36°15.38′ N. lat., 122°01.40′ W. long.;

(222) 36°13.79′ N. lat., 121°58.12′ W. long.;

(223) 36°10.12′ N. lat., 121°43.33′ W. long.;

(224) 36°02.57′ N. lat., 121°37.02′ W. long.;

(225) 36°01.01′ N. lat., 121°36.95′ W. long.;

(226) 35°57.74′ N. lat., 121°33.45′ W. long.;

(227) 35°51.32′ N. lat., 121°30.08′ W. long.;

(228) 35°45.84′ N. lat., 121°28.84′ W. long.;

(229) 35°38.94′ N. lat., 121°23.16′ W. long.;

(230) 35°26.00′ N. lat., 121°08.00′ W. long.;

(231) 35°07.42′ N. lat., 120°57.08′ W. long.;

(232) 34°42.76′ N. lat., 120°55.09′ W. long.;

(233) 34°37.75′ N. lat., 120°51.96′ W. long.;

(234) 34°29.29′ N. lat., 120°44.19′ W. long.;

(235) 34°27.00′ N. lat., 120°40.42′ W. long.;

(236) 34°21.89′ N. lat., 120°31.36′ W. long.;

(237) 34°20.79′ N. lat., 120°21.58′ W. long.;

(238) 34°23.97′ N. lat., 120°15.25′ W. long.;

(239) 34°22.11′ N. lat., 119°56.63′ W. long.;

(240) 34°19.00′ N. lat., 119°48.00′ W. long.;

(241) 34°15.00′ N. lat., 119°48.00′ W. long.;

(242) 34°08.00′ N. lat., 119°37.00′ W. long.;

(243) 34°08.39′ N. lat., 119°54.78′ W. long.;

(244) 34°07.10′ N. lat., 120°10.37′ W. long.;

(245) 34°10.08′ N. lat., 120°22.98′ W. long.;

(246) 34°13.16′ N. lat., 120°29.40′ W. long.;

(247) 34°09.41′ N. lat., 120°37.75′ W. long.;

(248) 34°03.15′ N. lat., 120°34.71′ W. long.;

(249) 33°57.09′ N. lat., 120°27.76′ W. long.;

(250) 33°51.00′ N. lat., 120°09.00′ W. long.;

(251) 33°38.16′ N. lat., 119°59.23′ W. long.;

(252) 33°37.04′ N. lat., 119°50.17′ W. long.;

(253) 33°42.28′ N. lat., 119°48.85′ W. long.;

(254) 33°53.96′ N. lat., 119°53.77′ W. long.;

(255) 33°59.94′ N. lat., 119°19.57′ W. long.;

(256) 34°03.12′ N. lat., 119°15.51′ W. long.;

(257) 34°01.97′ N. lat., 119°07.28′ W. long.;

(258) 34°03.60′ N. lat., 119°04.71′ W. long.;

(259) 33°59.30′ N. lat., 119°03.73′ W. long.;

(260) 33°58.87′ N. lat., 118°59.37′ W. long.;

(261) 33°58.08′ N. lat., 118°41.14′ W. long.;

(262) 33°50.93′ N. lat., 118°37.65′ W. long.;

(263) 33°39.54′ N. lat., 118°18.70′ W. long.;

(264) 33°35.42′ N. lat., 118°17.14′ W. long.;

(265) 33°32.15′ N. lat., 118°10.84′ W. long.;

(266) 33°33.71′ N. lat., 117°53.72′ W. long.;

(267) 33°31.17′ N. lat., 117°49.11′ W. long.;

(268) 33°16.53′ N. lat., 117°36.13′ W. long.;

(269) 33°06.77′ N. lat., 117°22.92′ W. long.;

(270) 32°58.94′ N. lat., 117°20.05′ W. long.;

(271) 32°55.83′ N. lat., 117°20.15′ W. long.;

(272) 32°46.29′ N. lat., 117°23.89′ W. long.;

(273) 32°42.00′ N. lat., 117°22.16′ W. long.;

(274) 32°39.47′ N. lat., 117°27.78′ W. long.; and

(275) 32°34.83′ N. lat., 117°24.69′ W. long.

(A) The 150 fm (274 m) depth contour used around San Clemente Island off the state of California is defined by straight lines connecting all of the following points in the order stated:

(1) 32°48.50′ N. lat., 118°18.34′ W. long.;

(2) 32°56.00′ N. lat., 118°29.00′ W. long.;

(3) 33°03.00′ N. lat., 118°34.00′ W. long.;

(4) 33°05.00′ N. lat., 118°38.00′ W. long.;

(5) 33°03.00′ N. lat., 118°40.00′ W. long.;

(6) 32°48.00′ N. lat., 118°31.00′ W. long.;

(7) 32°43.00′ N. lat., 118°24.00′ W. long.; and

(8) 32°48.50′ N. lat., 118°18.34′ W. long.

(B) The 150 fm (274 m) depth contour used around Santa Catalina Island off the state of California is defined by straight lines connecting all of the following points in the order stated:

(1) 33°19.00′ N. lat., 118°15.00′ W. long.;

(2) 33°26.00′ N. lat., 118°22.00′ W. long.;

(3) 33°28.00′ N. lat., 118°28.00′ W. long.;

(4) 33°30.00′ N. lat., 118°31.00′ W. long.;

(5) 33°31.00′ N. lat., 118°37.00′ W. long.;

(6) 33°29.00′ N. lat., 118°41.00′ W. long.;

(7) 33°23.00′ N. lat., 118°31.00′ W. long.;

(8) 33°21.00′ N. lat., 118°33.00′ W. long.;

(9) 33°18.00′ N. lat., 118°28.00′ W. long.;

(10) 33°16.00′ N. lat., 118°13.00′ W. long.; and

(11) 33°19.00′ N. lat., 118°15.00′ W. long.

(C) The 150 fm (274 m) depth contour used around Lasuen Knoll off the state of California is defined by straight lines connecting all of the following points in the order stated:

(1) 33°25.00′ N. lat., 118°01.00′ W. long.;

(2) 33°25.00′ N. lat., 117°58.00′ W. long.;

(3) 33°23.00′ N. lat., 117°58.00′ W. long.;

(4) 33°23.00′ N. lat., 118°01.00′ W. long.; and

(5) 33°25.00′ N. lat., 118°01.00′ W. long.

(x) The 180 fm (329 m) depth contour used between the U.S. border with Canada and the U.S. border with Mexico is defined by straight lines connecting all of the following points in the order stated:

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°08.86′ N. lat., 125°41.92′ W. long.;

(6) 48°08.15′ N. lat., 125°44.95′ W. long.;

(7) 48°07.18′ N. lat., 125°45.67′ W. long.;

(8) 48°05.79′ N. lat., 125°44.64′ W. long.;

(9) 48°06.04′ N. lat., 125°41.84′ W. long.;

(10) 48°04.26′ N. lat., 125°40.09′ W. long.;

(11) 48°04.18′ N. lat., 125°36.94′ W. long.;

(12) 48°03.02′ N. lat., 125°36.24′ W. long.;

(13) 48°01.75′ N. lat., 125°37.42′ W. long.;

(14) 48°01.39′ N. lat., 125°39.42′ W. long.;

(15) 47°57.08′ N. lat., 125°36.51′ W. long.;

(16) 47°55.20′ N. lat., 125°36.62′ W. long.;

(17) 47°54.33′ N. lat., 125°34.98′ W. long.;

(18) 47°54.73′ N. lat., 125°31.95′ W. long.;

(19) 47°56.39′ N. lat., 125°30.22′ W. long.;

(20) 47°55.86′ N. lat., 125°28.54′ W. long.;

(21) 47°58.07′ N. lat., 125°25.72′ W. long.;

(22) 48°00.81′ N. lat., 125°24.39′ W. long.;

(23) 48°01.81′ N. lat., 125°23.76′ W. long.;

(24) 48°02.16′ N. lat., 125°22.71′ W. long.;

(25) 48°03.46′ N. lat., 125°22.01′ W. long.;

(26) 48°04.21′ N. lat., 125°20.40′ W. long.;

(27) 48°03.15′ N. lat., 125°19.50′ W. long.;

(28) 48°01.92′ N. lat., 125°18.69′ W. long.;

(29) 48°00.85′ N. lat., 125°20.02′ W. long.;

(30) 48°00.12′ N. lat., 125°20.04′ W. long.;

(31) 47°58.18′ N. lat., 125°18.78′ W. long.;

(32) 47°58.24′ N. lat., 125°17.26′ W. long.;

(33) 47°52.47′ N. lat., 125°15.30′ W. long.;

(34) 47°52.13′ N. lat., 125°12.95′ W. long.;

(35) 47°50.60′ N. lat., 125°10.65′ W. long.;

(36) 47°49.39′ N. lat., 125°10.59′ W. long.;

(37) 47°48.74′ N. lat., 125°06.07′ W. long.;

(38) 47°47.03′ N. lat., 125°06.95′ W. long.;

(39) 47°47.46′ N. lat., 125°05.20′ W. long.;

(40) 47°45.88′ N. lat., 125°04.50′ W. long.;

(41) 47°44.51′ N. lat., 125°06.64′ W. long.;

(42) 47°42.22′ N. lat., 125°04.86′ W. long.;

(43) 47°38.49′ N. lat., 125°06.32′ W. long.;

(44) 47°34.93′ N. lat., 125°04.34′ W. long.;

(45) 47°30.85′ N. lat., 124°57.42′ W. long.;

(46) 47°28.80′ N. lat., 124°56.51′ W. long.;

(47) 47°29.25′ N. lat., 124°53.92′ W. long.;

(48) 47°28.29′ N. lat., 124°51.32′ W. long.;

(49) 47°24.04′ N. lat., 124°47.38′ W. long.;

(50) 47°18.24′ N. lat., 124°45.97′ W. long.;

(51) 47°19.36′ N. lat., 124°50.96′ W. long.;

(52) 47°18.07′ N. lat., 124°53.38′ W. long.;

(53) 47°17.73′ N. lat., 124°52.83′ W. long.;

(54) 47°17.77′ N. lat., 124°51.56′ W. long.;

(55) 47°16.84′ N. lat., 124°50.94′ W. long.;

(56) 47°16.01′ N. lat., 124°53.36′ W. long.;

(57) 47°14.32′ N. lat., 124°52.73′ W. long.;

(58) 47°11.97′ N. lat., 124°56.81′ W. long.;

(59) 47°12.93′ N. lat., 124°58.47′ W. long.;

(60) 47°09.43′ N. lat., 124°57.99′ W. long.;

(61) 47°09.36′ N. lat., 124°59.29′ W. long.;

(62) 47°05.88′ N. lat., 124°59.06′ W. long.;

(63) 47°03.64′ N. lat., 124°56.07′ W. long.;

(64) 47°01.00′ N. lat., 124°59.69′ W. long.;

(65) 46°58.72′ N. lat., 124°59.17′ W. long.;

(66) 46°58.30′ N. lat., 125°00.60′ W. long.;

(67) 46°55.61′ N. lat., 125°01.19′ W. long.;

(68) 46°56.96′ N. lat., 124°58.85′ W. long.;

(69) 46°55.91′ N. lat., 124°54.98′ W. long.;

(70) 46°54.55′ N. lat., 124°54.21′ W. long.;

(71) 46°56.80′ N. lat., 124°50.55′ W. long.;

(72) 46°54.87′ N. lat., 124°49.59′ W. long.;

(73) 46°54.63′ N. lat., 124°53.48′ W. long.;

(74) 46°52.33′ N. lat., 124°54.75′ W. long.;

(75) 46°45.12′ N. lat., 124°51.82′ W. long.;

(76) 46°39.20′ N. lat., 124°47.02′ W. long.;

(77) 46°33.45′ N. lat., 124°36.61′ W. long.;

(78) 46°33.37′ N. lat., 124°30.21′ W. long.;

(79) 46°31.67′ N. lat., 124°31.41′ W. long.;

(80) 46°27.87′ N. lat., 124°32.04′ W. long.;

(81) 46°21.01′ N. lat., 124°37.63′ W. long.;

(82) 46°18.58′ N. lat., 124°38.92′ W. long.;

(83) 46°16.00′ N. lat., 124°36.17′ W. long.;

(84) 46°15.97′ N. lat., 124°23.57′ W. long.;

(85) 46°12.85′ N. lat., 124°35.52′ W. long.;

(86) 46°12.27′ N. lat., 124°38.69′ W. long.;

(87) 46°08.71′ N. lat., 124°41.27′ W. long.;

(88) 46°05.79′ N. lat., 124°42.12′ W. long.;

(89) 46°02.84′ N. lat., 124°48.05′ W. long.;

(90) 46°02.41′ N. lat., 124°48.15′ W. long.;

(91) 45°58.96′ N. lat., 124°43.98′ W. long.;

(92) 45°47.05′ N. lat., 124°43.25′ W. long.;

(93) 45°44.00′ N. lat., 124°45.37′ W. long.;

(94) 45°34.97′ N. lat., 124°31.95′ W. long.;

(95) 45°13.01′ N. lat., 124°21.71′ W. long.;

(96) 45°09.59′ N. lat., 124°22.78′ W. long.;

(97) 45°00.22′ N. lat., 124°28.31′ W. long.;

(98) 44°53.53′ N. lat., 124°32.98′ W. long.;

(99) 44°40.25′ N. lat., 124°46.34′ W. long.;

(100) 44°28.83′ N. lat., 124°47.09′ W. long.;

(101) 44°22.97′ N. lat., 124°49.38′ W. long.;

(102) 44°13.07′ N. lat., 124°58.34′ W. long.;

(103) 43°57.99′ N. lat., 124°57.84′ W. long.;

(104) 43°51.43′ N. lat., 124°52.02′ W. long.;

(105) 43°50.72′ N. lat., 124°39.23′ W. long.;

(106) 43°39.04′ N. lat., 124°37.82′ W. long.;

(107) 43°27.76′ N. lat., 124°39.76′ W. long.;

(108) 43°20.22′ N. lat., 124°42.92′ W. long.;

(109) 43°13.07′ N. lat., 124°46.03′ W. long.;

(110) 43°10.43′ N. lat., 124°50.27′ W. long.;

(111) 43°03.47′ N. lat., 124°52.80′ W. long.;

(112) 42°56.93′ N. lat., 124°53.95′ W. long.;

(113) 42°54.74′ N. lat., 124°54.19′ W. long.;

(114) 42°49.43′ N. lat., 124°52.03′ W. long.;

(115) 42°47.68′ N. lat., 124°47.72′ W. long.;

(116) 42°46.17′ N. lat., 124°44.05′ W. long.;

(117) 42°41.67′ N. lat., 124°44.36′ W. long.;

(118) 42°38.79′ N. lat., 124°42.87′ W. long.;

(119) 42°32.39′ N. lat., 124°45.38′ W. long.;

(120) 42°32.07′ N. lat., 124°43.44′ W. long.;

(121) 42°30.98′ N. lat., 124°43.84′ W. long.;

(122) 42°28.37′ N. lat., 124°48.91′ W. long.;

(123) 42°20.07′ N. lat., 124°41.59′ W. long.;

(124) 42°15.05′ N. lat., 124°38.07′ W. long.;

(125) 42°07.37′ N. lat., 124°37.25′ W. long.;

(126) 42°04.93′ N. lat., 124°36.79′ W. long.;

(127) 42°00.00′ N. lat., 124°36.26′ W. long.;

(128) 42°00.00′ N. lat., 124°36.33′ W. long.;

(129) 41°47.60′ N. lat., 124°29.75′ W. long.;

(130) 41°22.07′ N. lat., 124°29.55′ W. long.;

(131) 41°13.58′ N. lat., 124°24.17′ W. long.;

(132) 41°06.51′ N. lat., 124°23.07′ W. long.;

(133) 40°55.20′ N. lat., 124°27.46′ W. long.;

(134) 40°49.76′ N. lat., 124°27.17′ W. long.;

(135) 40°45.79′ N. lat., 124°30.37′ W. long.;

(136) 40°40.31′ N. lat., 124°32.47′ W. long.;

(137) 40°37.42′ N. lat., 124°37.20′ W. long.;

(138) 40°36.03′ N. lat., 124°39.97′ W. long.;

(139) 40°31.48′ N. lat., 124°40.95′ W. long.;

(140) 40°29.76′ N. lat., 124°38.13′ W. long.;

(141) 40°24.81′ N. lat., 124°35.82′ W. long.;

(142) 40°22.00′ N. lat., 124°30.01′ W. long.;

(143) 40°16.84′ N. lat., 124°29.87′ W. long.;

(144) 40°17.06′ N. lat., 124°35.51′ W. long.;

(145) 40°16.41′ N. lat., 124°39.10′ W. long.;

(146) 40°10.00′ N. lat., 124°23.56′ W. long.;

(147) 40°06.67′ N. lat., 124°19.08′ W. long.;

(148) 40°08.10′ N. lat., 124°16.71′ W. long.;

(149) 40°05.90′ N. lat., 124°17.77′ W. long.;

(150) 40°02.80′ N. lat., 124°16.28′ W. long.;

(151) 40°01.98′ N. lat., 124°12.99′ W. long.;

(152) 40°01.53′ N. lat., 124°09.82′ W. long.;

(153) 39°58.28′ N. lat., 124°12.93′ W. long.;

(154) 39°57.06′ N. lat., 124°12.03′ W. long.;

(155) 39°56.31′ N. lat., 124°08.98′ W. long.;

(156) 39°55.20′ N. lat., 124°07.98′ W. long.;

(157) 39°52.57′ N. lat., 124°09.04′ W. long.;

(158) 39°42.78′ N. lat., 124°02.11′ W. long.;

(159) 39°34.76′ N. lat., 123°58.51′ W. long.;

(160) 39°34.22′ N. lat., 123°56.82′ W. long.;

(161) 39°32.98′ N. lat., 123°56.43′ W. long.;

(162) 39°32.14′ N. lat., 123°58.83′ W. long.;

(163) 39°07.79′ N. lat., 123°58.72′ W. long.;

(164) 39°00.99′ N. lat., 123°57.56′ W. long.;

(165) 39°00.05′ N. lat., 123°56.83′ W. long.;

(166) 38°56.28′ N. lat., 123°57.53′ W. long.;

(167) 38°56.01′ N. lat., 123°58.72′ W. long.;

(168) 38°52.41′ N. lat., 123°56.38′ W. long.;

(169) 38°46.81′ N. lat., 123°51.46′ W. long.;

(170) 38°45.56′ N. lat., 123°51.32′ W. long.;

(171) 38°43.24′ N. lat., 123°49.91′ W. long.;

(172) 38°41.42′ N. lat., 123°47.22′ W. long.;

(173) 38°40.97′ N. lat., 123°47.80′ W. long.;

(174) 38°38.58′ N. lat., 123°46.07′ W. long.;

(175) 38°37.38′ N. lat., 123°43.80′ W. long.;

(176) 38°33.86′ N. lat., 123°41.51′ W. long.;

(177) 38°29.45′ N. lat., 123°38.42′ W. long.;

(178) 38°28.20′ N. lat., 123°38.17′ W. long.;

(179) 38°24.09′ N. lat., 123°35.26′ W. long.;

(180) 38°16.72′ N. lat., 123°31.42′ W. long.;

(181) 38°15.32′ N. lat., 123°29.33′ W. long.;

(182) 38°14.45′ N. lat., 123°26.15′ W. long.;

(183) 38°10.26′ N. lat., 123°25.43′ W. long.;

(184) 38°12.61′ N. lat., 123°28.08′ W. long.;

(185) 38°11.98′ N. lat., 123°29.35′ W. long.;

(186) 38°08.23′ N. lat., 123°28.04′ W. long.;

(187) 38°06.39′ N. lat., 123°30.59′ W. long.;

(188) 38°04.25′ N. lat., 123°31.81′ W. long.;

(189) 38°02.08′ N. lat., 123°31.27′ W. long.;

(190) 38°00.17′ N. lat., 123°29.43′ W. long.;

(191) 38°00.00′ N. lat., 123°28.55′ W. long.;

(192) 37°58.24′ N. lat., 123°26.91′ W. long.;

(193) 37°55.32′ N. lat., 123°27.19′ W. long.;

(194) 37°51.52′ N. lat., 123°25.01′ W. long.;

(195) 37°44.21′ N. lat., 123°11.38′ W. long.;

(196) 37°36.27′ N. lat., 123°01.86′ W. long.;

(197) 37°14.29′ N. lat., 122°52.99′ W. long.;

(198) 37°00.86′ N. lat., 122°37.55′ W. long.;

(199) 36°59.71′ N. lat., 122°33.73′ W. long.;

(200) 36°57.98′ N. lat., 122°27.80′ W. long.;

(201) 36°59.83′ N. lat., 122°25.17′ W. long.;

(202) 36°57.21′ N. lat., 122°25.17′ W. long.;

(203) 36°57.79′ N. lat., 122°22.28′ W. long.;

(204) 36°55.86′ N. lat., 122°21.99′ W. long.;

(205) 36°52.06′ N. lat., 122°12.12′ W. long.;

(206) 36°47.63′ N. lat., 122°07.40′ W. long.;

(207) 36°47.26′ N. lat., 122°03.23′ W. long.;

(208) 36°49.53′ N. lat., 121°59.35′ W. long.;

(209) 36°44.81′ N. lat., 121°58.29′ W. long.;

(210) 36°38.95′ N. lat., 122°02.02′ W. long.;

(211) 36°23.43′ N. lat., 121°59.76′ W. long.;

(212) 36°19.66′ N. lat., 122°06.25′ W. long.;

(213) 36°14.78′ N. lat., 122°01.52′ W. long.;

(214) 36°13.64′ N. lat., 121°57.83′ W. long.;

(215) 36°09.99′ N. lat., 121°43.48′ W. long.;

(216) 35°57.09′ N. lat., 121°34.16′ W. long.;

(217) 35°52.71′ N. lat., 121°32.32′ W. long.;

(218) 35°51.23′ N. lat., 121°30.54′ W. long.;

(219) 35°46.07′ N. lat., 121°29.75′ W. long.;

(220) 35°34.08′ N. lat., 121°19.83′ W. long.;

(221) 35°31.41′ N. lat., 121°14.80′ W. long.;

(222) 35°15.42′ N. lat., 121°03.47′ W. long.;

(223) 35°07.70′ N. lat., 120°59.31′ W. long.;

(224) 34°57.27′ N. lat., 120°56.93′ W. long.;

(225) 34°44.27′ N. lat., 120°57.65′ W. long.;

(226) 34°32.75′ N. lat., 120°50.08′ W. long.;

(227) 34°27.00′ N. lat., 120°41.50′ W. long.;

(228) 34°20.00′ N. lat., 120°30.99′ W. long.;

(229) 34°19.15′ N. lat., 120°19.78′ W. long.;

(230) 34°23.24′ N. lat., 120°14.17′ W. long.;

(231) 34°21.35′ N. lat., 119°54.89′ W. long.;

(232) 34°09.79′ N. lat., 119°44.51′ W. long.;

(233) 34°07.34′ N. lat., 120°06.71′ W. long.;

(234) 34°09.74′ N. lat., 120°19.78′ W. long.;

(235) 34°13.95′ N. lat., 120°29.78′ W. long.;

(236) 34°09.41′ N. lat., 120°37.75′ W. long.;

(237) 34°03.39′ N. lat., 120°35.26′ W. long.;

(238) 33°56.82′ N. lat., 120°28.30′ W. long.;

(239) 33°50.71′ N. lat., 120°09.24′ W. long.;

(240) 33°38.21′ N. lat., 119°59.90′ W. long.;

(241) 33°35.35′ N. lat., 119°51.95′ W. long.;

(242) 33°35.99′ N. lat., 119°49.13′ W. long.;

(243) 33°42.74′ N. lat., 119°47.80′ W. long.;

(244) 33°53.65′ N. lat., 119°53.29′ W. long.;

(245) 33°57.85′ N. lat., 119°31.05′ W. long.;

(246) 33°56.78′ N. lat., 119°27.44′ W. long.;

(247) 33°58.03′ N. lat., 119°27.82′ W. long.;

(248) 33°59.31′ N. lat., 119°20.02′ W. long.;

(249) 34°02.91′ N. lat., 119°15.38′ W. long.;

(250) 33°59.04′ N. lat., 119°03.02′ W. long.;

(251) 33°57.88′ N. lat., 118°41.69′ W. long.;

(252) 33°50.89′ N. lat., 118°37.78′ W. long.;

(253) 33°39.54′ N. lat., 118°18.70′ W. long.;

(254) 33°35.42′ N. lat., 118°17.15′ W. long.;

(255) 33°31.26′ N. lat., 118°10.84′ W. long.;

(256) 33°32.71′ N. lat., 117°52.05′ W. long.;

(257) 32°58.94′ N. lat., 117°20.05′ W. long.;

(258) 32°46.45′ N. lat., 117°24.37′ W. long.;

(259) 32°42.25′ N. lat., 117°22.87′ W. long.;

(260) 32°39.50′ N. lat., 117°27.80′ W. long.; and

(261) 32°34.83′ N. lat., 117°24.67′ W. long.

(xi) The 200 fm (366 m) depth contour between the U.S. border with Canada and the U.S. border with Mexico is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.28′ N. lat., 125°36.87′ W. long.;

(16) 47°55.11′ N. lat., 125°36.92′ W. long.;

(17) 47°54.09′ N. lat., 125°34.98′ W. long.;

(18) 47°54.50′ N. lat., 125°32.01′ W. long.;

(19) 47°56.07′ N. lat., 125°30.17′ W. long.;

(20) 47°55.65′ N. lat., 125°28.46′ W. long.;

(21) 47°57.88′ N. lat., 125°25.61′ W. long.;

(22) 48°01.63′ N. lat., 125°23.75′ W. long.;

(23) 48°02.21′ N. lat., 125°22.43′ W. long.;

(24) 48°03.60′ N. lat., 125°21.84′ W. long.;

(25) 48°03.98′ N. lat., 125°20.65′ W. long.;

(26) 48°03.26′ N. lat., 125°19.76′ W. long.;

(27) 48°01.49′ N. lat., 125°18.80′ W. long.;

(28) 48°01.03′ N. lat., 125°20.12′ W. long.;

(29) 48°00.04′ N. lat., 125°20.26′ W. long.;

(30) 47°58.10′ N. lat., 125°18.91′ W. long.;

(31) 47°58.17′ N. lat., 125°17.50′ W. long.;

(32) 47°52.28′ N. lat., 125°16.06′ W. long.;

(33) 47°51.92′ N. lat., 125°13.89′ W. long.;

(34) 47°49.20′ N. lat., 125°10.67′ W. long.;

(35) 47°48.69′ N. lat., 125°06.50′ W. long.;

(36) 47°46.54′ N. lat., 125°07.68′ W. long.;

(37) 47°47.24′ N. lat., 125°05.38′ W. long.;

(38) 47°45.95′ N. lat., 125°04.61′ W. long.;

(39) 47°44.58′ N. lat., 125°07.12′ W. long.;

(40) 47°42.24′ N. lat., 125°05.15′ W. long.;

(41) 47°38.54′ N. lat., 125°06.76′ W. long.;

(42) 47°34.86′ N. lat., 125°04.67′ W. long.;

(43) 47°30.75′ N. lat., 124°57.52′ W. long.;

(44) 47°28.51′ N. lat., 124°56.69′ W. long.;

(45) 47°29.15′ N. lat., 124°54.10′ W. long.;

(46) 47°28.43′ N. lat., 124°51.58′ W. long.;

(47) 47°24.13′ N. lat., 124°47.51′ W. long.;

(48) 47°18.31′ N. lat., 124°46.17′ W. long.;

(49) 47°19.57′ N. lat., 124°51.01′ W. long.;

(50) 47°18.12′ N. lat., 124°53.66′ W. long.;

(51) 47°17.59′ N. lat., 124°52.94′ W. long.;

(52) 47°17.71′ N. lat., 124°51.63′ W. long.;

(53) 47°16.90′ N. lat., 124°51.23′ W. long.;

(54) 47°16.10′ N. lat., 124°53.67′ W. long.;

(55) 47°14.24′ N. lat., 124°53.02′ W. long.;

(56) 47°12.16′ N. lat., 124°56.77′ W. long.;

(57) 47°13.35′ N. lat., 124°58.70′ W. long.;

(58) 47°09.53′ N. lat., 124°58.32′ W. long.;

(59) 47°09.54′ N. lat., 124°59.50′ W. long.;

(60) 47°05.87′ N. lat., 124°59.29′ W. long.;

(61) 47°03.65′ N. lat., 124°56.26′ W. long.;

(62) 47°00.91′ N. lat., 124°59.73′ W. long.;

(63) 46°58.74′ N. lat., 124°59.40′ W. long.;

(64) 46°58.55′ N. lat., 125°00.70′ W. long.;

(65) 46°55.57′ N. lat., 125°01.61′ W. long.;

(66) 46°55.77′ N. lat., 124°55.04′ W. long.;

(67) 46°53.16′ N. lat., 124°53.69′ W. long.;

(68) 46°52.39′ N. lat., 124°55.24′ W. long.;

(69) 46°44.88′ N. lat., 124°51.97′ W. long.;

(70) 46°33.28′ N. lat., 124°36.96′ W. long.;

(71) 46°33.20′ N. lat., 124°30.64′ W. long.;

(72) 46°27.85′ N. lat., 124°31.95′ W. long.;

(73) 46°18.16′ N. lat., 124°39.39′ W. long.;

(74) 46°16.48′ N. lat., 124°27.41′ W. long.;

(75) 46°16.73′ N. lat., 124°23.20′ W. long.;

(76) 46°16.00′ N. lat., 124°24.88′ W. long.;

(77) 46°14.22′ N. lat., 124°26.28′ W. long.;

(78) 46°11.53′ N. lat., 124°39.58′ W. long.;

(79) 46°08.77′ N. lat., 124°41.71′ W. long.;

(80) 46°05.86′ N. lat., 124°42.27′ W. long.;

(81) 46°03.85′ N. lat., 124°48.20′ W. long.;

(82) 46°02.34′ N. lat., 124°48.51′ W. long.;

(83) 45°58.99′ N. lat., 124°44.42′ W. long.;

(84) 45°46.90′ N. lat., 124°43.50′ W. long.;

(85) 45°44.98′ N. lat., 124°44.93′ W. long.;

(86) 45°43.47′ N. lat., 124°44.93′ W. long.;

(87) 45°34.88′ N. lat., 124°32.58′ W. long.;

(88) 45°13.04′ N. lat., 124°21.92′ W. long.;

(89) 45°00.17′ N. lat., 124°29.28′ W. long.;

(90) 44°55.41′ N. lat., 124°31.84′ W. long.;

(91) 44°48.25′ N. lat., 124°40.62′ W. long.;

(92) 44°41.34′ N. lat., 124°49.20′ W. long.;

(93) 44°23.30′ N. lat., 124°50.17′ W. long.;

(94) 44°13.19′ N. lat., 124°58.66′ W. long.;

(95) 43°57.89′ N. lat., 124°58.13′ W. long.;

(96) 43°50.59′ N. lat., 124°52.80′ W. long.;

(97) 43°50.10′ N. lat., 124°40.27′ W. long.;

(98) 43°39.06′ N. lat., 124°38.55′ W. long.;

(99) 43°28.85′ N. lat., 124°39.99′ W. long.;

(100) 43°20.22′ N. lat., 124°43.05′ W. long.;

(101) 43°13.29′ N. lat., 124°47.00′ W. long.;

(102) 43°13.14′ N. lat., 124°52.61′ W. long.;

(103) 43°04.26′ N. lat., 124°53.05′ W. long.;

(104) 42°53.93′ N. lat., 124°54.60′ W. long.;

(105) 42°49.52′ N. lat., 124°53.16′ W. long.;

(106) 42°47.46′ N. lat., 124°50.24′ W. long.;

(107) 42°47.57′ N. lat., 124°48.12′ W. long.;

(108) 42°46.19′ N. lat., 124°44.52′ W. long.;

(109) 42°41.75′ N. lat., 124°44.69′ W. long.;

(110) 42°38.81′ N. lat., 124°43.09′ W. long.;

(111) 42°31.83′ N. lat., 124°46.23′ W. long.;

(112) 42°32.08′ N. lat., 124°43.58′ W. long.;

(113) 42°30.96′ N. lat., 124°43.84′ W. long.;

(114) 42°28.41′ N. lat., 124°49.17′ W. long.;

(115) 42°24.80′ N. lat., 124°45.93′ W. long.;

(116) 42°19.71′ N. lat., 124°41.60′ W. long.;

(117) 42°15.12′ N. lat., 124°38.34′ W. long.;

(118) 42°12.35′ N. lat., 124°38.09′ W. long.;

(119) 42°04.38′ N. lat., 124°36.83′ W. long.;

(120) 42°00.00′ N. lat., 124°36.80′ W. long.;

(121) 41°59.98′ N. lat., 124°36.70′ W. long.;

(122) 41°47.85′ N. lat., 124°30.41′ W. long.;

(123) 41°43.34′ N. lat., 124°29.89′ W. long.;

(124) 41°23.47′ N. lat., 124°30.29′ W. long.;

(125) 41°21.30′ N. lat., 124°29.36′ W. long.;

(126) 41°13.53′ N. lat., 124°24.41′ W. long.;

(127) 41°06.72′ N. lat., 124°23.30′ W. long.;

(128) 40°54.67′ N. lat., 124°28.13′ W. long.;

(129) 40°49.02′ N. lat., 124°28.52′ W. long.;

(130) 40°40.45′ N. lat., 124°32.74′ W. long.;

(131) 40°37.11′ N. lat., 124°38.03′ W. long.;

(132) 40°34.22′ N. lat., 124°41.13′ W. long.;

(133) 40°32.90′ N. lat., 124°41.83′ W. long.;

(134) 40°31.30′ N. lat., 124°40.97′ W. long.;

(135) 40°29.63′ N. lat., 124°38.04′ W. long.;

(136) 40°24.99′ N. lat., 124°36.37′ W. long.;

(137) 40°22.23′ N. lat., 124°31.78′ W. long.;

(138) 40°16.95′ N. lat., 124°31.93′ W. long.;

(139) 40°17.59′ N. lat., 124°45.23′ W. long.;

(140) 40°13.25′ N. lat., 124°32.36′ W. long.;

(141) 40°10.16′ N. lat., 124°24.57′ W. long.;

(142) 40°06.43′ N. lat., 124°19.19′ W. long.;

(143) 40°07.07′ N. lat., 124°17.75′ W. long.;

(144) 40°05.53′ N. lat., 124°18.02′ W. long.;

(145) 40°04.71′ N. lat., 124°18.10′ W. long.;

(146) 40°02.35′ N. lat., 124°16.57′ W. long.;

(147) 40°01.53′ N. lat., 124°09.82′ W. long.;

(148) 39°58.28′ N. lat., 124°13.51′ W. long.;

(149) 39°56.60′ N. lat., 124°12.02′ W. long.;

(150) 39°55.20′ N. lat., 124°07.96′ W. long.;

(151) 39°52.55′ N. lat., 124°09.40′ W. long.;

(152) 39°42.68′ N. lat., 124°02.52′ W. long.;

(153) 39°35.96′ N. lat., 123°59.49′ W. long.;

(154) 39°34.62′ N. lat., 123°59.59′ W. long.;

(155) 39°33.78′ N. lat., 123°56.82′ W. long.;

(156) 39°33.02′ N. lat., 123°57.07′ W. long.;

(157) 39°32.21′ N. lat., 123°59.13′ W. long.;

(158) 39°07.85′ N. lat., 123°59.07′ W. long.;

(159) 39°00.90′ N. lat., 123°57.88′ W. long.;

(160) 38°59.95′ N. lat., 123°56.99′ W. long.;

(161) 38°56.82′ N. lat., 123°57.74′ W. long.;

(162) 38°56.40′ N. lat., 123°59.41′ W. long.;

(163) 38°50.23′ N. lat., 123°55.48′ W. long.;

(164) 38°46.77′ N. lat., 123°51.49′ W. long.;

(165) 38°45.28′ N. lat., 123°51.56′ W. long.;

(166) 38°42.76′ N. lat., 123°49.76′ W. long.;

(167) 38°41.54′ N. lat., 123°47.76′ W. long.;

(168) 38°40.98′ N. lat., 123°48.07′ W. long.;

(169) 38°38.03′ N. lat., 123°45.78′ W. long.;

(170) 38°37.20′ N. lat., 123°44.01′ W. long.;

(171) 38°33.44′ N. lat., 123°41.75′ W. long.;

(172) 38°29.45′ N. lat., 123°38.42′ W. long.;

(173) 38°27.89′ N. lat., 123°38.38′ W. long.;

(174) 38°23.68′ N. lat., 123°35.40′ W. long.;

(175) 38°19.63′ N. lat., 123°33.98′ W. long.;

(176) 38°16.23′ N. lat., 123°31.83′ W. long.;

(177) 38°14.79′ N. lat., 123°29.91′ W. long.;

(178) 38°14.12′ N. lat., 123°26.29′ W. long.;

(179) 38°10.85′ N. lat., 123°25.77′ W. long.;

(180) 38°13.15′ N. lat., 123°28.18′ W. long.;

(181) 38°12.28′ N. lat., 123°29.81′ W. long.;

(182) 38°10.19′ N. lat., 123°29.04′ W. long.;

(183) 38°07.94′ N. lat., 123°28.45′ W. long.;

(184) 38°06.51′ N. lat., 123°30.89′ W. long.;

(185) 38°04.21′ N. lat., 123°31.96′ W. long.;

(186) 38°02.07′ N. lat., 123°31.30′ W. long.;

(187) 38°00.00′ N. lat., 123°29.55′ W. long.;

(188) 37°58.13′ N. lat., 123°27.21′ W. long.;

(189) 37°55.01′ N. lat., 123°27.46′ W. long.;

(190) 37°51.40′ N. lat., 123°25.18′ W. long.;

(191) 37°43.97′ N. lat., 123°11.49′ W. long.;

(192) 37°36.00′ N. lat., 123°02.25′ W. long.;

(193) 37°13.65′ N. lat., 122°54.18′ W. long.;

(194) 37°00.66′ N. lat., 122°37.84′ W. long.;

(195) 36°57.40′ N. lat., 122°28.25′ W. long.;

(196) 36°59.25′ N. lat., 122°25.54′ W. long.;

(197) 36°56.88′ N. lat., 122°25.42′ W. long.;

(198) 36°57.40′ N. lat., 122°22.62′ W. long.;

(199) 36°55.43′ N. lat., 122°22.43′ W. long.;

(200) 36°52.29′ N. lat., 122°13.18′ W. long.;

(201) 36°47.12′ N. lat., 122°07.56′ W. long.;

(202) 36°47.10′ N. lat., 122°02.11′ W. long.;

(203) 36°43.76′ N. lat., 121°59.11′ W. long.;

(204) 36°38.85′ N. lat., 122°02.20′ W. long.;

(205) 36°23.41′ N. lat., 122°00.11′ W. long.;

(206) 36°19.68′ N. lat., 122°06.93′ W. long.;

(207) 36°14.75′ N. lat., 122°01.51′ W. long.;

(208) 36°09.74′ N. lat., 121°45.00′ W. long.;

(209) 36°06.67′ N. lat., 121°41.06′ W. long.;

(210) 35°57.07′ N. lat., 121°34.32′ W. long.;

(211) 35°52.31′ N. lat., 121°32.45′ W. long.;

(212) 35°51.21′ N. lat., 121°30.91′ W. long.;

(213) 35°46.32′ N. lat., 121°30.30′ W. long.;

(214) 35°33.74′ N. lat., 121°20.10′ W. long.;

(215) 35°31.37′ N. lat., 121°15.23′ W. long.;

(216) 35°23.32′ N. lat., 121°11.44′ W. long.;

(217) 35°15.28′ N. lat., 121°04.45′ W. long.;

(218) 35°07.08′ N. lat., 121°00.30′ W. long.;

(219) 34°57.46′ N. lat., 120°58.23′ W. long.;

(220) 34°44.25′ N. lat., 120°58.29′ W. long.;

(221) 34°32.30′ N. lat., 120°50.22′ W. long.;

(222) 34°27.00′ N. lat., 120°42.55′ W. long.;

(223) 34°19.08′ N. lat., 120°31.21′ W. long.;

(224) 34°17.72′ N. lat., 120°19.26′ W. long.;

(225) 34°22.45′ N. lat., 120°12.81′ W. long.;

(226) 34°21.36′ N. lat., 119°54.88′ W. long.;

(227) 34°09.95′ N. lat., 119°46.18′ W. long.;

(228) 34°09.08′ N. lat., 119°57.53′ W. long.;

(229) 34°07.53′ N. lat., 120°06.35′ W. long.;

(230) 34°10.54′ N. lat., 120°19.07′ W. long.;

(231) 34°14.68′ N. lat., 120°29.48′ W. long.;

(232) 34°09.51′ N. lat., 120°38.32′ W. long.;

(233) 34°03.06′ N. lat., 120°35.54′ W. long.;

(234) 33°56.39′ N. lat., 120°28.47′ W. long.;

(235) 33°50.25′ N. lat., 120°09.43′ W. long.;

(236) 33°37.96′ N. lat., 120°00.08′ W. long.;

(237) 33°34.52′ N. lat., 119°51.84′ W. long.;

(238) 33°35.51′ N. lat., 119°48.49′ W. long.;

(239) 33°42.76′ N. lat., 119°47.77′ W. long.;

(240) 33°53.62′ N. lat., 119°53.28′ W. long.;

(241) 33°57.61′ N. lat., 119°31.26′ W. long.;

(242) 33°56.34′ N. lat., 119°26.40′ W. long.;

(243) 33°57.79′ N. lat., 119°26.85′ W. long.;

(244) 33°58.88′ N. lat., 119°20.06′ W. long.;

(245) 34°02.65′ N. lat., 119°15.11′ W. long.;

(246) 33°59.02′ N. lat., 119°02.99′ W. long.;

(247) 33°57.61′ N. lat., 118°42.07′ W. long.;

(248) 33°50.76′ N. lat., 118°37.98′ W. long.;

(249) 33°38.41′ N. lat., 118°17.03′ W. long.;

(250) 33°37.14′ N. lat., 118°18.39′ W. long.;

(251) 33°35.51′ N. lat., 118°18.03′ W. long.;

(252) 33°30.68′ N. lat., 118°10.35′ W. long.;

(253) 33°32.49′ N. lat., 117°51.85′ W. long.;

(254) 32°58.87′ N. lat., 117°20.36′ W. long.; and

(255) 32°35.53′ N. lat., 117°29.67′ W. long.

(A) The 200 fm (366 m) depth contour used around San Clemente Island is defined by straight lines connecting all of the following points in the order stated:

(1) 33°05.89′ N. lat., 118°39.45′ W. long.;

(2) 33°02.68′ N. lat., 118°33.14′ W. long.;

(3) 32°57.32′ N. lat., 118°29.12′ W. long.;

(4) 32°47.51′ N. lat., 118°17.88′ W. long.;

(5) 32°41.22′ N. lat., 118°23.78′ W. long.;

(6) 32°46.83′ N. lat., 118°32.10′ W. long.;

(7) 33°01.61′ N. lat., 118°40.64′ W. long.; and

(8) 33°5.89′ N. lat., 118°39.45′ W. long.

(B) The 200 fm (366 m) depth contour used around Santa Catalina Island off the state of California is defined by straight lines connecting all of the following points in the order stated:

(1) 33°32.06′ N. lat., 118°44.52′ W. long.;

(2) 33°31.36′ N. lat., 118°35.28′ W. long.;

(3) 33°30.10′ N. lat., 118°30.82′ W. long.;

(4) 33°27.91′ N. lat., 118°26.83′ W. long.;

(5) 33°26.27′ N. lat., 118°21.35′ W. long.;

(6) 33°21.34′ N. lat., 118°15.24′ W. long.;

(7) 33°13.66′ N. lat., 118°08.98′ W. long.;

(8) 33°17.15′ N. lat., 118°28.35′ W. long.;

(9) 33°20.94′ N. lat., 118°34.34′ W. long.;

(10) 33°23.32′ N. lat., 118°32.60′ W. long.;

(11) 33°28.68′ N. lat., 118°44.93′ W. long.; and

(12) 33°32.06′ N. lat., 118°44.52′ W. long.

(C) The 200 fm (366 m) depth contour used around Lasuen Knoll off the state of California is defined by straight lines connecting all of the following points in the order stated:

(1) 33°25.91′ N. lat., 117°59.44′ W. long.;

(2) 33°23.37′ N. lat., 117°56.97′ W. long.;

(3) 33°22.82′ N. lat., 117°59.50′ W. long.;

(4) 33°25.24′ N. lat., 118°01.68′ W. long.; and

(5) 33°25.91′ N. lat., 117°59.44′ W. long.

(D) The 200 fm (366 m) depth contour used around San Diego Rise off the state of California is defined by straight lines connecting all of the following points in the order stated:

(1) 32°50.30′ N. lat., 117°50.18′ W. long.;

(2) 32°44.01′ N. lat., 117°44.46′ W. long.;

(3) 32°41.34′ N. lat., 117°45.86′ W. long.;

(4) 32°45.45′ N. lat., 117°50.09′ W. long.;

(5) 32°50.10′ N. lat., 117°50.76′ W. long.; and

(6) 32°50.30′ N. lat., 117°50.18′ W. long.

(xii) The 200 fm (366 m) depth contour used between the U.S. border with Canada and the U.S. border with Mexico, modified to allow fishing in petrale sole areas, is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.00′ N. lat., 125°37.00′ W. long.;

(16) 47°55.50′ N. lat., 125°28.50′ W. long.;

(17) 47°57.88′ N. lat., 125°25.61′ W. long.;

(18) 48°01.63′ N. lat., 125°23.75′ W. long.;

(19) 48°02.21′ N. lat., 125°22.43′ W. long.;

(20) 48°03.60′ N. lat., 125°21.84′ W. long.;

(21) 48°03.98′ N. lat., 125°20.65′ W. long.;

(22) 48°03.26′ N. lat., 125°19.76′ W. long.;

(23) 48°01.49′ N. lat., 125°18.80′ W. long.;

(24) 48°01.03′ N. lat., 125°20.12′ W. long.;

(25) 48°00.04′ N. lat., 125°20.26′ W. long.;

(26) 47°58.10′ N. lat., 125°18.91′ W. long.;

(27) 47°58.17′ N. lat., 125°17.50′ W. long.;

(28) 47°52.28′ N. lat., 125°16.06′ W. long.;

(29) 47°51.92′ N. lat., 125°13.89′ W. long.;

(30) 47°49.20′ N. lat., 125°10.67′ W. long.;

(31) 47°48.69′ N. lat., 125°06.50′ W. long.;

(32) 47°46.54′ N. lat., 125°07.68′ W. long.;

(33) 47°47.24′ N. lat., 125°05.38′ W. long.;

(34) 47°45.95′ N. lat., 125°04.61′ W. long.;

(35) 47°44.58′ N. lat., 125°07.12′ W. long.;

(36) 47°42.24′ N. lat., 125°05.15′ W. long.;

(37) 47°38.54′ N. lat., 125°06.76′ W. long.;

(38) 47°34.86′ N. lat., 125°04.67′ W. long.;

(39) 47°30.75′ N. lat., 124°57.52′ W. long.;

(40) 47°28.51′ N. lat., 124°56.69′ W. long.;

(41) 47°29.15′ N. lat., 124°54.10′ W. long.;

(42) 47°28.43′ N. lat., 124°51.58′ W. long.;

(43) 47°24.13′ N. lat., 124°47.51′ W. long.;

(44) 47°18.31′ N. lat., 124°46.17′ W. long.;

(45) 47°19.57′ N. lat., 124°51.01′ W. long.;

(46) 47°18.12′ N. lat., 124°53.66′ W. long.;

(47) 47°17.59′ N. lat., 124°52.94′ W. long.;

(48) 47°17.71′ N. lat., 124°51.63′ W. long.;

(49) 47°16.90′ N. lat., 124°51.23′ W. long.;

(50) 47°16.10′ N. lat., 124°53.67′ W. long.;

(51) 47°14.24′ N. lat., 124°53.02′ W. long.;

(52) 47°12.16′ N. lat., 124°56.77′ W. long.;

(53) 47°13.35′ N. lat., 124°58.70′ W. long.;

(54) 47°09.53′ N. lat., 124°58.32′ W. long.;

(55) 47°09.54′ N. lat., 124°59.50′ W. long.;

(56) 47°05.87′ N. lat., 124°59.29′ W. long.;

(57) 47°03.65′ N. lat., 124°56.26′ W. long.;

(58) 47°00.91′ N. lat., 124°59.73′ W. long.;

(59) 46°58.74′ N. lat., 124°59.40′ W. long.;

(60) 46°58.55′ N. lat., 125°00.70′ W. long.;

(61) 46°55.57′ N. lat., 125°01.61′ W. long.;

(62) 46°55.77′ N. lat., 124°55.04′ W. long.;

(63) 46°53.16′ N. lat., 124°53.69′ W. long.;

(64) 46°52.39′ N. lat., 124°55.24′ W. long.;

(65) 46°44.88′ N. lat., 124°51.97′ W. long.;

(66) 46°33.28′ N. lat., 124°36.96′ W. long.;

(67) 46°33.20′ N. lat., 124°30.64′ W. long.;

(68) 46°27.85′ N. lat., 124°31.95′ W. long.;

(69) 46°18.16′ N. lat., 124°39.39′ W. long.;

(70) 46°16.48′ N. lat., 124°27.41′ W. long.;

(71) 46°16.73′ N. lat., 124°23.20′ W. long.;

(72) 46°16.00′ N. lat., 124°24.88′ W. long.;

(73) 46°14.22′ N. lat., 124°26.28′ W. long.;

(74) 46°11.53′ N. lat., 124°39.58′ W. long.;

(75) 46°08.77′ N. lat., 124°41.71′ W. long.;

(76) 46°05.86′ N. lat., 124°42.27′ W. long.;

(77) 46°03.85′ N. lat., 124°48.20′ W. long.;

(78) 46°02.34′ N. lat., 124°48.51′ W. long.;

(79) 45°58.99′ N. lat., 124°44.42′ W. long.;

(80) 45°49.74′ N. lat., 124°43.69′ W. long.;

(81) 45°49.68′ N. lat., 124°42.37′ W. long.;

(82) 45°40.83′ N. lat., 124°40.90′ W. long.;

(83) 45°34.88′ N. lat., 124°32.58′ W. long.;

(84) 45°13.04′ N. lat., 124°21.92′ W. long.;

(85) 45°00.17′ N. lat., 124°29.28′ W. long.;

(86) 44°50.99′ N. lat., 124°35.40′ W. long.;

(87) 44°46.87′ N. lat., 124°38.20′ W. long.;

(88) 44°48.25′ N. lat., 124°40.62′ W. long.;

(89) 44°41.34′ N. lat., 124°49.20′ W. long.;

(90) 44°23.30′ N. lat., 124°50.17′ W. long.;

(91) 44°13.19′ N. lat., 124°58.66′ W. long.;

(92) 43°57.37′ N. lat., 124°58.71′ W. long.;

(93) 43°52.32′ N. lat., 124°49.43′ W. long.;

(94) 43°51.35′ N. lat., 124°37.94′ W. long.;

(95) 43°49.73′ N. lat., 124°40.26′ W. long.;

(96) 43°39.06′ N. lat., 124°38.55′ W. long.;

(97) 43°28.85′ N. lat., 124°39.99′ W. long.;

(98) 43°20.22′ N. lat., 124°43.05′ W. long.;

(99) 43°13.29′ N. lat., 124°47.00′ W. long.;

(100) 43°10.64′ N. lat., 124°49.95′ W. long.;

(101) 43°04.26′ N. lat., 124°53.05′ W. long.;

(102) 42°53.93′ N. lat., 124°54.60′ W. long.;

(103) 42°47.57′ N. lat., 124°48.12′ W. long.;

(104) 42°46.19′ N. lat., 124°44.52′ W. long.;

(105) 42°41.75′ N. lat., 124°44.69′ W. long.;

(106) 42°38.81′ N. lat., 124°43.09′ W. long.;

(107) 42°31.83′ N. lat., 124°46.23′ W. long.;

(108) 42°32.08′ N. lat., 124°43.58′ W. long.;

(109) 42°30.96′ N. lat., 124°43.84′ W. long.;

(110) 42°28.41′ N. lat., 124°49.17′ W. long.;

(111) 42°24.80′ N. lat., 124°45.93′ W. long.;

(112) 42°19.71′ N. lat., 124°41.60′ W. long.;

(113) 42°15.12′ N. lat., 124°38.34′ W. long.;

(114) 42°12.35′ N. lat., 124°38.09′ W. long.;

(115) 42°00.00′ N. lat., 124°36.83′ W. long.;

(116) 41°59.98′ N. lat., 124°36.80′ W. long.;

(117) 41°47.79′ N. lat., 124°29.48′ W. long.;

(118) 41°21.01′ N. lat., 124°29.01′ W. long.;

(119) 41°13.50′ N. lat., 124°24.40′ W. long.;

(120) 41°11.00′ N. lat., 124°22.99′ W. long.;

(121) 41°06.69′ N. lat., 124°23.30′ W. long.;

(122) 40°54.73′ N. lat., 124°28.15′ W. long.;

(123) 40°53.95′ N. lat., 124°26.04′ W. long.;

(124) 40°49.96′ N. lat., 124°26.04′ W. long.;

(125) 40°44.49′ N. lat., 124°30.81′ W. long.;

(126) 40°40.58′ N. lat., 124°32.06′ W. long.;

(127) 40°36.09′ N. lat., 124°40.11′ W. long.;

(128) 40°34.19′ N. lat., 124°41.20′ W. long.;

(129) 40°32.93′ N. lat., 124°41.86′ W. long.;

(130) 40°31.28′ N. lat., 124°40.98′ W. long.;

(131) 40°29.68′ N. lat., 124°38.06′ W. long.;

(132) 40°25.01′ N. lat., 124°36.36′ W. long.;

(133) 40°22.28′ N. lat., 124°31.83′ W. long.;

(134) 40°16.96′ N. lat., 124°31.91′ W. long.;

(135) 40°17.59′ N. lat., 124°45.28′ W. long.;

(136) 40°13.23′ N. lat., 124°32.40′ W. long.;

(137) 40°10.00′ N. lat., 124°24.55′ W. long.;

(138) 40°06.45′ N. lat., 124°19.24′ W. long.;

(139) 40°07.08′ N. lat., 124°17.80′ W. long.;

(140) 40°05.55′ N. lat., 124°18.11′ W. long.;

(141) 40°04.74′ N. lat., 124°18.11′ W. long.;

(142) 40°02.35′ N. lat., 124°16.53′ W. long.;

(143) 40°01.13′ N. lat., 124°12.98′ W. long.;

(144) 40°01.55′ N. lat., 124°09.80′ W. long.;

(145) 39°58.54′ N. lat., 124°12.43′ W. long.;

(146) 39°55.72′ N. lat., 124°07.44′ W. long.;

(147) 39°42.64′ N. lat., 124°02.52′ W. long.;

(148) 39°35.96′ N. lat., 123°59.47′ W. long.;

(149) 39°34.61′ N. lat., 123°59.58′ W. long.;

(150) 39°34.79′ N. lat., 123°58.47′ W. long.;

(151) 39°33.79′ N. lat., 123°56.77′ W. long.;

(152) 39°33.03′ N. lat., 123°57.06′ W. long.;

(153) 39°32.20′ N. lat., 123°59.12′ W. long.;

(154) 39°07.81′ N. lat., 123°59.06′ W. long.;

(155) 39°03.06′ N. lat., 123°57.77′ W. long.;

(156) 38°52.26′ N. lat., 123°56.18′ W. long.;

(157) 38°50.21′ N. lat., 123°55.48′ W. long.;

(158) 38°46.81′ N. lat., 123°51.49′ W. long.;

(159) 38°45.28′ N. lat., 123°51.55′ W. long.;

(160) 38°42.76′ N. lat., 123°49.73′ W. long.;

(161) 38°41.53′ N. lat., 123°47.80′ W. long.;

(162) 38°41.41′ N. lat., 123°46.74′ W. long.;

(163) 38°38.01′ N. lat., 123°45.74′ W. long.;

(164) 38°37.19′ N. lat., 123°43.98′ W. long.;

(165) 38°35.26′ N. lat., 123°41.99′ W. long.;

(166) 38°33.38′ N. lat., 123°41.76′ W. long.;

(167) 38°19.95′ N. lat., 123°32.90′ W. long.;

(168) 38°14.38′ N. lat., 123°25.51′ W. long.;

(169) 38°09.39′ N. lat., 123°24.39′ W. long.;

(170) 38°10.09′ N. lat., 123°27.21′ W. long.;

(171) 38°03.76′ N. lat., 123°31.90′ W. long.;

(172) 38°02.06′ N. lat., 123°31.26′ W. long.;

(173) 38°00.01′ N. lat., 123°29.56′ W. long.;

(174) 37°58.07′ N. lat., 123°27.21′ W. long.;

(175) 37°55.02′ N. lat., 123°27.44′ W. long.;

(176) 37°51.39′ N. lat., 123°25.22′ W. long.;

(177) 37°43.94′ N. lat., 123°11.49′ W. long.;

(178) 37°35.96′ N. lat., 123°02.23′ W. long.;

(179) 37°23.48′ N. lat., 122°57.76′ W. long.;

(180) 37°23.23′ N. lat., 122°53.78′ W. long.;

(181) 37°13.97′ N. lat., 122°49.91′ W. long.;

(182) 37°09.98′ N. lat., 122°45.61′ W. long.;

(183) 37°07.38′ N. lat., 122°46.38′ W. long.;

(184) 37°00.64′ N. lat., 122°37.70′ W. long.;

(185) 36°57.40′ N. lat., 122°28.36′ W. long.;

(186) 36°59.21′ N. lat., 122°25.64′ W. long.;

(187) 36°56.90′ N. lat., 122°25.42′ W. long.;

(188) 36°57.43′ N. lat., 122°22.55′ W. long.;

(189) 36°55.43′ N. lat., 122°22.43′ W. long.;

(190) 36°52.27′ N. lat., 122°13.16′ W. long.;

(191) 36°47.10′ N. lat., 122°07.53′ W. long.;

(192) 36°47.10′ N. lat., 122°02.08′ W. long.;

(193) 36°43.76′ N. lat., 121°59.15′ W. long.;

(194) 36°38.84′ N. lat., 122°02.20′ W. long.;

(195) 36°30.82′ N. lat., 122°01.13′ W. long.;

(196) 36°30.94′ N. lat., 122°00.54′ W. long.;

(197) 36°25.99′ N. lat., 121°59.50′ W. long.;

(198) 36°26.43′ N. lat., 121°59.76′ W. long.;

(199) 36°22.00′ N. lat., 122°01.02′ W. long.;

(200) 36°19.01′ N. lat., 122°05.01′ W. long.;

(201) 36°14.73′ N. lat., 122°01.55′ W. long.;

(202) 36°14.03′ N. lat., 121°58.09′ W. long.;

(203) 36°09.74′ N. lat., 121°45.01′ W. long.;

(204) 36°06.75′ N. lat., 121°40.73′ W. long.;

(205) 35°58.19′ N. lat., 121°34.63′ W. long.;

(206) 35°52.21′ N. lat., 121°32.46′ W. long.;

(207) 35°51.21′ N. lat., 121°30.94′ W. long.;

(208) 35°46.28′ N. lat., 121°30.29′ W. long.;

(209) 35°33.67′ N. lat., 121°20.09′ W. long.;

(210) 35°31.33′ N. lat., 121°15.22′ W. long.;

(211) 35°23.29′ N. lat., 121°11.41′ W. long.;

(212) 35°15.26′ N. lat., 121°04.49′ W. long.;

(213) 35°07.05′ N. lat., 121°00.26′ W. long.;

(214) 35°07.46′ N. lat., 120°57.10′ W. long.;

(215) 34°44.29′ N. lat., 120°54.28′ W. long.;

(216) 34°44.23′ N. lat., 120°58.27′ W. long.;

(217) 34°32.33′ N. lat., 120°50.23′ W. long.;

(218) 34°27.00′ N. lat., 120°42.55′ W. long.;

(219) 34°19.08′ N. lat., 120°31.21′ W. long.;

(220) 34°17.72′ N. lat., 120°19.26′ W. long.;

(221) 34°22.45′ N. lat., 120°12.81′ W. long.;

(222) 34°21.36′ N. lat., 119°54.88′ W. long.;

(223) 34°09.95′ N. lat., 119°46.18′ W. long.;

(224) 34°09.08′ N. lat., 119°57.53′ W. long.;

(225) 34°07.53′ N. lat., 120°06.35′ W. long.;

(226) 34°10.54′ N. lat., 120°19.07′ W. long.;

(227) 34°14.68′ N. lat., 120°29.48′ W. long.;

(228) 34°09.51′ N. lat., 120°38.32′ W. long.;

(229) 34°03.06′ N. lat., 120°35.54′ W. long.;

(230) 33°56.39′ N. lat., 120°28.47′ W. long.;

(231) 33°50.25′ N. lat., 120°09.43′ W. long.;

(232) 33°37.96′ N. lat., 120°00.08′ W. long.;

(233) 33°34.52′ N. lat., 119°51.84′ W. long.;

(234) 33°35.51′ N. lat., 119°48.49′ W. long.;

(235) 33°42.76′ N. lat., 119°47.77′ W. long.;

(236) 33°53.62′ N. lat., 119°53.28′ W. long.;

(237) 33°57.61′ N. lat., 119°31.26′ W. long.;

(238) 33°56.34′ N. lat., 119°26.40′ W. long.;

(239) 33°57.79′ N. lat., 119°26.85′ W. long.;

(240) 33°58.88′ N. lat., 119°20.06′ W. long.;

(241) 34°02.65′ N. lat., 119°15.11′ W. long.;

(242) 33°59.02′ N. lat., 119°02.99′ W. long.;

(243) 33°57.61′ N. lat., 118°42.07′ W. long.;

(244) 33°50.76′ N. lat., 118°37.98′ W. long.;

(245) 33°39.54′ N. lat., 118°18.70′ W. long.;

(246) 33°37.14′ N. lat., 118°18.39′ W. long.;

(247) 33°35.51′ N. lat., 118°18.03′ W. long.;

(248) 33°30.68′ N. lat., 118°10.35′ W. long.;

(249) 33°32.49′ N. lat., 117°51.85′ W. long.;

(250) 32°58.87′ N. lat., 117°20.36′ W. long.; and

(251) 32°35.53′ N. lat., 117°29.67′ W. long.

(xiii) The 250 fm (457 m) depth contour used between the U.S. border with Canada and 38° N. lat. is defined by straight lines connecting all of the following points in the order stated:

(1) 48°14.68′ N. lat., 125°42.10′ W. long.;

(2) 48°13.00′ N. lat., 125°39.00′ W. long.;

(3) 48°12.73′ N. lat., 125°38.87′ W. long.;

(4) 48°12.43′ N. lat., 125°39.12′ W. long.;

(5) 48°11.83′ N. lat., 125°40.01′ W. long.;

(6) 48°11.78′ N. lat., 125°41.70′ W. long.;

(7) 48°10.62′ N. lat., 125°43.41′ W. long.;

(8) 48°09.23′ N. lat., 125°42.80′ W. long.;

(9) 48°08.79′ N. lat., 125°43.79′ W. long.;

(10) 48°08.50′ N. lat., 125°45.00′ W. long.;

(11) 48°07.43′ N. lat., 125°46.36′ W. long.;

(12) 48°06.00′ N. lat., 125°46.50′ W. long.;

(13) 48°05.38′ N. lat., 125°42.82′ W. long.;

(14) 48°04.19′ N. lat., 125°40.40′ W. long.;

(15) 48°03.50′ N. lat., 125°37.00′ W. long.;

(16) 48°01.50′ N. lat., 125°40.00′ W. long.;

(17) 47°57.00′ N. lat., 125°37.00′ W. long.;

(18) 47°55.21′ N. lat., 125°37.22′ W. long.;

(19) 47°54.02′ N. lat., 125°36.57′ W. long.;

(20) 47°53.67′ N. lat., 125°35.06′ W. long.;

(21) 47°54.14′ N. lat., 125°32.35′ W. long.;

(22) 47°55.50′ N. lat., 125°28.56′ W. long.;

(23) 47°57.03′ N. lat., 125°26.52′ W. long.;

(24) 47°57.98′ N. lat., 125°25.08′ W. long.;

(25) 48°00.54′ N. lat., 125°24.38′ W. long.;

(26) 48°01.45′ N. lat., 125°23.70′ W. long.;

(27) 48°01.97′ N. lat., 125°22.34′ W. long.;

(28) 48°03.68′ N. lat., 125°21.20′ W. long.;

(29) 48°01.96′ N. lat., 125°19.56′ W. long.;

(30) 48°00.98′ N. lat., 125°20.43′ W. long.;

(31) 48°00.00′ N. lat., 125°20.68′ W. long.;

(32) 47°58.00′ N. lat., 125°19.50′ W. long.;

(33) 47°57.65′ N. lat., 125°19.18′ W. long.;

(34) 47°58.00′ N. lat., 125°18.00′ W. long.;

(35) 47°56.59′ N. lat., 125°18.15′ W. long.;

(36) 47°51.30′ N. lat., 125°18.32′ W. long.;

(37) 47°49.88′ N. lat., 125°14.49′ W. long.;

(38) 47°49.00′ N. lat., 125°11.00′ W. long.;

(39) 47°47.99′ N. lat., 125°07.31′ W. long.;

(40) 47°46.47′ N. lat., 125°08.63′ W. long.;

(41) 47°46.00′ N. lat., 125°06.00′ W. long.;

(42) 47°44.50′ N. lat., 125°07.50′ W. long.;

(43) 47°43.39′ N. lat., 125°06.57′ W. long.;

(44) 47°42.37′ N. lat., 125°05.74′ W. long.;

(45) 47°40.61′ N. lat., 125°06.48′ W. long.;

(46) 47°37.43′ N. lat., 125°07.33′ W. long.;

(47) 47°33.68′ N. lat., 125°04.80′ W. long.;

(48) 47°30.00′ N. lat., 125°00.00′ W. long.;

(49) 47°28.00′ N. lat., 124°58.50′ W. long.;

(50) 47°28.88′ N. lat., 124°54.71′ W. long.;

(51) 47°27.70′ N. lat., 124°51.87′ W. long.;

(52) 47°24.84′ N. lat., 124°48.45′ W. long.;

(53) 47°21.76′ N. lat., 124°47.42′ W. long.;

(54) 47°18.84′ N. lat., 124°46.75′ W. long.;

(55) 47°19.82′ N. lat., 124°51.43′ W. long.;

(56) 47°18.13′ N. lat., 124°54.25′ W. long.;

(57) 47°13.50′ N. lat., 124°54.69′ W. long.;

(58) 47°15.00′ N. lat., 125°00.00′ W. long.;

(59) 47°08.00′ N. lat., 124°59.83′ W. long.;

(60) 47°05.79′ N. lat., 125°01.00′ W. long.;

(61) 47°03.34′ N. lat., 124°57.49′ W. long.;

(62) 47°01.00′ N. lat., 125°00.00′ W. long.;

(63) 46°55.00′ N. lat., 125°02.00′ W. long.;

(64) 46°51.00′ N. lat., 124°57.00′ W. long.;

(65) 46°47.00′ N. lat., 124°55.00′ W. long.;

(66) 46°34.00′ N. lat., 124°38.00′ W. long.;

(67) 46°30.50′ N. lat., 124°41.00′ W. long.;

(68) 46°33.00′ N. lat., 124°32.00′ W. long.;

(69) 46°29.00′ N. lat., 124°32.00′ W. long.;

(70) 46°20.00′ N. lat., 124°39.00′ W. long.;

(71) 46°18.16′ N. lat., 124°40.00′ W. long.;

(72) 46°16.00′ N. lat., 124°27.01′ W. long.;

(73) 46°15.00′ N. lat., 124°30.96′ W. long.;

(74) 46°13.17′ N. lat., 124°37.87′ W. long.;

(75) 46°13.17′ N. lat., 124°38.75′ W. long.;

(76) 46°10.50′ N. lat., 124°42.00′ W. long.;

(77) 46°06.21′ N. lat., 124°41.85′ W. long.;

(78) 46°03.02′ N. lat., 124°50.27′ W. long.;

(79) 45°57.00′ N. lat., 124°45.52′ W. long.;

(80) 45°46.85′ N. lat., 124°45.91′ W. long.;

(81) 45°45.81′ N. lat., 124°47.05′ W. long.;

(82) 45°44.87′ N. lat., 124°45.98′ W. long.;

(83) 45°43.44′ N. lat., 124°46.03′ W. long.;

(84) 45°35.82′ N. lat., 124°45.72′ W. long.;

(85) 45°35.70′ N. lat., 124°42.89′ W. long.;

(86) 45°24.45′ N. lat., 124°38.21′ W. long.;

(87) 45°11.68′ N. lat., 124°39.38′ W. long.;

(88) 44°57.94′ N. lat., 124°37.02′ W. long.;

(89) 44°44.28′ N. lat., 124°50.79′ W. long.;

(90) 44°32.63′ N. lat., 124°54.21′ W. long.;

(91) 44°23.20′ N. lat., 124°49.87′ W. long.;

(92) 44°13.17′ N. lat., 124°58.81′ W. long.;

(93) 43°57.92′ N. lat., 124°58.29′ W. long.;

(94) 43°50.12′ N. lat., 124°53.36′ W. long.;

(95) 43°49.53′ N. lat., 124°43.96′ W. long.;

(96) 43°42.76′ N. lat., 124°41.40′ W. long.;

(97) 43°24.00′ N. lat., 124°42.61′ W. long.;

(98) 43°19.74′ N. lat., 124°45.12′ W. long.;

(99) 43°19.62′ N. lat., 124°52.95′ W. long.;

(100) 43°17.41′ N. lat., 124°53.02′ W. long.;

(101) 42°49.15′ N. lat., 124°54.93′ W. long.;

(102) 42°46.74′ N. lat., 124°53.39′ W. long.;

(103) 42°43.76′ N. lat., 124°51.64′ W. long.;

(104) 42°45.41′ N. lat., 124°49.35′ W. long.;

(105) 42°43.92′ N. lat., 124°45.92′ W. long.;

(106) 42°38.87′ N. lat., 124°43.38′ W. long.;

(107) 42°34.78′ N. lat., 124°46.56′ W. long.;

(108) 42°31.47′ N. lat., 124°46.89′ W. long.;

(109) 42°31.00′ N. lat., 124°44.28′ W. long.;

(110) 42°29.22′ N. lat., 124°46.93′ W. long.;

(111) 42°28.39′ N. lat., 124°49.94′ W. long.;

(112) 42°26.28′ N. lat., 124°47.60′ W. long.;

(113) 42°19.58′ N. lat., 124°43.21′ W. long.;

(114) 42°13.75′ N. lat., 124°40.06′ W. long.;

(115) 42°05.12′ N. lat., 124°39.06′ W. long.;

(116) 41°59.99′ N. lat., 124°37.72′ W. long.;

(117) 42°00.00′ N. lat., 124°37.76′ W. long.;

(118) 41°47.93′ N. lat., 124°31.79′ W. long.;

(119) 41°21.35′ N. lat., 124°30.35′ W. long.;

(120) 41°07.11′ N. lat., 124°25.25′ W. long.;

(121) 40°57.37′ N. lat., 124°30.25′ W. long.;

(122) 40°48.77′ N. lat., 124°30.69′ W. long.;

(123) 40°41.03′ N. lat., 124°33.21′ W. long.;

(124) 40°37.40′ N. lat., 124°38.96′ W. long.;

(125) 40°33.70′ N. lat., 124°42.50′ W. long.;

(126) 40°31.31′ N. lat., 124°41.59′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°13.55′ N. lat., 124°34.26′ W. long.;

(132) 40°10.11′ N. lat., 124°28.25′ W. long.;

(133) 40°06.72′ N. lat., 124°21.40′ W. long.;

(134) 40°01.63′ N. lat., 124°17.25′ W. long.;

(135) 40°00.68′ N. lat., 124°11.19′ W. long.;

(136) 39°59.09′ N. lat., 124°14.92′ W. long.;

(137) 39°51.85′ N. lat., 124°10.33′ W. long.;

(138) 39°36.90′ N. lat., 124°00.63′ W. long.;

(139) 39°32.41′ N. lat., 124°00.01′ W. long.;

(140) 39°05.40′ N. lat., 124°00.52′ W. long.;

(141) 39°04.32′ N. lat., 123°59.00′ W. long.;

(142) 38°58.02′ N. lat., 123°58.18′ W. long.;

(143) 38°58.19′ N. lat., 124°01.90′ W. long.;

(144) 38°50.27′ N. lat., 123°56.26′ W. long.;

(145) 38°46.73′ N. lat., 123°51.93′ W. long.;

(146) 38°44.64′ N. lat., 123°51.77′ W. long.;

(147) 38°32.97′ N. lat., 123°41.84′ W. long.;

(148) 38°14.56′ N. lat., 123°32.18′ W. long.;

(149) 38°13.85′ N. lat., 123°29.94′ W. long.;

(150) 38°11.88′ N. lat., 123°30.57′ W. long.;

(151) 38°08.72′ N. lat., 123°29.56′ W. long.;

(152) 38°05.62′ N. lat., 123°32.38′ W. long.;

(153) 38°01.90′ N. lat., 123°32.00′ W. long.; and

(154) 38°00.00′ N. lat., 123°30.00′ W. long.

(xiv) The 250 fm (457 m) depth contour used between the U.S. border with Canada and 38° N. lat., modified to allow fishing in petrale sole areas, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°16.00′ N. lat., 124°27.01′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°35.88′ W. long.;

(105) 41°59.99′ N. lat., 124°35.92′ W. long.;

(106) 41°56.38′ N. lat., 124°34.96′ W. long.;

(107) 41°53.98′ N. lat., 124°32.50′ W. long.;

(108) 41°50.69′ N. lat., 124°30.46′ W. long.;

(109) 41°47.79′ N. lat., 124°29.52′ W. long.;

(110) 41°21.00′ N. lat., 124°29.00′ W. long.;

(111) 41°11.00′ N. lat., 124°23.00′ W. long.;

(112) 41°05.00′ N. lat., 124°23.00′ W. long.;

(113) 40°54.00′ N. lat., 124°26.00′ W. long.;

(114) 40°50.00′ N. lat., 124°26.00′ W. long.;

(115) 40°44.51′ N. lat., 124°30.83′ W. long.;

(116) 40°40.61′ N. lat., 124°32.06′ W. long.;

(117) 40°37.36′ N. lat., 124°29.41′ W. long.;

(118) 40°35.64′ N. lat., 124°30.47′ W. long.;

(119) 40°37.43′ N. lat., 124°37.10′ W. long.;

(120) 40°36.00′ N. lat., 124°40.00′ W. long.;

(121) 40°31.59′ N. lat., 124°40.72′ W. long.;

(122) 40°24.64′ N. lat., 124°35.62′ W. long.;

(123) 40°23.00′ N. lat., 124°32.00′ W. long.;

(124) 40°23.39′ N. lat., 124°28.70′ W. long.;

(125) 40°22.28′ N. lat., 124°25.25′ W. long.;

(126) 40°21.90′ N. lat., 124°25.17′ W. long.;

(127) 40°22.00′ N. lat., 124°28.00′ W. long.;

(128) 40°21.35′ N. lat., 124°29.53′ W. long.;

(129) 40°19.75′ N. lat., 124°28.98′ W. long.;

(130) 40°18.15′ N. lat., 124°27.01′ W. long.;

(131) 40°17.45′ N. lat., 124°25.49′ W. long.;

(132) 40°18.00′ N. lat., 124°24.00′ W. long.;

(133) 40°16.00′ N. lat., 124°26.00′ W. long.;

(134) 40°17.00′ N. lat., 124°35.00′ W. long.;

(135) 40°16.00′ N. lat., 124°36.00′ W. long.;

(136) 40°10.00′ N. lat., 124°22.75′ W. long.;

(137) 40°03.00′ N. lat., 124°14.75′ W. long.;

(138) 39°49.25′ N. lat., 124°06.00′ W. long.;

(139) 39°34.75′ N. lat., 123°58.50′ W. long.;

(140) 39°03.07′ N. lat., 123°57.81′ W. long.;

(141) 38°52.25′ N. lat., 123°56.25′ W. long.;

(142) 38°41.42′ N. lat., 123°46.75′ W. long.;

(143) 38°39.47′ N. lat., 123°46.59′ W. long.;

(144) 38°35.25′ N. lat., 123°42.00′ W. long.;

(145) 38°19.97′ N. lat., 123°32.95′ W. long.;

(146) 38°15.00′ N. lat., 123°26.50′ W. long.;

(147) 38°08.09′ N. lat., 123°23.39′ W. long.;

(148) 38°10.08′ N. lat., 123°26.82′ W. long.;

(149) 38°04.08′ N. lat., 123°32.12′ W. long.; and

(150) 38°00.00′ N. lat., 123°29.85′ W. long.

(xv) Farallon Islands. The Farallon Islands, off San Francisco and San Mateo Counties, include Southeast Farallon Island, Middle Farallon Island, North Farallon Island and Noon Day Rock. Commercial and recreational fishing for groundfish is prohibited between the shoreline and the 10 fm (18 m) depth contour around the Farallon Islands.

(18) Rockfish categories. Rockfish (except thornyheads) are divided into categories north and south of 40°10′ N. lat., depending on the depth where they most often are caught: Nearshore, shelf, or slope (scientific names appear in Table 2). Nearshore rockfish are further divided into shallow nearshore and deeper nearshore categories south of 40°10′ N. lat. Trip limits are established for “minor rockfish” species according to these categories (see Tables 3-5).

(a) Nearshore rockfish consists entirely of the minor nearshore rockfish species listed in Table 2, which includes California scorpionfish.

(i) Shallow nearshore rockfish consists of black-and-yellow rockfish, China rockfish, gopher rockfish, grass rockfish, and kelp rockfish.

(ii) Deeper nearshore rockfish consists of black rockfish, blue rockfish, brown rockfish, calico rockfish, copper rockfish, olive rockfish, quillback rockfish, and treefish.

(iii) California scorpionfish.

(b) Shelf rockfish consists of canary rockfish, shortbelly rockfish, widow rockfish, yelloweye rockfish, yellowtail rockfish, bocaccio, chilipepper, cowcod, and the minor shelf rockfish species listed in Table 2.

(c) Slope rockfish consists of Pacific ocean perch, splitnose rockfish, darkblotched rockfish, and the other minor slope rockfish species listed in Table 2.

(19) Flatfish complex. Flatfish managed under the FMP include: Arrowtooth flounder, butter sole, curlfin sole, Dover sole, English sole, flathead sole, Pacific sanddab, petrale sole, rex sole, rock sole, sand sole, and starry flounder. Where Tables 3, 4, and/or 5 of Sections IV.B. and IV.C. refer to landings limits for “all other flatfish,” those limits apply to all flatfish cumulatively taken from the group of flatfish species listed in this section except for those flatfish species listed with species-specific limits.

(20) Application of requirements. Paragraphs IV.B. and IV.C. pertain to the commercial groundfish fishery, but not to Washington coastal tribal fisheries, which are described in Section V. The provisions in paragraphs IV.B. and IV.C. that are not covered under the headings “limited entry” or “open access” apply to all vessels in the commercial fishery that take and retain groundfish, unless otherwise stated. Paragraph IV.D. pertains to the recreational fishery.

Table 2.—Minor Rockfish Species (Excludes Thornyheads)
North of 40°10′ N. lat. | South of 40°10′ N. lat.
Nearshore
black, Sebastes melanops | black, Sebastes melanops.
black and yellow, S. chrysolmelas | black and yellow, S. chrysolmelas.
blue, S. mystinus | blue, S. mystinus.
brown, S. auriculatus | brown, S. auriculatus.
calico, S. dalli | calico, S. dalli.
China, S. nebulosus | California scorpionfish, Scorpaena guttata.
copper, S. caurinus | China, Sebastes nebulosus.
gopher, S. carnatus | copper, S. caurinus.
grass, S. rastrelliger | gopher, S. carnatus.
kelp, S. atrovirens | grass, S. rastrelliger.
olive, S. serranoides | kelp, S. atrovirens.
quillback, S. maliger | olive, S. serranoides.
treefish, S. serriceps | quillback, S. maliger.
| treefish, S. serriceps.
Shelf
bronzespotted, S. gilli | bronzespotted, S. gilli.
bocaccio, S. paucispinis | chameleon, S. phillipsi.
chameleon, S. phillipsi | dwarf-red, S. rufianus.
chilipepper, S. goodei | flag, S. rubrivinctus.
cowcod, S. levis | freckled, S. lentiginosus.
dwarf-red, S. rufianus | greenblotched, S. rosenblatti.
flag, S. rubrivinctus | greenspotted, S. chlorostictus.
freckled, S. lentiginosus | greenstriped, S. elongatus.
greenblotched, S. rosenblatti | halfbanded, S. semicinctus.
greenspotted, S. chlorostictus | honeycomb, S. umbrosus.
greenstriped, S. elongatus | Mexican, S. macdonaldi.
halfbanded, S. semicinctus | pink, S. eos.
honeycomb, S. umbrosus | pinkrose, S. simulator.
Mexican, S. macdonaldi | pygmy, S. wilsoni.
pink S. eos | redstriped, S. proriger.
pinkrose, S. simulator | rosethorn, S. helvomaculatus.
pygmy, S. wilsoni | rosy, S. rosaceus.
redstriped, S. proriger | silvergrey, S. brevispinus.
rosethorn, S. helvomaculatus | speckled, S. ovalis.
rosy, S. rosaceus | squarespot, S. hopkinsi.
silvergrey, S. brevispinus | starry, S. constellatus.
speckled, S. ovalis | stripetail, S. saxicola.
squarespot, S. hopkinsi | swordspine, S. ensifer.
starry, S. constellatus | tiger, S. nigorcinctus.
stripetail, S. saxicola | vermilion, S. miniatus.
swordspine, S. ensifer | yelloweye, S. ruberrimus.
tiger, S. nigorcinctus | yellowtail, S. flavidus.
vermilion, S. miniatus
yelloweye, S. ruberrimus
Slope
aurora, S. aurora | aurora, S. aurora.
bank, S. rufus | bank, S. rufus.
blackgill, S. melanostomus | blackgill, S. melanostomus.
darkblotched, S. crameri | darkblotched, S. crameri.
redbanded, S. babcocki | Pacific ocean perch (POP), S. alutus.
rougheye, S. aleutianus | redbanded, S. babcocki.
sharpchin, S. zacentrus | rougheye, S. aleutianus.
shortraker, S. borealis | sharpchin, S. zacentrus.
splitnose, S. diploproa | shortraker, S. borealis.
yellowmouth, S. reedi | yellowmouth, S. reedi.

B. Limited Entry Fishery

(1) General. Most species taken in limited entry fisheries will be managed with cumulative trip limits (see paragraph IV.A.(1)(d),) size limit s (see paragraph IV.A.(6)), seasons (see paragraph IV.A.(7)), and areas that are closed to specific gear types. The trawl fishery has gear requirements and trip limits that differ by the type of trawl gear on board (see paragraph IV.A.(14)). Cowcod retention is prohibited in all fisheries and groundfish vessels operating south of Point Conception must adhere to CCA restrictions (see paragraph IV.A.(17)(b)). Yelloweye rockfish and canary rockfish retention is prohibited in the limited entry fixed gear fisheries. Most of the management measures for the limited entry fishery are listed above and in the following tables: Table 3 (North), Table 3 (South), Table 4 (North), and Table 4 (South).

A header in Table 3 (North), Table 3 (South), Table 4 (North) and Table 4 (South) generally describes the Rockfish Conservation Area (RCA) (i.e., closed area) for vessels participating in the limited entry fishery. The RCA boundaries are defined by latitude and longitude coordinates (see paragraph IV.A.(17)), except that under state law fishing is prohibited by limited entry fixed gear vessels from the shoreline to a 10-fm (18-m) depth contour around the Farallon Islands. For a definition of the Farallon Islands, see paragraph IV.A.(17)(f).

Management measures may be changed during the year by announcement in the Federal Register. However, the management regimes for several fisheries (nontrawl sablefish, Pacific whiting, and black rockfish) do not neatly fit into these tables and are addressed immediately following Table 3 (North), Table 3 (South), Table 4 (North), and Table 4 (South).

Federal commercial groundfish regulations are not intended to supersede any more restrictive state commercial groundfish regulations relating to federally-managed groundfish.

BILLING CODE 3510-22-P

BILLING CODE 3510-22-C

(2) Sablefish. The limited entry sablefish allocation is further allocated 58 percent to trawl gear and 42 percent to nontrawl gear. See footnote e/ of Table 1a.

(a) Trawl trip limits. Management measures for the limited entry trawl fishery for sablefish are listed in Table 3 (North) and Table 3 (South).

(b) Nontrawl (fixed gear) trip limits. To take, retain, possess, or land sablefish during the primary season for the limited entry fixed gear sablefish fishery, the owner of a vessel must hold a limited entry permit for that vessel, affixed with both a gear endorsement for longline or trap (or pot) gear, and a sablefish endorsement (see 50 CFR 660.323(a)(2)(i).) A sablefish endorsement is not required to participate in the limited entry daily trip limit fishery.

(i) Primary season. The primary season begins at 12 noon l.t. on April 1, 2004, and ends at 12 noon l.t. on October 31, 2004. There are no pre-season or post-season closures. During the primary season, each vessel with at least one limited entry permit with a sablefish endorsement that is registered for use with that vessel may land up to the cumulative trip limit for each of the sablefish-endorsed limited entry permits registered for use with that vessel, for the tier(s) to which the permit(s) are assigned. For 2004, the following limits are in effect: Tier 1, 62,000 lb (28,123 kg); Tier 2, 28,000 lb (12,701 kg); Tier 3, 16,000 lb (7,257 kg). [Note: These tier limits are likely to change as new observer data is released in the spring of 2004. Limits will be finalized before the start of the primary season.] All limits are in round weight. If a vessel is registered for use with a sablefish-endorsed limited entry permit, all sablefish taken after April 1, 2004 count against the cumulative limits associated with the permit(s) registered for use with that vessel.

(ii) Daily trip limit. Daily and/or weekly sablefish trip limits listed in Table 4 (North) and Table 4 (South) apply to any limited entry fixed gear vessels not participating in the primary sablefish season described in paragraph (i) of this section. North of 36° N. lat., the daily and/or weekly trip limits apply to fixed gear vessels that are not registered for use with a sablefish-endorsed limited entry permit, and to fixed gear vessels that are registered for use with a sablefish-endorsed limited entry permit when those vessels are not fishing against their primary sablefish season cumulative limits. South of 36° N. lat., the daily and/or weekly trip limits for taking and retaining sablefish that are listed in Table 4 (South) apply throughout the year to all vessels registered for use with a limited entry fixed gear permit.

(iii) Participating in both the primary and daily trip limit fisheries. A vessel that is eligible to participate in the primary sablefish season may participate in the daily trip limit fishery for sablefish once that vessel's primary season sablefish limit(s) have been taken or after October 31, 2004, whichever occurs first. No vessel may land sablefish against both its primary season cumulative sablefish limits and against the daily trip limit fishery limits within the same 24 hour period of 0001 hour l.t. to 2400 hours l.t. If a vessel has taken all of its tier limit except for an amount that is smaller than the daily trip limit amount, that vessel's subsequent sablefish landings are automatically subject to daily and/or weekly trip limits.

(3) Whiting. Additional regulations that apply to the whiting fishery are found at 50 CFR 660.306 and at 50 CFR 660.323(a)(3) and (a)(4).

(a) Allocations. The non-tribal allocations, based on percentages that are applied to the commercial OY of (commercial OY to be announced before the start of the primary season) in 2004 (see 50 CFR 660.323(a)(4)), are as follows:

(i) Catcher/processor sector—TBA (24 percent);

(ii) Mothership sector—TBA (34 percent);

(iii) Shore-based sector—TBA (42 percent). No more than 5 percent (TBA) of the shore-based whiting allocation may be taken before the shore-based fishery begins north of 42° N. lat. on June 15, 2003.

(iv) Tribal allocation—See paragraph V.

(b) Seasons. After the start of a primary season for a sector of the whiting fishery, the season remains open for that sector until the quota is taken and the fishery season for that sector is closed by NMFS. The 2004 primary seasons for the whiting fishery start on the same dates as in 2003, as follows (see 50 CFR 660.323(a)(3)):

(i) Catcher/processor sector—May 15;

(ii) Mothership sector—May 15;

(iii) Shore-based sector—June 15 north of 42° N. lat.; April 1 between 42°-40°30′ N. lat.; April 15 south of 40°30′ N. lat.

(c) Trip limits.

(i) Before and after the regular (primary) season. The “per trip” limit for whiting before and after the regular (primary) season for the shore-based sector is announced in Table 3 (North) and Table 3 (South), as authorized at 50 CFR 660.323(a)(3) and (a)(4). This trip limit includes any whiting caught shoreward of 100 fathoms (183 m) in the Eureka, CA area. The “per trip” limit for other groundfish species before, during and after the regular (primary) season are announced in Table 3 (North) and Table 3 (South) and apply as follows:

(A) Before the primary whiting season, vessels may use either small and/or large footrope gear during a cumulative limit period, but are subject to the more restrictive trip limits for the entire cumulative period.

(B) Once the primary whiting season begins for a sector of the fishery, then the midwater trip limits apply and are additive to the trip limits for other groundfish species for that fishing period (i.e., vessels are not constrained by the lower midwater limits and can harvest up to the footrope-specific trawl limits plus the midwater trawl limits for that cumulative limit period).

(C) Following the primary whiting season, vessels can access either the small and/or large footrope limits, but any landings of other groundfish species made during the primary whiting season count against the cumulative limits for that period.

(ii) Inside the Eureka, CA 100-fm (183-m) contour. No more than 10,000 lb (4,536 kg) of whiting may be taken and retained, possessed, or landed by a vessel that, at any time during a fishing trip, fished in the fishery management area shoreward of the 100 fathom (183 m) contour (as shown on NOAA Charts 18580, 18600, and 18620) in the Eureka, CA area.

(4) Black rockfish. The regulations at 50 CFR 660.323(a)(1) state: “The trip limit for black rockfish (Sebastes melanops) for commercial fishing vessels using hook-and-line gear between the U.S.-Canada border and Cape Alava, WA (48°09′30″ N. lat.) and between Destruction Island, WA (47°40′00″ N. lat.) and Leadbetter Point, WA (46°38′10″ N. lat.), is 100 lb (45 kg) or 30 percent, by weight of all fish on board, whichever is greater, per vessel per fishing trip.” These “per trip” limits apply to limited entry and open access fisheries, in conjunction with the cumulative trip limits and other management measures listed in Tables 4 (North) and Table 5 (North) of section IV. The crossover provisions at paragraphs IV.A.(12) do not apply to the black rockfish per-trip limits.

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: pink shrimp or prawns, and, south of Pt. Arena, CA (38°57′30″ N. lat.), California halibut or sea cucumbers). Unless otherwise specified, a vessel operating in the open access fishery is subject to, and must not exceed any trip limit, frequency limit, and/or size limit for the open access fishery. Groundfish species taken in open access fisheries will be managed with cumulative trip limits (see paragraph IV.A.(1)(d)), size limits (see paragraph IV.A.(6)), seasons (see paragraph IV.A.(7)), and closed areas. Cowcod retention is prohibited in all fisheries and groundfish vessels operating south of Point Conception, CA must adhere to CCA restrictions (see paragraph IV.A.(17)(b)). Retention of yelloweye rockfish and canary rockfish is prohibited in all open access fisheries. The trip limits, size limits, seasons, and other management measures for open access groundfish gear, including exempted trawl gear, are listed in Table 5 (North) and Table 5 (South).

A header in Table 5 (North) and Table 5 (South) approximates the RCA (i.e., closed area) for vessels participating in the open access fishery. The RCA boundaries are defined by latitude and longitude coordinates (see paragraph IV.A.(17)), except that under state law, fishing is prohibited by open access fixed gear vessels from the shoreline to a 10-fm (18-m) depth contour around the Farallon Islands. For a definition of the Farallon Islands, see paragraph IV.A.(17)(f). For the exempted trawl gear fisheries, exempted trawl gear RCAs, if applicable, are detailed in the exempted trawl gear sections at the bottom of Table 5 (North) and Table 5 (South). Retention of groundfish caught by exempted trawl gear is prohibited in the designated RCAs, except that pink shrimp trawl may retain groundfish caught both inside and outside the exempted trawl RCA subject to the limits in Table 5 (North) and Table 5 (South). Retention of groundfish caught by salmon troll gear is prohibited in the designated RCAs, except that salmon trollers may retain yellowtail rockfish caught both inside and outside the non-trawl RCA subject to the limits in Table 5 (North). The trip limit at 50 CFR 660.323(a)(1) for black rockfish caught with hook-and-line gear also applies. (The black rockfish limit is repeated at paragraph IV.B.(4).)

Federal commercial groundfish regulations are not intended to supersede any more restrictive state commercial groundfish regulations relating to federally-managed groundfish.

(2) Groundfish taken with exempted trawl gear by vessels engaged in fishing for ridgeback prawns, California halibut, or sea cucumbers. Trip limits for groundfish retained in the ridgeback prawn, California halibut, or sea cucumber fisheries are in Table 5 (South). The table also generally describes the RCAs for vessels participating in these fisheries.

(a) Participation in the California halibut fishery. A trawl vessel will be considered participating in the California halibut fishery if:

(i) It is not fishing under a valid limited entry permit issued under 50 CFR 660.333 for trawl gear;

(ii) All fishing on the trip takes place south of Pt. Arena, CA (38°57′30″ N. lat.); and

(iii) The landing includes California halibut of a size required by California Fish and Game Code section 8392(a), which states: “No California halibut may be taken, possessed or sold which measures less than 22 in (56 cm) in total length, unless it weighs 4 lb (1.8144 kg) or more in the round, 3 and one-half lbs (1.587 kg) or more dressed with the head on, or 3 lbs (1.3608 kg) or more dressed with the head off. Total length means the shortest distance between the tip of the jaw or snout, whichever extends farthest while the mouth is closed, and the tip of the longest lobe of the tail, measured while the halibut is lying flat in natural repose, without resort to any force other than the swinging or fanning of the tail.”

(b) Participation in the sea cucumber fishery. A trawl vessel will be considered to be participating in the sea cucumber fishery if:

(i) It is not fishing under a valid limited entry permit issued under 50 CFR 660.333 for trawl gear;

(ii) All fishing on the trip takes place south of Pt. Arena, CA (38°57′30″ N. lat.); and

(iii) The landing includes sea cucumbers taken in accordance with California Fish and Game Code, section 8405, which requires a permit issued by the State of California.

(3) Groundfish taken with exempted trawl gear by vessels engaged in fishing for pink shrimp. Trip limits for groundfish retained in the pink shrimp fishery are in Table 5 (North) and Table 5 (South). Notwithstanding section IV.A.(11), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

D. Recreational Fishery

Federal recreational groundfish regulations are not intended to supersede any more restrictive state recreational groundfish regulations relating to federally-managed groundfish.

(1) Washington. For each person engaged in recreational fishing in the EEZ seaward of Washington, the groundfish bag limit is 15 groundfish, including rockfish and lingcod, and is open year-round (except for lingcod). The following sublimits and closed areas apply:

(a) Closed Areas.

(i) Yelloweye Rockfish Conservation Area. The Yelloweye Rockfish Conservation Area, or YRCA, is a “C-shaped” area which is closed to recreational groundfish and halibut fishing. The YRCA is defined by latitude and longitude coordinates specified at 50 CFR 660.304(d).

(ii) Recreational Rockfish Conservation Area. The recreational Rockfish Conservation Area, or recreational RCA, is an area which may be closed to recreational groundfish fishing inseason. If recreational fishing for all groundfish is prohibited seaward of a boundary line approximating the 30-fm (55-m) depth contour, a notice will be published in the Federal Register inseason. Coordinates for the boundary line approximating the 30-fm (55-m) depth contour are listed in section IV.A.(17)(f).

(b) Rockfish. In areas of the EEZ seaward of Washington that are open to recreational groundfish fishing, there is a 10 rockfish per day bag limit. Taking and retaining canary rockfish and yelloweye rockfish is prohibited.

(c) Lingcod. Recreational fishing for lingcod is closed between January 1 and March 12, and between October 17 and December 31. In areas of the EEZ seaward of Washington that are open to recreational groundfish fishing and when the recreational season for lingcod is open (i.e., between March 13-October 16), there is a bag limit of 2 lingcod per day, which may be no smaller than 24 in (61 cm) total length.

(2) Oregon.

(a) Seasons, closed areas. Recreational fishing for groundfish is open from January 1 through December 31 in all areas, except that from June 1 through September 30, recreational fishing for groundfish is prohibited seaward of a recreational Rockfish Conservation Area (RCA) boundary line approximating the 40-fm (73-m) depth contour, subject to the provisions in paragraph IV.D.(2)(b). Coordinates for the boundary line approximating the 40-fm (73-m) depth contour are listed in section IV.A.(17)(f). Recreational fishing for all groundfish may be prohibited inseason seaward of a boundary line approximating the 30-fm (55-m) depth contour. If a boundary line approximating the 30-fm (55-m) depth contour is implemented inseason, a document will be published in the Federal Register. Coordinates for the boundary line approximating the 30-fm (55-m) depth contour are listed in section IV.A.(17)(f).

(b) Bag limits, size limits. The bag limits for each person engaged in recreational fishing in the EEZ seaward of Oregon are two lingcod per day, which may be no smaller than 24 in (61 cm) total length; and 10 marine fish per day, which excludes salmon, tuna, perch species, sturgeon, sanddabs, lingcod, striped bass and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited. During the all-depth recreational fisheries for Pacific halibut, vessels with halibut on board may not take and retain, possess or land yelloweye rockfish or canary rockfish.

(3) California. Seaward of California (north and south of 40°10′ N. lat.), California law provides that, in times and areas when the recreational fishery is open, there is a 20-fish bag limit for all species of finfish, within which no more than 10 fish of any one species may be taken or possessed by any one person. Retention of cowcod, yelloweye rockfish and canary rockfish is prohibited in the recreational fishery seaward of California all year in all areas.

(a) North of 40°10′ N. lat. For each person engaged in recreational fishing in the EEZ seaward of California north of 40°10′ N. lat. to the California/Oregon border, the following seasons, bag limits, and size limits apply:

(i) RCG Complex. The California rockfish, cabezon, greenling complex (RCG Complex), as defined in state regulations (Section 1.91, Title 14, California Code of Regulations), includes all rockfish, kelp greenling, rock greenling, and cabezon. This category does not include California scorpionfish, also known as “sculpin.”

(A) Seasons. North of 40°10′ N. lat., recreational fishing for the RCG Complex is open from January 1 through December 31.

(B) Bag limits, boat limits, hook limits. North of 40°10′ N. lat., in times and areas when the recreational season for the RCG Complex is open, there is a limit of two hooks and one line when fishing for rockfish, and the bag limit is 10 rockfish per day, of which no more than 2 may be bocaccio. The following daily bag limits also apply: no more than 10 cabezon per day and no more than 10 kelp greenling and 10 rock greenling per day. Multi-day limits are authorized by a valid permit issued by California and must not exceed the daily limit multiplied by the number of days in the fishing trip.

(C) Size limits. The following size limits apply: Bocaccio may be no smaller than 10 in (25 cm) total length; cabezon may be no smaller than 15 in (38 cm) total length; and kelp and rock greenling may be no smaller than 12 in (30 cm) total length.

(D) Dressing/Filleting. Cabezon, kelp greenling, and rock greenling taken in the recreational fishery may not be filleted at sea. Rockfish skin may not be removed when filleting or otherwise dressing rockfish taken in the recreational fishery. The following rockfish filet size limits apply: bocaccio filets may be no smaller than 5 in (12.8 cm) and brown-skinned rockfish fillets may be no smaller than 6.5 in (16.6 cm). “Brown-skinned” rockfish include the following species: brown, calico, copper, gopher, kelp, olive, speckled, squarespot, and yellowtail.

(ii) Lingcod.

(A) Seasons. North of 40°10′ N. lat., recreational fishing for lingcod is open from January 1 through December 31.

(B) Bag limits, boat limits, hook limits. North of 40°10′ N. lat., in times and areas when the recreational season for lingcod is open, there is a limit of two hooks and one line when fishing for lingcod, and the bag limit is two lingcod per day. Multi-day limits are authorized by a valid permit issued by California and must not exceed the daily limit multiplied by the number of days in the fishing trip.

(C) Size limits. Lingcod may be no smaller than 24 in (61 cm) total length.

(D) Dressing/Fileting. Lingcod filets may be no smaller than 16 in. (41 cm) in length .

(b) South of 40°10′ N. lat. For each person engaged in recreational fishing in the EEZ seaward of California south of 40°10' N. lat., the following seasons, bag limits, size limits and closed areas apply:

(i) Closed Areas.

(A) Cowcod Conservation Areas. Coordinates defining the boundaries of the Cowcod Conservation Areas (CCAs) are described in Federal regulations at 50 CFR 660.304(c). Recreational fishing for all groundfish is prohibited within the CCAs, except that fishing for sanddabs is permitted subject to the provisions in paragraph IV.D.(3)(b)(v) and that fishing for species managed under this section (not including cowcod, canary, and yelloweye rockfish) are permitted in waters shoreward of the 20-fm (37-m) depth contour within the CCAs from March 1 through December 31, subject to the bag limits in this section.

(B) Recreational Rockfish Conservation Areas. The recreational Rockfish Conservation Areas, or recreational RCAs, are areas that are closed to recreational fishing for groundfish.

(1) Between 40°10′ N. lat. and 34°27′ N. lat., recreational fishing for all groundfish, except sanddabs, is prohibited seaward of a boundary line approximating the 30-fm (55-m) depth contour along the mainland coast and along islands and offshore seamounts during January 1 through February 29 and September 30 through December 31; is prohibited seaward of the 20-fm (37-m) depth contour during May 1 through August 31; and is closed entirely during March 1 through April 30 (i.e., prohibited seaward of the shoreline). Coordinates for the boundary line approximating the 30-fm (55-m) depth contour are listed in section IV.A.(17)(f). Under state law, recreational fishing for all groundfish, including sanddabs, is prohibited between the shoreline and the 10-fm (18-m) depth contour around the Farallon Islands. For a definition of the Farallon Islands, see paragraph IV.A.(17)(f).

(2) South of 34°27′ N. lat., recreational fishing for all groundfish, except sanddabs, is prohibited seaward of a boundary line approximating the 60-fm (110-m) depth contour along the mainland coast and along islands and offshore seamounts during March 1 through December 31 and is closed entirely during January 1 through February 29 (i.e., prohibited seaward of the shoreline), except in the CCA where fishing is prohibited seaward of the 20-fm (37-m) depth contour in paragraph (A) of this section. Coordinates for the boundary line approximating the 60-fm (110-m) depth contour are listed in section IV.A.(17)(f).

(ii) RCG Complex. The California rockfish, cabezon, greenling complex (RCG Complex), as defined in state regulations (Section 1.91, Title 14, California Code of Regulations), includes all rockfish, kelp greenling, rock greenling, and cabezon. This category does not include California scorpionfish, also known as “sculpin.”

(A) Seasons. Between 40°10′ N. lat. and 34°27′ N. lat., recreational fishing for the RCG Complex is open from January 1 through February 29 and from May 1 through December 31 (i.e., it's closed from March 1 through April 30). South of 34°27′ N. lat., recreational fishing for the RCG Complex is open from March 1 through December 31 (i.e., it's closed from January 1 through February 29). When recreational fishing for the RCG Complex is open, it is permitted only shoreward of the recreational RCA, as described in paragraph IV.D.(3)(b)(i)(B) above.

(B) Bag limits, boat limits, hook limits. South of 40°10′ N. lat., in times and areas when the recreational season for the RCG Complex is open, there is a limit of two hooks and one line when fishing for rockfish, and the bag limit is 10 RCG Complex fish per day (not including canary rockfish, yelloweye rockfish and cowcod, which are prohibited), of which up to 10 may be rockfish, no more than 1 of which may be bocaccio and no more than two of which may be shallow nearshore rockfish. [Note: The shallow nearshore rockfish group off California are composed of kelp, grass, black-and-yellow, China, and gopher rockfishes.] Also within the 10-RCG Complex fish per day limit, no more than two fish per day may be greenling (kelp and/or other greenlings) and no more than 3 fish per day may be cabezon. Lingcod, California scorpionfish and sanddabs taken in recreational fisheries off California do not count toward the 10 RCG Complex fish per day bag limit. Multi-day limits are authorized by a valid permit issued by California and must not exceed the daily limit multiplied by the number of days in the fishing trip.

(C) Size limits. The following size limits apply: Bocaccio may be no smaller than 10 in (25 cm) total length, cabezon may be no smaller than 15 in (38 cm), and kelp and other greenlings may be no smaller than 12 in (30 cm).

(D) Dressing/Filleting. Cabezon, kelp greenling, and rock greenling taken in the recreational fishery may not be filleted at sea. Rockfish skin may not be removed when filleting or otherwise dressing rockfish taken in the recreational fishery. The following rockfish filet size limits apply: Bocaccio filets may be no smaller than 5 in (12.8 cm) and brown-skinned rockfish filets may be no smaller than 6.5 in (16.6 cm). “Brown-skinned” rockfish include the following species: Brown, calico, copper, gopher, kelp, olive, speckled, squarespot, and yellowtail.

(iii) California scorpionfish. California scorpionfish only occur south of 40°10′ N. lat.

(A) Seasons. Between 40°10′ N. lat. and 34°27′ N. lat., recreational fishing for California scorpionfish is open from January 1 through February 29 and from May 1 through December 31 (i.e., it's closed from March 1 through April 30). South of 34°27′ N. lat., recreational fishing for California scorpionfish is open from March 1 through April 31 and from November 1 through December 31 (i.e., it's closed from January 1 through February 29 and from May 1 through October 31). When recreational fishing for California scorpionfish is open, it is permitted only shoreward of the recreational RCA, as described in paragraph IV.D.(3)(b)(i)(B) above.

(B) Bag limits, boat limits, hook limits. South of 40°10′ N. lat., in times and areas where the recreational season for California scorpionfish is open, and the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/Filleting. California scorpionfish fillets may be no smaller than 5 in (12.8 cm).

(iv) Lingcod.

(A) Seasons. Between 40°10′ N. lat. and 34°27′ N. lat., recreational fishing for lingcod is open from January 1 through February 29 and from May 1 through December 31 (i.e., it's closed from March 1 through April 30). South of 34°27′ N. lat., recreational fishing for lingcod is open from March 1 through December 31 (i.e., it's closed from January 1 through February 29). When recreational fishing for lingcod is open, it is permitted only shoreward of the recreational RCA, as described in paragraph IV.D.(3)(b)(i)(B) above.

(B) Bag limits, boat limits, hook limits. South of 40°10′ N. lat., in times and areas when the recreational season for lingcod is open, there is a limit of two hooks and one line when fishing for lingcod, and the bag limit is two lingcod per day. Lingcod do not count against the 10 RCG Complex fish per day limit. Multi-day limits are authorized by a valid permit issued by California and must not exceed the daily limit multiplied by the number of days in the fishing trip.

(C) Size limits. Lingcod may be no smaller than 24 in (61 cm) total length.

(D) Dressing/Filleting. Lingcod fillets may be no smaller than 16 in (41 cm) in length.

(v) Sanddabs. South of 40°10′ N. lat., recreational fishing for sanddabs is permitted both shoreward of and within the closed areas, except that under state law recreational fishing for sanddabs is prohibited between the shoreline and 10-fm (18-m) depth contour around the Farallon Islands, as described in section IV.D.(3)(b)(i) above. Recreational fishing for sanddabs is permitted within the closed areas, subject to a limit of up to 12 hooks, “Number 2” or smaller, which measure 11 mm (0.44 inches) point to shank, and up to 2 lb (0.91 kg) of weight per line. There is no bag limit, season, or size limit for sanddabs, however, it is prohibited to fillet sanddabs at sea.

V. Washington Coastal Tribal Fisheries

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes' usual and accustomed ocean fishing areas (described at 60 CFR 660.324).

A tribal allocation is subtracted from the species OY before limited entry and open access allocations are derived. The tribal fisheries for sablefish, black rockfish, and whiting are separate fisheries, and are not governed by the limited entry or open access regulations or allocations. The tribes regulate these fisheries so as not to exceed their allocations.

The tribal allocation for black rockfish is the same in 2004 as in 2003. Also similar to 2003, the tribal sablefish allocation is 10 percent of the total catch OY north of Point Conception, CA (751 mt), less 3 percent for estimated discard mortality, or 728.5 mt.

In 1999 through 2003, the tribal whiting allocation has been based on a methodology originally proposed by the Makah Tribe in 1998. The methodology is an abundance-based sliding scale that determines the tribal allocation based on the level of the overall U.S. OY, up to a maximum 17.5 percent tribal harvest ceiling at OY levels below 145,000 mt. The tribes have proposed using the same methodology in 2004, and the allocation will be calculated based on that methodology once the final whiting OY is determined. No other tribes have proposed to harvest whiting in 2004.

The sliding scale methodology used to determine the treaty Indian share of Pacific whiting is the subject of ongoing litigation. In United States v. Washington, Subproceeding 96-2, the Court held that the methodology is consistent with the Magnuson-Stevens Act, and is the best available scientific method to determine the appropriate allocation of whiting to the tribes. United States v. Washington, 143 F.Supp.2d 1218 (W.D. Wash. 2001). This ruling was reaffirmed in July 2002, Midwater Trawlers Cooperative v. Daley, C96-1808R (W.D. Wash.) (Order Granting Defendants' Motion to Supplement Record, July 17, 2002), and again in April 2003, id., Order Granting Federal Defendants' and Makah's Motions for Summary Judgment and Denying Plaintiffs' Motions for Summary Judgment, April 15, 2003. The latter ruling has been appealed to the Ninth Circuit, but no decision has been rendered as yet. At this time NMFS remains under a Court Order in Subproceeding 96-2 to continue use of the sliding scale methodology unless the Secretary finds just cause for its alteration or abandonment, the parties agree to a permissible alternative, or further order issues from the Court. Therefore, NMFS is obliged to continue to use the methodology unless one of the events identified by the Court occurs. Since NMFS finds no reason to change the methodology, it has been used to determine the 2004 tribal allocation.

For some species on which the tribes have a modest harvest, no specific allocation has been determined. Rather than try to reserve specific allocations for the tribes, NMFS is establishing trip limits recommended by the tribes and the Council to accommodate modest tribal fisheries. For lingcod, all tribal fisheries are restricted to 450 lb (204 kg) per day and 1,350 lb (612 kg) per week cumulative limits. Tribal fisheries will be managed with a 25-mt lingcod harvest guideline in 2004. For rockfish species, the 2004 tribal longline and trawl fisheries will operate under trip and cumulative limits. Tribal fisheries will operate under a 300-lb (136-kg) per trip limit each for canary rockfish, thornyheads, and the minor rockfish species groups (nearshore, shelf, and slope), and under a 100-lb (45-kg) trip limit for yelloweye rockfish. A 300-lb (136 kg) canary rockfish trip limit is expected to result in landings of 3.6 mt in 2004. A 300-lb (136-kg) thornyheads trip limit is expected to result in landings of 4.8 mt in 2004. Other rockfish limits are expected to result in the following landings levels: widow rockfish, 40 mt; yelloweye rockfish, 3.1 mt; yellowtail rockfish, 400 mt; minor nearshore rockfish, 2 mt; minor shelf rockfish excluding yelloweye, 4.5 mt; minor slope rockfish, 4 mt. Trace amounts (<1 mt) of POP and darkblotched rockfish may also be landed in tribal commercial fisheries.

The Assistant Administrator (AA) announces the following tribal allocations for 2004, including those that are the same as in 2003. Trip limits for certain species were recommended by the tribes and the Council and are specified here with the tribal allocations.

A. Sablefish

The tribal allocation is 728.5 mt, 10 percent of the total catch OY, less 3 percent estimated discard mortality.

B. Rockfish

(1) For the commercial harvest of black rockfish off Washington State, a harvest guideline of: 20,000 lb (9,072 kg) north of Cape Alava, WA (48°09′30″ N. lat.) and 10,000 lb (4,536 kg) between Destruction Island, WA (47°40′00″ N. lat.) and Leadbetter Point, WA (46°38′10″ N. lat.).

(2) Thornyheads are subject to a 300-lb (136-kg) trip limit.

(3) Canary rockfish are subject to a 300-lb (136-kg) trip limit.

(4) Yelloweye rockfish are subject to a 100-lb (45-kg) trip limit.

(5) Yellowtail rockfish taken in the tribal mid-water trawl fisheries are subject to a cumulative limit of 150,000 lb (13,608 kg) per 2-month period for the entire fleet. Landings of widow rockfish must not exceed 10 percent of the weight of yellowtail rockfish landed in any two-month period. These limits may be adjusted by an individual tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300 lb (136 kg) per trip.

(7) Rockfish taken during open competition tribal commercial fisheries for Pacific halibut will not be subject to trip limits.

C. Lingcod

Lingcod are subject to a 450-lb (204-kg) daily trip limit and a 1,350-lb (612-kg) weekly limit.

D. Flatfish and Other Fish

Treaty fishing vessels using bottom trawl gear will be subject to the limits applicable to the non-tribal limited entry trawl fishery for Pacific cod, English sole, rex sole, arrowtooth flounder, and other flatfish. Treaty fishing vessels are restricted to a 30,000 lb (13,608 kg) per 2-month limit for petrale sole for the entire year.

E. Pacific Whiting

Whiting allocations will be announced when the final OY is announced.

Classification

These proposed specifications and management measures for 2004 are issued under the authority of, and are in accordance with, the Magnuson-Stevens Act, the FMP, and 50 CFR part 660 subpart G (the regulations implementing the FMP).

The Council prepared a DEIS for this proposed action; a notice of availability was published on October 24, 2003 (68 FR 60983). A copy of the DEIS is available on the Internet at http://www.pcouncil.org.

This proposed rule has been determined to be not significant for purposes of Executive Order 12866.

Pursuant to Executive Order 13175, this rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction. In addition, regulations implementing the FMP establish a procedure by which the tribes with treaty fishing rights in the area covered by the FMP request new allocations or regulations specific to the tribes, in writing, before the first of the two Council meetings at which the Council considers groundfish specifications and management measures. The regulations at 50 CFR 660.324(d) further states “the Secretary will develop tribal allocations and regulations under this paragraph in consultation with the affected tribe(s) and, insofar as possible, with tribal consensus.” The tribal management measures in this proposed rule have been developed following these procedures. The tribal representative on the Council made a motion to adopt the tribal management measures, which was passed by the Council, and those management measures, which were developed and proposed by the tribes, are included in this proposed rule.

The Council prepared an IRFA that describes the impact this proposed rule, if adopted, would have on small entities. A description of the action, why it is being considered, and the legal basis for this action are contained in the preamble to this proposed rule. This proposed rule does not duplicate, overlap, or conflict with other Federal rules. A copy of this analysis is available from the Council (see ADDRESSES). A summary of the analysis follows.

NMFS is proposing the 2004 annual specifications and management measures to allow West Coast commercial and recreational fisheries participants to fish the harvestable surplus of more abundant groundfish stocks, while also ensuring that those fisheries do not exceed the allowable catch levels intended to protect overfished and depleted stocks. The form of the specifications, in ABCs and OYs, follows the guidance of the Magnuson-Stevens Act, the National Standard Guidelines, and the FMP for protecting and conserving fish stocks. Annual management measures include trip and bag limits, size limits, time/area closures, gear restrictions, and other measures intended to allow year-round West Coast groundfish landings without compromising overfished species rebuilding measures.

Approximately 2,000 vessels participate in the West Coast groundfish fisheries. Of those, about 500 vessels are registered to limited entry permits issued for either trawl, longline, or pot gear. About 1,500 vessels land groundfish against open access limits while either directly targeting groundfish or taking groundfish incidentally in fisheries directed at non-groundfish species. All but 10-20 of those vessels are considered small businesses by the Small Business Administration. The IRFA analyzed the approximately 450 groundfish buyers that regularly purchase groundfish. Of those, 38 buyers purchased groundfish product in excess of $1,000,000 in 2002. In the 2001 recreational fisheries, there were 106 Washington charter vessels engaged in salt water fishing outside of Puget Sound, 232 charter vessels active on the Oregon coast and 415 charter vessels active on the California coast.

The Council considered five alternative specifications and management measures regimes for 2004: the no action alternative, which would have implemented the 2003 management regime for 2004; the low OY alternative, which set a series of conservative groundfish harvest levels that were either intended to achieve high probabilities of rebuilding within TMAX for overfished species or modest levels of harvest for more abundant stocks; the high OY alternative, which set harvest levels that were either intended to achieve lower probabilities of rebuilding within TMAX for overfished species or higher harvest levels for more abundant stocks, within Council harvest parameters described earlier in this document; the medium OY alternative, which set harvest levels intermediate to those of the low and high alternatives, and; the Council OY alternative (preferred alternative) which was the same as the medium OY alternative, but with more precautionary OY levels for bocaccio and darkblotched rockfish and more precautionary recreational fisheries management than the medium OY alternative. Each of these alternatives included both harvest levels (specifications) and management measures needed to achieve those harvest levels, with the most restrictive management measures corresponding to the lowest OYs.

Each of the alternatives analyzed by the Council was expected to have different overall effects on the economy. Among other factors, the DEIS for this action reviewed alternatives other than the no action alternative for expected declines in revenue and income from 2003 levels. The low OY alternative was expected to reduce commercial ex-vessel revenue by $11.5 million in 2004, reduce overall commercial harvest income by $6.2 million, and reduce recreational fishery income (mainly charter businesses) by $95 million. The high OY alternative was expected to increase commercial ex-vessel revenue by $3.3 million in 2004, increase overall commercial harvest income by $6.9 million, and increase recreational fishery income by $122 million. The medium OY alternative was expected to increase commercial ex-vessel revenue by $3.3 million in 2004, increase overall commercial harvest income by $4.8 million, and increase recreational fishery income by $112 million. The Council's OY alternative was expected to increase commercial ex-vessel revenue by $2.8 million in 2004, increase overall commercial harvest income by $4 million, and increase recreational fishery income by $55 million. The Council's OY alternative was chosen as the preferred alternative because it met the conservation requirements of the Magnuson-Stevens Act, while reducing to the extent possible the adverse economic impacts of these conservation measures on the fishing industries and associated communities.

For the 2003 management cycle, NMFS had introduced depth-based management, which had a greater effect on both commercial and recreational fisheries income between 2002 and 2003 than retaining depth-based management will have between 2003 and 2004. The modest increases in income expected for the various fishing communities in 2004 are expected to result from a larger bocaccio OY based on a new bocaccio stock assessment. With a larger bocaccio OY, fisheries that target more abundant stocks that co-occur with bocaccio will have greater access to those stocks in 2004.

List of Subjects in 50 CFR Part 660

Administrative practice and procedure, American Samoa, Fisheries, Fishing, Guam, Hawaiian Natives, Indians, Northern Mariana Islands, Reporting and recordkeeping requirements.

Dated: December 18, 2003.
Rebecca Lent,
Deputy Assistant Administrator for Regulatory Programs, National Marine Fisheries Service.

For the reasons set out in the preamble, 50 CFR part 660 is proposed to be amended as follows:

PART 660—FISHERIES OFF WEST COAST STATES AND IN THE WESTERN PACIFIC

1. The authority citation for part 660 continues to read as follows:

Authority: 16 U.S.C. 1801 et seq.

2. In § 660.302, the definition “Exempted gear” is revised and the definition for “North-South management area” is added in alphabetical order to read as follows:

§ 660.302 Definitions.

* * * * *

Exempted gear means all types of fishing gear except longline, trap (or pot), and groundfish trawl gear. Exempted gear includes trawl gear used to take pink shrimp, ridgeback prawns, California halibut south of Pt. Arena, CA, and sea cucumber south of Pt. Arena, CA under the authority of a State of California limited entry permit for the sea cucumber fishery.

* * * * *

North-South management area means the management areas defined at § 660.304(a) or defined and bounded by one or more of the commonly used geographic coordinates at § 660.304(b) for the purposes of implementing different management measures in separate sections of the U.S. West Coast.

* * * * *

3. In § 660.303, as revised at 68 FR 62381, published November 4, 2003, paragraphs (d)(1) and (d)(5)(i)(D) are revised to read as follows:

§ 660.303 Reporting and recordkeeping.

* * * * *

(d) * * *

(1) Declaration reports for trawl vessels intending to fish in a conservation area. The operator of any vessel registered to a limited entry permit with a trawl endorsement; any vessel using trawl gear, including exempted gear used to take pink shrimp, ridgeback prawns, California halibut and sea cucumber; or any tribal vessel using trawl gear must provide NMFS with a declaration report, as specified at paragraph (d)(5) of this section, to identify the intent to fish within the CCA, as defined at § 660.304, or any non-trawl RCA, as defined in the groundfish annual or biennial management measures that are published in the Federal Register.

* * * * *

(5) * * *

(i) * * *

(D) Trawl gear including exempted gear used to take pink shrimp, ridgeback prawns, California halibut south of Pt. Arena, CA, and sea cucumber.

* * * * *

4. In § 660.304, paragraph (b) is revised to read as follows:

§ 660.304 Management areas, including conservation areas, and commonly used geographic coordinates.

* * * * *

(b) Commonly used geographic coordinates. (1) Washington/Oregon border—46°16′ N. lat.

(2) Cape Falcon, OR—45°46′ N. lat.

(3) Cape Lookout, OR—45°20′15″ N. lat.

(4) Cape Blanco, OR—42°50′ N. lat.

(5) Oregon/California border—42°00′ N. lat.

(6) Cape Mendocino, CA—40°30′ N. lat.

(7) North/South management line—40°10′ N. lat.

(8) Point Arena, CA—38°57′30″ N. lat.

(9) Point San Pedro, CA—37°35′40″ N. lat.

(10) Point Lopez, CA—36°00′ N. lat.

(11) Point Conception, CA—34°27′ N. lat.

* * * * *

5. In § 660.306, paragraph (b) is revised; paragraphs (aa) and (bb), added at 68 FR 62383, November 4, 2003, are revised; and paragraph (cc) is added to read as follows:

§ 660.306 Prohibitions.

* * * * *

(b) Retain any prohibited species (defined in § 660.302 and restricted in § 660.323(c)) caught by means of fishing gear authorized under this subpart or unless authorized by part 600 of this chapter. Prohibited species must be returned to the sea as soon as practicable with a minimum of injury when caught and brought on board.

* * * * *

(aa) Fishing in conservation areas. Fish with any trawl gear, including exempted gear used to take pink shrimp, ridgeback prawns, California halibut south of Pt. Arena, CA, and sea cucumber; or with trawl gear from a tribal vessel or with any gear from a vessel registered to a groundfish limited entry permit in a conservation area unless the vessel owner or operator has a valid declaration confirmation code or receipt for fishing in conservation area as specified at 660.303(d)(5).

(bb) Operate any vessel registered to a limited entry permit with a trawl endorsement and trawl gear on board in a Trawl Rockfish Conservation Area (as defined at 660.302), except for purposes of continuous transiting, with all groundfish trawl gear stowed in accordance with 660.322(b)(8), or except as authorized in the annual or biennial groundfish management measures published in the Federal Register.

(cc) Operate any vessel registered to a limited entry permit with a longline or trap (pot) endorsement and longline and/or trap gear onboard in a Nontrawl Rockfish Conservation Area (as defined at 660.302), except for purposes of continuous transiting, or except as authorized in the annual or biennial groundfish management measures published in the Federal Register.

* * * * *

6. In § 660.323, the introductory text to paragraph (c) is revised to read as follows:

§ 660.323 Catch restrictions.

* * * * *

(c) Prohibited species. Groundfish species or species groups under the PCGFMP for which quotas have been achieved and/or the fishery closed are prohibited species. In addition the following are prohibited species: * * *

* * * * *

7. In § 660.370, as proposed to be added at 68 FR 68002, December 5, 2003, paragraphs (b) and (d) are revised to read as follows:

§ 660.370 Overfished species rebuilding plans.

* * * * *

(b) Darkblotched rockfish. The target year for rebuilding the darkblotched rockfish stock to BMSY is 2030. The harvest control rule to be used to rebuild the darkblotched rockfish stock is an annual harvest rate of F=0.032.

* * * * *

(d) Pacific ocean perch (POP). The target year for rebuilding the POP stock to BMSY is 2027. The harvest control rule to be used to rebuild the POP stock is an annual harvest rate of F=0.0257.

[FR Doc. 03-31610 Filed 12-31-03; 10:14 am]

BILLING CODE 3510-22-P